DEPARTMENT OF THE INTERIOR

Fish and Wildlife Service

50 CFR Part 17

RIN 1018-AH70

Endangered and Threatened Wildlife and Plants; Revised Determinations of Prudency and Proposed Designations of Critical Habitat for Plant Species From the Islands of Maui and Kahoolawe, Hawaii

AGENCY: Fish and Wildlife Service, Interior.

ACTION: Revised proposed rule and notice of determinations of whether designation of critical habitat is prudent.

SUMMARY: We, the U.S. Fish and Wildlife Service (Service), propose critical habitat for 61 of the 70 species known historically from the islands of Maui and Kahoolawe that are listed under the Endangered Species Act of 1973, as amended.

We propose critical habitat designations for 61 species within 13 critical habitat units totaling approximately 51,208 hectares (ha) (126,531 acres (ac)) on the island of Maui, and within 2 critical habitat units totaling approximately 714 ha (1,763 ac) on the island of Kahoolawe.

If this proposal is made final, section 7 of the Act requires Federal agencies to ensure that actions they carry out, fund, or authorize do not destroy or adversely modify critical habitat to the extent that the action appreciably diminishes the value of the critical habitat for the survival and recovery of the species. Section 4 of the Act requires us to consider economic and other relevant impacts of specifying any particular area as critical habitat.

We solicit data and comments from the public on all aspects of this proposal, including data on the economic and other impacts of the designations. We may revise or further refine this rule, including critical habitat boundaries, prior to final designation based on habitat and plant surveys, public comment on the revised proposed critical habitat rule, and new scientific and commercial information.

DATES: We will accept comments until June 3, 2002. Public hearing requests must be received by May 20, 2002.

ADDRESSES: If you wish to comment, you may submit your comments and materials concerning this proposal by writing to the Field Supervisor, U.S. Fish and Wildlife Service, Pacific Islands Office, 300 Ala Moana Blvd., Room 3-122, P.O. Box 50088, Honolulu, HI 96850-0001.

You may view comments and materials received, as well as supporting documentation used in the preparation of this proposed rule, by appointment, during normal business hours at the above address.

FOR FURTHER INFORMATION CONTACT: Paul Henson, Field Supervisor, Pacific Islands Office (see ADDRESSES section) (telephone 808/541-3441; facsimile 808/541-3470).

SUPPLEMENTARY INFORMATION:

Background

In the Lists of Endangered and Threatened Plants (50 CFR 17.12), there are 70 plant species that, at the time of listing, were reported from the islands of Maui and Kahoolawe (Table 1). Seventeen of these species are endemic to the islands of Maui and/or Kahoolawe, while 53 species are reported from one or more other islands, as well as Maui and/or Kahoolawe.

We originally determined that designation of critical habitat was prudent for 37 plants from the islands of Maui and Kahoolawe on December 18, 2000 (65 FR 7919). In a previous proposal, published on November 7, 2000 (65 FR 66808), we determined that designation of critical habitat was prudent for 11 plants that are reported from Maui and Kahoolawe as well as from Kauai and Niihau. In addition, at the time we listed Clermontia samuelii, Cyanea copelandii ssp. haleakalaensis, Cyanea glabra, Cyanea hamatiflora ssp. hamatiflora, Dubautia plantaginea ssp. humilis, and Kanaloa kahoolawensis, on September 3, 1999 (64 FR 48307), we determined that designation of critical habitat was prudent for these six taxa from Maui and Kahoolawe. No change is made to these 54 prudency determinations in this revised proposal, and they are hereby incorporated by reference (64 FR 48307; 65 FR 66808; 65 FR 79192).

In the December 18, 2000 proposed rule, we determined that critical habitat was not prudent for Acaena exigua, a species known only from Kauai and Maui, because it had not been seen recently in the wild, and no viable genetic material of this species was known to exist. No change is made here to the December 18, 2000, prudency determination for this species and it is hereby incorporated by reference (65 FR 79192).

Table 1.—Summary of Island Distribution of 70 species From Maui and Kahoolawe
Species (common name) | Island distribution: Kauai | Island distribution: Oahu | Island distribution: Molokai | Island distribution: Lanai | Island distribution: Maui | Island distribution: Hawaii | Island distribution: NW Isles, kahoolawe Niihau
Acaena exigua (liliwai) | H |  |  |  | H
Adenophorus periens | C | C | C | R | H | C
Alectryon macrococcus (mahoe) | C | C | C |  | C
Argyroxiphium sandwicense ssp. macrocephalum (ahinahina) |  |  |  |  | C
Asplenium fragile var. insulare (NCN*) |  |  |  |  | C | C
Bidens micrantha ssp. kalealaha (kookoolau) |  |  |  | H | C
Bonamia menziesii (NCN) | C | C | H | C | C | C
Brighamia rockii (pua ala) |  |  | C | H | H
Cenchrus agrimonioides (kamanomano) |  | C |  | H | C | R | NW Isles (H).
Centaurium sebaeoides (awiwi) | C | C | C | C | C
Clermontia lindseyana (oha wai) |  |  |  |  | C | C
Clermontia oblongifolia ssp. mauiensis (oha wai) |  |  |  | C | C
Clermontia peleana (oha wai) |  |  |  |  | H | C
Clermontia samuelii (oha wai) |  |  |  |  | C
Colubrina oppositifolia (kauila) |  | C |  |  | C | C
Ctenitis squamigera (pauoa) | H | C | C | C | C | H
Cyanea copelandii ssp. haleakalaensis (haha) |  |  |  |  | C
Cyanea glabra (haha) |  |  |  |  | C
Cyanea grimesiana ssp. grimesiana (haha) |  | C | C | C | C
Cyanea hamatiflora ssp. hamatiflora (haha) |  |  |  |  | C
Cyanea lobata (haha) |  |  |  | H | C
Cyanea mceldowneyi (haha) |  |  |  |  | C
Cyrtandra munroi (haiwale) |  |  |  | C | C
Delissea undulata (NCN) | C |  |  |  | H | C | Ni (H).
Diellia erecta (Asplenium-leaved diellia) | H | H | C | H | C | C
Diplazium molokaiense (NCN) | H | H | H | H | C
Dubautia plantaginea ssp. humilis (naenae) |  |  |  |  | C
Flueggea neowawraea (mehamehame) | C | C | H |  | C | C
Geranium arboreum (nohoanu) |  |  |  |  | C
Geranium multiflorum (nohoanu) |  |  |  |  | C
Gouania vitifolia (NCN) |  | C |  |  | H | C
Hedyotis coriacea (kioele) |  | H |  |  | C | C
Hedyotis mannii (pilo) |  |  | C | C | C
Hesperomannia arborescens (NCN) |  | C | C | H | C
Hesperomannia arbuscula (NCN) |  | C |  |  | C
Hibiscus brackenridgei (mao hau hele) | H | C | H | C | C | C | Ka (R).
Ischaemum byrone (Hilo ischaemum) | C | H | C |  | C | C
Isodendrion pyrifolium (wahine noho kula) |  | H | H | H | H | C | Ni (H).
Kanaloa kahoolawensis (kohe malama malama o Kanaloa) |  |  |  |  |  |  | Ka (C).
Lipochaeta kamolensis (nehe) |  |  |  |  | C
Lysimachia lydgatei (NCN) |  | H |  |  | C
Mariscus pennatiformis (NCN) | H | H |  |  | C | H | NW Isles (C).
Melicope adscendens (alani) |  |  |  |  | C
Melicope balloui (alani) |  |  |  |  | C
Melicope knudsenii (alani) | C |  |  |  | C
Melicope mucronulata (alani) |  |  | C |  | C
Melicope ovalis (alani) |  |  |  |  | C
Neraudia sericea (NCN) |  |  | C | H | C |  | Ka (H).
Nototrichium humile (kului) |  | C |  |  | H
Peucedanum sandwicense (makou) | C | C | C |  | C
Phlegmariurus mannii (wawaeiole) | H |  |  |  | C | C
Phyllostegia mannii (NCN) |  |  | C |  | H
Phyllostegia mollis (NCN) |  | C | H |  | C
Phyllostegia parviflora (NCN) |  | C |  |  | H | H
Plantago princeps (Laukahi kuahiwi) | C | C | C |  | C | H
Platanthera holochila (NCN) | C | H | C |  | C
Pteris lidgatei (NCN) |  | C | H |  | C
Remya mauiensis (NCN) |  |  |  |  | C
Sanicula purpurea (NCN) |  | C |  |  | C
Schiedea haleakalensis (NCN) |  |  |  |  | C
Schiedea hookeri (NCN) |  | C |  |  | H
Schiedea nuttallii (NCN) | C | C | C |  | R
Sesbania tomentosa (ohai) | C | C | C | H | C | C | Ni (H), Ka (C), NW Isles (C).
Solanum incompletum (popolo ku mai) | H |  | H | H | H | C
Spermolepis hawaiiensis (NCN) | C | C | C | C | C | C
Tetramolopium arenarium (NCN) |  |  |  |  | H | C
Tetramolopium capillare (pamakani) |  |  |  |  | C
Tetramolopium remyi (NCN) |  |  |  | C | H
Vigna o-wahuensis (NCN) |  | H | C | C | C | C | Ni (H), Ka (C).
Zanthoxylum hawaiiense (ae) | C |  | C | H | C | C
KEY
C (Current)—population last observed within the past 30 years
H (Historical)—population not seen for more than 30 years
R (Reported)—reported from undocumented observations
* NCN—no common name

In the December 18, 2000, proposal we proposed designation of critical habitat for 50 plants from the islands of Maui and Kahoolawe. These species are: Alectryon macrococcus, Bidens micrantha ssp. kalealaha, Bonamia menziesii, Cenchrus agrimonioides, Centaurium sebaeoides, Clermontia lindseyana, Clermontia oblongifolia ssp. mauiensis, Clermontia samuelii, Colubrina oppositifolia, Ctenitis squamigera, Cyanea copelandii ssp. haleakalaensis, Cyanea glabra, Cyanea grimesiana ssp. grimesiana, Cyanea hamatiflora ssp. hamatiflora, Cyanea lobata, Cyanea mceldowneyi, Cyrtandra munroi, Diellia erecta, Diplazium molokaiense, Dubautia plantaginea ssp. humilis, Flueggea neowawraea, Geranium arboreum, Geranium multiflorum, Hedyotis coriacea, Hedyotis mannii, Hesperomannia arborescens, Hesperomannia arbuscula, Hibiscus brackenridgei, Ischaemum byrone, Kanaloa kahoolawensis, Lipochaeta kamolensis, Lysimachia lydgatei, Mariscus pennatiformis, Melicope adscendens, Melicope knudsenii, Melicope mucronulata, Neraudia sericea, Peucedanum sandwicense, Phlegmariurus mannii, Phyllostegia mollis, Plantago princeps, Platanthera holochila, Pteris lidgatei, Remya mauiensis, Sanicula purpurea, Sesbania tomentosa, Spermolepis hawaiiensis, Tetramolopium capillare, Vigna o-wahuensis, and Zanthoxylum hawaiiense. In this proposal we have revised the proposed designations for the 50 plants based on new information received during the comment periods. In addition, we incorporate new information, and address comments and new information received during the comment periods on the December 18, 2000, proposal.

In the December 18, 2000, we did not propose critical habitat for four species (Argyroxiphium sandwicense ssp. macrocephalum, Melicope balloui, Melicope ovalis, and Schiedea haleakalensis) found only in Waikamoi Preserve and Haleakala National Park, on Maui. We determined that these lands did not meet the definition of critical habitat in the Endangered Species Act of 1973, as amended (Act) (16 U.S.C. 1531 et seq.). Due to new information received during the comment periods regarding management considerations or protection at Haleakala National Park, we have reconsidered our earlier finding regarding Haleakala National Park lands and propose designation of critical habitat for Argyroxiphium sandwicense ssp. macrocephalum, Melicope balloui, Melicope ovalis, and Schiedea haleakalensis within Haleakala National Park.

In the December 18, 2000, proposal we did not propose designation of critical habitat for 14 species that no longer occur on Maui and Kahoolawe but are reported from one or more other islands. We determined that critical habitat was prudent for eight of these species (Adenophorus periens, Brighamia rockii, Delissea undulata, Isodendrion pyrifolium, Phyllostegia mannii, Schiedea nuttallii, Solanum incompletum, and Tetramolopium remyi) in other proposed rules published on November 7, 2000 (Kauai), December 27, 2000 (Lanai), December 29, 2000 (Molokai), and January 28, 2002 (Kauai revised proposal). No change is made to these prudency determinations for these eight species in this proposal, and they are hereby incorporated by reference (65 FR 66808; 65 FR 82086; 65 FR 83158; and 67 FR 3940). In this proposal, we propose designation of critical habitat for Brighamia rockii, Isodendrion pyrifolium, Phyllostegia mannii, and Tetramolopium remyi on the island of Maui, based on new information and information received during the comment periods on the December 18, 2000, proposal. Critical habitat is not proposed for Adenophorus periens, Delissea undulata, Schiedea nuttallii, and Solanum incompletum on the islands of Maui and Kahoolawe because we have not identified habitat essential to their conservation on these islands.

In this proposal, we determine that critical habitat is prudent for six other species (Clermontia peleana, Gouania vitifolia, Nototrichium humile, Phyllostegia parviflora, Schiedea hookeri, and Tetramolopium arenarium) for which prudency determinations have not been made previously, and that no longer occur on Maui but are reported from one or more other islands. These six plants were listed as endangered species under the Act between 1994 and 1996. At the time each plant was listed, we determined that designation of critical habitat was not prudent because designation would increase the degree of threat to the species and/or would not benefit the plant. We determine that designation of critical habitat is prudent for these six species because we believe that such designation would be beneficial to these species. Critical habitat is proposed at this time for Gouania vitifolia and Nototrichium humile on Maui based on new information and information received during the comment periods on the December 18, 2000, proposal. Critical habitat is not proposed for Clermontia peleana, Phyllostegia parviflora, Schiedea hookeri, and Tetramolopium arenarium on the island of Maui because we have not identified habitat essential to their conservation on this island.

In this proposal, we determine that critical habitat is prudent for Asplenium fragile var. insulare, a species recently rediscovered on Maui and for which a prudency determination has not been made previously. Critical habitat is proposed at this time for Asplenium fragile var. insulare on Maui based on new information and information received during the comment periods on the December 18, 2000, proposal.

Critical habitat for 61 of the 70 species from the islands of Maui and Kahoolawe is proposed at this time. Critical habitat is not proposed for 8 of the 70 species (Adenophorus periens, Clermontia peleana, Delissea undulata, Phyllostegia parviflora, Schiedea hookeri, Schiedea nuttallii, Solanum incompletum, and Tetramolopium arenarium) that no longer occur on the islands of Maui or Kahoolawe, and for which we have not identified habitat essential to their conservation on the islands of Maui or Kahoolawe. However, proposed critical habitat designations, or nondesignations, for these species will be included in other future Hawaiian plants proposed critical habitat rules (see Table 2).

Table 2.—List of Proposed Rules in Which Critical Habitat Designations or Nondesignations Will Be Made for Eight Species for Which We Are Unable To Determine Habitat That Is Essential for Their Conservation on the Islands of Maui and Kahoolawe.
Species | Proposed rules in which critical habitat designations will be made
Adenophorus periens | Kauai; Molokai; Hawaii; Oahu.
Clermontia peleana | Hawaii.
Delissea undulata | Hawaii.
Phyllostegia parviflora | Oahu.
Schiedea hookeri | Oahu.
Schiedea nuttallii | Kauai; Oahu; Molokai.
Solanum incompletum | Hawaii.
Tetramolopium arenarium | Hawaii.

Critical habitat is not proposed for Acaena exigua for which we determined, on December 18, 2000, that critical habitat designation is not prudent because it has not been seen recently in the wild, and no viable genetic material of this species is known to exist. No change is made to this prudency determination here, and it is hereby incorporated by reference (65 FR 79192).

The Islands of Maui and Kahoolawe

Maui, the second largest island in Hawaii at 1,888 square kilometers (km²) (729 square miles (mi²)) in area, was formed from the remnants of two large shield volcanoes, the older west Maui volcano (1.3 million years) on the west and the larger, but much younger, Haleakala volcano on the east. Stream erosion has cut deep valleys and ridges into the originally shield-shaped West Maui volcano. The highest point on West Maui is Puu Kukui at 1,764 meters (m) (5,787 feet (ft)) elevation, which has an average rainfall of 1,020 centimeters (cm) (400 inches (in)) per year, making it the second wettest spot in Hawaii (Department of Geography 1998). Having erupted just 200 years ago, East Maui's Haleakala crater, reaching 3,055 m (10,023 ft) in elevation, has retained its classic shield shape and lacks the diverse vegetation typical of the older and more eroded West Maui mountain. Rainfall on the slopes of Haleakala is about 89 cm (35 in) per year, with its windward (northeastern) slope receiving the most precipitation. However, Haleakala's crater is a dry cinder desert because it is above the level at which precipitation develops, and is sheltered from moisture-laden winds (Gagne and Cuddihy 1999).

The island of Kahoolawe measures about 17.7 kilometers (km) (11 miles (mi)) long by 11.3 km (7 mi) wide, comprising some 11,655 ha (28,800 ac). Located in the lee of Haleakala, the island lies approximately 11 km (6.7 mi) from East Maui. The highest point is the rim of an extinct volcano at 450 m (1,477 ft) above sea level. The estimated annual precipitation is approximately 500 millimeters (mm) (20 in), with most of it falling from November through March. In addition to the low precipitation, Kahoolawe is the windiest of the Hawaiian Islands (Gon et al. 1992).

Discussion of Plant Taxa

Species Endemic to Maui and/or Kahoolawe

Argyroxiphium sandwicense ssp. macrocephalum (ahinahina)

Argyroxiphium sandwicense ssp. macrocephalum, a long-lived perennial and a member of the aster family (Asteraceae), is called the Haleakala silversword. It is a distinctive, globe-shaped rosette plant with a dense covering of silver hairs. This subspecies is distinguished from Argyroxiphium sandwicense ssp. sandwicense by the shape and ratio of the dimensions of the inflorescence (flowering part of plant), the number of ray florets per head, and the combination of its longer, three-angled leaves; its silvery leaf hairs, which completely hide the leaf surface; and its longer achenes (Carr 1985, 1999a).

This monocarpic (flowers only once, at the end of its lifetime) plant matures from seed to its final stage in approximately 15-50 years. The plant remains a compact rosette until it sends up an erect, central flowering stalk, sets seed, and dies. Flowering occurs from June to September, with annual numbers of flowering plants varying dramatically from year to year. Reliable counts of flowering plants were made in 1935 (217 flowered) and in 1941 (815 flowered). Numbers recorded flowering in recent years have ranged from zero in 1970 to 6,632 in 1991. The environmental stimulus for synchronous flowering is as yet unknown. An apparent relationship of the 1991 mass flowering event to stratospheric alteration by the eruption of Pinatubo Volcano in the Philippines has been considered. Investigations are underway by R. Pharis of the University of Calgary and L.L. Loope to explore whether enhanced flowering is related to increased UV-B radiation due to temporary reduction of stratospheric ozone. Flying insects, especially native bees, moths, flies, bugs, and wasps, many of which are pollinators, are attracted in large numbers to the giant, aromatic inflorescences. It has been demonstrated that Argyroxiphium sandwicense ssp. macrocephalum cannot fertilize itself and is reliant on insect pollinators for reproduction. Rarely, hybrids between A. sandwicense ssp. macrocephalum and Dubautia menziesii (naenae) have been observed. Primarily found within Haleakala Crater, especially on Puu o Pele and Puu o Maui cinder cones, these hybrid individuals flower for several years before dying (Loope and Crivellone 1986; Loope and Medeiros, in press; Service 1997; Carr 1985; 57 FR 20772).

Currently, Argyroxiphium sandwicense ssp. macrocephalum occupies all of its historic range, a 1,000 ha (2,500 ac) area at 2,100-3,000 m (6,890-9,840 ft) elevation in the crater and outer slopes of Haleakala Volcano, within Haleakala National Park, and The Nature Conservancy of Hawaii's (TNCH) Waikamoi Preserve. There are a total of four populations on Federal and privately owned land, with a total of 39,025 to 44,025 individual plants (Loope and Crivellone 1986; TNC 1998; Geographic Decision Systems International (GDSI) 2001; Hawaii Natural Heritage Program (HINHP) Database 2001; Service 1997; 57 FR 20772).

The habitat of this species consists primarily of lava flows and otherwise barren, unstable slopes of recent (less than several thousand years old) volcanic cinder cones and in Deschampsia nubigena (hair grass) grasslands at elevations between 1,511 and 3,053 m (4,957 and 10,016 ft). Mean annual precipitation is approximately 75 to 250 cm (29.6 to 98.4 in). The substrate has almost no soil development and is subject to frequent formation of ice at night and extreme heating during cloudless days. This species is found in alpine dry shrubland with native species, including Agrostis sandwicensis (bent grass), Dubautia menziesii, Silene struthioloides (catchfly), Styphelia tameiameiae (pukiawe), Tetramolopium humile (pamakani), or Trisetum glomeratum (pili uka) (Robert Hobdy, Hawaii Division of Forestry and Wildlife (DOFAW), et al., pers. comm., 2001; Service 1997; 57 FR 20772).

The threats to this species are loss of pollinators due to the Argentine ant (Iridomyrmex humilis) and alien yellow jackets (Vespula pennsylvanica); native seed-eating and herbivorous insects such as the tephritid fly (Trupanea cratericola); limited natural range which makes it vulnerable to extinction due to catastrophic events, such as a natural disaster; competition from the alien plant species Verbascum thapsus (mullein); and human impacts (trampling and site degradation). Although goats (Capra hircus) and cattle (Bos taurus) have been removed from the park, they remain a potential threat (Service 1997; 57 FR 20772).

Clermontia samuelii (oha wai)

Clermontia samuelii, a short-lived perennial in the bellflower family (Campanulaceae), is a terrestrial shrub with elliptical leaves which are sometimes broader at the tips. Clermontia samuelii ssp. hanaensis is differentiated from C. samuelii ssp. samuelii by the greenish white to white flowers; longer, narrower leaves with the broadest point near the base of the leaves; and fewer hairs on the lower surface of the leaves. This species is separated from other members of this endemic Hawaiian genus by the size of the flowers and the hypanthium (Lammers 1999; Service 2001).

Little is known about the life history of Clermontia samuelii. Flowering cycles, pollination vectors, seed dispersal agents, longevity, specific environmental requirements, and limiting factors are unknown (Service 2001; 64 FR 48307).

Historically, Clermontia samuelii has been reported from Haleakala and from Keanae Valley on the windward side to Manawainui on the more leeward (southeastern) side of Haleakala. Currently, Clermontia samuelii is known from Papanalahoa Point, Kuhiwa Valley, the ridge north of Palike Stream, Kawaipapa Gulch, and Mokulehua Gulch. There is a total of four populations with 309 individual plants on State and Federal lands within Haleakala National Park, Hanawi Natural Area Reserve (NAR), the Hana Forest Reserve, and within the East Maui Watershed Partnership (Medeiros and Loope 1989; Warshauer 1998; 64 FR 48307; GDSI 2001; HINHP Database 2001; Robert Hobdy, DOFAW, in litt. 2000; Ken Wood, National Tropical Botanical Garden (NTBG) in litt. 2000; Service 2001).

Clermontia samuelii is found at elevations between 723 and 2,244 m (2,372 and 7,362 ft). Clermontia samuelii ssp. hanaensis is found in wet Metrosideros polymorpha (ohia) and Metrosideros polymorpha-Dicranopteris linearis (uluhe) forest containing one or more of the following associated native plant species: Adenophorus tamariscinus (pendant fern), Broussaisia arguta (kanawao), Carex alligata (NCN), Cheirodendron trigynum (olapa), Cibotium spp. (hapuu), Diplazium sandwichianum (hoio), Dubautia spp. (naenae), Hedyotis hillebrandii (manono), Hedyotis terminalis (manono), Melicope clusiifolia (kolokolo mokihana), Melicope spp. (alani), Peperomia obovatilimba (ala ala wai nui), Psychotria mariniana (kopiko), Tetraplasandra oahuensis (ohe ohe), or Vaccinium spp. (ohelo). Clermontia samuelii ssp. samuelii is found in wet Metrosideros polymorpha and M. polymorpha-Cheirodendron trigynum forest and containing one or more of the following native plant species: Hedyotis hillebrandii, Hedyotis spp. (NCN), Cibotium spp., Broussaisia arguta, Dubautia spp., Diplazium sandwichianum, Rubus hawaiiensis (akala), Clermontia arborescens ssp. waihiae (oha wai), Clermontia spp. (oha wai), Vaccinium spp., Carex alligata, or Melicope spp. (Service 2001; K. Wood, in litt. 2000; HINHP Database 2001; 64 FR 48307; R. Hobdy et al., pers. comm., 2001).

Threats to Clermontia samuelii ssp. hanaensis include habitat degradation and destruction by feral pigs (Sus scrofa) and competition with alien plant species such as Tibouchina herbacea (glorybush), Paspalum urvillei (vasey grass), Paspalum conjugatum (Hilo grass), Juncus spp. (NCN), Hedychium coronarium (white ginger), or Hedychium gardnerianum (Kahili ginger). In addition, two extremely invasive alien plant species, Miconia calvescens (velvet tree) and Clidemia hirta (Koster's curse), are found in nearby areas and may invade this habitat if not controlled. The habitat of C. samuelii ssp. samuelii was extensively damaged by pigs in the past, and pigs are still a major threat to the populations on State owned lands. The population within the National Park has been fenced and pigs have been eradicated. However, due to the large populations of pigs in adjacent areas, the park populations must constantly be monitored to prevent further ingress. Competition with alien plant species such as Holcus lanatus (velvet grass) and Juncus planifolius (NCN) is a major threat to this subspecies. In addition, rats (mainly black rats (Rattus rattus)) and slugs (mainly Milax gagetes) are known to eat leaves, stems, and fruits of other members of this genus, and therefore are a potential threat to both subspecies (Service 2001; 64 FR 48307; K. Wood in litt. 2000).

Cyanea copelandii ssp. haleakalaensis (haha)

Cyanea copelandii ssp. haleakalaensis, a short-lived perennial member of the bellflower family (Campanulaceae), is a vine-like shrub with sprawling stems and tan latex (sap). This subspecies is differentiated from the other subspecies by its shorter elliptical leaves. The species differs from others in this endemic Hawaiian genus by the vine-like stems and the yellowish flowers that appear red due to the covering of hairs (Service 2001; Lammers 1999).

Little is known about the life history of Cyanea copelandii ssp. haleakalaensis. Flowering cycles, pollination vectors, seed dispersal agents, longevity, specific environmental requirements, and limiting factors are unknown (Service 2001; 64 FR 48307).

Historically, Cyanea copelandii ssp. haleakalaensis was reported from the windward side of Haleakala and from Waikamoi to Kipahulu Valley. Currently, this taxon is known from three populations with a total of 204 individuals on Federal, State, and privately owned land within the East Maui Watershed Partnership in Haiku Uka, the ridge above Kuhiwa Valley, and Kipahulu Valley within Haleakala National Park and Hanawi NAR (Lammers 1999; Service 2001; 64 FR 48307; Warshauer 1998; HINHP Database 2001; GDSI 2001).

Cyanea copelandii ssp. haleakalaensis is found on stream banks or wet scree (a sloping mass of rocks at the base of a cliff) slopes or forest understory in montane wet or mesic forests dominated by Acacia koa (koa) and Metrosideros polymorpha at elevations between 616 and 1,411 m (2,021 and 4,630 ft). Associated species include Broussaisia arguta, Cibotium spp., Hedyotis acuminata (au), Perrottetia sandwicensis (olomea), and Psychotria hawaiiensis (kopiko ula) (Service 2001; 64 FR 48307; HINHP Database 2001; R. Hobdy et al., pers. comm., 2001).

The major threats to this species are habitat degradation and destruction by feral pigs; competition with several alien plant species; rats; slugs; human activities; and potential extinction due to random environmental events due to small population sizes (Service 2001; 64 FR 48307).

Cyanea glabra (haha)

Cyanea glabra, a member of the bellflower family (Campanulaceae), is a short-lived, perennial shrub, with the leaves of juvenile plants deeply pinnately lobed, while those of the adult plants are more or less entire and elliptical. This species is differentiated from others in this endemic Hawaiian genus by the size of the flower and the pinnately-lobed juvenile leaves (Service 2001; Lammers 1999).

Little is known about the life history of Cyanea glabra. Flowering cycles, pollination vectors, seed dispersal agents, longevity, specific environmental requirements, and limiting factors are unknown (Service 2001; 64 FR 48307).

Historically, Cyanea glabra has been reported from West Maui and on Haleakala, East Maui. Currently, this species is known from a single population of 12 individual plants on privately owned land in Kauaula Valley (64 FR 48307; GDSI 2001; HINHP Database 2001).

Cyanea glabra is found on soil and rock stream banks in wet lowland forests dominated by Acacia koa and Metrosideros polymorpha, at elevations between 413 and 1,572 m (1,355 and 5,156 ft). Associated native plants include Xylosma hawaiiense (maua), Dodonaea viscosa (aalii), Psychotria spp. (kopiko), Pipturus albidus (mamaki), Touchardia latifolia (olona), Boehmeria grandis (akolea), Clermontia kakeana (ohai wai), Cyanea elliptica (haha), Perrottetia sandwicensis, Coprosma spp. (pilo), Cibotium spp., Dubautia plantaginea (naenae), Cheirodendron trigynum, Thelypteris cyatheoides (palapalaia), Diplazium spp. (NCN), and Sadleria spp. (amau) (HINHP Database 2001; Joel Lau, Hawaii Natural Heritage Program, pers. comm., 2001; Service 2001; 64 FR 48307; R. Hobdy et al., pers. comm., 2001).

The threats to this species are slugs; habitat degradation and destruction by feral pigs; flooding; competition with several alien plant species; rats; the two-spotted leafhopper (Saphonia rufofascia); and extinction caused by random environmental events due to the small number individuals in the only remaining population (Service 2001; 64 FR 48307).

Cyanea hamatiflora ssp. hamatiflora (haha)

Cyanea hamatiflora ssp. hamatiflora, a short-lived perennial and member of the bellflower family (Campanulaceae), is a palm-like tree with tan colored latex. This subspecies is differentiated from the other listed subspecies (C. hamatiflora ssp. carlsonii) by its longer calyx lobes and shorter individual flower stalks. This species is separated from others in this endemic Hawaiian genus by fewer flowers per inflorescence and narrower leaves (Service 2001; Lammers 1999).

Little is known about the life history of Cyanea hamatiflora ssp. hamatiflora. Flowering cycles, pollination vectors, seed dispersal agents, longevity, specific environmental requirements, and limiting factors are unknown (Service 2001; 64 FR 48307).

Historically, Cyanea hamatiflora ssp. hamatiflora was known from the windward side of Haleakala, stretching from Puu o Kakae to Manawainui. Currently, this taxon is known from seven populations with a total of 12 individuals within the East Maui Watershed Partnership in Honomanu, Wailuaiki, Kipahulu Valley, Koukouai, and Puu Ahulili on State (Koolau and Kipahulu Forest Reserves), Federal (Haleakala National Park), and privately owned lands (Service 2001; Warshauer 1998; GDSI 2001; HINHP Database 2001; 64 FR 48307).

Typical habitat for this taxon is montane wet forest dominated by Metrosideros polymorpha, with a Cibotium spp. and/or native shrub understory or closed Acacia koa-M. polymorpha wet forest containing one or more of the following associated native plant species: Dicranopteris linearis, Cheirodendron trigynum, Broussaisia arguta, Cyanea aculeatiflora (haha), Cyanea kunthiana (haha), Vaccinium spp., Melicope spp., Athyrium microphyllum (akolea), Diplazium sandwichianum, and Myrsine spp. (kolea) at elevations between 767 and 1,553 m (2,515 and 5,095 ft) (Service 2001; 64 FR 48307; HINHP Database 2001; R. Hobdy et al., pers. comm., 2001).

The threats to this species are habitat degradation and destruction by feral pigs; landslides; competition with the alien plant Ageratina adenophora (Maui pamakani); rats; and slugs (Service 2001; 64 FR 48307).

Cyanea mceldowneyi (haha)

Cyanea mceldowneyi, a member of the bellflower family (Campanulaceae), is a short-lived, unbranched perennial shrub with rough to prickly stems. This species is distinguished from other species of Cyanea by the combination of a densely armed trunk; long (40 mm (1.6 in)), white-colored corollas; and leaf blade size and shape (Service 2001; Lammers 1999).

Little is known about the life history of Cyanea mceldowneyi. Flowering cycles, pollination vectors, seed dispersal agents, longevity, specific environmental requirements, and limiting factors are unknown (57 FR 20772; Service 1997).

Historically, Cyanea mceldowneyi was known from rainforest west of Waikamoi to Honomanu on northwestern Haleakala. Currently, this species is known from six populations with a total of 36 individuals on State (Makawao Forest Reserve and Hanawi NAR) and privately owned lands within the East Maui Watershed Partnership at Kahakapao Gulch, Opana Gulch, Waikamoi, Puohokamoa, Makapipi, and the flats above Kuhiwa Valley (Lammers 1999; Warshauer 1998; GDSI 2001; HINHP Database 2001; Service 1997; 57 FR 20772).

The habitat of this species is montane wet and mesic forest with mixed Metrosideros polymorpha-Acacia koa containing one or more of the following associated native plant species: Melicope clusiifolia, Hedyotis spp., Clermontia arborescens, Diplazium sandwichianum, Broussaisia arguta, Cibotium spp., Cyrtandra spp. (haiwale), Dicranopteris linearis, or Cheirodendron trigynum at elevations between 779 and 1,357 m (2,555 and 4,453 ft) (Service 1997; 57 FR 20772; R. Hobdy et al., pers. comm., 2001).

The threats to this species are habitat degradation and physical destruction by feral pigs; small number of populations and individuals; human activities; and competition with alien plant species, especially Setaria palmifolia (palmgrass) (Service 1997; 57 FR 20772).

Dubautia plantaginea ssp. humilis (naenae)

Dubautia plantaginea ssp. humilis, a short-lived perennial of the aster family (Asteraceae), is a dwarf shrub less than 80 cm (30 in) tall with hairless or strigillose (bulbous-based hairs, all pointing in the same direction) stems. This species differs from other Hawaiian members of the genus by the number of nerves in the leaves and by the close resemblance of the leaves to the genus Plantago. The subspecies humilis differs from the other two subspecies (D. plantaginea ssp. magnifolia and Dubautia plantaginea ssp. plantaginea) by having fewer heads per inflorescence, but more florets per head (Service 2001; Carr 1985; Carr 1999b).

Little is known about the life history of Dubautia plantaginea ssp. humilis. Flowering cycles, pollination vectors, seed dispersal agents, longevity, specific environmental requirements, and limiting factors are unknown (Service 2001; 64 FR 48307).

Dubautia plantaginea ssp. humilis has only been reported from Iao Valley, on West Maui. This population with 60 to 65 individuals occurs on privately owned land (GDSI 2001; HINHP Database 2001; Service 2001; 64 FR 48307).

The typical habitat of the species is wet, barren, steep, rocky, wind-blown cliffs containing one or more of the following associated native plant species: Metrosideros polymorpha, Pipturus albidus, Eragrostis variabilis (kawelu), Carex spp. (NCN), Hedyotis formosa (NCN), Lysimachia remyi (kolokolo kuahiwi), Bidens spp. (kookoolau), Pritchardia spp. (loulu), or Plantago princeps (laukahi kuahiwi) and elevations between 266 and 1,593 m (873 and 5,226 ft) (Service 2001; 64 FR 48307; HINHP Database 2001; R. Hobdy et al., pers. comm., 2001).

Threats to Dubautia plantaginea ssp. humilis include landslides and competition from alien plant species. Random environmental events, such as landslides, are a threat because of the limited number of individuals and populations and their narrow distribution (Service 2001; 64 FR 48307).

Geranium arboreum (nohoanu)

Geranium arboreum, a long-lived perennial and a member of the geranium family (Geraniaceae), is a many branched, spreading, woody shrub about 1.8 to 3.7 m (6 to 12 ft) tall. This species can be distinguished from other Geranium species by its red petals with the upper three petals erect and the lower two reflexed, causing the flower to appear curved (Wagner et al. 1999).

Geranium arboreum is the only species in its genus that appears to be adapted to bird-pollination. Native honeycreepers appear to be a major pollination vector. Geranium arboreum from the southwest area of Haleakala in the Kula Forest Reserve produce seeds that are larger and fuller than seeds from the northwest extension of its distribution. Native honeycreepers are reasonably abundant in both areas. Little else is known about the life history of Geranium arboreum. Flowering cycles, pollination vectors, seed dispersal agents, longevity, specific environmental requirements, and limiting factors are unknown (Funk 1982; 1988; Service 1997; 57 FR 20772).

The original range and abundance of the species is unknown, but late 19th and early 20th century collections indicate that it once grew on the southern slopes of Haleakala and that its distribution on the northern slopes extended beyond its presently known range. Currently, there are seven populations totaling 158 individuals, within the East Maui Watershed Partnership on State (Kula and Kahikinui Forest Reserves), private and federally owned or leased (Haleakala National Park) lands. These populations are found in Kahua, Kanahau, Waiohuli, Kaipoioi Gulch, Hapapa Gulch, Keauaiwi Gulch, Kalialinui, and south of Puu Luau and east of Puu Nianiau (Warshauer 1998; HINHP Database 2001; GDSI 2001; Service 1997; 57 FR 20772).

Geranium arboreum grows in steep, damp, and shaded narrow canyons and gulches, steep banks, and intermittent streams in Sophora chrysophylla (mamane) subalpine dry shrubland or Metrosideros polymorpha montane forest and containing one or more of the following associated native plant species: Vaccinium reticulatum (ohelo ai), Dodonaea viscosa, Styphelia tameiameiae, Rubus hawaiiensis, or Dryopteris wallichiana (io nui) and elevations between 1,451 and 2,184 m (4,760 and 7,164 ft) (Service 1997; 57 FR 20772; R. Hobdy et al., pers. comm., 2001).

The greatest immediate threat to the survival of this species is the encroachment and competition from naturalized, exotic vegetation, chiefly grasses and trees. Soil disturbance, caused by trampling cattle and rooting by feral pigs, also is a major threat as it destroys plants and facilitates the encroachment of competing species of naturalized plants. Other less important threats include browsing by cattle; fires; and pollen from exotic pine trees, which at times of the year completely cover the stigmas of the geraniums, precluding any fertilization by its own species. The small number of individual plants increases the potential for extinction from random environmental events, and the limited gene pool may depress reproductive vigor (Funk 1982, 1988; 57 FR 20772; Service 1997).

Geranium multiflorum (nohoanu)

Geranium multiflorum, a long-lived member of the geranium family (Geraniaceae), is a perennial many-branched shrub 1 to 3 m (3 to 10 ft) tall. Flowers are in clusters of 25 to 50, and have 5 white petals that are 10 to 15 mm (0.4 to 0.6 in) long with purple veins or bases. This species is distinguished from others of the genus by its white, regularly symmetrical flowers and by the shape and pattern of teeth on its leaf margins (Wagner et al. 1999).

Little is known about the life history of Geranium multiflorum. Flowering cycles, pollination vectors, seed dispersal agents, longevity, specific environmental requirements, and limiting factors are unknown (Service 1997; 57 FR 20772).

Historically, Geranium multiflorum was known from Ukulele, Waieleele, and Waianapanapa on East Maui. This species is now known from Federal (Haleakala National Park), State (Hanawi NAR and Koolau Forest Reserve), and private lands within the East Maui Watershed Partnership in Haiku Ula, Kalialinui, Koolau Gap, Koolau Gap near Haiku Ula, between East Waiuaki and Kopiliula Streams, near Puu Alaea along Kalapawili Ridge, Kipahulu Valley, Waiakekeehia, and Haleakala Crater. The eight known populations extend over a distance of about 10.5 by 5.5 km (6.5 by 3.5 mi). Due to the inaccessibility of the populations, and the difficulty in determining the number of individuals (due to the plant's multi-branched form), the total number of individuals of this species is not known; however, it probably does not exceed 3,000 plants (Warshauer 1998; GDSI 2001; Service 1997; 57 FR 20772; HINHP Database 2001; R. Hobdy et al., pers. comm., 2001).

Geranium multiflorum is found in wet or mesic Metrosideros polymorpha montane forest or alpine mesic forest, Styphelia tameiameiae shrubland, Sophora chrysophylla subalpine dry forest, open sedge swamps, fog-swept lava flows, or montane grasslands containing one or more of the following associated native plant species: Coprosma montana (pilo), Dryopteris glabra (hohui), Dryopteris wallichiana, Rubus hawaiiensis, Vaccinium spp., Hedyotis spp., or Sadleria cyatheoides (amau) at elevations between 1,499 and 2,710 m (4,918 and 8,890 ft) (Wagner et al. 1999; HINHP Database 2001; Service 1997; 57 FR 20772).

The major threat to Geranium multiflorum is competition with encroaching alien plant species, particularly Rubus argutus (prickly Florida blackberry). A potential threat is habitat destruction by feral pigs and goats in unfenced areas (Service 1997; 57 FR 20772).

Kanaloa kahoolawensis (kohe malama malama o kanaloa)

Kanaloa kahoolawensis, a short-lived perennial and a member of the legume family (Fabaceae), is a densely branched shrub 0.75 to 1 m (2.5 to 3.5 ft) tall. The leaves are divided into three pairs of leaflets, with a leaf nectary (nectar-bearing gland) at the joint between each pair of leaflets. One to three inflorescences are found in the leaf axils (joint between leaf and stem), developing with the flush of new leaves. The inflorescence is a globose head with 20 to 54 white flowers. Up to four fruits develop in each flowering head. The fruit is egg-shaped to subcircular, compressed, hairy at the base, and open along two sides. One heart-shaped, brown seed, 1.0 to 1.4 by 1.1 to 1.6 cm (0.4 to 0.5 by 0.4 to 0.6 in), is found in each fruit. There is no other species of legume in Hawaii that bears any resemblance to this species, which is the only one in this genus (Service 2001; Lorence and Wood 1994).

Little is known about the life history of Kanaloa kahoolawensis. Flowering cycles, pollination vectors, seed dispersal agents, longevity, specific environmental requirements, and limiting factors are unknown (Service 2001; 64 FR 48307).

Kanaloa kahoolawensis was unknown to science until its discovery by Steve Perlman and Ken Wood of NTBG in 1992 on a steep rocky spire on the coast of Kahoolawe. The only known location of Kanaloa kahoolawensis is this rocky stack on the southern coast of the island of Kahoolawe, which is owned by the State of Hawaii. While there are no previous records of the plant, pollen core studies on the island of Oahu revealed a legume pollen that could not be identified but is most likely this species. The pollen cores indicate that this previously unidentified species was a codominant with Dodonaea viscosa and Pritchardia spp. from before 1210 B.C. to 1565 A.D., at which point K. kahoolawensis disappeared from the pollen record and D. viscosa and Pritchardia spp. declined dramatically. Only one population with two living individuals is known (Athens et al. 1992; Athens and Ward 1993; Lorence and Wood 1994; Paul Higashino, Kahoolawe Island Reserve Commission (KIRC), pers. comm., 2000; Service 2001; 64 FR 48307).

The only known habitat is steep rocky talus slopes in mixed coastal shrubland at elevations between 45 to 60 m (150 to 200 ft) and containing one or more of the following associated native plant species: Sida fallax (ilima), Senna gaudichaudii (kolomona), Bidens mauiensis (kookoolau), Lipochaeta lavarum (nehe), Portulaca molokiniensis (ihi), or Capparis sandwichiana (maiapilo) (Service 2001; 64 FR 48307; R. Hobdy et al., pers. comm., 2001).

The major threats to Kanaloa kahoolawensis are landslides and competition with the alien plant species Emilia fosbergii (pualele), Chloris barbata (swollen finger grass), or Nicotiana glauca (tobacco tree). Goats played a major role in the destruction of vegetation on Kahoolawe before they were removed, and K. kahoolawensis probably survived only because the rocky stack is almost completely separated from the island and inaccessible to goats. Rats are a potential threat to K. kahoolawensis, because the species has seeds similar in appearance and presentation to the seeds of the federally endangered Caesalpinia kavaiensis (uhiuhi), which are eaten by rats. Rats may have been the cause of the decline of this species 800 years ago. Trampling and habitat degradation from introduced cats and native seabirds are also potential threats. Random environmental events and reduced reproductive vigor are also threats to this species, because only two individuals are known (P. Higashino, pers. comm., 2000; Cuddihy and Stone 1990; Lorence and Wood 1994; Service 2001; 64 FR 48307).

Lipochaeta kamolensis (nehe)

Lipochaeta kamolensis, a short-lived perennial herb of the aster family (Asteraceae), has trailing or climbing stems that are woody at the base and reach a length of 0.3 to 3 m (1 to 10 ft). This species is distinguished from others of the genus by the simple leaves which are pinnately lobed or cut and by the size of the flower heads (Wagner et al. 1999).

Lipochaeta kamolensis has been observed flowering from December through February, as well as in April. The growing season coincides with the wet season between November and April to May. Plants are deciduous and appear to be metabolically inactive during the dry season. Little else is known about the life history of Lipochaeta kamolensis. Flowering cycles, pollination vectors, seed dispersal agents, longevity, specific environmental requirements, and limiting factors are unknown (Service 1997; 57 FR 20772).

Historically, Lipochaeta kamolensis was known from Kamole Gulch, west of Kepuni Gulch, and 7.2 km (11.8 mi) southeast of Ulupalakua Ranch Office. This species still occurs in Kamole Gulch, on State owned (Department of Hawaiian Home Lands) land. The only known population, which extends over an area of about 40 ha (100 ac), is estimated to contain less than 500 individuals (Wagner et al. 1999; GDSI 2001; HINHP Database 2001; K. Wood, in litt. 1999; Service 1997; 57 FR 20772).

Lipochaeta kamolensis typically grows in gulches or on gentle slopes outside gulches in dry shrubland at elevations between 40 and 602 m (132 and 1,974 ft) and containing one or more of the following associated native plant species: Dodonaea viscosa, Plumbago zeylanica (iliee), or Ipomoea indica (koali awa) (Wagner et al. 1999; K. Wood, in litt. 1999; Service 1997; 57 FR 20772; R. Hobdy et al., pers. comm., 2001).

The major threats to Lipochaeta kamolensis are habitat destruction and predation by cattle and goats, competition with alien plants such as Lantana camara (lantana), fire, and the one population subject to extinction by random environmental events (57 FR 20772; Service 1997).

Melicope adscendens (alani)

Melicope adscendens, a long-lived perennial of the rue family (Rutaceae), is a sprawling shrub with long, slender branches covered with gray hairs when young, which become hairless when older. M. adscendens is distinguished from other species of the genus by its growth habit, the distinct follicles of its fruit, and the persistent (remaining attached) sepals and petals (Stone et al. 1999).

Melicope adscendens fruits have been collected in March and July. Little else is known about the life history of Melicope adscendens. Flowering cycles, pollination vectors, seed dispersal agents, longevity, specific environmental requirements, and limiting factors are unknown (Service 1997; 59 FR 62346).

Melicope adscendens has been found only on the southwestern slope of Haleakala; two plants, separated by an unspecified distance, were found by Forbes in 1920. Today, there are two known populations with a total of 16 individuals on State (Kanaio NAR) and privately owned lands at Puu Ouli and on the border of the Hana and Makawao Districts (GDSI 2001; HINHP Database 2001; Service 1997; 59 FR 62346).

This species typically grows on aa lava (a particular type of lava flow with very sharp edges) with pockets of soil in Nestegis sandwicensis (olopua)-Pleomele auwahiensis (hala pepe)-Dodonaea viscosa lowland mesic forest or open dry forest and containing one or more of the following associated native plant species: Osteomeles anthyllidifolia (ulei), Alphitonia ponderosa (kauila), Chamaesyce celastroides var. lorifolia (akoko), Santalum ellipticum (iliahialoe), Pouteria sandwicensis (alaa), Styphelia tameiameiae, or Xylosma hawaiiensis (maua) at elevations between 761 and 1,209 m (2,497 and 3,967 ft) (HINHP Database 2001; K. Wood, in litt. 1999; Service 1997; 59 FR 62346; R. Hobdy et al., pers. comm., 2001).

Major threats are habitat damage and trampling by cattle; competition with alien plant species, including Lantana camara, Bocconia frutescens (NCN), and Pennisetum clandestinum (kikuyu grass), and reduced reproductive vigor or extinction from random environmental events due to the small number of individuals and narrow distribution. Potential threats include habitat degradation and damage to plants by axis deer (Axis axis), feral goats, feral pigs, black twig borer, fire, and ranch activities (Service 1997; 59 FR 62346; HINHP Database 2001).

Melicope balloui (alani)

Melicope balloui, a long-lived perennial of the rue family (Rutaceae), is a small tree or shrub. New growth has yellowish brown woolly hairs and waxy scales; plant parts later become nearly hairless. Melicope balloui is distinguished from other species of the genus by the partially fused carpels of its four-lobed capsule and usually persistent sepals and petals (Stone et al. 1999).

Little is known about the life history of Melicope balloui. Flowering cycles, pollination vectors, seed dispersal agents, longevity, specific environmental requirements, and limiting factors are unknown (Service 1997; 59 FR 62346).

Melicope balloui has been found only on the northern and southeastern slopes of Haleakala. There are two known populations with a total of approximately 50 individuals on private and federally owned (Haleakala National Park) lands within the East Maui Watershed Partnership at Puu O Kakae and Palikea Stream (GDSI 2001; HINHP Database 2001; K. Wood, in litt. 1999; Service 1997; 59 FR 62346).

Melicope balloui typically grows in mesic to wet forest between 781 and 1,596 m (2,561 and 5,235 ft), containing one or more of the following associated native plant species: Acacia koa, Cibotium chamissoi (hapuu), Cibotium glaucum (hapuu), Diplazium sandwichianum, Melicope clusiifolia, Metrosideros polymorpha, or Sadleria pallida (amau) (HINHP Database 2001; J. Lau, pers. comm., 2001; Service 1997; 59 FR 62346).

Major threats are habitat degradation and damage to plants by feral pigs and axis deer and reduced reproductive vigor or extinction caused by random environmental events due to the small number of existing populations and individuals. Potential threats include competition with alien plant species such as Paspalum conjugatum, Clidemia hirta, Paspalum urvillei, Andropogon virginicus (broomsedge), and Psidium cattleianum (strawberry guava); susceptibility to black twig borer (Xylosandrus compactus); and predation by rats (59 FR 62346; Service 1997; HINHP Database 2001).

Melicope ovalis (alani)

Melicope ovalis, a long-lived perennial of the rue family (Rutaceae), is a tree growing up to 5 m (16 ft) tall. New growth has fine, short, brownish hairs, but soon becomes hairless. Leaves are opposite, leathery, and broadly elliptic. The upper and lower surfaces of the leaves are hairless, and bruised foliage has an anise odor similar to that of M. anisata (mokihana). Each flower cluster is on a main stalk and comprises three to seven flowers on individual stalks. Further details of the flowers are unknown. The fruit, a capsule, has carpels that are fused along almost their entire length. Each fertile carpel contains one or two glossy black seeds. The exocarp and endocarp are both hairless. M. ovalis is distinguished from other species of the genus by the almost entirely fused carpels of its capsule, its nonpersistent sepals and petals, and its well-developed petioles (Stone et al. 1999).

Little is known about the life history of Melicope ovalis. Flowering cycles, pollination vectors, seed dispersal agents, longevity, specific environmental requirements, and limiting factors are unknown (Service 1997; 59 FR 62346).

Melicope ovalis has been found only on the eastern and southeastern slopes of Haleakala. There is one known population with approximately 200 individuals, found on federally owned land along the Palikea Stream in Haleakala National Park within the East Maui Watershed Partnership (GDSI 2001; HINHP Database 2001; K. Wood, in litt. 1999; Service 1997; 59 FR 62346).

This species typically grows in Acacia koa and Metrosideros polymorpha-dominated montane wet forests along streams at elevations between 753 and 1,537 m (2,469 and 5,042 ft). Associated plant species include Dicranopteris linearis, Machaerina angustifolia (uki), Labordia hedyosmifolia (NCN), Wikstroemia oahuensis (akia), Dubautia plantaginea, Hedyotis hillebrandii, Broussaisia arguta, Cheirodendron trigynum, or Perrottetia sandwicensis (Service 1997; 59 FR 62346; HINHP Database 2001; R. Hobdy et al., pers. comm., 2001).

Major threats to the only known population are habitat degradation and damage to plants by feral pigs and reduced reproductive vigor and/or extinction due to random environmental events. Competition with introduced plants such as Paspalum conjugatum, Clidemia hirta, Rubus rosifolius (thimbleberry), and Psidium cattleianum; seed predation by rats; and susceptibility to black twig borer are also threats to this species. Habitat degradation and damage to plants by feral goats and axis deer are potential threats if the integrity of the fence currently surrounding the population is compromised (Service 1997; 59 FR 62346; HINHP Database 2001; K. Wood, in litt. 1999).

Remya mauiensis (NCN)

Remya mauiensis is a short-lived perennial member of the aster family (Asteraceae). The genus Remya is endemic to the Hawaiian Islands. It is a small perennial shrub, about 90 cm (3 ft) tall, with many slender, sprawling, or scandent to weakly erect branches, covered with a fine tan fuzz near their tips. The leaves are narrow, up to about 15 cm (6 in) long, and are bunched at the ends of the branches. The coarsely toothed leaf blade is 5 to 12 times longer than wide, has a long-attenuate base, and a petiole of less than 1 cm (0.4 in) long. The leaves are green on the upper surface and covered with a dense mat of fine white hairs on the lower surface. The flowers are small, about 0.7 cm (0.3 in) in diameter, dark yellow, and densely clustered at the ends of their stems (Wagner et al. 1999).

Little is known about the life history of Remya mauiensis. Flowering cycles, pollination vectors, seed dispersal agents, longevity, specific environmental requirements, and limiting factors are unknown (Service 1997; 56 FR 1450).

Remya mauiensis was collected twice by William Hillebrand on West Maui between 1851 and 1871, and again in 1920 by Charles Forbes, also on West Maui. It was thought to be extinct until its rediscovery in 1971 by L.E. Bishop, W. Gagne, and S. Montgomery on the slopes of Manawainui Gulch, West Maui. Currently, R. mauiensis is known from three small populations on State owned land within the West Maui Mountains Watershed Partnership at Paupau, Kokuula, Kanaulaiki, and Maunawainui Gulch in the Panaewa section of the West Maui NAR, the West Maui Forest Reserve, and the Manawainui Plant Sanctuary. Because of the sprawling habit of this species, and the often dense growth of the surrounding vegetation, it is difficult to determine the exact number of individuals in a population; however, there is an estimate of 21 individuals (HINHP Database 2001; GDSI 2001; Service 1997; 56 FR 1450).

Remya mauiensis grows chiefly on steep, north or northeast-facing slopes in mixed mesophytic forests or Metrosideros polymorpha montane wet forests and containing one or more of the following associated native species: Diospyros sandwicensis (lama), Xylosma hawaiiensis, Nestegis sandwicensis, Myrsine lessertiana (kolea lau nui), Wikstroemia spp. (akia), Dodonaea viscosa, Diplazium sandwichianum, Lysimachia remyi, Microlepia strigosa (palapalai), Melicope spp., Alyxia oliviformis (maile), Pleomele auwahiensis, Psychotria mariniana, or Styphelia tameiameiae at elevations between 400 and 1,228 m (1,312 and 4,029 ft) (HINHP Database 2001; Service 1997; 56 FR 1450; R. Hobdy et al., pers. comm., 2001).

This species is threatened by extinction due to random catastrophic environmental events by virtue of the extremely small size of the populations coupled with a limited distribution of the remaining populations. The limited gene pool may depress reproductive vigor, or a single environmental disturbance could destroy a significant percentage of the known individuals. However, the primary threat to this species is the loss and degradation of its habitat due to the introduction of alien plants, such as Rubus rosifolius, Schinus terebinthifolius (Christmas berry), Adiantum hispidulum (rough maidenhair fern), or Tibouchina herbacea; human activities; and feral goats and pigs (56 FR 1450; Service 1997).

Schiedea haleakalensis (NCN)

Schiedea haleakalensis, a short-lived perennial of the pink family (Caryophyllaceae), is a hairless shrub, with slightly fleshy, narrow leaves and a single vein. Flowers are arranged in clusters at the ends of the branches. The flower has five green, oval sepals; no petals; five nectaries; and ten stamens. Capsules contain grayish to reddish brown seeds. This species differs from other species of the genus on East Maui by its crowded, hairless inflorescence composed of bisexual flowers (Wagner et al. 1999).

Schiedea haleakalensis is gynodioecious (individuals either have only female flowers or only perfect flowers) and so likely needs cross pollination by small insects. Small, short-flighted flies and moths have been observed visiting flowers. Fruits and seeds have been observed from August through September. Little else is known about the life history of Schiedea haleakalensis. Flowering cycles, pollination vectors, seed dispersal agents, longevity, specific environmental requirements, and limiting factors are unknown (Service 1997; 57 FR 20772).

Due to the lack of early collections or sightings, the historical range of Schiedea haleakalensis is unknown. This species is known only from Leleiwi Pali and Kaupo Gap in Haleakala National Park within the East Maui Watershed Partnership. The two populations are estimated to contain a total of 100 to 200 individuals, which together extend over a total area of 11 ha (28 ac) (GDSI 2001; HINHP Database 2001; Service 1997; 57 FR 20772).

Schiedea haleakalensis typically grows in rock cracks on sheer cliffs adjacent to barren lava and subalpine shrublands and grasslands with cinder, weathered volcanic ash, or bare lava substrate with little or no soil development and periodic freezing temperatures and containing one or more of the following associated plant species: Artemisia mauiensis (hinahina), Bidens micrantha (kookoolau), Dubautia menziesii, Styphelia tameiameiae, Vaccinium reticulatum, or Viola chamissoniana (pamakani) at elevations between 1,678 and 2,434 m (5,505 and 7,986 ft) (Service 1997; 57 FR 20772; HINHP Database 2001; R. Hobdy et al., pers. comm., 2001).

The greatest threats to Schiedea haleakalensis are fire and other catastrophic events that could severely impact the species due the small number and restricted distribution of remaining individuals and populations (Service 1997; 57 FR 20772).

Tetramolopium capillare (pamakani)

Tetramolopium capillare, a short-lived perennial of the sunflower family (Asteraceae), is a sprawling shrub with stems measuring 50 to 80 cm (20 to 31 in) long and covered with many glands when young. The very firm, stalkless leaves are involute (edges rolled under). Flower heads are situated singly at the ends of stalks. Located beneath each flower head are 45 to 50 bracts, arranged in a structure 3 to 4 mm (about 0.1 in) high and 7 to 10 mm (0.3 to 0.4 in) in diameter. In each flower head, 30 to 50 white, male ray florets are surround by 15 to 25 greenish yellow tinged with red, functionally female florets. The achenes (dry, one-seeded fruits) are topped by a white pappus comprising a single series of bristles. Tetramolopium capillare differs from other species of the genus by its very firm leaves with edges rolled under, its solitary flower heads, the color of its disk florets, and its shorter pappus. It differs from T. remyi, with which it sometimes grows, by its more sprawling habit and the shorter stalks of its smaller flower heads (Lowrey 1999).

Little is known about the life history of Tetramolopium capillare. Flowering cycles, pollination vectors, seed dispersal agents, longevity, specific environmental requirements, and limiting factors are unknown (Lowrey 1999).

Historically, Tetramolopium capillare is known from Lahaina Luna to Wailuku on West Maui. Currently, four known populations with a total of 166 individuals are known from State (West Maui Forest Reserve) and privately owned lands within the West Maui Mountains Watershed Partnership, south of Kanaha Stream, Kauaula, Ulaula, and Koia (Lowrey 1999; GDSI 2001; Service 1997; 59 FR 49860).

Tetramolopium capillare typically grows on rocky substrates in Heteropogon contortus (pili grass) lowland dry forest containing one or more of the following associated native plant species: Dodonaea viscosa or Myoporum sandwicense (naio); or in Metrosideros polymorpha-Styphelia tameiameiae montane mesic or wet shrubland and wet cliff faces and containing one or more of the following associated plant species: Metrosideros polymorpha, Styphelia tameiameiae, or Dodonaea viscosa at elevations between 131 and 1,432 m (430 and 4,698 ft) (Service 1997; 59 FR 49860; R. Hobdy et al., pers. comm., 2001).

The major threats to Tetramolopium capillare are fires; competition from alien plant species, particularly Lantana camara, Leucaena leucocephala (koa haole), or Melinis repens (natal redtop); and reduced reproductive vigor and/or extinction from random environmental events due to the small number of existing populations and individuals (Service 1997; 59 FR 49860).

Multi-Island Species

Acaena exigua (liliwai)

Acaena exigua is a small perennial rosette herb in the rose family (Rosaceae) with narrow, fern-like, divided leaves and slender flowering stalks 5-15 cm (2-5.9 in) long. It is easily hidden among the other low, tufted bog plants with which it grows. The narrow, oblong leaves are usually 10-25 mm (0.4-1.0 in) long with 6-17 leaflets 1-4 mm (0.04-0.16 in) long and 1-2 mm (0.04-0.08 in) wide. The leaflet on the end is wider (to 3 mm (0.12 in)). The upper surface of the leaves is glossy with conspicuous veins; the lower surface is whitish. The flowers lack petals and are arranged in short, dense spikes 5-10 mm (0.2-0.4 in) long held on slender, sparsely leafy stalks 5-15 cm (2-6 in) tall. The base of the flower is urn-shaped, sometimes with very short spines or bristles, and encloses a single cone-shaped dry fruit (achene) 1 mm (0.04 in) long (Wagner et al. 1999).

Little is known about the life history of Acaena exigua. Its flowering cycles, pollination vectors, seed dispersal agents, longevity, specific environmental requirements, and limiting factors are unknown (Service 1997; 57 FR 20772).

Historically, Acaena exigua was known from Puu Kukui on West Maui and from Mount Waialeale on Kauai. On Maui, Acaena exigua was last seen by Hank Oppenheimer and Steve Perlman in 1999 within the Puu Kukui Watershed Management Area. It has not been seen in the wild since March 2000 (Hank Oppenheimer, Maui Pineapple Company Limited, pers. comm., 2001; Service 1997; 57 FR 20772).

Acaena exigua is known only from montane bogs characterized by a thick peat substrate overlying an impervious clay substrate, with hummocks of sedges and grasses, stunted trees, and shrubs at elevations between 1,178 and 1,764 m (3,865 and 5,787 ft). Associated native species include the sedges and grasses Carex montis-eeke (NCN), Deschampsia nubigena, Dichanthelium cynodon (NCN), Dichanthelium hillebrandianum (NCN), Dichanthelium isachnoides (NCN), Oreobolus furcatus (NCN), or Rhynchospora chinensis (kuolohia), and the shrubs Metrosideros polymorpha, Viola maviensis (pamakani), Myrsine spp., Lagenifera maviensis (NCN), or Vaccinium spp. (Service 1997; 57 FR 20772; R. Hobdy et al., pers. comm., 2001).

The reason for the disappearance of this species is not known. The main current threats to Acaena exigua, if it exists, are believed to include small population size; human impacts (collecting and site degradation); potentially consumption of vegetative or floral parts of this species by non-native slugs and/or rats; predation and habitat disturbance by feral pigs; and non-native plant species (Service 1997; 57 FR 20772).

Adenophorus periens (pendant kihi fern)

Adenophorus periens, a member of the grammitis family (Grammitidaceae) and a short-lived perennial, is a small, pendant, epiphytic fern. This species differs from other species in this endemic Hawaiian genus by having hairs along the pinna margins, by the pinnae being at right angles to the midrib axis, by the placement of the sori on the pinnae, and the degree of dissection of each pinna (Linney 1989).

Little is known about the life history of Adenophorus periens, which seems to grow only in closed canopy dense forest with high humidity. Its breeding system is unknown, but outbreeding is very likely to be the predominant mode of reproduction. Spores are dispersed by wind, possibly by water, and perhaps on the feet of birds or insects. Spores lack a thick resistant coat which may indicate their longevity is brief, probably measured in days at most. Due to the weak differences between the seasons, there seems to be no evidence of seasonality in growth or reproduction. Additional information on reproductive cycles, longevity, specific environmental requirements, and limiting factors is not known (Linney 1989).

Historically, Adenophorus periens was reported from Kauai, Oahu, Lanai, Maui, and the island of Hawaii. Currently, it is known from Kauai, Molokai, and Hawaii. On Maui, it has not been seen in the wild since 1929 (HINHP Database 2001; Service 1999; 59 FR 56333; GDSI 2001).

Nothing is known of the preferred habitat of or native plant species associated with Adenophorus periens on the island of Maui (Service 1999; 59 FR 56333).

Nothing is known of the threats to Adenophorus periens on the island of Maui (Service 1999; 59 FR 56333).

Alectryon macrococcus (mahoe)

Alectryon macrococcus, a long-lived perennial and a member of the soapberry family (Sapindaceae), consists of two varieties, macrococcus and auwahiensis, both trees with reddish-brown branches and net-veined paper- or leather-like leaves with one to five pairs of sometimes asymmetrical egg-shaped leaflets. The underside of the leaf has dense brown hairs, only when young in A. macrococcus var. macrococcus, and persistent in A. macrococcus var. auwahiensis. The only member of its genus found in Hawaii, this species is distinguished from other Hawaiian members of its family by being a tree with a hard fruit 2.5 cm (1 in) or more in diameter (Service 1997; 57 FR 20772; Wagner et al. 1999).

Alectryon macrococcus is a relatively slow-growing, long-lived tree that grows in xeric to mesic sites and is adapted to periodic drought. Little else is known about the life history of A. macrococcus. Flowering cycles, pollination vectors, seed dispersal agents, longevity, and specific environmental requirements are unknown (Service 1997; 57 FR 20772).

Historically and currently, Alectryon macrococcus var. macrococcus is known from Kauai, Oahu, Molokai, and Maui. On Maui, three populations with a total of 22 individuals is found along the Honokowai Ditch Trail, Launiupoko Valley, and Iao Valley on privately owned land within the West Maui Mountains Watershed Partnership. Currently, A. macrococcus var. auwahiensis is known from two populations with 22 individuals on leeward East Maui in Auwahi in the Hana District and on the ridge east of Pahihi Gulch on private and State owned (Kahikinui Forest Reserve) lands (Medeiros et al. 1986; GDSI 2001; HINHP Database 2001; Service 1997; 57 FR 20772).

The habitat of Alectryon macrococcus var. macrococcus is mesic forests with Pouteria sandwicensis, Nestegis sandwicensis, Xylosma spp. (maua), Antidesma platyphylla (hame), Antidesma pulvinatum (hame), Bobea sandwicensis (ahakea), Pittosporum confertiflorum (hoawa), or Pittosporum glabrum (hoawa) at elevations between 1,017 and 3,562 m (1,168 and 3,337 ft). The habitat of A. macrococcus var. auwahiensis is mesic to wetter mesic and upper dryland forest containing one or more of the following associated native plant species: Diospyros sandwicensis, Dodonaea viscosa, Osteomeles anthyllidifolia, Alphitonia ponderosa, Santalum ellipticum, Xylosma hawaiiensis, Streblus pendulinus (aiai), Pouteria sandwicensis, or Pleomele auwahiensis at elevations between 333 and 1,210 m (1,092 and 3,969 ft) (HINHP Database 2001; K. Wood, in litt. 1999; Service 1997; 57 FR 20772; R. Hobdy et al., pers. comm., 2001).

The threats to Alectryon macrococcus var. macrococcus on Maui include feral goats and pigs; alien plant species, such as Melinus minutiflora (molasses grass), Pennisetum clandestinum, Schinus terebinthifolius, or Psidium cattleianum; damage from the black twig borer; seed predation by rats and mice (Mus musculus); fire; seed predation by insects (probably the endemic microlepidopteran Prays cf. fulvocanella); loss of pollinators; depressed reproductive vigor; and due to the very small remaining number of individuals and their limited distribution, a single natural or human-caused environmental disturbance could easily be catastrophic. The threats to A. macrococcus var. auwahiensis on Maui are damage from the black twig borer; seed predation by rats and mice; habitat degradation by feral pigs, deer, and escaped cattle; seed predation by insects (probably Prays cf. fulvocanella); alien plant species; loss of pollinators; depressed reproductive vigor; and due to the very small remaining number of individuals and their limited distribution, a single natural or human-caused environmental disturbance could easily be catastrophic (Service 1997; 57 FR 20772).

Asplenium fragile var. insulare (NCN)

Asplenium fragile var. insulare, a short-lived perennial and a member of the spleenwort family (Aspleniaceae), is a fern with a short sub-erect stem with a dull gray or brown main axis with two greenish ridges. This Hawaiian fern species is most similar to Asplenium macraei. The two can be distinguished by the size and shape of the pinnae and the number of sori per pinna (Wagner and Wagner 1992).

Little life history information is available for Asplenium fragile var. insulare. Reproductive cycles, longevity, specific environmental requirements, and limiting factors are unknown. Researchers have collected information on species composition, extent of cover, and age-class structure in six sub-populations at Pohakuloa Training Area in order to describe the populations. No gametophytes (gamete-producing life stage) were found, and the age-class structure of the sub-populations sampled was determined to be 100 percent reproductive adults because all the sporophytes (spore-producing life stage) had sori (spore-bearing structures) on some fronds (Service 1998a; 59 FR 49025).

Asplenium fragile var. insulare was known historically and currently from East Maui and on the island of Hawaii. Currently, on Maui there is one population with 18 individuals found in Kalialinui within the East Maui Watershed Partnership on private and federally (Haleakala National Park) owned lands (GDSI 2001; Service 1998a; 59 FR 49025).

On Maui, Asplenium fragile var. insulare is found in streamside hollows and grottos in gulches that occur in mesic to dry subalpine shrubland dominated by Styphelia tameiameiae and Sadleria cyatheoides, with scattered Metrosideros polymorpha between 1,682 and 2,407 m (5,518 and 7,896 ft). Associated native plant species include Grammitis hookeri (makue lau lii), and Dryopteris wallichiana (Service 1998a; 59 FR 49025; R. Hobdy et al., pers. comm., 2001).

The primary threat to Asplenium fragile var. insulare on the island of Maui is the risk of extinction due to random naturally occurring events due to the small number of existing individuals (Service 1998a; 59 FR 49025; Shaw 1992).

Bidens micrantha ssp. kalealaha (ko oko olau)

Bidens micrantha ssp. kalealaha, a short-lived member of the aster family (Asteraceae), is an erect perennial herb. This subspecies can be distinguished from other subspecies by the shape of the seeds, the density of the flower clusters, the numbers of ray and disk florets per head, differences in leaf surfaces, and other characteristics (57 FR 20772; Ganders and Nagata 1999).

Bidens micrantha is known to hybridize with other native Bidens, such as B. mauiensis and B. menziesii, and possibly B. conjuncta. Little else is known about the life history of B. micrantha ssp. kalealaha. Flowering cycles, pollination vectors, seed dispersal agents, longevity, and specific environmental requirements are unknown (Ganders and Nagata 1999; Service 1997; 57 FR 20772).

Historically, Bidens micrantha ssp. kalealaha was known from Lanai, the south slope of Haleakala on East Maui, and from one locality on West Maui. Currently, this taxon remains only on East Maui in Kahua, Nakula, and Haleakala Crater and Kaupo Gap, on State (Kahikinui Forest Reserve) and Federal (Haleakala National Park) lands within the East Maui Watershed Partnership. There are a total of three populations with less than a total of 2,000 individuals (Ganders and Nagata 1999; HINHP Database 2001; Service 1997; 57 FR 20772; GDSI 2001; HINHP Database 2001).

The habitat of Bidens micrantha ssp. kalealaha is blocky lava flows with little or no soil development, deep pit craters, and sheer rock walls in open canopy Metrosideros polymorpha-Acacia koa forest, montane shrubland, Sophora chrysophylla forests or cliff faces containing one or more of the following associated native plant species: Styphelia tameiameiae, Coprosma montana (pilo), Dodonaea viscosa, Dubautia platyphylla (naenae), Vaccinium reticulatum, or Santalum haleakalae (iliahi) at elevations between 1,317 and 2,565 m (4,321 and 8,414 ft) (Ganders and Nagata 1999; HINHP Database 2001; Service 1997; 57 FR 20772; R. Hobdy et al., pers. comm., 2001).

The threats to this species on Maui are habitat destruction by feral goats, pigs, and cattle; competition from a variety of invasive plant species; and fire (Service 1997; 57 FR 20772).

Bonamia menziesii (NCN)

Bonamia menziesii, a short-lived perennial member of the morning-glory family (Convolvulaceae), is a vine with twining branches that are fuzzy when young. This species is the only member of the genus that is endemic to the Hawaiian Islands and differs from other genera in the family by its two styles, longer stems and petioles, and rounder leaves (Austin 1999).

Little is known about the life history of Bonamia menziesii. Flowering cycles, pollination vectors, seed dispersal agents, longevity, specific environmental requirements, and limiting factors are unknown (Service 1999; 59 FR 56333).

Historically, Bonamia menziesii was known from Kauai, Oahu, Molokai, one location on West Maui, and the island of Hawaii. Currently, this species is known from Kauai, Oahu, Lanai, Maui, and Hawaii. On Maui, there are four populations containing a total of eight individuals on State (Kanaio NAR) and privately owned lands within the West Maui Mountains Watershed Partnership at Honokawai, Keokea, Haunauhane, and Kanaio (GDSI 2001; HINHP Database 2001; K. Wood, in litt. 1999; Service 1999; 59 FR 56333).

Bonamia menziesii is found on aa lava in mixed open dry forest, or Erythrina sandwicensis (wiliwili) lowland dry forest, and in mesic mixed Metrosideros polymorpha forest and containing one or more of the following associated native plant species: Nestegis sandwicensis, Pleomele auwahiensis, Dodonaea viscosa, Alyxia oliviformis, Diospyros sandwicensis, Osteomeles anthyllidifolia, Alphitonia ponderosa, Santalum ellipticum, Xylosma hawaiiensis, Nothocestrum latifolium (aiea), Pouteria sandwicensis, Achyranthes splendens (NCN), Acacia koaia (koaia), Sida fallax, Reynoldsia sandwicensis (ohe), Sicyos spp. (anunu), Lipochaeta rockii (nehe), Nototrichium spp. (kului), or Myoporum sandwicense at elevations between 184 and 906 m (604 and 2,971 ft) (HINHP Database 2001; K. Wood, in litt. 1999; Service 1999; 59 FR 56333; R. Hobdy et al., pers. comm., 2001).

The primary threats to this species on Maui are habitat degradation and possible predation by feral pigs, goats, axis deer, and cattle; competition with a variety of alien plant species, particularly Lantana camara or Bocconia frutescens; and an alien beetle (Physomerus grossipes) (Service 1999; 59 FR 56333).

Brighamia rockii (pua ala)

Brighamia rockii, a long-lived perennial member of the bellflower family (Campanulaceae), grows as an unbranched stem succulent with a thickened stem that tapers from the base. This species is a member of a unique endemic Hawaiian genus with only one other species, found on Kauai, from which it differs by the color of its petals, its longer calyx (fused sepals) lobes, and its shorter flower stalks (Lammers 1999).

Observations of Brighamia rockii have provided the following information: the reproductive system is protandrous, meaning there is a temporal separation between the production of male and female gametes, in this case a separation of several days; only five percent of the flowers produce pollen; very few fruits are produced per inflorescence; there are 20 to 60 seeds per capsule; and plants in cultivation have flowers at an age of 9 months. This species was observed in flower during August. Little else is known about the life history of Brighamia rockii. Flowering cycles, pollination vectors, seed dispersal agents, longevity, specific environmental requirements, and limiting factors are unknown (HINHP Database 2001; Service 1996b; 57 FR 4632).).

Historically, Brighamia rockii ranged along the northern coast of East Molokai from Kalaupapa to Halawa and may possibly have grown on Lanai and Maui. Currently, it is only extant on Molokai (Lammers 1999; HINHP Database 2001; K. Wood, in litt. 2000; Service 1996b; 57 FR 46325).

On Maui, Brighamia rockii occurs in rock crevices on steep sea cliffs, often within the spray zone, in coastal dry to mesic forests and shrublands between 0 and 195 m (0 and 640 ft). Associated plant species include Psydrax odorata (alahee), Diospyros sandwicensis, Osteomeles anthyllidifolia, and Scaevola sericea (naupaka kahahai) (J. Lau, pers. comm., 2001; Service 1996b; 57 FR 46325).

Nothing is known of the threats to Brighamia rockii on the island of Maui (Service 1996b; 57 FR 46325).

Cenchrus agrimonioides (kamanomano)

Cenchrus agrimonioides is a short-lived perennial member of the grass family (Poaceae) with leaf blades which are flat or folded and have a prominent midrib. There are two varieties, C. agrimonioides var. laysanensis and C. agrimonioides var. agrimonioides. They differ from each other in that var. agrimonioides has smaller burs, shorter stems, and narrower leaves. This species is distinguished from others in the genus by the cylindrical to lance-shaped bur and the arrangement and position of the bristles (O'Connor 1999).

Little is known about the life history of Cenchrus agrimonioides. Flowering cycles, pollination vectors, seed dispersal agents, longevity, specific environmental requirements, and limiting factors are unknown. This species has been observed to produce fruit year round (Service 1999; 61 FR 53108).

Historically, Cenchrus agrimonioides var. agrimonioides was known from the Oahu, Lanai, and the south slope of Haleakala and Ulupalakua on Maui, and an undocumented report from the Island of Hawaii. Historically, C. agrimonioides var laysanensis was known from Laysan, Kure, and Midway, all within the Northwestern Hawaiian Islands National Wildlife Refuge. This variety has not been seen since 1973. Currently, C. agrimonioides var. agrimonioides is known from Oahu and Maui. On Maui, this variety is known from two populations on State owned land (West Maui Forest Reserve within the West Maui Mountains Watershed Partnership and Kanaio NAR) at Ukumehame and Kanaio, East Maui containing an unknown number of individuals (Corn 1980; Service 1999; 61 FR 53108; HINHP Database 2001).

Cenchrus agrimonioides var. agrimonioides is found in mid-elevation dry forest or Pleomele-Diospyros forest associated with Dodonaea viscosa, Osteomeles anthyllidifolia, Alyxia oliviformis, or Santalum ellipticum at elevations between 471 and 1,091 m (1,544 and 3,579 ft) (Service 1999; 61 FR 53108; HINHP Database 2001; R. Hobdy et al., pers. comm., 2001).

The major threats to the only known population of Cenchrus agrimonioides var. agrimonioides on Maui are competition with alien plant species; browsing and habitat degradation by goats and cattle; and a risk of extinction from naturally occurring events and/or reduced reproductive vigor due to the small number of existing individuals (Service 1999; 61 FR 53108).

Centaurium sebaeoides (awiwi)

Centaurium sebaeoides is an annual herb in the gentian family (Gentianaceae), with fleshy leaves and stalkless flowers. This species is distinguished from C. erythraea, which is naturalized in Hawaii, by its fleshy leaves and the unbranched arrangement of the flower cluster (Wagner et al. 1999).

Centaurium sebaeoides has been observed flowering in April. Flowering may be induced by heavy rainfall. Populations are found in dry areas, and plants are more likely to be found following heavy rains. Other than that, little is known about the life history of this plant. Reproductive cycles, longevity, specific environmental regulations, and limiting factors are generally unknown (Service 1999; 56 FR 55770).

Historically and currently, Centaurium sebaeoides is known from Kauai, Oahu, Molokai, Lanai, and Maui. On Maui, there are three populations of this species, with a total of more than 50 individuals, on State and privately owned lands at Kahakuloa Head, Lahoole, and Kupaa Gulch (Wagner et al. 1999; HINHP Database 2001; Service 1999; 56 FR 55770).

This species typically grows in volcanic or clay soils or on cliffs in windward coastal areas at elevations between 0 and 194 m (0 and 636 ft) and containing one or more of the following associated native plant species: Panicum torridum (kakonakona), Lysimachia mauritiana (kolokolo kuahiwi), Schiedea globosa (NCN), Lipochaeta integrifolia (nehe), Bidens mauiensis, Scaevola sericea, or Lycium sandwicense (ohelo kai) (Service 1999; 56 FR 55770; Wagner et al. 1999; HINHP Database 2001; R. Hobdy et al., pers. comm., 2001).

The major threats to this species on Maui are habitat degradation by feral goats and cattle; competition from the alien plant species Leucaena leucocephala; trampling by humans on or near trails; and fire (Service 1999; 56 FR 55770).

Clermontia lindseyana (oha wai)

Clermontia lindseyana, a short-lived perennial and a member of the bellflower family (Campanulaceae), is a small, branched tree that grows 2.5 to 6 m (8.2 to 20 ft) tall. Clermontia lindseyana is either terrestrial or epiphytic, living on the surface of other plants. The upper surface of the oblong-shaped leaves is dark green while the lower is pale green or purplish and hairy. Leaf stalks are 2.5-7 cm (1-2.8 in) long and hairy. Berries are 2.5-4 cm (1-1.6 in) wide, almost round, and orange. Clermontia lindseyana is easily separable from the other species within this genus by several characters: much larger leaves and flowers, similar petals and sepals, and spreading floral lobes. Rock (1962) commented on the leaves being conspicuously hairy beneath (Cuddihy et al. 1983; Lammers 1999).

This species was observed in fruit from June to October, and in flower from February to August. Little else is known about the life history of Clermontia lindseyana. Flowering cycles, pollination vectors, seed dispersal agents, longevity, specific environmental requirements, and limiting factors are unknown (Service 1996a; 59 FR 10305; HINHP Database 2001).

Historically, Clermontia lindseyana was known from Maui and the island of Hawaii. The two Maui populations are located in Waiopai and Wailaulau Gulches in the Kahikinui and Kula Forest Reserves on State and private lands, and are estimated to total about 330 individuals (Service 1996a; 59 FR 10305; Arthur Medeiros, U.S. Geological Survey, Biological Resources Division, in litt. 2000; HINHP Database 2001; GDSI 2001).

On Maui, Clermontia lindseyana grows in Acacia koa mesic forest containing one or more of the following associated native plant species: Cyrtandra spp., native fern species, Ilex anomala (kawau), Coprosma spp., or Myrsine spp. at elevations between 1,142 and 1,870 m (3,747 and 6,134 ft) (HINHP Database 2001; Service 1996a; 59 FR 10305; R. Hobdy et al., pers. comm., 2001).

The threats to Clermontia lindseyana are trampling and grazing by cattle, trampling and browsing by goats, and rooting and trampling by pigs; competition with the alien plant Pennisetum clandestinum; and consumption of berries, flowers, and vegetation by black rats (Service 1996a; 59 FR 10305).

Clermontia oblongifolia ssp. mauiensis (oha wai)

Clermontia oblongifolia ssp. mauiensis, a short-lived perennial and a member of the bellflower family (Campanulaceae), is a shrub or tree with oblong to lance-shaped leaves on leaf stalks (petioles). Clermontia oblongifolia is distinguished from other members of the genus by its calyx and corolla, which are similar in color and are each fused into a curved tube that falls off as the flower ages. The species is also distinguished by the leaf shape, the male floral parts, the shape of the flower buds, and the lengths of the leaf and flower stalks, the flower, and the smooth green basal portion of the flower (the hypanthium). Clermontia oblongifolia ssp. mauiensis is reported from Maui and Lanai, while ssp. oblongifolia is only known from Oahu and ssp. brevipes is only known from Molokai (57 FR 20772; Lammers 1988, 1999).

Clermontia oblongifolia ssp. mauiensis is known to flower from November to July. Little else is known about the life history of Clermontia oblongifolia ssp. mauiensis. Flowering cycles, pollination vectors, seed dispersal agents, longevity, specific environmental requirements, and limiting factors are unknown (Rock 1919; Service 1997; 57 FR 20772).

Historically, Clermontia oblongifolia ssp. mauiensis known from Lanai and from Honomanu Valley on Haleakala, East Maui. Currently, it is known from Lanai and Maui. On West Maui, this taxon is currently known from one population with an unknown number of individuals, at Kaulalewelewe on privately owned land within the West Maui Mountains Watershed Partnership (Service 1997; 57 FR 20772; GDSI 2001; HINHP Database 2001; Lammers 1999).

This plant typically grows on the sides of ridges and ridge tops in Metrosideros polymorpha-dominated montane wet forests at elevations between 414 and 1,764 m (1,358 and 5,787 ft) and containing one or more of the following associated native plant species: Dicranopteris linearis, Ilex anomala, Myrsine spp., Cheirodendron spp. (NCN), Coprosma spp., Clermontia spp., Hedyotis spp., or Melicope spp. (Service 1997; 57 FR 20772; HINHP Database 2001; R. Hobdy et al., pers. comm., 2001).

The only known population of this species on Maui is vulnerable to extinction from a natural or human-caused environmental disturbance due to its small size; depressed reproductive vigor; competition with the alien plan species Tibouchina herbacea; and habitat degradation by feral pigs (Service 1997; 57 FR 20772).

Clermontia peleana (oha wai)

Clermontia peleana, a member of the bellflower family (Campanulaceae) and a short-lived perennial, is an epiphytic shrub or tree that grows on native trees and tree ferns. Two subspecies are recognized: C. peleana ssp. singuliflora (greenish-white petals) and C. peleana ssp. peleana (blackish-purple petals). This species can be separated from other Hawaiian members of the genus by its epiphytic growth, small triangular green calyx lobes, and single-lipped flowers (Lammers 1999).

Clermontia peleana has been observed in flower during June and November, and in fruit during November. Little else is known about the life history of Clermontia peleana. Flowering cycles, pollination vectors, seed dispersal agents, longevity, specific environmental requirements, and limiting factors are unknown (Service 1996a; 59 FR 10305; HINHP Database 2001).

Clermontia peleana ssp. singuliflora was formerly found on the island of Hawaii and on East Maui, but has not been seen in either place since the early 1900s (HINHP Database 2001; Wagner et al. 1999, L. Perry, pers. comm., 2000; Service 1996a; 59 FR 10305).

Nothing is known of the preferred habitat of or native plant species: associated with Clermontia peleana on the island of Maui (Service 1996a; 59 FR 10305; R. Hobdy et al., pers. comm., 2001).

Nothing is known of the threats to Clermontia peleana on the island of Maui (Service 1996a; 59 FR 10305).

Colubrina oppositiofolia (kauila)

Colubrina oppositiofolia, a member of the buckthorn family (Rhamnaceae), is a long-lived tree with extremely hard red wood. This species is readily distinguished from the other species in Hawaii by the opposite leaf position, dull leaf surface, and entire leaf margins (Wagner et al. 1999).

This species has been observed in fruit and flower in September and June, and in flower during December and January. Little else is known about the life history of Colubrina oppositiofolia. Flowering cycles, pollination vectors, seed dispersal agents, longevity, specific environmental requirements, and limiting factors are unknown (HINHP Database 2001; Service 1996a; 59 FR 10305).

Historically and currently, Colubrina oppositiofolia is known from Oahu, Maui, and the Island of Hawaii. Currently on Maui, there are two populations containing one individual each on privately owned land in Honokawai and in Auwahi in the Hana District (Service 1996a; 59 FR 10305; Warshauer 1998; GDSI 2001; HINHP Database 2001).

Habitats of this species are lowland dry and mesic forests dominated by Diospyros sandwicensis, at elevations between 192 and 929 m (630 and 3,047 ft) and containing one or more of the following associated native plant species: Dodonaea viscosa, Canavalia spp. (awikiwiki), Wikstroemia spp., Psydrax odorata, Pleomele auwahiensis, Freycinetia arborea (ieie), Metrosideros polymorpha, Microlepia strigosa, Bidens micrantha spp. micrantha (kookoolau), or Reynoldsia sandwicensis (HINHP Database 2001; Service 1996a; 59 FR 10305; R. Hobdy et al., pers. comm., 2001).

The threats to this species on Maui are habitat destruction by feral pigs; competition with the alien plants Lantana camara, Pennisetum setaceum, or Schinus terebinthifolius; black twig borer; Chinese rose beetles (Adoretus sinicus); fire; and its small population numbers and limited distribution (Service 1996a; 59 FR 10305).

Ctenitis squamigera (pauoa)

Ctenitis squamigera is a short-lived perennial of the spleenwort family (Aspleniaceae). It has a rhizome (horizontal stem) 5 to 10 mm (0.2 to 0.4 in) thick, creeping above the ground and densely covered with scales similar to those on the lower part of the leaf stalk. The leaf stalks are densely clothed with tan-colored scales up to 1.8 cm (0.7 in) long and 1 mm (0.04 in) wide. The sori are tan-colored when mature and are in a single row one-third of the distance from the margin to the midrib of the ultimate segments. The indusium (the membrane enclosing the sori) is whitish before wrinkling, thin, suborbicular with a narrow sinus extending about half way, glabrous except for a circular margin which is ciliolate with simple several-celled glandular and nonglandular hairs arising directly from the margin or from the deltoid base. Ctenitis squamigera can be readily distinguished from other Hawaiian species of Ctenitis by the dense covering of tan-colored scales on its frond (Degener and Degener 1957; Wagner and Wagner 1992).

Little is known about the life history of Ctenitis squamigera. Flowering cycles, pollination vectors, seed dispersal agents, specific environmental requirements, and limiting factors are unknown (Service 1998a; 59 FR 49025).

Historically, Ctenitis squamigera was recorded from the islands of Kauai, Oahu, Molokai, Lanai, Maui, and Hawaii. It is currently found on Oahu, Lanai, Molokai, and Maui. On Maui, there are currently six populations with 41 individuals on State (West Maui Forest Reserve) and privately owned lands at Honolua, Kahana, Honokawai, Wahikuli, Kapilau Ridge, Paupau, and Hukoula within the West Maui Mountains Watershed Partnership (GDSI 2001; H. Oppenheimer, in litt. 2000; K. Wood, pers. comm., 2000; J. Lau, pers. comm., 2000 and in litt. 2000; HINHP Database 2001; Service 1998a; 59 FR 49025).

This species is found in the forest understory, in Metrosideros polymorpha montane wet forest or diverse mesic forest at elevations between 74 and 1,593 m (243 and 5,226 ft) and containing one or more of the following native plant species: Alyxia oliviformis, Freycinetia arborea, Coprosma spp., Pleomele spp. (hala pepe), Sadleria spp., Doodia spp. (okupukupu lauii), Pittosporum spp. (hoawa), Dryopteris spp. (NCN), Bobea spp. (ahakea), Antidesma spp. (hame), Peperomia spp. (ala ala wainui), Dicranopteris linearis, Schiedea pubescens var. pubescens (NCN), Hibiscus kokio ssp. kokio (kokio), Hedyotis terminalis, Pritchardia spp., Remya mauiensis, Canavalia spp., Myrsine spp., Psychotria spp., or Xylosma spp. (Service 1998a; 59 FR 49025; HINHP Database 2001; H. Oppenheimer, pers. comm., 2000; R. Hobdy et al., pers. comm., 2001).

The primary threats to Ctenitis squamigera are habitat degradation by feral pigs, goats, and axis deer; competition with alien plant species, especially Psidium cattleianum and Schinus terebinthifolius; fire; and extinction from naturally occurring events due to the small number of existing populations and individuals (Service 1998a; 59 FR 49025).

Cyanea grimesiana ssp. grimesiana (haha)

Cyanea grimesiana ssp. grimesiana, a short-lived member of the bellflower family (Campanulaceae), is a perennial shrub with pinnately divided leaves. This species is distinguished from others in this endemic Hawaiian genus by the pinnately lobed leaf margins and the width of the leaf blades. This subspecies is distinguished from the other two subspecies by the shape and size of the calyx lobes, which overlap at the base (Lammers 1990).

On Molokai, flowering plants have been reported in July and August. Little else is known about the life history of Cyanea grimesiana ssp. grimesiana. Flowering cycles, pollination vectors, seed dispersal agents, longevity, specific environmental requirements, and limiting factors are unknown (Service 1999; 61 FR 53108).

Historically and currently, Cyanea grimesiana ssp. grimesiana is known from Oahu, Molokai, Lanai, and scattered locations on Maui. Currently on Maui, there are two populations with a total of five individuals on privately owned land in Iao Valley and Kapilau Ridge (Service 1999; 61 FR 53108; GDSI 2001; HINHP Database 2001).

This species is typically found on rocky or steep slopes of stream banks in wet forest gulch bottoms often dominated by Metrosideros polymorpha at elevations between 312 and 1,617 m (1,024 and 5,305 ft) and containing one or more of the following associated native plant species: Antidesma spp., Bobea spp., Myrsine spp., Nestegis sandwicensis, Psychotria spp., or Xylosma spp. (Service 1999; 61 FR 53108; R. Hobdy et al., pers. comm., 2001).

The threats to this species on Maui are habitat degradation and/or destruction caused by axis deer, goats, and pigs; competition with various alien plants; randomly naturally occurring events that could cause extinction due to the small number of existing individuals; trampling by hikers; landslides; rats; and slugs (Service 1999; 61 FR 53108).

Cyanea lobata (haha)

Cyanea lobata, a short-lived member of the bellflower family (Campanulaceae), is a sparingly branched perennial shrub with smooth to somewhat rough stems and oblong, irregularly lobed leaves. This species is distinguished from other species of Cyanea by the size of the flower and the irregularly lobed leaves with petioles (Lammers 1990).

Cyanea lobata is known to flower from August to February, even in individuals as small as 50 cm (20 in) in height. Little else is known about the life history of Cyanea lobata. Flowering cycles, pollination vectors, seed dispersal agents, longevity, specific environmental requirements, and limiting factors are unknown (Rock 1919; Degener 1936; Service 1997; 57 FR 20772).

Historically, Cyanea lobata was known from Lanai and West Maui. It is no longer extant on Lanai. On Maui, there are currently four populations with a total of 12 individuals on privately owned land within the West Maui Mountains Watershed Partnership at Kaulalewelewe, Honolowai, Honokohau, and Waikapu (Lammers 1999; GDSI 2001: HINHP Database 2001; Service 1997; 57 FR 20772).

This species has been seen and collected on steep stream banks in deep shade in wet forest at elevations between 204 and 1,531 m (669 and 5,020 ft) and containing one or more of the following associated native plant species: Touchardia latifolia, Morinda trimera (noni kuahiwi), Metrosideros polymorpha, Clermontia kakeana, Cyrtandra spp., Xylosma spp., Psychotria spp., Antidesma spp., Pipturus albidus, Peperomia spp., Touchardia latifolia, Freycinetia arborea, Pleomele spp., or Athyrium spp. (akolea) (Service 1997; 57 FR 20772; Lammers 1999; HINHP Database 2001; R. Hobdy et al., pers. comm., 2001).

The threats to this species on Maui are habitat degradation by feral pigs; depressed reproductive vigor; and natural or human-caused environmental disturbance that could easily be catastrophic to the only known population due to the small number of remaining individuals and the limited and scattered distribution of the species (Service 1997; 57 FR 20772).

Cyrtandra munroi (ha iwale)

Cyrtandra munroi, a short-lived perennial and member of the African violet family (Gesneriaceae), is a shrub with opposite, elliptic to almost circular leaves which are sparsely to moderately hairy on the upper surface and covered with velvety, rust-colored hairs underneath. This species is distinguished from other species of the genus by the broad opposite leaves, the length of the flower cluster stalks, the size of the flowers, and the amount of hair on various parts of the plant (Wagner et al. 1999).

Some work has been done on the reproductive biology of some species of Cyrtandra, but not on that of C. munroi specifically. The pollinators of these plants have not been identified, although studies indicate that a specific pollinator may be necessary for successful pollination. Seed dispersal may be carried out by birds which eat the fruits. Little else is known about the life history of Cyrtandra munroi. Flowering cycles, pollination vectors, seed dispersal agents, longevity, specific environmental requirements, and limiting factors are unknown (Service 1995b; 57 FR 20772).

Historically and currently, Cyrtandra munroi is known from Lanai and West Maui. Currently on Maui, there are four populations with a total of approximately 1,000 individuals on private and State (West Maui Forest Reserve) owned lands within the West Maui Mountains Watershed Partnership in Kahanaiki Gulch, Pulepule Gulch, Honokahua Gulch, along Makamakaole Stream, and Hahakea (Wagner et al. 1999; GDSI 2001; HINHP Database 2001; Service 1995b; 57 FR 20772).

The habitat of this species is rich, moist to wet, moderately steep talus slopes in lowland wet Metrosideros polymorpha forest at elevations between 390 and 1,108 m (1,280 and 3,635 ft) and containing one or more of the following associated native plant species: Diospyros spp. (lama), Strongylodon ruber (nuku iiwi), Hedyotis acuminata, Clermontia spp., Alyxia oliviformis, Bobea spp., Coprosma spp., Freycinetia arborea, Melicope spp., Myrsine spp., Perrottetia sandwicensis, Pipturus spp. (mamaki), Pittosporum spp., Pouteria sandwicensis, Psychotria spp., Sadleria spp., Scaevola spp. (naupaka), Xylosma spp., Sicyos spp., Zanthoxylum kauense (ae), or other Cyrtandra spp. (Service 1995b; 57 FR 20772; HINHP Database 2001; R. Hobdy et al., pers. comm., 2001).

The threats to this species on Maui are from competition with the alien plant species Psidium cattleianum, Pluchea symphytifolia (sourbush), Melinis minutiflora, Rubus rosifolius, and Paspalum conjugatum; loss of appropriate pollinators; a very small number of extant individuals which can cause depressed reproductive vigor; and the effects of random environmental events that could easily be catastrophic to the only known population on Maui (Service 1995b; 57 FR 20772).

Delissea undulata (NCN)

Delissea undulata, a member of the bellflower family (Campanulaceae) and a short-lived perennial, is an unbranched, palm-like, woody-stemmed tree, with a dense cluster of leaves at the tips of the stems. One or two knob-like structures often occur on the back of the flower tube. Three subspecies, all but the last of which are considered extinct, may be separated on the basis of leaf shape and margin characters: D. undulata var. kauaiensis (leaf blades are oval and flat-margined with sharp teeth) (Kauai), D. undulata var. niihauensis (leaf blades are heart shaped and flat-margined with shallow, rounded teeth) (Niihau) and D. undulata var. undulata (leaf blades are elliptic to lance-shaped and wavy-margined with small, sharply pointed teeth) (Maui, Hawaii). This species is separated from the other closely related members of the genus by its large flowers and berries and broad leaf bases. Delissea undulata ssp. undulata is the only subspecies known from Maui (Lammers 1999).

Delissea undulata var. undulata was observed in fruit and flower during December. Little else is known about the life history of Delissea undulata var. undulata. Flowering cycles, pollination vectors, seed dispersal agents, longevity, specific environmental requirements, and limiting factors are unknown (Service 1996a; 61 FR 53124; HINHP Database 2001).

Delissea undulata var. undulata was known from southwestern Maui, western Hawaii and Niiahu. Currently it occurs Kauai and the island of Hawaii (GDSI 2001; HINHP Database 2001; Linda Pratt, U.S. Geological Survey-Biological Resources Division, et al., pers. comm., 2001; K. Wood pers comm., 2001; Service 1996a; 61 FR 53124).

Nothing is known of the preferred habitat of or native plant species associated with Delissea undulata var. undulata on the island of Maui (Service 1996a; 61 FR 53124; R. Hobdy et al., pers. comm., 2001).

Nothing is known of the threats to Delissea undulata var. undulata on the island of Maui (Service 1996a; 61 FR 53124).

Diellia erecta (Asplenium-leaved diellia)

Diellia erecta, a short-lived perennial fern in the spleenwort family (Aspleniaceae), grows in tufts of three to nine lance-shaped fronds emerging from a rhizome covered with brown to dark gray scales. This species differs from other members of the genus in having brown or dark gray scales usually more than 2 cm (0.8 in) in length, fused or separate sori along both margins, shiny black midribs that have a hardened surface, and veins that do not usually encircle the sori (Smith 1934; Degener and Greenwell 1950; Wagner 1952).

Little is known about the life history of Diellia erecta. Flowering cycles, pollination vectors, seed dispersal agents, longevity, specific environmental requirements, and limiting factors are unknown (Service 1999; 59 FR 56333).

Historically, Diellia erecta was known on Kauai, Oahu, Molokai, Lanai, Maui, and the island of Hawaii. Currently, it is only known from Molokai, Maui, and Hawaii. On Maui, there are five known populations with a total of 35 individual plants on State (West Maui Forest Reserve, Manawainui Plant Sanctuary, and Department of Hawaiian Home Lands) or privately owned lands within the West Maui Mountains Watershed Partnership in Iao Valley, Hanaulaiki, Manawainui Gulch, Near Polipoli in Kamaole and West of Waiopai Gulch (Service 1999; 59 FR 56333; GDSI 2001; HINHP Database 2001).

This species is found in steep slopes or gulch sides in deep shade in Acacia koa-Metrosideros polymorpha low-to mid-elevation mesic forests at elevations between 338 and 1,744 m (1,109 and 5,722 ft) and containing one or more of the following associated native plant species: Styphelia tameiameiae, Melicope spp., Coprosma spp., Dodonaea viscosa, Dryopteris unidentata (NCN), Myrsine spp., Psychotria spp., or Osteomeles anthyllidifolia (HINHP Database 2001; Service 1999; 59 FR 56333; R. Hobdy et al., pers. comm., 2001).

The major threats to Diellia erecta on Maui are habitat degradation by pigs, goats, and cattle; competition with alien plant species, including Blechnum occidentale (NCN); and random naturally occurring events that could cause extinction and/or reduced reproductive vigor due to the small number of existing individuals (Service 1999; 59 FR 56333).

Diplazium molokaiense (NCN)

Diplazium molokaiense, a short-lived perennial member of the woodfern family (Dryopteridaceae), has a short prostrate rhizome and green or straw-colored leaf stalks with thin-textured fronds. This species can be distinguished from other species of Diplazium in the Hawaiian Islands by a combination of characteristics, including venation pattern, the length and arrangement of the sori, frond shape, and the degree of dissection of the frond (Wagner and Wagner 1992).

Little is known about the life history of Diplazium molokaiense. Flowering cycles, pollination vectors, seed dispersal agents, longevity, specific environmental requirements, and limiting factors are unknown (Service 1998a; 59 FR 49025).

Historically, Diplazium molokaiense was found on Kauai, Oahu, Molokai, Lanai, and Ainahou Valley and Maliko Gulch (East Maui) and Wailuku (Iao) Valley and Waikapu (West Maui) on Maui. Currently, this species is only known from Maui. Four populations with a total of 23 individuals are found on State (Kula and Kahikinui Forest Reserves) and privately owned lands within the East Maui Watershed Partnership Near Polipoli in Kamaole, between Kahakapao Gulch and Puu O Kakae, Honomanu, and Waiopai Gulch (Warshauer 1998; GDSI 2001; HINHP Database 2001; Service 1998a; 59 FR 49025).

This species occurs near water courses often in proximity to waterfalls in lowland or montane mesic Metrosideros polymorpha-Acacia koa forest at elevations between 273 and 1,917 m (896 and 6,289 ft) (Service 1998a; 59 FR 49025; HINHP Database 2001; R. Hobdy et al., pers. comm., 2001).

The primary threats on Maui are habitat degradation by feral goats, cattle, pigs, and axis deer; competition with alien plant species; decreased reproductive vigor; and extinction from randomly occurring natural events due to the small number of populations and individuals (Service 1998a; 59 FR 49025; HINHP Database 2001).

Flueggea neowawraea (mehamehame)

Flueggea neowawraea, a long-lived perennial and a member of the spurge family (Euphorbiaceae), is a large tree with white oblong pores covering its scaly, pale brown bark. This species is the only member of the genus found in Hawaii and can be distinguished from other species in the genus by its large size, scaly bark, the shape, size, and color of the leaves, flowers clustered along the branches, and the size and shape of the fruits (Linney 1982; Hayden 1999).

Individual trees of Flueggea neowawraea bear only male or female flowers, and must be cross-pollinated from a different tree to produce viable seed. Little else is known about the life history of Flueggea neowawraea. Flowering cycles, pollination vectors, seed dispersal agents, longevity, specific environmental requirements, and limiting factors are unknown (Hayden 1999; Service 1999; 59 FR 56333).

Historically, Flueggea neowawraea was known from the islands of Molokai, Oahu, Kauai, and Hawaii. Currently, populations are known from Kauai, Oahu, East Maui, and Hawaii. On Maui, there are three populations with a total of five trees on State (Department of Hawaiian Home Lands) and privately owned lands at Auwahi, and above the Lualailua and Alena (GDSI 2001; HINHP Database 2001; Mahealani Kaiaokamelie, (formerly with) Ulupalakua Ranch, in litt. 2000; Service 1999; 59 FR 56333).

Flueggea neowawraea occurs in dry or mesic forest at elevations between 633 and 971 m (2,078 and 3,186 ft) and containing one or more of the following associated native plant species: Alectryon macrococcus, Bobea timonioides (ahakea), Charpentiera spp. (papala), Myrsine lanaiensis (kolea), Tetraplasandra spp. (oheohe), Diplazium sandwichianum, Nesoluma polynesicum (keahi), Diospyros spp., Antidesma pulvinatum, Psydrax odorata, Nestegis sandwicensis, Rauvolfia sandwicensis (hao), Pleomele spp., Pouteria sandwicensis, or Pleomele auwahiensis (HINHP Database 2001; Service 1999; 59 FR 56333; R. Hobdy et al., pers. comm., 2001).

The threats to the populations on Maui are the black twig borer; habitat degradation by feral pigs, goats, deer, and cattle; competition with alien plant species; depressed reproductive vigor; the risk of extinction from a random environmental event due to the small number of individuals; and predation of the fruit by rats (Service 1999; 59 FR 56333; HINHP Database 2001).

Gouania vitifolia (NCN)

Gouania vitifolia, a member of the buckthorn family (Rhamnaceae) and a short-lived perennial, is a climbing shrub with tendriled flowering branches. This species differs from other members of its genus by having flowering branches with a tendril and coarsely crenate (wavy) to serrate-dentate (toothed) leaf margins (Wagner et al. 1999).

In winter and late spring the main vine of Gouania vitifolia produces new young side shoots which soon die. Plants have been observed flowering from late November to January, but flowering probably depends on precipitation. Little else is known about the life history of Gouania vitifolia. Flowering cycles, pollination vectors, seed dispersal agents, longevity, specific environmental requirements, and limiting factors are unknown (Service 1998b; 59 FR 32932).

Historically, Gouania vitifolia was known from West Maui, the Kau District of the island of Hawaii, and Oahu. The species currently occurs on Oahu and on the island of Hawaii (GDSI 2001; Jon Giffin, DOFAW, in litt. 2000; Service 1998b; 59 FR 32932).

On Maui, Gouania vitifolia typically grows on the sides of ridges and gulches in dry to mesic forests at elevations between 155 and 1,326 m (509 and 4,350 ft). Associated plant species include Erythrina sandwicensis, Dodonaea viscosa, Hibiscus arnottianus (kokio keokeo), Pipturus albidus, Urera glabra (opuhe), Chamaesyce spp. (akoko), Psychotria spp., Hedyotis spp., Melicope spp., Nestegis sandwicensis, Bidens spp., Carex meyenii (NCN), and Diospyros sandwicensis (J. Lau, pers. comm., 2001; Service 1998b; 59 FR 32932).

Nothing is known of the threats to Gouania vitifolia on the island of Maui (Service 1998b; 59 FR 32932).

Hedyotis coriacea (kio ele)

Hedyotis coriacea, a member of the coffee family (Rubiaceae), is a small, short-lived perennial shrub with leathery leaves which are generally elliptic to oblong in shape, 3 to 8 cm (1.2 to 3.1 in) long and usually 1.5 to 3 cm (0.6 to 1.2 in) wide. This species is distinguished from others of the genus by its small, triangular calyx lobes, which do not enlarge in fruit, and the combination of capsules which are longer than wide and flower buds which are square in cross section (Wagner et al. 1999).

Little is known about the life history of Hedyotis coriacea. Flowering cycles, pollination vectors, seed dispersal agents, longevity, specific environmental requirements, and limiting factors are unknown (Service 1997; 57 FR 20772).

Historically, Hedyotis coriacea was known from Oahu and the Island of Hawaii. Considered extinct on all islands in recent years, this species was discovered in 1990 by Steve Perlman in the State owned Lihau section of the West Maui NAR and in 1991 on the 1859 lava flow in the Pohakuloa Training Area, Island of Hawaii. Currently, only a single individual is known from West Maui on State owned land withing the West Maui Mountains Watershed Partnership (GDSI 2001; HINHP Database 2001; Service 1997; 57 FR 20772).

Hedyotis coriacea is found on steep, rocky, slopes in dry lowland Dodonaea viscosa dominated shrublands at elevations between 110 and 937 m (361 and 3,074 ft) and containing one or more of the following associated native plant species: Sida fallax, Gouania hillebrandii (NCN), Bidens menziesii (kookoolau), Lipochaeta lavarum, Myoporum sandwicense, or Schiedea menziesii (NCN) (HINHP Database 2001; Service 1997; 57 FR 20772; R. Hobdy et al., pers. comm., 2001).

The single remaining individual of Hedyotis coriacea on Maui is threatened by extinction from a random naturally occurring event (Service 1997; 57 FR 20772).

Hedyotis mannii (pilo)

Hedyotis mannii, a member of the coffee family (Rubiaceae), is a short-lived perennial plant with smooth, usually erect stems 30 to 60 cm (1 to 2 ft) long, which are woody at the base and four-angled or winged. The leaves are opposite, thin in texture, and elliptic to sometimes lance-shaped. Stipules (leaf-like appendages), which are attached to the slightly winged leaf stalks where they join and clasp the stem, are triangular. Flowers are arranged in loose clusters up to 30 cm (1 ft) long at the ends of the stems and are either bisexual or female. This species' growth habit, its quadrangular or winged stems, the shape, size, and texture of its leaves, and its dry capsule, which opens when mature, separate it from other species of the genus (Wagner et al. 1999).

Little is known about the life history of Hedyotis mannii. Flowering cycles, pollination vectors, seed dispersal agents, longevity, specific environmental requirements, and limiting factors are unknown (Service 1996b; 57 FR 46325).

Currently and historically, Hedyotis mannii is known from Lanai, West Maui, and Molokai. On Maui, there is a single population of approximately 20 individuals located on private land in Kauaula Valley (Service 1996b; 57 FR 46325; GDSI 2001; K. Wood in litt. 2000).

The population on Maui is found on basalt cliffs along stream banks in Metrosideros polymorpha-Dicranopteris linearis montane wet forest at elevations between 340 and 1,593 m (1,115 and 5,226 ft) and containing one or more of the following associated native plant species: Machaerina spp. (uki), Carex meyenii, Phyllostegia spp. (NCN), Hedyotis acuminata, Cyrtandra platyphylla (haiwale), Cyanea spp. (haha), Psychotria spp., Pipturus albidus, Boehmeria grandis, Urera glabra, Touchardia latifolia, Cyrtandra grayi (haiwale), Cyrtandra hawaiensis (haiwale), or Isachne distichophylla (ohe) (K. Wood in litt. 2000; Service 1996b; 57 FR 46325; R. Hobdy et al., pers. comm., 2001).

Hedyotis mannii on Maui is threatened by landslides; competition with the alien plant species Rubus rosifolius, Ageratina adenophora, Buddleia asiatica (butterfly bush), Pluchea carolinensis (sourbush), and Clidemia hirta; and the low number of individuals makes it extremely vulnerable to extinction by random naturally occurring events (Service 1996b; 57 FR 46325; K. Wood in litt. 2000).

Hesperomannia arborescens (NCN)

Hesperomannia arborescens, a long-lived perennial of the aster family (Asteraceae), is a small shrubby tree that usually stands 1.5 to 5 m (5 to 16 ft) tall. This member of an endemic Hawaiian genus differs from other Hesperomannia species in having the following combination of characteristics: erect to ascending flower heads, thick flower head stalks, and usually hairless and relatively narrow leaves (Wagner et al. 1999).

This species has been observed in flower from April through June and fruit during March and June. Little else is known about the life history of Hesperomannia arborescens. Flowering cycles, pollination vectors, seed dispersal agents, longevity, specific environmental requirements, and limiting factors are unknown (Service 1998b; 59 FR 14482).

Hesperomannia arborescens was formerly known from Lanai, Molokai, and Oahu. This species is now known from Oahu, Molokai, and Maui. There are currently two populations with a total of six individuals on State (Kahukuloa section West Maui NAR) and privately-owned lands in Honokohau and Lanilii within the West Maui Mountains Watershed Partnership (GDSI 2001; HINHP Database 2001; Service 1998b; 59 FR 14482).

Hesperomannia arborescens is found on slopes or ridges in lowland mesic or wet forest at elevations between 346 and 1,335 m (1,135 and 4,380 ft) and containing one or more of the following associated native plant species: Metrosideros polymorpha, Myrsine sandwicensis (kolea), Isachne distichophylla, Pipturus spp., Antidesma spp., Psychotria spp., Clermontia spp., Cibotium spp., Dicranopteris linearis, Bobea spp., Coprosma spp., Sadleria spp., Melicope spp., Machaerina spp., Cheirodendron spp., or Freycinetia arborea (HINHP Database 2001; Service 1998b; 59 FR 14482; R. Hobdy et al., pers. comm., 2001).

The major threats to Hesperomannia arborescens on Maui are habitat degradation by feral pigs and goats; competition with alien plant species; extinction due to random environmental events or reduced reproductive vigor due to the small number of individuals in one remaining population; and impact by humans (Service 1998b; 59 FR 14482; HINHP Database 2001).

Hesperomannia arbuscula (NCN)

Hesperomannia arbuscula, a long-lived perennial member of the aster family (Asteraceae), is a small shrubby tree, 2 to 3.3 m (7 to 11 ft) tall. This species can be distinguished from other members of the genus by the erect flower heads and the leaves, usually hairy beneath, which are one to two times as long as wide (Wagner et al. 1999).

Hesperomannia arbuscula usually flowers in the spring depending on precipitation. Seeds mature in about 6 weeks and trees live about 10 to 15 years. Little else is known about the life history of Hesperomannia arbuscula. Flowering cycles, pollination vectors, seed dispersal agents, longevity, specific environmental requirements, and limiting factors are unknown (Service 1998b; 56 FR 55770).

Historically and currently, Hesperomannia arbuscula is known from Oahu and West Maui. On Maui, this species is found in two populations with a total of 37 individuals, on privately owned land along the Waihee Stream and Nakalaloa within the West Maui Mountains Watershed Partnership (GDSI 2001; HINHP Database 2001; K. Wood, in litt. 1999; Service 1998b; 56 FR 55770).

Hesperomannia arbuscula typically grows on steep forested slopes and ridges in mesic forest dominated by Metrosideros polymorpha or Diospyros sandwicensis at elevations between 354 and 1,453 m (1,161 and 4,767 ft) and containing one or more of the following associated native plant species: Bidens spp., Tetraplasandra spp., Alyxia oliviformis, Clermontia spp., Cyanea spp., Cheirodendron spp., or Psychotria spp. (HINHP Database 2001; J. Lau, pers. comm., 2001; Service 1998b; 56 FR 55770; R. Hobdy et al., pers. comm., 2001).

The major threats to Hesperomannia arbuscula on Maui are habitat degradation by feral pigs, competition from alien plant species, trampling by humans, and extinction from naturally occurring random events due to the small number of populations (Service 1998b; 56 FR 55770).

Hibiscus brackenridgei (ma o hau hele)

Hibiscus brackenridgei, a short-lived perennial and a member of the mallow family (Malvaceae), is a sprawling to erect shrub or small tree. This species differs from other members of the genus in having the following combination of characteristics: yellow petals, a calyx consisting of triangular lobes with raised veins and a single midrib, bracts attached below the calyx, and thin stipules that fall off, leaving an elliptic scar. Two subspecies are currently recognized, Hibiscus brackenridgei ssp. brackenridgei and H. brackenridgei ssp. mokuleianus (Bates 1990).

Hibiscus brackenridgei is known to flower continuously from early February through late May, and intermittently at other times of year. Intermittent flowering may possibly be tied to day length. Little else is known about the life history of Hibiscus brackenridgei. Flowering cycles, pollination vectors, seed dispersal agents, longevity, specific environmental requirements, and limiting factors are unknown (Service 1999; 59 FR 56333).

Historically, Hibiscus brackenridgei was known from the islands of Kauai, Oahu, Lanai, Maui, Molokai, Kahoolawe and Hawaii. Currently, Hibiscus brackenridgei ssp. mokuleianus is known from Oahu and from undocumented observations on Kauai. Hibiscus brackenridgei ssp. brackenridgei is currently known from Lanai, Maui, and Hawaii. On Maui, Hibiscus brackenridgei ssp. brackenridgei is found in five populations, containing 40 individuals, on State (Lihau section of West Maui NAR and Department of Hawaiian Home Lands) and privately owned lands at Lihau, Kaonohua, Keokea, and near Puu O Kali (Bates 1990; Service 1999; 59 FR 56333; GDSI 2001; HINHP Database 2001).

Hibiscus brackenridgei ssp. brackenridgei occurs in lowland dry forest sometimes with Erythrina sandwicensis as the dominant tree at elevations between 43 and 610 m (141 and 2,001 ft) and containing one or more of the following associated native plant species: Myoporum sandwicense, Chenopodium spp. (aheahea), Achyranthes spp. (NCN), Nototrichium spp., Diospyros spp., Chamaesyce celastroides var. lorifolia, Dodonaea viscosa, Psydrax odorata, Schiedea salicaria (NCN), Lipochaeta lavarum, annual Panicum spp., or Sida fallax (HINHP Database 2001; Service 1999; 59 FR 56333; R. Hobdy et al., pers. comm., 2001).

The primary threats to Hibiscus brackenridgei ssp. brackenridgei on Maui and or Kahoolawe are habitat degradation and possible predation by pigs, goats, cattle, axis deer, and rats; competition with alien plant species; fire; and susceptibility to extinction caused by random environmental events or reduced reproductive vigor due to small population size and a limited number of populations (Service 1999; 59 FR 56333).

Ischaemum byrone (Hilo ischaemum)

Ischaemum byrone, a short-lived member of the grass family (Poaceae), is a perennial species with creeping underground and erect stems. Ischaemum byrone can be distinguished from other Hawaiian grasses by its tough outer flower bracts, dissimilar basic flower units, which are awned (slender bristle) and two-flowered, and a dichotomously- or trichotomously-branching (forking or branching in two's or three's) inflorescence (O'Connor 1999).

Little is known about the life history of Ischaemum byrone. Flowering cycles, pollination vectors, seed dispersal agents, longevity, specific environmental requirements, and limiting factors are unknown (Service 1996a; 59 FR 10305).

Historically, Ischaemum byrone was reported from Oahu, Molokai, East Maui, the Island of Hawaii, and an undocumented site on Kauai. Currently, this species is found on Kauai, Molokai, Hawaii, and Maui. On Maui, it is currently found State and privately owned lands at Keopuka Rock, Paupalu Point, Moku Huki, West of Kalahu Point, between Keakulikuli Point and Pukaulua Point, and Kauiki Head. There is a total of six populations with less than 2,000 individuals (GDSI 2001; HINHP Database 2001; Service 1996a; 59 FR 10305).

Ischaemum byrone grows in close proximity to the ocean, among rocks or on basalt cliffs in windward coastal dry shrubland at elevations between 0 and 190 m (0 and 623 ft) and containing one or more of the following associated native plant species: Bidens spp., Fimbristylis cymosa (mauu akiaki), or Scaevola sericea (HINHP Database 2001; Service 1996a; 59 FR 10305; R. Hobdy et al., pers. comm., 2001).

The most serious threat to Ischaemum byrone is the invasion of alien plant species, particularly Digitaria ciliaris (Henry's crabgrass), Ardisia elliptica (shoebutton ardisia) and Casuarina equisetifolia (ironwood). Additionally, fire may pose a threat in areas infested with alien grasses, provided enough fuel is present. Other potential threats include grazing and browsing by goats and axis deer. Disturbance incurred from these ungulates further promotes the introduction and establishment of alien weeds. Some populations are also threatened by residential development (Service 1996a; 59 FR 10305; HINHP Database 2001).

Isodendrion pyrifolium (wahine noho kula)

Isodendrion pyrifolium, a short-lived perennial of the violet family (Violaceae), is a small, branched shrub with elliptic to lance-shaped leaf blades. The papery-textured blade is moderately hairy beneath (at least on the veins) and stalked. The petiole (stalk) is subtended by oval, hairy stipules. Fragrant, bilaterally symmetrical flowers are solitary. The flower stalk is white-hairy, and subtended by two bracts. Bracts arise at the tip of the main flower stalk. The five sepals are lance-shaped, membranous-edged and fringed with white hairs. Five green-yellow petals are somewhat unequal, and lobed, the upper being the shortest and the lower the longest. The fruit is a three-lobed, oval capsule, which splits to release olive-colored seeds. Isodendrion pyrifolium is distinguished from other species in the genus by its smaller, green-yellow flowers, and hairy stipules and leaf veins (Wagner et al. 1999).

During periods of drought, this species will drop all but the newest leaves. After sufficient rains, the plants produce flowers with seeds ripening 1 to 2 months later. Little else is known about the life history of Isodendrion pyrifolium. Flowering cycles, pollination vectors, seed dispersal agents, longevity, specific environmental requirements, and limiting factors are unknown (Service 1996a; 59 FR 10305).

Isodendrion pyrifolium is known historically from six of the Hawaiian Islands: Niihau, Molokai, Lanai, Oahu, Maui, and the island of Hawaii. Currently, it is only found on the island of Hawaii (Service 1996a; 59 FR 10305; GDSI 2001; HINHP Database 2001; Marie Bruegmann, Service, pers. comm., 2000).

On Maui, Isodendrion pyrifolium occurs in dry shrubland at elevations between 54 and 557 m (177 and 1,827 ft) with one or more of the following associated native plant species: Psydrax odorata, Capparis sandwichiana, Dodonaea viscosa, or Myoporum sandwicense (J. Lau, pers. comm., 2001; Service 1996a; 59 FR 10305; R. Hobdy et al., pers. comm., 2001).

Nothing is known of the threats to Isodendrion pyrifolium on the island of Maui (Service 1996a; 59 FR 10305).

Lysimachia lydgatei (NCN)

Lysimachia lydgatei, a short-lived perennial member of the primrose family (Primulaceae), is a sprawling, branched shrub with stems from 1 to 1.3 m (3 to 4 ft) long. This species is distinguished from others in the genus by the dense hairs on both the upper and lower surfaces of mature leaves (Wagner et al. 1999).

Little is known about the life history of Lysimachia lydgatei. Flowering cycles, pollination vectors, seed dispersal agents, longevity, specific environmental requirements, and limiting factors are unknown (Service 1997; 57 FR 20772).

Lysimachia lydgatei was known historically from a gulch behind Lahaina on West Maui and from Oahu. Currently, it is found only on Maui on State (Lihau section of West Maui NAR and the West Maui Forest Reserve) and privately owned lands Helu, Lihau, east of Halepohaku, and Ulaula within the West Maui Mountains Watershed Partnership. The four Maui populations number approximately 240 individuals (Wagner et al. 1999; HINHP Database 2001; GDSI 2001; Service 1997; 57 FR 20772).

Lysimachia lydgatei typically grows on the sides of steep ridges in Metrosideros polymorpha-Dicranopteris linearis dominated wet to mesic shrubland or Metrosideros-Cheirodendron spp. montane forest at elevations between 829 and 1,432 m (2,720 and 4,698 ft) and containing one or more of the following associated native plant species: Lycopodium spp. (wawae iole), Ilex anomala, Dodonaea viscosa, Vaccinium spp., Eurya sandwicensis (anini), Styphelia tameiameiae, Coprosma spp., Ochrosia spp. (holei), Astelia spp. (painiu), Broussaisia arguta, or mat ferns such as Dicranopteris spp. (HINHP Database 2001; Service 1997; 57 FR 20772; R. Hobdy et al., pers. comm., 2001).

The greatest threats to Lysimachia lydgatei are the threat of extinction from a random environmental event due to the small number of populations; competition with alien plant species such as Rubus argutus; and fire (Service 1997; 57 FR 20772).

Mariscus pennatiformis (NCN)

Mariscus pennatiformis, a short-lived member of the sedge family (Cyperaceae), is a perennial plant with a woody root system covered with brown scales. Mariscus pennatiformis is a subdivided into two subspecies, ssp. bryanii and ssp. pennatiformis, which are distinguished by the length and width of the spikelets; color, length, and width of the glume; and by the shape and length of the achenes. This species differs from other members of the genus by its three-sided, slightly concave, smooth stems; the length and number of spikelets; the leaf width; and the length and diameter of stems (Koyama 1990).

Mariscus pennatiformis is known to flower from November to December after heavy rainfall. Little else is known about the life history of Mariscus pennatiformis. Flowering cycles, pollination vectors, seed dispersal agents, longevity, specific environmental requirements, and limiting factors are unknown (Service 1999; 59 FR 56333).

Historically, Mariscus pennatiformis was known from Kauai, Oahu, East Maui (Keanae Valley, Hana, and Nahiku), the Island of Hawaii, and from Laysan in the Northwestern Hawaiian Islands. Mariscus pennatiformis ssp. bryanii is only known from Laysan Island in the Northwestern Hawaiian Islands National Wildlife Refuge. Mariscus pennatiformis ssp. pennatiformis is currently found only on East Maui. One population of approximately 30 individuals is found on State owned land near the mouth of Hanawi Stream (HINHP Database 2001; GDSI 2001; K. Wood in litt. 1999; Service 1999; 59 FR 56333).

On Maui, Mariscus pennatiformis ssp. pennatiformis is found on cliffs with brown soil and talus within reach of ocean spray in Pandanus tectorius (hala) coastal wet forests at elevations between 0 and 188 m (0 and 615 ft) and containing one or more of the following associated native plant species: Sadleria pallida, Lysimachia mauritiana (kolokolo kuahiwi), Cyperus laevigatus (makaloa), Eragrostis spp. (NCN), or Ipomoea spp. (morning glory) (HINHP Database 2001; K. Wood in litt. 1999; J. Lau, pers. comm., 2001; Service 1999; 59 FR 56333).

Threats to the only known population of Mariscus pennatiformis ssp. pennatiformis on Maui include grazing and habitat destruction caused by ungulates; competition from alien plant species; and extinction from random naturally occurring events (Service 1999; 59 FR 56333).

Melicope knudsenii (alani)

Melicope knudsenii, a long-lived perennial and a member of the rue family (Rutaceae), is a tree with smooth gray bark and yellowish brown to olive-brown hairs on the tips of the branches. The species is distinguished from M. haupuensis and other members of the genus by the distinct carpels present in the fruit, a hairless endocarp, a larger number of flowers per cluster, and the distribution of hairs on the underside of the leaves (Stone et al. 1999).

Little is known about the life history of Melicope knudsenii. Flowering cycles, pollination vectors, seed dispersal agents, longevity, specific environmental requirements, and limiting factors are unknown (Service 1995a; 59 FR 9304).

Historically and currently, Melicope knudsenii was known from the southeast slope of Haleakala on Maui and from Kauai. Currently on Maui, there is one population with three individuals on State (Department of Hawaiian Home Lands) and privately owned lands from Puu Mahoe to east of Puu Ouli (GDSI 2001; HINHP Database 2001; Service 1995a; 59 FR 9304).

Melicope knudsenii grows in Nestegis-Pleomele mixed open dry forests at elevations between 648 and 1,331 m (2,125 and 4,367 ft) and containing one or more of the following associated native plant species: Dodonaea viscosa, Osteomeles anthyllidifolia, Alphitonia ponderosa, Santalum ellipticum, or Xylosma hawaiiensis (HINHP Database 2001; Service 1995a; 59 FR 9304; R. Hobdy et al., pers. comm., 2001).

Threats to Melicope knudsenii include habitat degradation by alien animals, such as goats, cattle, and pigs; reduced reproductive vigor; fire; natural aging and death; and invasive plant species, such as Pennisetum clandestinum (Service 1995a; 59 FR 9304).

Melicope mucronulata (alani)

Melicope mucronulata, a long-lived perennial of the rue family (Rutaceae), is a small tree up to 4 m (13 ft) tall with oval to elliptic-oval leaves, 8 to 16 cm (3 to 6.5 in) long and 3.5 to 6.5 cm (1.5 to 2.5 in) wide. This species is distinguished from others in the genus by the growth habit, the number of flowers in each flower cluster, the size and shape of the fruit, and the degree of hairiness of the leaves and fruit walls (Stone et al. 1999).

Little is known about the life history of Melicope mucronulata. Flowering cycles, pollination vectors, seed dispersal agents, longevity, specific environmental requirements, and limiting factors are unknown (Service 1997; 57 FR 20772).

First discovered in 1920 in Kanaio, East Maui, Melicope mucronulata was not relocated until 1983 when it was reported from privately owned land with an unknown number of plants in Auwahi. This species was also found 2 years later on East Molokai (Stone et al. 1999; GDSI 2001; HINHP Database 2001; Service 1997; 57 FR 20772).

Melicope mucronulata typically grows on gentle south-facing slopes in lowland dry to mesic forest at elevations between 625 and 1,331 m (2,050 and 4,367 ft) and containing one or more of the following associated species: Pleomele auwahiensis, Dodonaea viscosa, Nestegis sandwicensis, Pouteria sandwicensis, Antidesma pulvinatum, Streblus pendulinus, and Melicope hawaiensis (alani) (Service 1997; 57 FR 20772; J. Lau, pers. comm., 2001).

The major threat to the continued existence of the only known population of Melicope mucronulata on Maui is the risk of extinction from a random environmental event. Habitat degradation by goats and pigs, predation by goats, and competition with alien plant species, particularly Melinis minutiflora, also pose immediate threats to this species (Service 1997; 57 FR 20772).

Neraudia sericea (NCN)

Neraudia sericea, a short-lived perennial member of the nettle family (Urticaceae), is a 3 to 5 m (10 to 16 ft) tall shrub with densely hairy branches. The elliptic or oval leaves have smooth margins or slightly toothed margins on young leaves. The upper leaf surface is moderately hairy and the lower leaf surface is densely covered with irregularly curved, silky gray to white hairs along the veins. The male flowers may be stalkless or have short stalks. The female flowers are stalkless and have a densely hairy calyx that is either toothed, collar-like, or divided into narrow unequal segments. The fruits are achenes with the apical section separated from the basal portion by a deep constriction. Seeds are oval with a constriction across the upper half. Neraudia sericea differs from the other four closely related species of this endemic Hawaiian genus by the density, length, color, and posture of the hairs on the lower leaf surface and by its mostly entire leaf margins (Wagner et al. 1999).

Little is known about the life history of Neraudia sericea. Flowering cycles, pollination vectors, seed dispersal agents, longevity, specific environmental requirements, and limiting factors are unknown (Service 1999; 59 FR 56333).

Neraudia sericea was known historically from Molokai, Lanai, Olowalu Valley on West Maui, the southern slopes of Haleakala on East Maui, and from Kahoolawe. Currently, this species is known from Molokai and Maui. On Maui, three populations totaling more than five individuals are found on State (Department of Hawaiian Home Lands) and privately owned lands in Pohakea Gulch (West Maui) and in Manawainui and Kamole Gulches (East Maui) (GDSI 2001; HINHP Database 2001; M. Kaiaokamelie, in litt. 2000; Service 1999; 59 FR 56333).

Neraudia sericea generally occurs in dry to mesic Metrosideros polymorpha-Dodonaea viscosa-Styphelia tameiameiae shrubland or forest or Acacia koa forest at elevations between 198 and 1,658 m (650 and 5,439 ft) and containing one or more of the following associated native plant species: Urera glabra, Cyrtandra oxybapha (haiwale), Cyrtandra spp., Sida fallax, Diospyros spp., Bobea spp., Coprosma spp., or Hedyotis spp. (Wagner et al. 1999; HINHP Database 2001; M. Bruegmann, in litt. 1995; Service 1999; 59 FR 56333; R. Hobdy et al., pers. comm., 2001).

The primary threats to Neraudia sericea on Maui are habitat degradation by feral pigs and goats; competition with the alien plant species, Melinus minutiflora, Pennisetum clandestinum, Holcus lanatus, Cymbopogon refractus (barbwire grass), and alien Eragrostis spp. (love grass); and a risk of extinction due to random environmental events (Service 1999; 59 FR 56333).

Nototrichium humile (kulu i)

Nototrichium humile, a member of the amaranth family (Amaranthaceae), is an upright to trailing shrub with branched stems to 1.5 m (5 ft) long. Stems and young leaves are covered with short hairs. Leaves are oppositely arranged, oval to oblong in outline, 3 to 9 cm (1.2 to 3.5 in) long, and 2 to 5 cm (0.8 to 2.0 in) wide. Stalkless flowers are arranged in a spike at the ends of the stem. Membranous bracts grow below each flower. Two of the bracts and the sepals fall off with the mature fruit. This species is distinguished from the only other species in the genus by its inflorescence, a slender spike 4 mm (0.2 in) in diameter or less, which is covered with short hairs (Wagner et al. 1999).

Nototrichium humile has been observed flowering after heavy rain, but flowering is generally heaviest in the spring and summer. Fruits mature a few weeks after flowering. In cultivation, this species is known to live for more than a decade. Little else is known about the life history of Nototrichium humile. Flowering cycles, pollination vectors, seed dispersal agents, longevity, specific environmental requirements, and limiting factors are unknown (Service 1998b; 56 FR 55770).

Historically, Nototrichium humile was known from Oahu and Maui. It currently occurs only on Oahu. On Maui, Nototrichium humile was last seen in the wild by Robert Hobdy in 1979 in Pohakea Gulch (HINHP Database 2001; Service 1998b; 56 FR 55770).

On Maui, Nototrichium humile occurred on old cinder cones in dry shrubland at elevations between 338 and 734 m (1,110 and 2,407 ft) with one or more of the following associated native plant species: Dodonaea viscosa, Erythrina sandwicensis, Heteropogon contortus, and Nototrichium sandwicense (J. Lau, pers. comm., 2001; Service 1998b; 56 FR 55770).

Nothing is known of the threats to Nototrichium humile on the island of Maui (Service 1998b; 56 FR 55770).

Peucedanum sandwicense (makou)

Peucedanum sandwicense, a member of the parsley family (Apiaceae), is a short-lived, parsley-scented, sprawling herb. Hollow stems arise from a short, vertical, perennial stem with several fleshy roots. This species is the only member of the genus in the Hawaiian Islands (Constance and Affolter 1999).

Little is known about the life history of Peucedanum sandwicense. Flowering cycles, pollination vectors, seed dispersal agents, longevity, specific environmental requirements, and limiting factors are unknown (Service 1995a; 59 FR 9304).

Historically and currently, Peucedanum sandwicense is known from Molokai, Maui, and Kauai. Discoveries in 1990 extended the known distribution of this species to the island of Oahu. Currently, on Maui there are three populations on State and privately owned lands at Keopuka Islet, near Pauwalu Point, and east of Hanawi Stream, with a total of 32 individuals (Service 1995a; 59 FR 9304; GDSI 2001; HINHP Database 2001).

This species grows sparsely vegetated steep to vertical cliff habitats with little soil in mesic or coastal communities at elevations between 0 and 1,131 m (0 and 3,711 ft) and containing one or more of the following associated native species: Artemisia australis, Eragrostis spp., Metrosideros polymorpha, Carex spp., Bidens spp., Diospyros sandwicensis, Chamaesyce spp., Peperomia spp., Pandanus tectorius, Scaevola sericea, Lysimachia mauritiana, Schiedea globosa (NCN), or Hedyotis littoralis (NCN) (Constance and Affolter 1999; Service 1995a; HINHP Database 2001; 59 FR 9304; R. Hobdy et al., pers. comm., 2001; J. Lau pers. comm., 2001).

Competition with introduced plants is the major threat to Peucedanum sandwicense on Keopuka Rock. Additionally, small population sizes also make the species subject to extinction due to random environmental events (Service 1995a; 59 FR 9304).

Phlegmariurus mannii (wawae iole)

Phlegmariurus mannii (=Huperzia mannii, = Lycopodium mannii), a short-lived member of the clubmoss family (Lycopodiaceae), is a hanging epiphyte (growing on the outside of other plants instead of being rooted in the ground) with clustered, delicate red stems and forked reproductive spikes. These traits distinguish it from others in the genus in Hawaii (Degener and Degener 1959; St. John 1981; Wagner and Wagner 1992).

Little is known about the life history of Phlegmariurus mannii. Flowering cycles, pollination vectors, seed dispersal agents, longevity, specific environmental requirements, and limiting factors are unknown (Service 1997; 57 FR 20772).

Historically, Phlegmariurus mannii was known from Kauai, West Maui (Haelaau and Hanaula), and the Island of Hawaii. Currently, this species is found on Maui and Hawaii. On Maui, this species is now known on State (Lihau section West Maui NAR, Makawao Forest Reserve, Department of Hawaiian Home Lands, and Kipahulu Forest Reserve), Federal and privately owned lands in Honokohau, Lihau, Puu Okakae, Manawainui, Healani Stream, Puu Ahulili, and Kaapahu within the East Maui Watershed Partnership and the West Maui Mountains Watershed Partnership. There are seven populations with a total of 22 individuals on Maui (GDSI 2001; HINHP Database 2001; Service 1997; 57 FR 20772).

On Maui, Phlegmariurus mannii typically grows as an epiphyte on Metrosideros polymorpha, Dodonaea viscosa and Acacia koa trees in moist protected gulches or mossy tussocks in mesic to wet montane Metrosideros polymorpha-Acacia koa forests or wet montane Metrosideros polymorpha-Acacia koa forests at elevations between 446 and 1,688 m (1,464 and 5,539 ft) and containing one or more of the following associated native plant species: Thelypteris spp. (NCN), Athyrium spp., Styphelia tameiameiae, Cyanea spp., Machaerina spp., Cyrtandra spp., Sadleria spp., Vaccinium spp., Astelia menziesii (kaluaha), Coprosma spp., Cheirodendron trigynum, or Ilex anomala (Service 1997; 57 FR 20772; R. Hobdy et al., pers. comm., 2001).

The primary reasons for the endangerment of this species are habitat alteration by goats, cattle and pigs, and the impacts of alien plant species. Additionally, small population sizes also make the species subject to extinction due to random environmental events (Service 1997; 57 FR 20772).

Phyllostegia mannii (NCN)

Phyllostegia mannii, a nonaromatic member of the mint family (Lamiaceae), is a climbing vine with many-branched, four-sided, hairy stems. The opposite, hairy leaves, which are shaped like narrow triangles or narrow triangular ovals, have coarsely toothed margins. Clusters of four to six white flowers are arranged in each of several false whorls along an unbranched flowering stem. The fruits are fleshy, dark-green to black nutlets (dry seeds with a hard outer covering). This species is distinguished from others in the genus by its hairiness; its thin, narrow leaves, which are not pinnately divided; and the usually six flowers per false whorl in a terminal inflorescence (Wagner et al. 1999).

This species was observed with fruit in July. Little else is known about the life history of Phyllostegia mannii. Flowering cycles, pollination vectors, seed dispersal agents, longevity, specific environmental requirements, and limiting factors are unknown (Service 1996b; 57 FR 46325).

Historically, Phyllostegia mannii was found from Hanalilolilo to Ohialele on East Molokai and at Ukulele on East Maui. It has not been seen on Maui for over 70 years. This species is now known only from Molokai (HINHP Database 2001; Service 1996b; 57 FR 46325).

On Maui, Phyllostegia mannii occurs in gentle slopes and the steep sides of gulches in mesic to wet forest dominated by Acacia koa and/or Metrosideros polymorpha at elevations between 1,069 and 1,615 m (3,506 and 5,297 ft) with one or more of the following associated native plant species: Cheirodendron trigynum, Melicope spp., Alyxia oliviformia, Diplazium sandwichianum, Myrsine lessertiana, or Dicranopteris linearis (J. Lau, pers. comm., 2001; Service 1996b; 57 FR 46325).

Nothing is known of the threats to Phyllostegia mannii on the island of Maui (Service 1996b; 57 FR 46325).

Phyllostegia mollis (NCN)

Phyllostegia mollis, a short-lived member of the mint family (Lamiaceae), grows as a nearly erect, densely hairy, nonaromatic, perennial herb. Leaves are oval in outline with rounded teeth. Flowers, usually in groups of six, are spaced along a stem; there are two shorter flowering stems directly below the main stem. The flowers have fused sepals and white petals fused into a tube and flaring into a smaller upper and a larger lower lip. Fruits are fleshy, dark green to black nutlets. A suite of technical characteristics concerning the kind and amount of hair, the number of flowers in a cluster, and details of the various plant parts separate this species from other members of the genus (Wagner et al. 1990).

Individual Phyllostegia mollis plants live for approximately 5 years. The species is known to flower in late winter and spring. Little else is known about the life history of Phyllostegia mollis. Flowering cycles, pollination vectors, seed dispersal agents, longevity, specific environmental requirements, and limiting factors are unknown (Service 1998b; 56 FR 55770).

Historically, Phyllostegia mollis was known from Oahu, Molokai, and East Maui. Currently, this species is only known from Oahu and Maui. On East Maui, a single population of an unknown number of individuals remains on State (on the border of Kahikinui Forest Reserve and Department of Hawaiian Home Lands) land in Waiopai Gulch (Wagner et al. 1999; GDSI 2001; HINHP Database 2001; Service 1998b; 56 FR 55770).

Phyllostegia mollis typically grows on steep slopes and in gulches in mesic forests dominated by Metrosideros polymorpha and/or Acacia koa at elevations between 1,144 and 1,970 m (3,754 and 6,463 ft). Associated native plant species include Cheirodendron trigynum, Melicope spp., Diplazium sandwichianum, Myrsine lessertiana, and Alyxia oliviformis (J. Lau, pers. comm., 2001; Service 1998b; 56 FR 55770).

The major threats to Phyllostegia mollis are competition from the alien plant species Rubus spp. and Schinus terebinthifolius; and a risk of extinction of the only known population of this species on Maui due to random environmental events (Service 1998b; 56 FR 55770).

Phyllostegia parviflora (NCN)

Phyllostegia parviflora, a member of the mint family (Lamiaceae), is a perennial herb with forward-bending hairs on the stems and straight or slightly curved hairs on the flowering stalk. The species is distinguished from others of the genus by the egg-shaped to broadly egg-shaped leaves, leaf stalks usually 6 to 13.5 cm (2.4 to 5.3 in) long, and the lower corolla lip 6 to 9 mm (0.24 to 0.36 in) long. Phyllostegia parviflora var. glabriuscula has fewer glandular hairs in the inflorescence, less pubescent leaves, and usually unbranched inflorescences compared with Phyllostegia parviflora var. parviflora. Phyllostegia parviflora var. lydgatei has shorter leaf stalks, spreading hairs on the leaf stalks, and fewer gland-tipped hairs in the inflorescence. At the time of listing of this species only two varieties were recognized, glabriuscula and parviflora. Subsequent to the final rule listing this species in 1996, we became aware of Wagner's (1999) taxonomic treatment of this group in which P. parviflora var. lydgatei was changed to variety status and recognized as distinct from P. parviflora var. parviflora. Wagner's (1999) treatment is cited in the supplement in the revised edition of the Manual of the Flowering Plants of Hawaii as the basis for recognizing P. parviflora var. lydgatei. This name change will be addressed in a future Federal Register notice (Wagner et al. 1999).

Historically Phyllostegia parviflora was known from three islands, Oahu, Hawaii, and Maui. This species is now known only from two populations on Oahu (HINHP Database 2001; GDSI 2001; Service 1999; 61 FR 53108).

Nothing is known of the preferred habitat of or native plant species associated with Phyllostegia parviflora on the island of Maui (Service 1999; 61 FR 53108; R. Hobdy et al., pers. comm., 2001).

Nothing is known of the threats to Phyllostegia parviflora on the island of Maui (Service 1999; 61 FR 53108).

Plantago princeps (laukahi kuahiwi)

Plantago princeps, a short-lived member of the plantain family (Plantaginaceae), is a small shrub or robust perennial herb. This species differs from other native members of the genus in Hawaii by its large branched stems, flowers at nearly right angles to the axis of the flower cluster, and fruits that break open at a point two-thirds from the base. The four varieties, anomala, laxiflora, longibracteata, and princeps, are distinguished by the branching and pubescence of the stems; the size, pubescence, and venation of the leaves; the density of the inflorescence; and the orientation of the flowers (Wagner et al. 1999).

Individuals have been observed in fruit from April through September. Little else is known about the life history of Plantago princeps. Flowering cycles, pollination vectors, seed dispersal agents, longevity, specific environmental requirements, and limiting factors are unknown (Service 1999; 59 FR 56333).

Plantago princeps is historically and currently found on Kauai, Oahu, Molokai, and Maui. It is no longer extant on the island of Hawaii. Plantago princeps var. anomala is currently known from Kauai and Oahu; var. longibracteata is known from Kauai and Oahu; var. princeps is known from Oahu; and var. laxiflora is known from Molokai and Maui. On Maui, there are five populations of Plantago princeps var. laxiflora, with a total of 118 individuals, on Federal (Haleakala National Park) and privately owned lands within the East Maui Watershed Partnership. This variety is found at Kahoolewa Ridge, Nakalaloa Stream, Iao Valley near the Needle, Hanakauhi, the west side of Kaupo Gap, and Palikea Stream (Service 1999; 59 FR 56333; GDSI 2001; HINHP Database 2001).

On Maui, Plantago princeps var. laxiflora is typically found on basalt cliffs that are windblown with little vegetation in Metrosideros polymorpha lowland wet forest; or Acacia koa-Metrosideros polymorpha montane wet forest; or Metrosideros polymorpha montane wet shrubland at elevations between 281 and 2,539 m (922 and 8,329 ft) and containing one or more of the following associated native plant species: Eragrostis variabilis, Hedyotis formosa, Dubautia plantaginea spp. humilis, Pipturus albidus, Perrottetia sandwicensis, Touchardia latifolia, Dryopteris spp., various other ferns, Cyanea spp, and Melicope ovalis, Bidens micrantha ssp. kalealaha, Chamaesyce celastroides, Styphelia tameiameiae or Dubautia menziesii (Service 1999; 59 FR 56333; HINHP Database 2001; R. Hobdy et al., pers. comm., 2001).

The primary threats to Plantago princeps var. laxiflora on Maui are herbivory and habitat degradation by feral pigs and goats and competition with various alien plant species (Service 1999; 59 FR 56333).

Platanthera holochila (NCN)

Platanthera holochila, a short-lived, perennial member of the orchid family (Orchidaceae), is an erect, deciduous herb. The stems arise from underground tubers, the pale green leaves are lance to egg-shaped and the greenish-yellow flowers occur in open spikes. This is the only species of this genus that occurs in the Hawaiian Islands (Wagner et al. 1999).

Little is known about the life history of Platanthera holochila. Flowering cycles, pollination vectors, seed dispersal agents, longevity, specific environmental requirements, and limiting factors are unknown (Service 1999; 61 FR 53108).

Historically, Platanthera holochila was known from Maui, Oahu, Molokai, and Kauai. Currently, Platanthera holochila is extant on Kauai, Molokai, and Maui. On Maui, four populations with 22 individuals are reported on State (West Maui Forest Reserve) and privately owned lands within the West Maui Mountains Watershed Partnership and the East Maui Watershed Partnership from Kapaloa Stream, Waihee River, the border of Lahaina and Wailuku Districts and Koolau Gap (GDSI 2001; HINHP Database 2001; Service 1999; 61 FR 53108).

Platanthera holochila is found in Metrosideros polymorpha-Dicranopteris linearis montane wet forest or M. polymorpha mixed montane bog or mesic scrubby M. polymorpha forest at elevations between 536 and 2,314 m (1,759 and 7,592 ft) containing one or more of the following associated native plant species: Cibotium spp., Coprosma ernodeoides (kukae nene), Oreobolus furcatus, Styphelia tameiameiae, Wikstroemia spp., Scaevola chamissoniana (naupaka kuahiwi), Sadleria spp., Deschampsia nubigena, Metrosideros polymorpha, Luzula hawaiiensis (wood rush), Sisyrinchium acre (mauu laili), Broussaisia arguta, Clermontia spp., Lycopodium cernuum (wawae iole), Dubautia scabra (naenae), Polypodium pellucidum (ae), Morelotia gahniiformis (NCN), or Vaccinium reticulatum (Service 1999; 61 FR 53108; R. Hobdy et al., pers. comm., 2001).

The primary threats to Platanthera holochila on Maui are habitat degradation and/or destruction by feral pigs; landslides; competition with alien plant species; and a risk of extinction on Maui from naturally occurring events and/or reduced reproductive vigor due to the small number of remaining populations and individuals. Predation by slugs may also be a potential threat to this species (Service 1999; 61 FR 53108).

Pteris lidgatei (NCN)

Pteris lidgatei, a short-lived member of the maidenhair fern family (Adiantaceae), is a coarse perennial herb, 0.5 to 1 m (1.6 to 3.3 ft) tall. It has a horizontal rhizome 1.5 cm (0.6 in) thick and at least 10 cm (3.9 in) long when mature. The fronds, including the leaf stalks, are 60 to 95 cm (24 to 37 in) long and 20 to 45 cm (8 to 18 in) wide. The leafy portion of the frond is oblong-deltoid to broadly ovate-deltoid, thick, brittle, and dark gray-green. The sori are apparently marginal in position, either fused into long linear sori, or more typically separated into distinct shorter sori, with intermediate conditions being common. Pteris lidgatei can be distinguished from other species of Pteris in the Hawaiian Islands by the texture of its fronds and the tendency of the sori along the leaf margins to be broken into short segments instead of being fused into continuous marginal sori (Wagner 1949; Wagner and Wagner 1992).

Little is known about the life history of Pteris lidgatei. Flowering cycles, pollination vectors, seed dispersal agents, specific environmental requirements, and limiting factors are unknown (Service 1998a; 59 FR 49025).

Historically, Pteris lidgatei was found on Oahu, Molokai, and Waihee on West Maui. Currently, this species is known from Oahu and Maui. Two populations with approximately 20 individuals occur on Maui on State (Kahakuloa section of the West Maui NAR) and privately owned lands within the West Maui Mountains Watershed Partnership north of Eke Crater and at Kauala (GDSI 2001; HINHP Database 2001; Service 1998a; 59 FR 49025).

This species grows on steep stream banks in wet Metrosideros polymorpha-Dicranopteris linearis montane forest at elevations between 201 and 1,717 m (659 and 5,633 ft) and containing one or more of the following native plant species: Cibotium chamissoi (hapuu), Dicranopteris linearis, Elaphoglossum crassifolium (ekaha), Sadleria squarrosa (amau), Thelypteris cyatheoides, or Sphenomeris chusana (palaa) (HINHP Database 2001; Service 1998a; 59 FR 49025; R. Hobdy et al., pers. comm., 2001).

The primary threats to Pteris lidgatei on Maui are the alien plants Clidemia hirta, Tibouchina herbacea, and Ageratina adenophora; habitat destruction by feral pigs; and a risk of extinction due to random environmental events (Service 1998a; 59 FR 49025).

Sanicula purpurea (NCN)

Sanicula purpurea, a short-lived member of the parsley family (Apiaceae), is a stout perennial herb, 8 to 36 cm (3 to 14 in) tall, arising from a massive perennial stem. The stems are tufted and branched, with the lower portion of the stem lying close to the ground, while the upper portion rises. The basal leaves are numerous and leathery in texture and are kidney-shaped or circular to egg-heart-shaped, with three to seven lobes. The leaf lobes are circular to inversely egg-shaped. The leaf veins are impressed on the upper surface and prominent on the lower surface. The leaf margins bear short, sharp teeth. The basal leaf stalks are slender and abruptly sheathed at the base. The leaves are palmately three-to five-lobed. The small purple, or cream-colored with a purple tinge, flowers occur in branched terminal clusters, each of which contains six to 10 flowers. Each flower cluster contains one to three perfect flowers and five to seven staminate flowers. Below the inflorescence is a series of about 10 oblong or inversely lance-shaped bracts. The nearly spherical fruits are covered with prickles. This species is distinguished from others in the genus by the number of flowers per cluster and by the color of the petals (Constance and Affolter 1999).

Little is known about the life history of Sanicula purpurea. Flowering cycles, pollination vectors, seed dispersal agents, longevity, specific environmental requirements, and limiting factors are unknown (Service 1999; 61 FR 53108).

Historically and currently, Sanicula purpurea is known from Oahu and West Maui. On Maui, five populations totaling between 200 individuals are currently known on State (Kahakuloa and Honokawai sections of the West Maui NAR) and private lands within the West Maui Mountains Watershed Partnership north of Eke Crater and east of Kahakuloa Stream, south of Eke Crater, near Violet Lake, the ridge west of Puu Kukui, and Kahoolewa Ridge east of Puu Kukui (GSDI 2001; HINHP Database 2001; Service 1999; 61 FR 53108).

This species typically grows in open Metrosideros polymorpha mixed montane bogs at elevations between 1,195 and 1,764 m (3,921 and 5,787 ft) containing one or more of the following associated plant species Styphelia tameiameiae, Gahnia beecheyi (NCN), Geranium hillebrandii (nohoanu), Myrsine vaccinioides (kolea), Viola maviensis, Argyroxiphium caliginis (eke silversword), Plantago pachyphylla (laukahi kuahiwi), Lycopodium spp., Argyroxiphium grayanum (green sword), Lagenifera maviensis, Machaerina spp., or Oreobolus furcatus (HINHP Database 2001; Service 1999; 61 FR 53108; R. Hobdy et al., pers. comm., 2001).

Habitat degradation by feral pigs; a risk of extinction due to random environmental events, and/or reduced reproductive vigor due to the small number of existing populations; and slugs are the major threats to Sanicula purpurea (Service 1999; 61 FR 53108; HINHP Database 2001).

Schiedea hookeri (NCN)

Schiedea hookeri, a member of the pink family (Caryophyllaceae), is a sprawling or clumped perennial herb. The stems, 0.3 to 0.5 m (1 to 1.6 ft) long, curve slightly upward or lie close to the ground and often produce matted clumps. The thin, opposite leaves are narrowly lance-shaped to narrowly elliptic. The petalless, perfect flowers are borne in open branched inflorescences, which are hairy, somewhat sticky, and 5 to 22 cm (2 to 9 in) long. The lance-shaped sepals are green to purple and 3 to 4.5 mm (1.2 to 1.8 in) long. The fruit is a capsule about 3 mm (0.1 in) long. This species is distinguished from others in this endemic Hawaiian genus by its open, hairy, and sometimes sticky inflorescence, and by the size of the capsules (Wagner et al. 1999).

Based on field and greenhouse observations, it is hermaphroditic, which means each individual has both male and female reproductive organs. Mature fruits have been observed in June and August. Schiedea hookeri appears to be an outcrossing species. Under greenhouse conditions, flowers do not set fruit unless pollinated. In the field, the species is presumed to be pollinated by insects, although none have been observed (a related species, Schiedea lydgatei on Molokai, is apparently pollinated by native, night-flying moths). A series of self-pollinations, intra-populational crosses, and crosses among populations have demonstrated that Schiedea hookeri experiences moderately strong inbreeding depression. These results indicate that reductions in population size could result in expression of inbreeding depression among progeny, with deleterious consequences for the long-term persistence of this species. Individuals of Schiedea hookeri appear to be long-lived, but there is no evidence of reproduction from seed under field conditions. Seedlings of Schiedea occurring in mesic or wet sites are apparently consumed by introduced slugs and snails, which have been observed feeding on Schiedea membranacea, another mesic forest species that occurs on Kauai. In contrast to mesic-forest species, Schiedea occurring in dry areas produce abundant seedlings following winter rains, presumably because the drier sites have fewer alien consumers. Schiedea hookeri differs considerably through its range in potential for clonal growth. Plants from Kaluakauila Gulch are upright and show little potential for clonal spread. In contrast, clonal growth has been detected for individuals at Kaluaa Gulch, where the growth form is decumbent and plants apparently root at the nodes. Little else is known about the life history of Schiedea hookeri. Flowering cycles, pollination vectors, seed dispersal agents, longevity, specific environmental requirements, and limiting factors are unknown (Weller and Sakai, unpublished data; Service 1999; HINHP Database 2001; 61 FR 53108).

Historically, Schiedea hookeri was known from the Waianae Mountains of Oahu and from a single fragmentary collection from Haleakala on Maui that may represent Schiedea menziesii rather than Schiedea hookeri. Currently, this species is known only from Oahu (Service 1999; 61 FR 53108; HINHP Database 2001; EDA Database 2001).

Nothing is known of the preferred habitat of or native plant species associated with Schiedea hookeri on the island of Maui (Service 1999; 61 FR 53108; R. Hobdy et al., pers. comm., 2001).

Nothing is known of the threats to Schiedea hookeri on the island of Maui (Service 1999; 61 FR 53108).

Schiedea nuttallii (NCN)

Schiedea nuttallii, a member of the pink family (Caryophyllaceae), is a generally hairless, erect subshrub. This long-lived perennial species is distinguished from others in this endemic Hawaiian genus by its habit, length of the stem internodes, length of the inflorescence, number of flowers per inflorescence, and smaller leaves, flowers, and seeds (Wagner et al. 1999).

Little is known about the life history of Schiedea nuttallii. Based on field and greenhouse observations, it is hermaphroditic. Plants on Oahu have been under observation for 10 years, and they appear to be long-lived. Schiedea nuttallii appears to be an outcrossing species. Under greenhouse conditions, plants fail to set seed unless hand pollinated, suggesting that this species requires insects for pollination. Fruits and flowers are abundant in the wet season but can be found throughout the year. Little else is known about the life history of Schiedea nuttallii. Flowering cycles, pollination vectors, seed dispersal agents, longevity, specific environmental requirements, and limiting factors are unknown (Service 1999; 61 FR 53108).

Historically, Schiedea nuttallii was known from Kauai and Oahu and was reported from Maui. Currently, it is found on Kauai, Oahu, and Molokai (Service 1999; 61 FR 53108; HINHP Database 2001; GDSI 2001).

Nothing is known of the preferred habitat of or native plant species associated with Schiedea nuttallii on the island of Maui (Service 1999; 61 FR 53108; R. Hobdy et al., pers. comm., 2001).

Nothing is known of the threats to Schiedea nuttallii on the island of Maui (Service 1999; 61 FR 53108).

Sesbania tomentosa (ohai)

Sesbania tomentosa, a short-lived member of the legume family (Fabaceae), is typically a sprawling shrub, but may also be a small tree. Each compound leaf consists of 18 to 38 oblong to elliptic leaflets which are usually sparsely to densely covered with silky hairs. The flowers are salmon tinged with yellow, orange-red, scarlet or rarely, pure yellow. Sesbania tomentosa is the only endemic Hawaiian species in the genus, differing from the naturalized S. sesban by the color of the flowers, the longer petals and calyx, and the number of seeds per pod (Geesink et al. 1999).

The pollination biology of Sesbania tomentosa is being studied by David Hopper, a graduate student in the Department of Zoology at the University of Hawaii at Manoa. His preliminary findings suggest that although many insects visit Sesbania flowers, the majority of successful pollination is accomplished by native bees of the genus Hylaeus and that populations at Kaena Point on Oahu are probably pollinator limited. Flowering at Kaena Point is highest during the winter-spring rains, and gradually declines throughout the rest of the year. Little else is known about the life history of Sesbania tomentosa. Flowering cycles, pollination vectors, seed dispersal agents, longevity, specific environmental requirements, and limiting factors are unknown (Service 1999; 59 FR 56333).

Historically, Sesbania tomentosa occurred on all eight of the main Hawaiian Islands and on the Northwestern Hawaiian Islands of Nihoa and Necker. Currently, Sesbania tomentosa occurs on Kauai, Oahu, Molokai, Kahoolawe, Maui, the island of Hawaii, Nihoa and Necker. On Maui, S. tomentosa is known from seven populations with a total of 83 individuals. The populations are located on State owned and/or leased land (Lihau section of West Maui NAR, Hana Forest Reserve, and Kanaio Training Area), under Federal jusisdiction (Kanaio National Guard Training Area) and on privately owned land within the East Maui Watershed Partnership and West Maui Mountains Watershed Partnership at Poelua Bay, Mokolea Point, between Kahakuloa Head and Puu Kahulianapa Mahinanui, Olowalu, Pimoe, south of Puu Puou. Off the south central coast of Kahoolawe, approximately 100 individuals of S. tomentosa are found on a small islet, Puu Koae, a State owned seabird sanctuary (R. Hobdy in litt. 2000; Service 1999; 59 FR 56333; GDSI 2001; HINHP Database 2001).

Sesbania tomentosa is found in windswept slopes, sea cliffs and cinder cones in Scaevola sericea coastal dry shrublands at elevations between 0 and 608 m (0 and 1,993 ft) and containing one or more of the following associated native plant species: Jacquemontia ovalifolia ssp. sandwicensis (pauohiiaka), Sida fallax, Diospyros sandwicensis, Lipochaeta integrifolia (nehe), Bidens spp., or stunted Dodonaea viscosa (Service 1999; 59 FR 56333; HINHP Database 2001; R. Hobdy et al., pers. comm., 2001).

The primary threats to Sesbania tomentosa on Maui are habitat degradation caused by competition with various alien plant species such as Lantana camara, Waltheria indica (uhaloa), and various grass species; feral cattle; lack of adequate pollination; seed predation by rats, mice and, potentially, alien insects; fire; and destruction by off-road vehicles and other human disturbances. Threats to Sesbania tomentosa on Kahoolawe include habitat degradation caused by competition with various alien plant species, erosion, and trampling by cats and seabirds (Service 1999; 59 FR 56333; P. Higashino, pers. comm., 2000).

Solanum incompletum (popolo ku mai)

Solanum incompletum, a short-lived perennial member of the nightshade family (Solanaceae), is a woody shrub. Its stems and lower leaf surfaces are covered with prominent reddish prickles or sometimes with yellow fuzzy hairs on young plant parts and lower leaf surfaces. The oval to elliptic leaves have prominent veins on the lower surface and lobed leaf margins. Numerous flowers grow in loose branching clusters with each flower on a stalk. This species differs from other native members of the genus by being generally prickly and having loosely clustered white flowers, curved anthers about 2 mm (0.08 in) long, and berries 1 to 2 cm (0.4 to 0.8 in) in diameter (Symon 1999).

Little is known about the life history of Solanum incompletum. Flowering cycles, pollination vectors, seed dispersal agents, longevity, specific environmental requirements, and limiting factors are unknown (Service 1999; 59 FR 56333).

Historically, Solanum incompletum was known from central and northeastern Lanai, scattered locations on Maui, and the island of Hawaii. According to David Symon (1999), the known distribution of Solanum incompletum also extended to the islands of Kauai and Molokai. Currently, Solanum incompletum is only known from the island of Hawaii (Service 1999; 59 FR 56333; HINHP Database 2001).

Nothing is known of the preferred habitat of or native plant species associated with Solanum incompletum on the island of Maui (Service 1999; 59 FR 56333; R. Hobdy et al., pers. comm., 2001).

Nothing is known of the threats to Solanum incompletum on the island of Maui (Service 1999; 59 FR 56333).

Spermolepis hawaiiensis (NCN)

Spermolepis hawaiiensis, a member of the parsley family (Apiaceae), is a slender annual herb with few branches. Its leaves, dissected into narrow, lance-shaped divisions, are oblong to somewhat oval in outline and grow on stalks. Flowers are arranged in a loose, compound umbrella-shaped inflorescence arising from the stem, opposite the leaves. Spermolepis hawaiiensis is the only member of the genus native to Hawaii. It is distinguished from other native members of the family by being a nonsucculent annual with an umbrella-shaped inflorescence (Constance and Affolter 1999).

Little is known about the life history of Spermolepis hawaiiensis. Flowering cycles, pollination vectors, seed dispersal agents, longevity, specific environmental requirements, and limiting factors are unknown (Service 1999; 59 FR 56333).

Historically, Spermolepis hawaiiensis was known from the islands of Kauai, Oahu, Lanai, and Hawaii. Currently, it is extant on Kauai, Oahu, Molokai, Lanai, Maui, and Hawaii. On Maui, there are four known populations with hundreds to thousands of individuals on State (Lihau section of West Maui NAR and Kanaio NAR) and privately owned lands within the West Maui Mountains Watershed Partnership in Puu Hipa, south of Kanaha Stream, Olowalu, and Kanaio (Service 1999; 59 FR 56333; GDSI 2001; HINHP Database 2001; Charles Chimera, USGS Biological Research Division, pers. comm., 2000).

Spermolepis hawaiiensis is known from Dodonaea viscosa lowland dry shrubland at elevations between 221 and 742 m (725 and 2,434 ft) and containing one or more of the following associated native species: Eragrostis variabilis, Wikstroemia spp., Erythrina sandwicensis, Diospyros spp., Pleomele spp., Lipochaeta lavarum, Sida fallax, Myoporum sandwicensis, Santalum ellipticum, Gouania hillebrandii, or Heteropogon contortus (Service 1999; 59 FR 56333; HINHP Database 2001; C. Chimera, pers. comm., 2000; R. Hobdy et al., pers. comm., 2001).

The primary threats to Spermolepis hawaiiensis on Maui are habitat degradation by feral goats, pigs, cattle, and axis deer; competition with various alien plants, such as Melinis repens and Lantana camara; fire; and erosion, landslides, and rock slides due to natural weathering which result in the death of individual plants as well as habitat destruction (Service 1999; 59 FR 56333).

Tetramolopium arenarium (NCN)

Tetramolopium arenarium is a short-lived perennial and an upright, branched shrub in the sunflower family (Asteraceae). Alternate leaves are lance-shaped, hairy, glandular, and gray-green. This species is separated from other species of the genus in the Hawaiian Islands by several characters: upright habit; number of heads per flower cluster (five to 11); presence and type of glands and hairs; size of male ray flowers (1.3 to 2.2 mm (.002 to .009 in); number of bisexual disk flowers (five to nine) and their maroon color; and a wide, two- to four-nerved fruit with white hairs at the tip. Three infra-specific species are recognized: Tetramolopium arenarium ssp. arenarium var. arenarium (Maui and Hawaii), T. arenarium ssp. arenarium var. confertum (Hawaii), and T. arenarium ssp. laxum (Maui). These species are distinguished one from the other by a combination of characters. T. arenarium ssp. arenarium var. confertum and T. arenarium ssp. laxum have not been seen the late 1800s (Lowrey 1999).

Little is known about the life history of Tetramolopium arenarium. Flowering cycles, pollination vectors, seed dispersal agents, longevity, specific environmental requirements, and limiting factors are unknown (Service 1996a; 59 FR 10305).

Tetramolopium arenarium was historically known from the islands of Maui and Hawaii. The taxon was considered extinct until Tetramolopium arenarium ssp. arenarium var. arenarium was recently rediscovered on the island of Hawaii. Both supspecies were last seen on Maui in the late 1800s (Service 1996a; 59 FR 10305; HINHP Database 2001; GDSI 2001).

Nothing is known about the preferred habitat of Tetramolopium arenarium on Maui (Service 1996a; 59 FR 10305; R. Hobdy et al., pers. comm., 2001).

Nothing is known of the threats to Tetramolopium arenarium on the island of Maui (Service 1996a; 59 FR 10305).

Tetramolopium remyi (NCN)

Tetramolopium remyi, a short-lived perennial member of the sunflower family (Asteraceae), is a much branched, decumbent (reclining, with the end ascending) or occasionally erect shrub up to about 38 cm (15 in) tall. Its leaves are firm, very narrow, and with the edges rolled inward when the leaf is mature. There is a single flower head per branch. The heads are each comprised of 70 to 100 yellow disk and 150 to 250 white ray florets. The stems, leaves, flower bracts, and fruit are covered with sticky hairs. Tetramolopium remyi has the largest flower heads in the genus. Two other species of the genus are known historically from Lanai, but both have purplish rather than yellow disk florets and from four to 60 rather than one flower head per branch (Lowrey 1999).

Tetramolopium remyi flowers between April and January. Field observations suggest that the population size of the species can be profoundly affected by variability in annual precipitation; the adult plants may succumb to prolonged drought, but apparently there is a seedbank in the soil that can replenish the population during favorable conditions. Such seed banks are of great importance for arid-dwelling plants to allow populations to persist through adverse conditions. The aridity of the area, possibly coupled with human-induced changes in the habitat and subsequent lack of availability of suitable sites for seedling establishment, may be a factor limiting population growth and/or expansion. Requirements of this taxon in these areas are not known, but success in greenhouse cultivation of these plants with much higher water availability implies that, although these plants are drought-tolerant, perhaps the dry conditions in which they currently exist are not optimum. Individual plants are probably not long-lived. Pollination is hypothesized to be possibly by butterflies, bees, or flies. Little else is known about the life history of Tetramolopium remyi. Flowering cycles, pollination vectors, seed dispersal agents, longevity, specific environmental requirements, and limiting factors are unknown (Service 1995b; 56 FR 47686).

Historically, the species was known from the Lahaina area of West Maui and Lanai. Currently, T. remyi is known from two populations on Lanai. It was last seen on Maui in 1944 by E. Y. Hosaka (GDSI 2001; HINHP Database 2001; Service 1995b; 56 FR 47686).

On Maui, Tetramolopium remyi occurs in lowland dry shrubland on dry, exposed ridges or flats at elevations between 52 and 550 m (171 and 1,804 ft). Associated plant species include Dodonaea viscosa, Heteropogon contortus, Bidens mauiensis, Bidens menziesii, Eragrostis atropioides (lovegrass), Lipochaeta heterophylla (NCN), or Waltheria indica (Service 1995b; 56 FR 47686; R. Hobdy et al., pers. comm., 2001).

Nothing is known of the threats to Tetramolopium remyi on the island of Maui (Service 1995b; 56 FR 47686).

Vigna o-wahuensis (NCN)

Vigna o-wahuensis, a member of the legume family (Fabaceae), is a slender, twining, long-lived perennial herb with fuzzy stems. Each leaf is made up of three leaflets which vary in shape from round to linear, and are sparsely or moderately covered with coarse hairs. Flowers, in clusters of one to four, have thin, translucent, pale yellow or greenish yellow petals. The two lowermost petals are fused and appear distinctly beaked. The sparsely hairy calyx has asymmetrical lobes. The fruits are long slender pods that may or may not be slightly inflated and contain seven to 15 gray to black seeds. This species differs from others in the genus by its thin yellowish petals, sparsely hairy calyx, and thin pods which may or may not be slightly inflated (Geesink et al. 1999).

Little is known about the life history of Vigna o-wahuensis. Flowering cycles, pollination vectors, seed dispersal agents, longevity, specific environmental requirements, and limiting factors are unknown (Service 1999; 59 FR 56333).

Historically, Vigna o-wahuensis was known from Niihau, Oahu, and on East Maui in Makawao, Waiakoa, and Haleakala, and at an unspecified site on West Maui. Currently, Vigna o-wahuensis is known from the islands of Molokai, Lanai, Kahoolawe, Maui, and Hawaii. There are no currently known populations on Niihau or Oahu. On the State owned island of Kahoolawe, there are a total of three populations with an unknown number of individuals in the Makaalae/Lua Kealialalo, the Puhi a Nanue area near a tidal pond, and on Lua Makika. On Maui, there is a single population of at least one individual on State owned land at Kamanamana (HINHP Database 2001; GDSI 2001; C. Chimera, pers. comm., 2000; Service 1999; 59 FR 56333).

On Kahoolawe and Maui, Vigna o-wahuensis occurs in dry to mesic grassland and shrubland at elevations between 0 and 50 m (0 and 164 ft) containing one or more of the following associated plant species: Sida fallax, Chenopodium spp., or Chamaesyce spp. (HINHP Database 2001; Service 1999; 59 FR 56333; R. Hobdy et al., pers. comm., 2001).

The primary threats to Vigna o-wahuensis on Kahoolawe are competition with various alien plant species, fire; and a risk of extinction due to random environmental events, and/or reduced reproductive vigor due to the small number of existing populations and individuals. The primary threats to this species on Maui are competition with the alien plant species Lantana camara and Cenchrus ciliaris (buffelgrass), and herbivory by axis deer and goats (Service 1999; 59 FR 56333).

Zanthoxylum hawaiiense (ae)

Zanthoxylum hawaiiense, a long-lived perennial, is a medium-size tree with pale to dark gray bark, and lemon-scented leaves in the rue family (Rutaceae). Alternate leaves are composed of three small triangular-oval to lance-shaped, toothed leaves (leaflets) with surfaces usually without hairs. Zanthoxylum hawaiiense is distinguished from other Hawaiian members of the genus by several characters: three leaflets all of similar size, one joint on lateral leaf stalk, and sickle-shape fruits with a rounded tip (Stone et al. 1999).

Little is known about the life history of Zanthoxylum hawaiiense. Flowering cycles, pollination vectors, seed dispersal agents, longevity, specific environmental requirements, and limiting factors are unknown (Service 1996a; 59 FR 10305).

Historically, Zanthoxylum hawaiiense was known from the islands of Kauai, Molokai, Lanai, Hawaii, and southern and southwestern slopes of Haleakala on Maui. Currently, Zanthoxylum hawaiiense is extant on the islands of Kauai, Molokai, Maui, and Hawaii. This species is found on Maui in four populations with a total of 11 individuals on private and State (Makawao Forest Reserve and Department of Hawaiian Home Lands) owned lands at Kahakapao, and in the Hana District north and south of Jeep Trail and north of Kula Pipeline (GDSI 2001; HINHP Database 2001; Service 1996a; 59 FR 10305).

Zanthoxylum hawaiiense is reported from open lowland dry or mesic Nestegis sandwicensis-Pleomele auwahiensis forests, Acacia koa-Pleomele auwahiensis forest, or montane dry forest at elevations between 882 and 1,540 m (2,894 and 5,051 ft) containing one or more of the following associated native species: Metrosideros polymorpha, Diospyros sandwicensis, Pisonia spp. (papala kepau), Xylosma hawaiiensis, Santalum ellipticum, Alphitonia ponderosa, Osteomeles anthyllidifolia, Alectryon macrococcus, Charpentiera spp., Melicope spp., Dodonaea viscosa, Streblus pendulinus, Myrsine lanaiensis, or Sophora chrysophylla (HINHP Database 2001; Service 1996a; 59 FR 10305; R. Hobdy et al., pers. comm., 2001).

The threats to Zanthoxylum hawaiiense on Maui include browsing, grazing, and trampling by feral goats and cattle; competition with the alien plant species Melia azedarach (chinaberry), Lantana camara, and Pennisetum clandestinum; fire; human disturbance; and risk of extinction from naturally occurring events and/or reduced reproductive vigor due to the small number of populations (Service 1996a; 59 FR 10305).

A summary of populations and landownership for the 70 plant species reported from the islands of Maui and Kahoolawe is given in Table 3.

Table 3.—Summary of Existing Populations Occurring on Maui and Kahoolawe, and Landownership for 70 Species Reported From Maui and Kahoolawe.
Species | Number of current populations | Landownership: Federal | Landownership: State | Landownership: Private
Acaena exigua | 0
Adenophorus periens | 0
Alectryon macrococcus | 7 |  | X | X
Argyroxiphium sandwicense ssp. macrocephalum | 4 | X |  | X
Asplenium fragile var. insulare | 1 | X |  | X
Bidens micrantha ssp kalealaha | 3 | X | X |
Bonamia menziesii | 4 |  | X | X
Brighamia rockii | 0
Cenchrus agrimonioides | 2 |  | X
Centaurium sebaeoides | 3 |  | X | X
Clermontia lindseyana | 2 |  | X | X
Clermontia oblongifolia ssp. mauiensis | 1 |  |  | X
Clermontia peleana | 0
Clermontia samuelii | 4 | X | X
Colubrina oppositifolia | 2 |  |  | X
Ctenitis squamigera | 6 |  | X | X
Cyanea copelandii ssp. haleakalaensis | 3 | X | X | X
Cyanea glabra | 1 |  |  | X
Cyanea grimesiana spp. grimesiana | 2 |  |  | X
Cyanea hamatiflora spp. hamatiflora | 7 | X | X | X
Cyanea lobata | 4 |  |  | X
Cyanea mceldowneyi | 6 |  | X | X
Cyrtandra munroi | 4 |  | X | X
Delissea undulata | 0
Diellia erecta | 5 |  | X | X
Diplazium molokaiense | 4 |  | X | X
Dubautia plantaginea spp. humilis | 1 |  |  | X
Flueggea neowawraea | 3 |  | X | X
Geranium arboreum | 7 | X | X | X
Geranium multiflorum | 8 | X | X | X
Gouania vitifolia | 0
Hedyotis coriacea | 1 |  | X
Hedyotis mannii | 1 |  |  | X
Hesperomannia arborescens | 2 |  | X | X
Hesperomannia arbuscula | 2 |  |  | X
Hibiscus brackenridgei | 5 |  | X | X
Ischaemum byrone | 6 |  | X | X
Isodendrion pyrifolium | 0
Kanaloa kahoolawensis | 1 |  | X
Lipochaeta kamolensis | 1 |  | X
Lysimachia lydgatein | 4 |  | X | X
Mariscus pennatiformis | 1 |  | X
Melicope adscendens | 2 |  | X | X
Melicope balloui | 2 | X |  | X
Melicope knudsenii | 1 |  | X | X
Melicope mucronulata | 1 |  |  | X
Melicope ovalis | 1 | X
Neraudia sericea | 3 |  | X | X
Nototrichium humile | 0
Peucedanum sandwicense | 3 |  | X | X
Phlegmariurus mannii | 7 | X | X | X
Phyllostegia mannii | 0
Phyllostegia mollis | 1 |  | X
Phyllostegia parvilfora | 0
Plantago princeps | 5 | X |  | X
Platanthera holochila | 3 |  | X | X
Pteris lidgatei | 2 |  | X | X
Remya mauiensis | 3 |  | X
Sanicula purpurea | 5 |  | X | X
Schiedea haleakalensis | 2 | X
Schiedea hookeri | 0
Schiedea nuttallii | 0
Sesbania tomentosa | 8 | X | X | X
Solanum incompletum | 0
Spermolepis hawaiiensis | 4 |  | X | X
Tetramolopium arenarium | 0
Tetramolopium capillare | 4 |  | X | X
Tetramolopium remyi | 0
Vigna o-wahuensis | 4 |  | X
Zanthoxylum hawaiiense | 4 |  | X | X

Previous Federal Action

Federal action on these plants began as a result of section 12 of the Act, which directed the Secretary of the Smithsonian Institution to prepare a report on plants considered to be endangered, threatened, or extinct in the United States. This report, designated as House Document No. 94-51, was presented to Congress on January 9, 1975. In that document, Alectryon macrococcus (as Alectryon macrococcum var. macrococcum and Alectryon mahoe), Bonamia menziesii, Brighamia rockii, Clermontia lindseyana, Colubrina oppositifolia, Cyanea glabra (as Cyanea scabra var. variabilis), Cyanea lobata (as Cyanea baldwinii), Cyanea mceldowneyi, Flueggea neowawraea (as Drypetes phyllanthoides), Geranium arboreum, Geranium multiflorum (as Geranium multiflorum var. multiflorum, var. ovatifolium, and var. superbum), Hedyotis mannii (as Hedyotis thyrsoidea var. thyrsoidea), Hesperomannia arborescens (as Hesperomannia arborescens var. bushiana and var. swezeyi), Hesperomannia arbuscula, Hibiscus brackenridgei (as Hibiscus brackenridgei var. brackenridgei, var. mokuleianus, and var. “from Hawaii”), Ischaemum byrone, Melicope balloui (as Pelea balloui), Melicope knudsenii (as Pelea multiflora), Melicope ovalis (as Pelea ovalis), Neraudia sericea (as Neraudia kahoolawensis), Nototrichium humile, Peucedanum sandwicense (as Peucedanum kauaiense), Phyllostegia mollis, Plantago princeps (as Plantago princeps var. elata, var. laxiflora, var. princeps), Remya mauiensis, Sesbania tomentosa (as Sesbania hobdyi and Sesbania tomentosa var. tomentosa), Vigna o-wahuensis (as Vigna sandwicensis var. heterophylla and var. sandwicensis), and Zanthoxylum hawaiiense (as Zanthoxylum hawaiiense var. citriodora), were considered to be endangered; Cyrtandra munroi, Diellia erecta, and Zanthoxylum hawaiiense (as Zanthoxylum hawaiiense var. hawaiiense and var. velutinosum) were considered to be threatened; and, Asplenium fragile var. insulare (as Asplenium fragile), Bidens micrantha ssp. kalealaha (as Bidens distans and Bidens micrantha spp. kalealaha), Ctenitis squamigera, Diplazium molokaiense, Gouania vitifolia, Hedyotis coriacea, Isodendrion pyrifolium, Melicope knudsenii (as Pelea knudsenii and Pelea tomentosa), Melicope mucronulata (as Pelea mucronulata), Phlegmariurus mannii (as Lycopodium mannii), Plantago princeps (as Plantago princeps var. acaulis, var. denticulata, and var. queleniana), Pteris lidgatei, Tetramolopium arenarium (as Tetramolopium arenarium var. arenarium, var. confertum, and var. dentatum), Tetramolopium capillare, and Tetramolopium remyi were considered extinct. On July 1, 1975, we published notice in the Federal Register (40 FR 27823) of our acceptance of the Smithsonian report as a petition within the context of section 4(c)(2) (now section 4(b)(3)) of the Act, and gave notice of our intention to review the status of the plant taxa named therein. As a result of that review, on June 16, 1976, we published a proposed rule in the Federal Register (41 FR 24523) to determine endangered status pursuant to section 4 of the Act for approximately 1,700 vascular plant taxa, including all of the above taxa considered to be endangered or thought to be extinct except for Cyanea glabra and Cyrtandra munroi; additionally, Argyroxiphium sandwicense ssp. macrocephalum (as Argyroxiphium macrocephalum) appeared in the 1976 proposed rule as endangered. The list of 1,700 plant taxa was assembled on the basis of comments and data received by the Smithsonian Institution and the Service in response to House Document No. 94-51 and the July 1, 1975, Federal Register publication.

General comments received in response to the 1976 proposal are summarized in an April 26, 1978, Federal Register publication (43 FR 17909). In 1978, amendments to the Act required that all proposals over 2 years old be withdrawn. A 1-year grace period was given to proposals already over 2 years old. On December 10, 1979, we published a notice in the Federal Register (44 FR 70796) withdrawing the portion of the June 16, 1976, proposal that had not been made final, along with four other proposals that had expired. We published updated Notices of Review for plants on December 15, 1980 (45 FR 82479), September 27, 1985 (50 FR 39525), February 21, 1990 (55 FR 6183), September 30, 1993 (58 FR 51144), and February 28, 1996 (61 FR 7596). A summary of the status categories for these 70 plant species in the 1980-1996 notices of review can be found in Table 4(a). We listed the 70 species as endangered or threatened between 1991 and 1999. A summary of the listing actions can be found in Table 4(b).

Table 4(a).—Summary of Candidacy Status for 70 Plant Species From Maui and Kahoolawe.
Species | Federal Register notice of review: 1980 | Federal Register notice of review: 1985 | Federal Register notice of review: 1990 | Federal Register notice of review: 1993 | Federal Register notice of review: 1996
Acaena exigua | C1 | C1 | C1 |  |
Adenophorus periens | C1 | C1 | C1 |  |
Alectryon macrococcus | C1 | C1 | C1 |  |
Argyroxiphium sandwicense ssp. macrocephalum | C1 | C1 | C1 |  |
Asplenium fragile var. insulare | C1* | C1* | C1 |  |
Bidens micrantha ssp. kalealaha | C1 | C1 | C1 |  |
Bonamia menziesii | C1 | C1 | C1 |  |
Brighamia rockii | C1 | C1 | C1 |  |
Cenchrus agrimonioides |  |  |  |  |
Centaurium sebaeoides |  |  | C1 |  |
Clermontia lindseyana | C1 | C1 | C1 |  |
Clermontia oblongifolia ssp. mauiensis |  |  | C1 |  |
Clermontia peleana | 3C | 3C | C1 |  |
Clermontia samuelii |  |  |  |  |
Colubrina oppositifolia | C1 | C1 | C1 |  |
Ctenitis squamigera | C1* | C1* | C1* |  |
Cyanea copelandii ssp. haleakalaensis |  |  |  |  | C
Cyanea glabra |  |  |  |  | C
Cyanea grimesiana spp. grimesiana | C1 | C1 |  | C2 |
Cyanea hamatiflora spp. hamatiflora |  |  |  |  | C
Cyanea lobata | C1 | C1 | C1 |  |
Cyanea mceldowneyi | C1 | C1 | C1 |  |
Cyrtandra munroi | C2 | C2 | C1 |  |
Delissea undulata | C1 | C1* | C1* | C2* |
Diellia erecta | C1 | C1 | C1 |  |
Diplazium molokaiense | C1* | C1* | C1 |  |
Dubautia plantaginea spp. humilis |  |  | C2 | C2 | C
Flueggea neowawraea | C1 | C1 | C1 |  |
Geranium arboreum | C1 | C1 | C1 |  |
Geranium multiflorum | C1 | C1 | C1 |  |
Gouania vitifolia | C1* | C1* | C1* |  |
Hedyotis coriacea | C1 | C1 | C1 |  |
Hedyotis mannii | C1 | C1 | C1 |  |
Hesperomannia arborescens | C1 | C1 | C1 |  |
Hesperomannia arbuscula | C1 | C1 | C1 |  |
Hibiscus brackenridgei | C1 | C1 | C1 |  |
Ischaemum byrone | C1 | C1 | C1 |  |
Isodendrion pyrifolium | C1* | C1* | 3A |  |
Kanaloa kahoolawensis |  |  |  |  | C
Lipochaeta kamolensis | C1 | C1 | C1 |  |
Lysimachia lydgatei |  |  | C1 |  |
Mariscus pennatiformis |  | C1 | C1 |  |
Melicope adscendens |  |  | 3A |  |
Melicope balloui | C1 | C1 | C1* |  |
Melicope knudsenii | C1* | C1* | C1 |  |
Melicope mucronulata | C1 | C1 | C1 |  |
Melicope ovalis | C1 | C1* | C1* |  |
Neraudia sericea | 3A | 3A | C1 |  |
Nototrichium humile | C1 | C1 | 3C |  |
Peucedanum sandwicense | C2 | C2 | C2 |  |
Phlegmariurus mannii | C1 | C1 | C1 |  |
Phyllostegia mannii |  |  | C1 |  |
Phyllostegia mollis | C1 | C1 | C1 |  |
Phyllostegia parvilfora | C1 | C1 | C1 |  |
Plantago princeps | C2 | C2 | C1 |  |
Platanthera holochila | C1 | C1 | C1 | C2 |
Pteris lidgatei | C1 | C1 | C1 |  |
Remya mauiensis | C1 | C1 |  |  |
Sanicula purpurea |  |  | C1 |  |
Schiedea haleakalensis |  | C1 | C1 |  |
Schiedea hookeri |  |  |  | C2 |
Schiedea nuttallii |  |  |  | C2 |
Sesbania tomentosa | C1* | C1* | C1 |  |
Solanum incompletum | C1* | C1* | C1 |  |
Spermolepis hawaiiensis |  |  | C1 |  |
Tetramolopium arenarium | C1* | C1* | 3A |  |
Tetramolopium capillare | C1* | C1* | C1* |  |
Tetramolopium remyi | C1 | C1 | C1 |  |
Vigna o-wahuensis | C1 | C1 | C1 |  |
Zanthoxylum hawaiiense | C1 | C1 | C1 |  |
Key:
C: Candidates: Species for which we have in file sufficient information on biological vulnerability and threats to support proposals to list them as endangered or threatened.
C1: Taxa for which the Service has on file enough substantial information on biological vulnerability and threat(s) to support proposals to list them as endangered or threatened species.
C1*: Taxa of known vulnerable status in the recent past that may already have become extinct.
C2: Taxa for which there is some evidence of vulnerability, but for which there are not enough data to support listing proposals at this time.
3A: Taxa for which the Service has persuasive evidence of extinction. If rediscovered, such taxa might acquire high priority for listing.
3C: Taxa that have proven to be more abundant or widespread than previously believed and/or those that are not subject to any identifiable threat.
Federal Register Notice of Review—1980: 45 FR 82479, 1985: 50 FR 39525, 1990: 55 FR 6183, 1993: 58 FR 51144, 1996: 61 FR 7596

Table 4(b).—Summary of Listing Actions for 70 Plant Species from Maui and Kahoolawe
Species | Federal status | Proposed rule: Date | Proposed rule: Federal Register | Final Rule: Date | Final Rule: Federal Register | Proposed critical habitat: Date | Proposed critical habitat: Federal Register
Acaena exigua | E | 05/24/91 | 56 FR 23842 | 05/15/92 | 57 FR 20787 | 12/18/00 | 65 FR 79192
Adenophorus periens | E | 09/14/93 | 58 FR 48012 | 11/10/94 | 59 FR 56333 | 11/07/00, 12/29/00 | 65 FR 66808, 65 FR 83157
Alectryon macrococcus | E | 05/24/91 | 56 FR 23842 | 05/15/92 | 57 FR 20772 | 11/07/00, 12/18/00, 12/29/00 | 65 FR 66808, 65 FR 79192, 65 FR 83157
Argyroxiphium sandwicense ssp. macrocephalum | T | 05/24/91 | 56 FR 23842 | 05/15/92 | 57 FR 20772 | 12/18/00 | 65 FR 79192
Asplenium fragile var. insulare | E | 06/24/93 | 58 FR 34231 | 09/09/94 | 59 FR 49025 |  |
Bidens micrantha ssp. kalealaha | E | 05/24/91 | 56 FR 23842 | 05/15/92 | 57 FR 20772 | 12/18/00 | 65 FR 79192
Bonamia menziesii | E | 09/14/93 | 58 FR 48012 | 11/10/94 | 59 FR 56333 | 11/07/00, 12/18/00, 12/27/00 | 65 FR 66808, 65 FR 79192, 65 FR 82086
Brighamia rockii | E | 09/20/91 | 56 FR 47718 | 10/08/92 | 57 FR 46325 | 12/29/00 | 65 FR 83157
Cenchrus agrimonioides | E | 10/02/95 | 60 FR 51417 | 10/10/96 | 61 FR 53108 | 12/18/00 | 65 FR 79192
Centaurium sebaeoides | E | 09/28/90 | 55 FR 39664 | 10/29/91 | 56 FR 55770 | 11/07/00, 12/18/00, 12/27/00, 12/29/00 | 65 FR 66808, 65 FR 79192, 65 FR 82086, 65 FR 83157
Clermontia lindseyana | E | 12/17/92 | 57 FR 59951 | 03/04/94 | 59 FR 10305 | 12/18/00 | 65 FR 79192
Clermontia oblongifolia ssp. mauiensis | E | 05/24/91 | 56 FR 23842 | 05/15/92 | 57 FR 20772 | 12/18/00, 12/27/00 | 65 FR 79192, 65 FR 82086
Clermontia peleana | E | 12/17/92 | 57 FR 59951 | 03/04/94 | 59 FR 10305 |  |
Clermontia samuelii | E | 05/15/97 | 62 FR 26757 | 09/03/99 | 64 FR 48307 | 12/18/00 | 65 FR 79192
Colubrina oppositifolia | E | 12/17/92 | 57 FR 59951 | 03/04/94 | 59 FR 10305 | 12/18/00 | 65 FR 79192
Ctenitis squamigera | E | 06/24/93 | 58 FR 34231 | 09/09/94 | 59 FR 49025 | 12/18/00, 12/27/00, 12/29/00 | 65 FR 79192, 65 FR 79192, 65 FR 83157
Cyanea copelandii ssp. haleakalaensis | E | 05/15/97 | 62 FR 26757 | 09/03/99 | 64 FR 48307 | 12/18/00 | 65 FR 79192
Cyanea glabra | E | 05/15/97 | 62 FR 26757 | 09/03/99 | 64 FR 48307 | 12/18/00 | 65 FR 79192
Cyanea grimesiana spp. grimesiana | E | 10/02/95 | 60 FR 51417 | 10/10/96 | 61 FR 53108 | 12/18/00, 12/29/00, 12/27/00 | 65 FR 79192, 65 FR 83157, 65 FR 82086
Cyanea hamatiflora spp. hamatiflora | E | 05/15/97 | 62 FR 26757 | 09/03/99 | 64 FR 48307 | 12/18/00 | 65 FR 79192
Cyanea lobata | E | 05/24/91 | 56 FR 23842 | 05/15/92 | 57 FR 20772 | 12/18/00 | 65 FR 79192
Cyanea mceldowneyi | E | 05/24/91 | 56 FR 23842 | 05/15/92 | 57 FR 20772 | 12/18/00 | 65 FR 79192
Cyrtandra munroi | E | 05/24/91 | 56 FR 23842 | 05/15/92 | 57 FR 20772 | 12/18/00, 12/27/00 | 65 FR 79192, 65 FR 82086
Delissea undulata | E | 06/27/94 | 59 FR 32946 | 10/10/96 | 61 FR 53124 | 11/07/00 | 65 FR 66808
Diellia erecta | E | 09/14/93 | 58 FR 48012 | 11/10/94 | 59 FR 56333 | 12/18/00, 12/29/00 | 65 FR 79192, 65 FR 83157
Diplazium molokaiense | E | 06/24/93 | 58 FR 34231 | 09/09/94 | 59 FR 49025 | 12/18/00 | 65 FR 66808
Dubautia plantaginea spp. humilis | E | 05/15/97 | 62 FR 26757 | 09/03/99 | 64 FR 48307 | 12/18/00 | 65 FR 79192
Flueggea neowawraea | E | 09/14/93 | 58 FR 48012 | 11/10/94 | 59 FR 56333 | 11/07/00, 12/18/00 | 65 FR 66808, 65 FR 79192
Geranium arboreum | E | 01/23/91 | 56 FR 2490 | 05/13/92 | 57 FR 20589 | 12/18/00 | 65 FR 79192
Geranium multiflorum | E | 05/24/91 | 56 FR 23842 | 05/15/92 | 57 FR 20772 | 12/18/00 | 65 FR 79192
Gouania vitifolia | E | 12/14/92 | 57 FR 39066 | 06/27/94 | 59 FR 32932 |  |
Hedyotis coriacea | E | 05/24/91 | 56 FR 23842 | 05/15/92 | 57 FR 20772 | 12/18/00 | 65 FR 79192
Hedyotis mannii | E | 09/20/91 | 56 FR 47718 | 10/08/92 | 57 FR 46325 | 12/18/00, 12/27/00, 12/29/00 | 65 FR 79192, 65 FR 82086, 65 FR 83157
Hesperomannia arborescens | E | 10/14/92 | 57 FR 47028 | 03/28/94 | 59 FR 14482 | 12/18/00, 12/29/00 | 65 FR 79192, 65 FR 83157
Hesperomannia arbuscula | E | 09/28/90 | 55 FR 39664 | 10/29/91 | 56 FR 55770 | 12/18/00 | 65 FR 79192
Hibiscus brackenridgei | E | 09/14/93 | 58 FR 48012 | 11/10/94 | 59 FR 56333 | 12/18/00, 12/27/00 | 65 FR 79192, 65 FR 82086
Ischaemum byrone | E | 12/17/92 | 57 FR 59951 | 03/04/94 | 59 FR 10305 | 12/18/00, 12/29/00 | 65 FR 79192, 65 FR 83157
Isodendrion pyrifolium | E | 12/17/92 | 57 FR 59951 | 03/04/94 | 59 FR 10305 |  |
Kanaloa kahoolawensis | E | 05/15/97 | 62 FR 26757 | 09/03/99 | 64 FR 48307 | 12/18/00 | 65 FR 79192
Lipochaeta kamolensis | E | 05/24/91 | 56 FR 23842 | 05/15/92 | 57 FR 20772 | 12/18/00 | 65 FR 79192
Lysimachia lydgatei | E | 05/24/91 | 56 FR 23842 | 05/15/92 | 57 FR 20772 | 12/18/00 | 65 FR 79192
Mariscus pennatiformis | E | 09/14/93 | 58 FR 48012 | 11/10/94 | 59 FR 56333 | 12/18/00 | 65 FR 79192
Melicope adscendens | E | 05/11/93 | 58 FR 18073 | 12/05/94 | 59 FR 62346 | 12/18/00 | 65 FR 79192
Melicope balloui | E | 05/11/93 | 58 FR 18073 | 12/05/94 | 59 FR 62346 | 12/18/00 | 65 FR 79192
Melicope knudsenii | E | 10/30/91 | 56 FR 5562 | 02/25/94 | 59 FR 09304 | 11/07/00, 12/18/00 | 65 FR 66808, 65 FR 79192
Melicope mucronulata | E | 05/24/91 | 56 FR 23842 | 05/15/92 | 57 FR 20772 | 12/18/00, 12/29/00 | 65 FR 79192, 65 FR 83157
Melicope ovalis | E | 05/11/93 | 58 FR 18073 | 12/05/94 | 59 FR 62346 | 12/18/00 | 65 FR 79192
Neraudia sericea | E | 09/14/93 | 58 FR 48012 | 11/10/94 | 59 FR 56333 | 12/18/00, 12/29/00 | 65 FR 79192, 65 FR 83157
Nototrichium humile | E | 10/02/95 | 60 FR 51398 | 10/10/96 | 61 FR 53089 | NA | NA
Peucedanum sandwicense | T | 10/30/91 | 56 FR 5562 | 02/25/94 | 59 FR 09304 | 11/07/00, 12/18/00, 12/29/00 | 65 FR 66808, 65 FR 79192, 65 FR 83157
Phlegmariurus mannii | E | 05/24/91 | 56 FR 23842 | 05/15/92 | 57 FR 20772 | 12/18/00 | 65 FR 79192
Phyllostegia mannii | E | 09/20/91 | 56 FR 47718 | 10/08/92 | 57 FR 46325 | 12/29/00 | 65 FR 83157
Phyllostegia mollis | E | 09/28/90 | 55 FR 39664 | 10/29/91 | 56 FR 55770 | 12/18/00 | 65 FR 79192
Phyllostegia parvilfora | E | 10/02/95 | 60 FR 51417 | 10/10/96 | 61 FR 53108 |  |
Plantago princeps | E | 09/14/93 | 58 FR 48012 | 11/10/94 | 59 FR 56333 | 11/07/00, 12/18/00, 12/29/00 | 65 FR 66808, 65 FR 79192, 65 FR 83157
Platanthera holochila | E | 10/02/95 | 60 FR 51417 | 10/10/96 | 61 FR 53108 | 11/07/00, 12/18/00, 12/29/00 | 65 FR 66808, 65 FR 79192, 65 FR 83157
Pteris lidgatei | E | 06/24/93 | 58 FR 34231 | 09/09/94 | 59 FR 49025 | 12/18/00 | 65 FR 79192
Remya mauiensis | E | 10/02/89 | 54 FR 40447 | 01/14/91 | 56 FR 1450 | 12/18/00 | 65 FR 79192
Sanicula purpurea | E | 10/02/95 | 60 FR 51417 | 10/10/96 | 61 FR 53108 | 12/18/00 | 65 FR 79192
Schiedea haleakalensis | E | 05/24/91 | 56 FR 23842 | 05/15/92 | 57 FR 20772 | 12/18/00 | 65 FR 79192
Schiedea hookeri | E | 10/02/95 | 60 FR 51417 | 10/10/96 | 61 FR 53108 |  |
Schiedea nuttallii | E | 10/02/95 | 60 FR 51417 | 10/10/96 | 61 FR 53108 | 11/07/00, 12/29/00 | 65 FR 66808,
Sesbania tomentosa | E | 09/14/93 | 58 FR 48012 | 11/10/94 | 59 FR 56333 | 11/07/00, 12/18/00, | 65 FR 66808, 65 FR 79192,
Solanum incompletum | E | 09/14/93 | 58 FR 48012 | 11/10/94 | 59 FR 56333 |  |
Spermolepis hawaiiensis | E | 09/14/93 | 58 FR 48012 | 11/10/94 | 59 FR 56333 | 11/07/00, 12/18/00, 12/27/00 | 65 FR 66808, 65 FR 79192, 65 FR 82086,
Tetramolopium arenarium | E | 12/17/92 | 57 FR 59951 | 03/04/94 | 59 FR 10305 |  |
Tetramolopium capillare | E | 03/25/93 | 58 FR 16164 | 09/30/94 | 59 FR 49860 | 12/18/00 | 65 FR 79192
Tetramolopium remyi | E | 09/17/90 | 55 FR 38236 | 09/20/91 | 56 FR 47686 |  |
Vigna o-wahuensis | E | 09/14/93 | 58 FR 48012 | 11/10/94 | 59 FR 56333 | 12/18/00, 12/27/00, 12/29/00 | 65 FR 79192, 65 FR 82086, 65 FR 83157
Zanthoxylum hawaiiense | E | 12/17/92 | 57 FR 59951 | 03/04/94 | 59 FR 10305 | 11/07/00, 12/18/00, 12/29/00 | 65 FR 66808, 65 FR 79192, 66 FR 83157
Key: E= Endangered T= Threatened

Critical Habitat

Section 4(a)(3) of the Act, as amended, and implementing regulations (50 CFR 424.12) require that, to the maximum extent prudent and determinable, the Secretary designate critical habitat at the time the species is determined to be endangered or threatened. Our regulations (50 CFR 424.12(a)(1)) state that designation of critical habitat is not prudent when one or both of the following situations exist: (1) the species is threatened by taking or other human activity, and identification of critical habitat can be expected to increase the degree of threat to the species, or (2) such designation of critical habitat would not be beneficial to the species. At the time each plant was listed, we determined that designation of critical habitat was prudent for six of these plants (Clermontia samuelii, Cyanea copelandii ssp. haleakalaensis, Cyanea glabra, Cyanea hamatiflora ssp. hamatiflora, Dubautia plantaginea ssp. humilis, and Kanaloa kahoolawensis) and not prudent for the other 64 plants because it would not benefit the plant or would increase the degree of threat to the species.

The not prudent determinations for these species, along with others, were challenged in Conservation Council for Hawaii v. Babbitt, 2 F. Supp. 2d 1280 (D. Haw. 1998). On March 9, 1998, the United States District Court for the District of Hawaii, directed us to review the prudency determinations for 245 listed plant species in Hawaii, including 64 of the 70 species reported from Maui and Kahoolawe. Among other things, the court held that, in most cases we did not sufficiently demonstrate that the species are threatened by human activity or that such threats would increase with the designation of critical habitat. The court also held that we failed to balance any risks of designating critical habitat against any benefits (id. at 1283-85).

Regarding our determination that designating critical habitat would have no additional benefits to the species above and beyond those already provided through the section 7 consultation requirement of the Act, the court ruled that we failed to consider the specific effect of the consultation requirement on each species (id. at 1286-88). In addition, the court stated that we did not consider benefits outside of the consultation requirements. In the court's view, these potential benefits include substantive and procedural protections. The court held that, substantively, designation establishes a “uniform protection plan” prior to consultation and indicates where compliance with section 7 of the Act is required. Procedurally, the court stated that the designation of critical habitat educates the public, State, and local governments and affords them an opportunity to participate in the designation (id. at 1288). The court also stated that private lands may not be excluded from critical habitat designation even though section 7 requirements apply only to Federal agencies. In addition to the potential benefit of informing the public, State, and local governments of the listing and of the areas that are essential to the species' conservation, the court found that there may be Federal activity on private property in the future, even though no such activity may be occurring there at the present (id. at 1285-88).

On August 10, 1998, the court ordered us to publish proposed critical habitat designations or non-designations for at least 100 species by November 30, 2000, and to publish proposed designations or non-designations for the remaining 145 species by April 30, 2002. Conservation Council for Hawaii v. Babbitt, 24 F. Supp. 2d 1074 (D. Haw. 1998).

At the time we listed Clermontia samuelii, Cyanea copelandii ssp. haleakalaensis, Cyanea glabra, Cyanea hamatiflora ssp. hamatiflora, Dubautia plantaginea ssp. humilis, and Kanaloa kahoolawensis (64 FR 48307) we determined that designation of critical habitat was prudent and that we would develop critical habitat designations for these six taxa, along with four others, at the same time we developed designations for the 245 Hawaiian plant species. This timetable was challenged in Conservation Council for Hawaii v. Babbitt, Civ. No. 99-00283 HG (D. Haw. Aug. 19, 1999, Feb. 16, 2000, and March 28, 2000). The court agreed that it was reasonable for us to integrate these ten Maui Nui (Maui, Lanai, Molokai, and Kahoolawe) plant taxa into the schedule established for designating critical habitat for the other 245 Hawaiian plants, but ordered us to publish proposed critical habitat designations for the 10 Maui Nui species with the first 100 plants from the group of 245 by November 30, 2000, and to publish final critical habitat designations by November 30, 2001.

On November 30, 1998, we published a notice in the Federal Register requesting public comments on our reevaluation of whether designation of critical habitat is prudent for the 245 Hawaiian plants at issue (63 FR 65805). The comment period closed on March 1, 1999, and was reopened from March 24, 1999, to May 24, 1999 (64 FR 14209). We received more than 100 responses from individuals, nonprofit organizations, the State Division of Forestry and Wildlife (DOFAW), county governments, and Federal agencies (U.S. Department of Defense-Army, Navy, Air Force). Only a few responses offered information on the status of individual plant species or on current management actions for one or more of the 245 Hawaiian plants. While some of the respondents expressed support for the designation of critical habitat for 245 Hawaiian plants, more than 80 percent opposed the designation of critical habitat for these plants. In general, these respondents opposed designation because they believed it will cause economic hardship, discourage cooperative projects, polarize relationships with hunters, or potentially increase trespass or vandalism on private lands. In addition, commenters also cited a lack of information on the biological and ecological needs of these plants which, they suggested, may lead to designation based on guesswork. The respondents who supported the designation of critical habitat cited that designation would provide a uniform protection plan for the Hawaiian Islands; promote funding for management of these plants; educate the public and State government; and protect partnerships with landowners and build trust.

On December 29, 1999, we mailed letters to more than 130 landowners on the islands of Maui and Kahoolawe requesting any information considered germane to the management of any of the 70 plants on his/her property, and containing a copy of the November 30, 1998, Federal Register notice, a map showing the general locations of the species that may be on his/her property, and a handout containing general information on critical habitat. We received 20 written responses to our landowner mailing with varying types of information on their current land management activities. These responses included information on the following: the presence of fences or locked gates to restrict public access; access to the respondent's property by hunters or whether hunting is allowed on the property; ongoing weeding and rat control programs; and the propagation and/or planting of native plants. Some respondents stated that the plants of concern were not on her/his property. Only a few respondents expressed support for the designation of critical habitat. We held two open houses on the island of Maui, at the Lahaina Civic Center and the Wailuku Community Center on January 11 and 12, 2000, respectively, to meet one-on-one with local landowners and other interested members of the public. A total of 30 people attended the two open houses. In addition, we met with Maui County Division of Forestry and Wildlife staff to discuss their management activities on Maui.

On December 18, 2000, we published the second of the court-ordered prudency determinations and proposed critical habitat designations or non-designations for Maui and Kahoolawe plants (65 FR 79192). The prudency determinations and proposed critical habitat designations for Kauai and Niihau plants were published on November 7, 2000 (65 FR 66808), for Lanai plants on December 27, 2000 (65 FR 82086), and for Molokai plants on December 29, 2000 (65 FR 83157). All of these proposed rules had been sent to the Federal Register by or on November 30, 2000, as required by the court orders. In those proposals, we determined that critical habitat was prudent and proposed designation of critical habitat for 61 species (Alectryon macrococcus, Argyroxiphium sandwicense ssp. macrocephalum, Adenophorus periens, Bidens micrantha ssp. kalealaha, Bonamia menziesii, Brighamia rockii, Cenchrus agrimonioides, Centaurium sebaeoides, Clermontia lindseyana, Clermontia oblongifolia ssp. mauiensis, Clermontia samuelii, Colubrina oppositifolia, Ctenitis squamigera, Cyanea copelandii ssp. haleakalaensis, Cyanea glabra, Cyanea grimesiana ssp. grimesiana, Cyanea hamatiflora ssp. hamatiflora, Cyanea lobata, Cyanea mceldowneyi, Cyrtandra munroi, Delissea undulata, Diellia erecta, Diplazium molokaiense, Dubautia plantaginea ssp. humilis, Flueggea neowawraea, Geranium arboreum, Geranium multiflorum, Hedyotis coriacea, Hedyotis mannii, Hesperomannia arborescens, Hesperomannia arbuscula, Hibiscus brackenridgei, Ischaemum byrone, Isodendrion pyrifolium, Kanaloa kahoolawensis, Lipochaeta kamolensis, Lysimachia lydgatei, Mariscus pennatiformis, Melicope adscendens, Melicope balloui, Melicope knudsenii, Melicope mucronulata, Melicope ovalis, Neraudia sericea, Peucedanum sandwicense, Phlegmariurus mannii, Phyllostegia mannii, Phyllostegia mollis, Plantago princeps, Platanthera holochila, Pteris lidgatei, Remya mauiensis, Sanicula purpurea, Schiedea haleakalensis, Schiedea nuttallii, Sesbania tomentosa, Spermolepis hawaiiensis, Tetramolopium capillare, Tetramolopium remyi, Vigna o-wahuensis, and Zanthoxylum hawaiiense) that are reported from Maui and Kahoolawe as well as on Kauai, Niihau, Lanai, and Molokai. Critical habitat is proposed for 59 of these species on Maui and/or Kahoolawe at this time. Critical habitat is not proposed for Adenophorus periens and Schiedea nuttallii on Maui and Kahoolawe because we are have not identified habitat essential to their conservation on these islands.

In the December 18, 2000, proposal we determined that it was prudent to designate approximately 13,574 ha (33,614 ac) of lands on the island of Maui and approximately 207 ha (512 ac) of lands on the island of Kahoolawe as critical habitat. The publication of the proposed rule opened a 60-day public comment period, which closed on February 16, 2001. On February 22, 2001, we published a notice (66 FR 11131) announcing the reopening of the comment period until April 2, 2001, on the proposal to designate critical habitat for 50 plants from Maui and Kahoolawe and a notice of a public hearing. On March 20, 2001, we held a public hearing at the Renaissance Wailea Beach Resort, Maui.

On October 3, 2001, we submitted a joint stipulation with Earth Justice Legal Defense Fund requesting extension of the court order for the final rules to designate critical habitat for plants from Kauai and Niihau (July 30, 2002), Maui and Kahoolawe (August 23, 2002), Lanai (September 16, 2002), and Molokai (October 16, 2002), citing the need to revise the proposals to incorporate or address new information and comments received during the comment periods. The joint stipulation was approved and ordered by the court on October 5, 2001. On January 28, 2002, we determined that designation of critical habitat was prudent for Solanum incompletum (67 FR 3940), a species reported from Maui as well as Kauai, Molokai, and Lanai. Designation of critical habitat is not proposed for this species on Maui because we have not identified habitat essential to its conservation on this island. Publication of this revised proposal for plants from Maui and Kahoolawe is consistent with the court-ordered stipulation.

Summary of Comments and Recommendations

In the December 18, 2000, proposed rule (65 FR 79192), we requested all interested parties to submit comments on the specifics of the proposal, including information, policy, and proposed critical habitat boundaries as provided in the proposed rule. The first comment period closed on February 16, 2001. We reopened the comment period from February 22, 2001, to April 2, 2001 (66 FR 11131), to accept comments on the proposed designations and to hold a public hearing on March 20, 2001, in Wailea, Maui.

We contacted all appropriate State and Federal agencies, county governments, elected officials, and other interested parties and invited them to comment. In addition, we invited public comment through the publication of notices in the following newspapers: the Honolulu Advertiser on December 28, 2000, and the Maui News on January 2, 2000. We received one request for a public hearing. We announced the date and time of the public hearing in letters mailed to all interested parties, appropriate State and Federal agencies, county governments, and elected officials, and in notices published in the Honolulu Advertiser and in the Maui News newspapers on March 1, 2001. A transcript of the hearing held in Wailea, Maui on March 20, 2001, is available for inspection (see ADDRESSES section).

We requested three botanists who have familiarity with Maui and Kahoolawe plants to peer review the proposed critical habitat designations. All three peer reviewers submitted comments on the proposed critical habitat designations. Two of the peer reviewers supported the designation of critical habitat for the Maui and Kahoolawe plants while the third peer reviewer says we did a very ambitious and credible attempt but does not support or oppose the designation. Two of the peer reviewers did not support the methodology we used to identify critical habitat, i.e. identifying only occupied habitat for these species. The third reviewer thought that focusing on known locations was appropriate to meet the court orders. Two of the reviewers did not agree with the exclusion of areas from critical habitat designation due to on-going land management. One peer reviewer opined that recovery of the plants would also entail the establishment of new populations in addition to the currently existing populations. All three peer reviewers also provided updated biological information, critical review, and editorial comments.

We received a total of 5 oral comments, 18 written comments, and 6 comments both in written and oral form during the two comment periods. These included responses from two Federal agencies, seven State offices, and 22 private organizations or individuals. We reviewed all comments received for substantive issues and new information regarding critical habitat and the Maui and Kahoolawe plants. Of the 29 comments we received, 7 supported designation, 9 were opposed to it, and 13 provided information or declined to oppose or support the designation. Similar comments were grouped into eight general issues relating specifically to the proposed critical habitat designations. These are addressed in the following summary.

Issue 1: Biological Justification and Methodology

(1) Comment: The designation of critical habitat in unoccupied habitat is particularly important, since this may be the only mechanism available to ensure that Federal actions do not eliminate the habitat needed for the survival and recovery of extremely endangered species.

Our Response: We agree. Our recovery plans for these species (Service 1995a, 1995b, 1996a, 1996b, 1997, 1998a, 1998b, 1999, 2001) identify the need to expand existing populations and reestablish wild populations within historic range. We have revised the December 18, 2000, proposal to designate critical habitat for 50 plants from Maui and Kahoolawe to incorporate new information and address comments and new information received during the comment periods, including information on areas of potentially suitable unoccupied habitat for 61 plants from Maui and Kahoolawe.

(2) Comment: The data cited in the critical habitat proposal documenting the habitat losses and threats is questionable. We do not agree with the threats to the species as described in the proposed rule.

Our Response: In the December 18, 2000, proposal to designate critical habitat for 50 plants from Maui and Kahoolawe, we provided information on the status of and threats to the Maui and Kahoolawe plants. The threats to these species, and the species status, were documented in the listing rules for the Maui and Kahoolawe plants (56 FR 1450, 56 FR 47686, 56 FR 55770, 57 FR 20589, 57 FR 20772, 57 FR 20787, 57 FR 46325, 59 FR 9304, 59 FR 10305, 59 FR 14482, 59 FR 32932, 59 FR 49025, 59 FR 49860, 59 FR 56333, 59 FR 63436, 61 FR 53089, 61 FR 53108, 61 FR 53124, and 64 FR 48307), and in the recovery plans for these species (Service 1995a, 1995b, 1996a, 1996b, 1997, 1998a, 1998b, 1999, 2001), and in the supporting documentation in the files at the Pacific Islands Office (See ADDRESSES section).

(3a) Comment: The proposal provides very limited information on the criteria and data used to determine the areas proposed as critical habitat. (3b) Comment: For example, failure to utilize recent collections at the herbaria of the B.P. Bishop Museum and the National Tropical Botanical Garden may result in incomplete knowledge of current known distributions and subsequently inadequate analysis for critical habitat designations. (3c) Comment: In situations where few species locations are currently known, pre-1970 locations may be used to identify suitable habitat for the species.

Our Response: When developing the December 18, 2000, proposal to designate critical habitat for 50 plants from Maui and Kahoolawe, we used the best scientific and commercial data available at the time, including but not limited to, information from the known locations, site-specific species information from the HINHP database, which includes information from collections housed at the herbarium of B.P. Bishop Museum and the National Tropical Botanical Garden, and our own rare plant database; species information from the Center for Plant Conservation's (CPC) rare plant monitoring database housed at the University of Hawaii's Lyon Arboretum; the final listing rules for these species; information received at the two informational open houses held on Maui at the Lahaina Civic Center and the Wailuku Community Center on January 11 and 12, 2000, respectively; recent biological surveys and reports; our recovery plans for these species; information received in response to outreach materials and requests for species and management information we sent to all landowners, land managers, and interested parties on the islands of Maui and Kahoolawe; discussions with botanical experts; and recommendations from the Hawaii Pacific Plants Recovery Coordinating Committee (HPPRCC)(Service 1995a, 1995b, 1996a, 1996b, 1997, 1998a, 1998b, 1999, 2001; HPPRCC 1998; HINHP Database 2000, CPC in litt. 1999).

We have revised the proposed designations to incorporate new information and address comments and new information received during the comment periods. This additional information includes Geographic Information System (GIS) coverages (e.g., vegetation, soils, annual rainfall, elevation contours, land ownership); completed recovery plans; information received during the public comment periods and the public hearing, including information on recent plant collections housed at the B.P. Bishop Museum herbarium and the National Tropical Botanical Garden; and site-specific information from historical (pre-1970) collections (H. Oppenheimer, pers. comm., 2001; F. Duvall, pers. comm., 2001; M. Buck, in litt. 2001; 66 FR 11131).

(4a) Comment: We received comments that the proposed critical habitat designations were not specific enough, and were overly broad, and therefore, failed to comply with Congressional intent to restrict critical habitat to those areas “essential to the conservation of the species.” (4b) Comment: The designation was not inclusive enough and failed to include areas that Maui and Kahoolawe plants have used and are necessary for recovery of the species.

Our Response: We used the best scientific information available to develop the December 18, 2000, proposal to designate critical habitat for 50 Maui and Kahoolawe plants. This information is detailed above in our response to Comment (3). Based on the information described above, we believe we have identified those areas essential to the conservation of the Maui and Kahoolawe plant species at issue in this proposed rule.

(5) Comment: Some commenters were concerned that developed infrastructure (i.e., roads, buildings, etc.) on their property is within proposed critical habitat boundaries, even though it does not contain any habitat for listed plants.

Our Response: In defining critical habitat boundaries, we made an effort to avoid developed areas, such as towns and other similar lands, that are unlikely to contribute to the conservation of these species. However, the minimum mapping unit that we used to approximate our delineation of critical habitat for these species did not allow us to exclude all such developed areas. In addition, existing features and structures within the boundaries of the mapped unit, such as buildings, roads, aqueducts, railroads, telecommunications equipment, telemetry antennas, radars, missile launch sites, arboreta and gardens, heiau (indigenous places of worship or shrines), airports, other paved areas, lawns, and other rural residential landscaped areas do not contain one or more of the primary constituent elements and would be excluded under the terms of the proposed regulation. Therefore, unless a Federal action related to such features or structures indirectly affected nearby habitat containing the primary constituent elements, operation and maintenance of such features or structures generally would not be impacted by the designation of critical habitat.

(6a) Comment: The presence of non-native plants makes habitat unsuitable and inappropriate for designation as critical habitat. (6b) Comment: Expansion of plant populations in highly degraded ecosystems may be biologically impossible due to the lack of the habitat components needed for survival.

Our Response: The presence of non-native plant competitors does not preclude designation of an area as critical habitat, if the area contains the physical and biological features that are essential to the conservation of the species and that may require special management considerations or protection. We used the best available information, including expert scientific opinion, to identify the physical and biological features (type of plant community, associated species, and locale information such as rocky cliffs, talus slopes, stream banks) essential to the conservation of each species, and to identify potentially suitable habitat within the known historic range of each species. Of the area identified as potentially suitable habitat for a species, only those areas within the least disturbed suitable habitat were proposed as critical habitat for the species. In addition, habitat restoration projects are underway in some of the areas proposed as critical habitat for one or more species, such as at Ulupalakua Ranch on the island of Maui. At this location, non-native plants are being removed and replaced with native species, some of which are endangered or threatened.

We invite comments from the public that provide information on potentially suitable habitat within the known historic range of each species and whether lands within the proposed critical habitat provide for the conservation of one or more of the species.

(7) Comment: The Service should propose critical habitat on Maui and Kahoolawe for 14 plants historically, but not currently, found there.

Our Response: Fourteen species (Adenophorous periens, Brighamia rockii, Clermontia peleana, Delissea undulata, Gouania vitifolia, Isodendrion pyrifolium, Nototrichium humile, Phyllostegia mannii, Phyllostegia parvilfora, Schiedea hookeri, Schiedea nuttallii, Solanum incompletum, Tetramolopium arenarium, and Tetramolopium remyi) are known only from historical records on the islands of Maui or Kahoolawe. Critical habitat is proposed for six of these species (Brighamia rockii, Gouania vitifolia, Isodendrion pyrifolium, Nototrichium humile, Phyllostegia mannii, and Tetramolopium remyi) for which we have identified the physical and biological features that are considered essential to their conservation on the island of Maui. We also will consider proposing designation of critical habitat for these six species within their historical range on other Hawaiian islands. Critical habitat is not proposed for eight species (Adenophorous periens, Clermontia peleana, Delissea undulata, Phyllostegia parviflora, Schiedea hookeri, Schiedea nuttallii, Solanum incompletum, or Tetramolopium arenarium) which no longer occur on the islands of Maui or Kahoolawe, and for which we did not identify habitat essential to their conservation on these islands. All areas proposed as critical habitat are within the historical range of one or more of the 61 species at issue and contain one or more of the physical or biological features (primary constituent elements) essential for the conservation of one or more of the species.

Critical habitat is proposed for Asplenium fragile var. insulare, which has been recently rediscovered on Maui. Critical habitat is proposed at this time for Asplenium fragile var. insulare on Maui based on new information and information received during the comment periods on the December 18, 2000, proposal.

Issue 2: Site-specific Biological Comments

(8a) Comment: Even though species are presumed to be extinct, given the frequency with which Hawaiian species are rediscovered, it is inappropriate not to designate critical habitat for any species addressed in this proposal. (8b) Comment: Critical habitat should be designated for Acaena exigua because habitats have not been adequately surveyed and this species may still be extant in the wild.

Our Response: We have revised the December 18, 2000, proposal to designate critical habitat for 61 plants from Maui and Kahoolawe to incorporate new information, and/or address comments and new information received during the comment periods.

Fourteen species (Adenophorous periens, Brighamia rockii, Clermontia peleana, Delissea undulata, Gouania vitifolia, Isodendrion pyrifolium, Nototrichium humile, Phyllostegia mannii, Phyllostegia parvilfora, Schiedea hookeri, Schiedea nuttallii, Solanum incompletum, Tetramolopium remyi, and Tetramolopium arenarium) are known only from historical records on the islands of Maui or Kahoolawe. Critical habitat is proposed for six of these species (Brighamia rockii, Gouania vitifolia, Isodendrion pyrifolium, Nototrichium humile, Phyllostegia mannii, and Tetramolopium remyi) for which we have identified the physical and biological features that are considered essential to their conservation on the island of Maui. Critical habitat is not proposed for eight species (Adenophorous periens, Clermontia peleana, Delissea undulata, Phyllostegia parvilfora, Schiedea hookeri, Schiedea nuttallii, Solanum incompletum, or Tetramolopium arenarium) which no longer occur on the islands of Maui or Kahoolawe and for which we have not identified habitat essential to their conservation on these islands.

No change is made here to the prudency determination for Acaena exigua, a species known only from Mt. Waialeale on Kauai and Puu Kukui on Maui, published in the December 18, 2000, proposal (65 FR 79192). Acaena exigua has not been seen on Kauai for over 100 years. This species was last observed at Puu Kukui on Maui in 1999 and has not been observed in this area in subsequent surveys (H. Oppenheimer, pers. comm., 2001). In addition, this species is not known to be in storage or under propagation. Given these circumstances, we determined that designation of critical habitat for Acaena exigua was not prudent because such designation would be of no benefit to this species. If this species is rediscovered, we may revise this proposal to incorporate or address new information as new data becomes available (See 16 U.S.C. § 1532 (5) (B); 50 CFR 424.13(f)).

(9) Comment: One commenter requested that critical habitat designation skirt and not include any portion of the Hana or Kalaupapa Airports or any other airport.

Our Response: In defining critical habitat boundaries, we made an effort to avoid developed areas, such as towns and other similar lands, that are unlikely to contribute to the conservation of these species. However, the minimum mapping unit that we used to approximate our delineation of critical habitat for these species did not allow us to exclude all such developed areas. In addition, existing features and structures within the boundaries of the mapped unit, such as buildings, roads, aqueducts, railroads, telecommunications equipment, telemetry antennas, radars, missile launch sites, arboreta and gardens, heiau (indigenous places of worship or shrines), airports, other paved areas, lawns, and other rural residential landscaped areas do not contain one or more of the primary constituent elements and would be excluded under the terms of this proposed regulation. We have revised the proposed designations published in the December 18, 2000, proposal for Maui and Kahoolawe plants to incorporate new information, and/or address comments and new information received during the comment periods. The Hana and Kalaupapa Airports were removed from the revised proposed critical habitat designations for Maui and Molokai.

(10) Comment: The State of Hawaii identified specific areas that they thought should not be designated as critical habitat.

Our Response: During the public comment periods for the December 18, 2000, proposal for plants from Maui and Kahoolawe, we received written comments and a map showing the DOFAW's vegetation classes and recommended critical habitat units. We have revised the December 18, 2000, proposed designations to incorporate new information, and address comments and new information received during the comment periods, including information received from DOFAW.

We evaluated DOFAW's comments on a species-by-species basis and incorporated information that was consistent with our methodology for identifying critical habitat as defined by the Act. DOFAW recommended deletion of some of the proposed critical habitat units on State lands as they do not believe these areas are suitable for the recovery of some species because they (DOFAW) would not be able to manage these areas with their limited staff and funding. Because DOFAW's basis for identifying areas for deletion was made on their ability to manage these areas, their mapping of habitat is distinct from the regulatory designation of critical habitat as defined by the Act.

Issue 3: Legal Issues

(11) Comment: The Service failed to comply with court deadlines set forth in both Conservation Council for Hawaii v. Babbitt, 24 F. Supp. 1074 (D.Haw. 1998), and Conservation Council for Hawaii v. Babbitt, Civ. No. 99-00283 (D.Haw Mar. 28, 2000)

Our Response: The proposed rules for plants from Kauai, Niihau, Maui, Kahoolawe, Lanai, and Molokai had been sent to the Federal Register by or on November 30, 2000, as required by the court orders. On October 3, 2001, we submitted a joint stipulation with Earth Justice Legal Defense Fund requesting extension of the court orders for the final rules to designate critical habitat for plants from Kauai and Niihau, Maui and Kahoolawe, Lanai, and Molokai, citing the need to revise the proposals to incorporate or address new information and comments received during the comment periods. The joint stipulation was approved and ordered by the court on October 5, 2001. Publication of this revised proposal for plants from Maui and Kahoolawe is consistent with the court-ordered stipulation.

(12) Comment: Critical habitat designation is a duplicative regulatory environmental process of already-existing Federal and State environmental statutes such as the National Environmental Policy Act (NEPA) and Chapter 343 (Environmental Impact Statements), Hawaii Revised Statutes.

Our Response: Designation of critical habitat is not required by NEPA nor the Chapter 343 (Environmental Impact Statements), Hawaii Revised Statutes. We are required to designate critical habitat under section 4 of the Act. Section 7(a) of the Act requires Federal agencies to ensure that actions they fund, authorize, or carry out do not jeopardize the continued existence of a listed species or destroy or adversely modify its critical habitat.

Issue 4: Section 7 Consultation Issues

(13) Comment: One commenter was concerned that using Federal funds to make improvements to the existing infrastructure and facilities at Waianapanapa State Park may require a section 7 consultation.

Our Response: Critical habitat designation does not affect activities on State or private lands unless some sort of Federal permit, license, or funding is involved. Therefore, unless a Federal action related to such features or structures indirectly affected nearby habitat containing the primary constituent elements, operation and maintenance of such features or structures generally would not be impacted by the designation of critical habitat. The Federal agency providing the funds to make improvements to existing infrastructure and facilities at state parks would consult with us under section 7 of the Act to ensure that actions they fund are not likely to jeopardize the continued existence of any listed species or result in the destruction of adverse modification of critical habitat.

(14) Comment: Does section 7 apply to State and county agencies with permit authority such as the Hawaii Pollution Discharge Elimination system permit issued by the State of Hawaii and authorized by the Environmental Protection Agency, Special Management Area permits, and programs administered under the Natural Resources Conservation Service or the Coastal Zone Management Program?

Our Response: Section 7 of the Act requires each Federal agency to ensure that any action they authorize, fund, or carry out is not likely to jeopardize the continued existence of any listed species, or result in the destruction or adverse modification of critical habitat. Section 7 also requires that Federal agencies consult with us if their actions may affect a listed species. State or county agencies are not required to consult with us under section 7 of the Act if their programs are not authorized, permitted, or funded by a Federal agency.

The Environmental Protection Agency (EPA) may delegate the National Pollutant Discharge Elimination System (NPDES) permit authority to the State. Therefore, any individual permit that is issued by the State of Hawaii is not subject to section 7 consultation. Instead, procedures in the January 2001 Memorandum of Understanding between the Service and the EPA would apply. These procedures provide for us to notify EPA of any concerns we may have with individual permits, and the EPA would take corrective action if an individual permit has severe enough impacts on a listed species or designated critical habitat and the State fails to correct the problem. The Natural Resources Conservation Service (NRCS) does consult with us on projects and specific actions that they fund, authorize, or permit. The Coastal Zone Management Program (CZM Program) is administered by the National Oceanic and Atmospheric Administration (NOAA). NOAA has delegated implementation of the CZM Program in Hawaii to the State of Hawaii Department of Business, Economic Development, and Tourism (DBEDT). The individual decisions by the State's CZM Program are not subject to section 7 consultation. However, the State's CZM Program is not relieved of its responsibilities under section 9 of the Act.

(15) Comment: We are concerned that critical habitat designation will trigger additional compliance requirements under the State of Hawaii endangered species law.

Our Response: There is no State equivalent of critical habitat designation under the State of Hawaii's endangered species law. However, the Federal Endangered Species Act of 1973, as amended, is applicable to all States of the United States, including the State of Hawaii.

Issue 5: Mapping and Primary Constituent Elements

(16a) Comment: The designated areas are too large. (16b) Comment: The units are not large enough, and don't allow for changes that occur during known environmental processes. (16c) Comment: The 586-meter radius is arbitrary and may not work for all species, natural communities, and habitats. (16d) Comment: The highly irregular and fragmented shape of proposed units make it difficult to determine if projects are within critical habitat.

Our Response: We have revised the proposed designations published in the December 18, 2000, proposal for Maui and Kahoolawe plants to incorporate new information and address comments and new information received during the comment periods. Areas that contain habitat essential to conservation were identified and delineated on a species-by-species basis. When species units overlapped, we combined units for ease of mapping (see also Methods section). The areas we are proposing to designate as critical habitat provide some or all of the habitat components essential for the conservation of 61 plant species from Maui and Kahoolawe.

(17) Comment: Requests were made to modify specific units in order to avoid areas where existing projects (i.e., agricultural lands with irrigation infrastructure) are planned or may occur.

Our Response: In defining critical habitat boundaries in the revised proposal, we made an effort to avoid developed areas, such as towns and other similar lands, that are unlikely to contribute to the conservation of these species. However, the minimum mapping unit that we used to approximate our delineation of critical habitat for these species did not allow us to exclude all such developed areas. In addition, existing features and structures within the boundaries of the mapped unit, such as buildings, roads, aqueducts, telecommunications equipment, telemetry antennas, radars, missile launch sites, arboreta and gardens, heiau (indigenous places of worship or shrines), airports, other paved areas, and other rural residential landscaped areas do not contain one or more of the primary constituent elements and would be excluded under the terms of this proposed regulation. Therefore, unless a Federal action related to such features or structures indirectly affected nearby habitat containing the primary constituent elements, operation and maintenance of such features or structures generally would not be impacted by the designation of critical habitat. We invite comments from the public that provide information on areas where existing and future projects are planned or may occur and how these projects may be affected by the designation of critical habitat.

(18) Comment: The discussion of each critical habitat unit should also indicate which species rely upon that unit for future reintroduction efforts.

Our Response: We have revised the December 18, 2000, proposal based on new information and information received during the comment periods. In this revised proposal, the description of each critical habitat unit (see Descriptions of Critical Habitat Units) includes information regarding species which rely upon that unit for recovery efforts, including future reintroduction efforts in currently unoccupied units.

(19) Comment: According to the Federal Register, Alectryon macrococcus, Bidens micrantha ssp. kalealaha, Diellia erecta, Geranium arboreum, Lipochaeta kamolensis, Melicope mucronulata, Phlegmariurus mannii, and Phyllostegia mollis are considered gulch dwelling species. One commenter recommended that map unit polygons be limited to the pali as part of the designation process in Units N, Nn, Oo, Qq, and Ss.

Our Response: In accordance with section 4(b)(2) of the Act and regulations at 50 CFR 424.12, in determining which areas to propose as critical habitat, we are required to base critical habitat determinations on the best scientific and commercial data available and to consider those physical and biological features (primary constituent elements) that are essential to the conservation of the species and that may require special management considerations or protection.

As described in the discussions for each of the 61 species for which we are proposing critical habitat, very little is known about the specific physical and biological requirements of these species. As such, we are proposing to define the primary constituent elements on the basis of the habitat features of the areas the plant species are reported from, as described by the type of plant community, associated native plant species, locale information (e.g., steep rocky cliffs, talus slopes, stream banks, gulches), and elevation. Locale information, such as gulch habitat, is only of one of the four factors used to describe primary constituent elements of each species.

In the revised proposed designation of critical habitat for plants on Maui proposed critical habitat for Alectryon macrococcus, Bidens micrantha ssp. kalealaha, Diellia erecta, Geranium arboreum, Lipochaeta kamolensis, Melicope mucronulata, Phlegmariurus mannii, and Phyllostegia mollis is included in critical habitat units which cover more than a single species (i.e., multi-species units). These multi-species units are not homogenous or uniform in nature and may encompass a number of plant community types and locales, including gulches, pali, talus slopes, etc.

Issue 6: Definition of Critical Habitat

(20) Comment: Critical habitat is being designated in otherwise protected areas, such as State conservation lands, the island of Kahoolawe, and State parks. Managers should have the opportunity to implement management actions that would avoid the additional regulatory burden of critical habitat.

Our Response: In the December 18, 2000, proposal we examined all currently occupied sites containing one or more of the primary constituent elements considered essential to the conservation of the Maui and Kahoolawe plant species to determine if additional special management considerations or protection are required above those currently provided. We reviewed all available management information on these plants at these sites, including published reports and surveys; annual performance and progress reports; management plans; grants; memoranda of understanding and cooperative agreements; State of Hawaii, DOFAW planning documents; internal letters and memos; biological assessments and environmental impact statements; and section 7 consultations. Additionally, each public (i.e., county, State, or Federal government holdings) and private landowner on the islands of Maui and Kahoolawe with a known occurrence of one of the plant species was contacted by mail. We reviewed all information received in response to our landowner mailing and open houses held at two locations (Lahaina and Wailuku) on the island of Maui on January 20 and 21, 2000, respectively. When clarification was required on the information provided to us, we followed up with a telephone contact. Because of the large amount of land on the island of Maui under State of Hawaii jurisdiction, we met with staff from Maui's DOFAW office to discuss their current management for the plants on their lands. And, we contacted the State's Department of Hawaiian Home Lands regarding management for the plants on lands under their jurisdiction. In addition, we reviewed new biological information and public comments received during the public comment periods and at the public hearing.

With regard to the areas newly proposed for designation in this revised proposal, we have also reviewed any management information available to us at this time. In addition, we are requesting information on management of these lands during the comment period.

Based upon review of the information available to us at this time, we have not been able to find that management on these State lands is adequate to preclude proposed designations of critical habitat. We are aware that the State of Hawaii and other private landowners are considering the development of land management plans or agreements that may promote the conservation of endangered and threatened plant species on the islands of Maui and Kahoolawe. We support these efforts, and we view such plans as important in helping meet species recovery goals, and ultimately can result in delisting of the species. We intend to work closely with any interested landowner or land manager in the development of conservation planning efforts for these, and other, endangered and threatened plants. If new information indicates any of these areas should not be included in the critical habitat designations because they no longer meet the definition of critical habitat, we may revise the proposed critical habitat designations in this proposal to exclude these areas. We agree that implementation of management actions for the conservation of these species should proceed; however, both the Act and the relevant court orders require us to proceed with designation at this time based on the best information available.

(21) Comment: Since critical habitat threats are being addressed, funding is available, and management plans are in place, the State Department of Hawaiian Homelands (DHHL) requests exclusion from designation in Units N, O, Oo, Qq, and Ww.

Our Response: In the December 18, 2000, proposal we examined all currently occupied sites containing one or more of the primary constituent elements considered essential to the conservation of the Maui and Kahoolawe plant species to determine if additional special management considerations or protection are required above those currently provided. As described above (see Our Response to Comment 20) we reviewed all available management information on these plants at these sites and all information received in response to our landowner mailing and two open houses. In addition, we reviewed new biological information and public comments received during the public comment periods and at the public hearing.

With regard to the areas proposed for designation by this revised proposal, we have also reviewed any management information available to us at this time. In addition, we are requesting information on management of these lands during the comment period.

Based upon review of the information available to us at this time, we have not been able to find that management on these State DHHL lands is adequate to preclude proposed designations of critical habitat. We are aware that the State of Hawaii and other private landowners are considering the development of land management plans or agreements that may promote the conservation of endangered and threatened plant species on the islands of Maui and Kahoolawe. We support these efforts, and we view such plans as important in helping meet species recovery goals, and ultimately can result in delisting of the species. We intend to work closely with any interested landowner or land manager in the development of conservation planning efforts for these, and other, endangered and threatened plants. If new information indicates any of these areas should not be included in the critical habitat designations because they no longer meet the definition of critical habitat, we may revise the proposed critical habitat designations in this proposal to exclude these areas.

(22) Comment: Additional layers of legal protection, in the case of Kahoolawe, are unnecessary. Hawaii State law has established Kahoolawe as a permanent natural and cultural reserve with habitat restoration as a key stated purpose (H.R.S. Chapter 6-K, H.A.R. Chapter 13-260, and Kahoolawe Archaeological District, listed March 18, 1981). Existing plans for Kahoolawe include a number of agreements, protocols, and management plans to guide protection and restoration of threatened and endangered species and native plant communities. Clean up of Kahoolawe by the Navy will continue through 2003, and could be detrimentally impacted by designation. Therefore, in consideration of the above, please exempt Kahoolawe from designation.

Our Response: In June 1998, the State of Hawaii Kahoolawe Island Reserve Commission developed an environmental restoration plan for Kahoolawe (Social Science Research Institute, University of Hawaii 1998). The plan, however, does not address specific management actions to protect and conserve endangered plant species, specifically Kanaloa kahoolawensis, Hibiscus brackenridgei, Sesbania tomentosa, and Vigna o-wahuensis, four species historically reported from Kahoolawe. While the island is isolated and remote, and access is restricted due to the presence of unexploded ordnance hazards, this action alone is not sufficient to indicate that additional special management is not required for the listed plant species, and areas on the island are included within the revised proposed critical habitat units for Kanaloa kahoolawensis, Hibiscus brackenridgei, Sesbania tomentosa, and Vigna o-wahuensis.

We invite comments from the public that provide information on how clean-up of Kahoolawe by the Navy could be detrimentally impacted by designation and information on management that promotes the conservation of endangered and threatened plants on Kahoolawe. If new information indicates any of the proposed areas should not be included in the critical habitat designations because they no longer meet the definition of critical habitat (see Our Response to Comment 19), we may revise the proposed critical habitat designations in this proposal to exclude these areas.

(23) Comment: We urge the Service not to exclude managed areas, such as Waikamoi and Kapunakea Preserves, Puu Kukui Watershed Management Area, the upper area of Hanawi Natural Area Reserve, and Haleakala National Park, since doing so would violate the ESA.

Our Response: We have determined that the private lands within Waikamoi Preserve and Kapunakea Preserve do not meet the definition of critical habitat in the Act (§ 3(5)(A)), and we are not proposing designation of these lands as critical habitat in the revised proposal. Because the preserves and the continuing management plans being implemented for these plants and their habitats within the preserves provide a conservation benefit to the species and are permanently protected and managed, these lands meet the three criteria (described above in Our Response to Comment 19) for determining that an area is not in need of special management. However, should the status of either of these preserves change, for example by non-renewal of a partnership agreement or termination of Natural Area Partnership (NAP) funding, we will reconsider whether it then meets the definition of critical habitat. If so, we have the authority to propose to amend critical habitat to include such area at that time. 50 CFR 424.12(g).

In the December 18, 2000, proposal we determined that lands within the Puu Kukui Watershed Management Area on Maui were adequately managed for the conservation of the listed species that occur on those lands and were not in need of special management considerations or protection. Therefore, we determined that these lands did not meet the definition of critical habitat in the Act, and we did not propose designation of these lands as critical habitat. However, during the comment periods on the December 18, 2000, proposal we received information from the Watershed Supervisor that funding for the conservation and management of the listed plant species on lands within Puu Kukui Watershed Management Area was not adequate nor assured. In the revised proposal we have determined that lands within Puu Kukui Watershed Management Area are in need of special management considerations or protection and thus meet the definition of critical habitat in the Act. Therefore, lands within Puu Kukui Watershed Management Area are included within the proposed designation of critical habitat on Maui for one or more species.

We have determined that the State land within the upper Hanawi Natural Area Reserve (NAR) does not meet the definition of critical habitat in the Act (§ 3(5)(A)), and we are not proposing designation of this land as critical habitat in the revised proposal. Because these plants and their habitats within the upper areas of Hanawi NAR (above 1,525 m (5,000 ft)) are permanently protected and managed and because the continued successful management of this area is assured, this area meets the three criteria (described above in Our Response to Comment 22) for determining that an area is not in need of special management or protection. Should the status of this reserve change, for example by revocation or modification of the NAR, we will reconsider whether it then meets the definition of critical habitat. If so, we have the authority to propose to amend critical habitat to include such area at that time. 50 CFR 424.12(g).

In the December 18, 2000, proposal we determined that lands within Haleakala National Park (Park) were adequately managed for the conservation of the listed species that occur on those lands and were not in need of special management considerations or protection. Therefore, we determined that these lands did not meet the definition of critical habitat in the Act, and we did not propose designation of these lands as critical habitat. However, during the comment periods on the December 18, 2000, proposal we received information from the Park Superintendent that funding for the conservation and management of the listed plant species on lands within Haleakala National Park was not adequate nor assured. In the revised proposal we have determined that lands within the Park are in need of special management considerations or protection and thus meet the definition of critical habitat in the Act. Therefore, lands within the Park are included within the proposed designation of critical habitat on Maui for one or more species.

(24) Comment: All areas essential to the recovery of the species, regardless of management, should be designated as critical habitat.

Our Response: Pursuant to § 3(5)(A) of the Endangered Species Act the term “critical habitat” for a threatened and endangered species means—(i) the specific areas within the geographical area occupied by the species, at the time it is listed in accordance with the provisions of section 4 of this Act, on which are found those physical or biological features (I) essential to the conservation of the species and (II) which may require special management considerations or protection; and (ii) specific areas outside the geographical area occupied by the species at the time it is listed in accordance with the provisions of section 4 of this Act, upon a determination by the Secretary that such areas are essential for the conservation of the species.

(25) Comment: Designation of critical habitat will provide additional benefit to managed lands when unoccupied habitat occurs on these lands, and when these lands are threatened by Federal actions.

Our Response: The primary regulatory effect of critical habitat is the section 7 requirement that Federal agencies refrain from taking any action that destroys or adversely affects critical habitat. The designation of unoccupied habitat may provide an additional benefit to the species by triggering section 7 consultation in new areas where it would not otherwise occur because, for example, it is or has become unoccupied or the occupancy is in question. In the revised proposal we have proposed critical habitat in areas which are essential for the conservation of the species within its historical range though the species may not occur there currently. The proposed critical habitat includes lands under State, private, or Federal ownership or administration. A few of the species are reported from Federal lands or lands that are administered by a Federal agency (e.g., Argyroxiphium sandwicense ssp. macrocephalum, Melicope balloui, Melicope ovalis, and Schiedea haleakalensis within Haleakala National Park) while most of the species are reported exclusively from non-federal lands with currently no known or limited Federal activities. However, there could be Federal actions affecting these lands in the future.

(26a) Comment: Designation of Haleakala National Park would further protect threatened and endangered plants from Federal actions inside the Park. (26b) Comment: Designating critical habitat would prevent Federal actions taking place outside managed areas from impacting habitat found within managed areas, such as the impacts of the proposed Kahului Airport expansion on Haleakala National Park.

Our Response: In the December 18, 2000, proposal we determined that lands within the Park were adequately managed for the conservation of the listed species that occur on those lands and were not in need of special management considerations or protection. Therefore, we determined that these lands did not meet the definition of critical habitat in the Act, and we did not propose designation of these lands as critical habitat. However, during the comment periods on the December 18, 2000, proposal we received information from the Park Superintendent that funding for the conservation and management of the listed plant species on lands within Haleakala National Park was not adequate nor assured. Therefore, we have determined that lands within Haleakala National Park are in need of special management considerations or protection and thus meet the definition of critical habitat in the Act.

The primary regulatory effect of critical habitat is the section 7 requirement that Federal agencies refrain from taking any action that destroys or adversely affects critical habitat. Federal agencies must consult with the Service to ensure that any action they authorize, fund, or carry out is not likely to jeopardize the survival of a listed species or result in the destruction or adverse modification of critical habitat. By consulting with us, an agency can usually minimize or avoid any potential conflicts with listed species and their critical habitat, and the proposed project may be undertaken.

In the formal consultation for the Kahului Airport expansion project we concurred that the airport improvement project, which included a mandatory state of the art alien species interdiction facility, was not likely to jeopardize listed species nor adversely affect designated critical habitat for Gouania hillebrandii on the island of Maui. According to the local FAA office, the expansion project has been canceled mainly because of concerns of the local community, including the hotel industry, regarding the type of growth and development that characterizes Honolulu. There is no indication that the project has been canceled due to endangered species or critical habitat issues.

(27) Comment: The Service should not exclude from critical habitat any areas subject to conservation measures on non-Federal lands (e.g. Safe Harbor Agreements, Habitat Conservation Plans, etc.).

Our Response: Currently, there are no Habitat Conservation Plans (HCPs) or Safe Harbor Agreements (SHAs) that include any of the plant species at issue in this proposal as covered species, so no such areas have been excluded from this proposal.

Issue 7: Effects of Designation

(28a) Comment: Designation of critical habitat will result in restrictions on subsistence hunting and State hunting programs funded under the Federal Aid in Wildlife Restoration Program (Pittman-Robertson program). (28b) Comment: Hunting and recreational opportunities need to be considered when designating critical habitat. (28c) Comment: The designation of critical habitat will result in restrictions on subsistence hunting and access.

Our Response: The designation of critical habitat imposes no regulatory restrictions on actions occurring on State or other non-Federal lands, unless the action is undertaken, funded, or authorized by a Federal agency. Recreational, commercial, and subsistence activities, including hunting, on non-Federal lands are not regulated or restricted by this critical habitat designation. We believe that game bird and mammal hunting in Hawaii is an important recreational and cultural activity, and we support the continuation of this tradition. The designation of critical habitat would not impose restrictions on State hunting regulations except to the extent federal funding is involved. However, Federal agencies are required to consult with us under section 7 of the Act on actions they carry out, fund, or authorize that might destroy or adversely modify critical habitat. This requirement applies to us and includes funds distributed by the Service to the State through the Federal Aid in Wildlife Restoration Program (Pittman-Robertson Program). Under the Act, activities funded by us or other Federal agencies cannot result in jeopardy to listed species, and they cannot adversely modify or destroy critical habitat. It is well documented that game mammals affect listed plant and animal species. In such areas, we believe it is important to develop and implement sound land management programs that provide both for the conservation of listed species and for continued game hunting. We are committed to working closely with the State and other interested parties to ensure that game management programs that receive Federal funding are implemented consistent with this need.

(29) Comment: The designation of critical habitat will disrupt air service at Hana Airport and have detrimental effects on its residents.

Our Response: Hana Airport is not included in the proposed critical habitat designation in the revised proposal as it does not contain one or more of the primary constituent elements for the species at issue and thus is not essential for their conservation.

(30) Comment: Critical habitat could be the first step toward making the area a national park or refuge.

Our Response: Critical habitat designation does not in any way create a wilderness area, preserve, national park, or wildlife refuge, nor does it close an area to human access or use. Its regulatory implications apply only to activities sponsored at least in part by Federal agencies. Land uses such as logging, grazing, and recreation that would not be affected if they do no involve Federal permitting or funding. Critical habitat designations do not constitute land management plans.

(31a) Comment: The designation of critical habitat constitutes an encumbrance, results in “downzoning” of the property, and will allow lawsuits by environmental groups. Therefore, critical habitat will have a negative economic impact and cause a decrease in land values, and is a tactic often used as a prelude to “taking'.

Our Response: The majority of this land (77 percent) and all of the land on Kahoolawe is within the State Conservation District where State land-use controls already severely limited development and most activities. Approximately 23 percent of this land is within the State Agricultural District where only activities such as crops, livestock, grazing, and accessory structures and farmhouses are allowed. While the potential exists for a decrease in property values for privately owned agricultural land suitable for eventual development if a perception develops that a critical habitat designation will restrict future land use, we believe this potential decrease in value is purely speculative and to our knowledge has never occurred in Hawaii or the continental U.S.

Because current zoning limits land use activities within the proposed critical habitat areas and only activities with a Federal involvement that will destroy or adversely modify critical habitat will be affected and in such cases we must identify reasonable and prudent alternatives, we don't believe this is a prelude to a “taking.” In addition, we will conduct an economic analysis and in the final rule, we may exclude areas from critical habitat if the impact of designation outweighs the benefit of designation.

We expect that this situation will rarely be reached because the Act provides mechanisms, through section 7 consultation, to resolve apparent conflicts between proposed Federal actions, including Federal funding or permitting of actions on private land, and the requirement that destruction or adverse modification of critical habitat be avoided. Based on our experience with section 7 consultations for all listed species, virtually all projects—including those that, in their initial proposed form, would result in jeopardy or adverse modification—can be implemented successfully with, at most, the adoption of reasonable and prudent alternatives, which by definition must be economically feasible and within the scope of authority of the Federal agency involved in consultation.

Issue 8: Economic Issues

(32) Comment: We should have been directly contacted for our opinions on the economic impacts of critical habitat designation.

Our Response: We will conduct an analysis of the economic impacts of designating these areas as critical habitat prior to a final determination. When completed, we will announce the availability of the draft economic analysis with a notice in the Federal Register, and we will open a 30-day public comment period on the draft economic analysis and proposed rule at that time. We will mail letters to landowners and other interested parties and publish a notice in the Maui News newspaper announcing the availability of and seeking public comment on the draft economic analysis and proposed rule. We encourage anyone who has information or opinions concerning the economic impacts of this proposal to provide them to us.

(33) Comment: The Service failed to properly consider the economic (e.g., costs associated with section 7 consultation, project delays, etc.) and other impacts (special management protections on private lands) of designating particular areas as critical habitat.

Our Response: We will conduct an analysis of the economic impacts of designating these areas as critical habitat prior to a final determination. When completed, we will announce the availability of the draft economic analysis with a notice in the Federal Register, and we will open a 30-day public comment period on the draft economic analysis and proposed rule at that time (see response to Comment 23, above).

Summary of Changes From the Previous Proposal

We originally determined that designation of critical habitat was prudent for 37 plants from the islands of Maui and Kahoolawe on December 18, 2000. In a previous proposal, published on November 7, 2000, we determined that designation of critical habitat was prudent for 11 plants that are reported from Maui and Kahoolawe as well as from Kauai and Niihau. In addition, at the time we listed Clermontia samuelii, Cyanea copelandii ssp. haleakalaensis, Cyanea glabra, Cyanea hamatiflora ssp. hamatiflora, Dubautia plantaginea ssp. humilis, and Kanaloa kahoolawensis, on September 3, 1999, we determined that designation of critical habitat was prudent for these six taxa from Maui and Kahoolawe. No change is made to these 54 prudency determinations in this revised proposal and they are hereby incorporated by reference (64 FR 48307; 65 FR 66808; 65 FR 79192).

In the December 18, 2000, proposal, we determined that critical habitat was not prudent for Acaena exigua, a species endemic to Maui, because it had not been seen recently in the wild, and no viable genetic material of this species was known to exist. No change is made here to the December 18, 2000, prudency determination for this species and it is hereby incorporated by reference (65 FR 79192).

In the December 18, 2000, proposal we proposed designation of critical habitat for 50 plants from the islands of Maui and Kahoolawe. These species are: Alectryon macrococcus, Bidens micrantha ssp. kalealaha, Bonamia menziesii, Cenchrus agrimonioides, Centaurium sebaeoides, Clermontia lindseyana, Clermontia oblongifolia ssp. mauiensis, Clermontia samuelii, Colubrina oppositifolia, Ctenitis squamigera, Cyanea copelandii ssp. haleakalaensis, Cyanea glabra, Cyanea grimesiana ssp. grimesiana, Cyanea hamatiflora ssp. hamatiflora, Cyanea lobata, Cyanea mceldowneyi, Cyrtandra munroi, Diellia erecta, Diplazium molokaiense, Dubautia plantaginea ssp. humilis, Flueggea neowawraea, Geranium arboreum, Geranium multiflorum, Hedyotis coriacea, Hedyotis mannii, Hesperomannia arborescens, Hesperomannia arbuscula, Hibiscus brackenridgei, Ischaemum byrone, Kanaloa kahoolawensis, Lipochaeta kamolensis, Lysimachia lydgatei, Mariscus pennatiformis, Melicope adscendens, Melicope knudsenii, Melicope mucronulata, Neraudia sericea, Peucedanum sandwicense, Phlegmariurus mannii, Phyllostegia mollis, Plantago princeps, Platanthera holochila, Pteris lidgatei, Remya mauiensis, Sanicula purpurea, Sesbania tomentosa, Spermolepis hawaiiensis, Tetramolopium capillare, Vigna o-wahuensis, and Zanthoxylum hawaiiense. In this proposal, we have revised the proposed designations for these 50 plants based on new information received during the comment periods. In addition, we incorporate new information, and address comments and new information received during the comment periods on the December 18, 2000, proposal.

In the December 18, 2000, proposal, we did not propose critical habitat for four species (Argyroxiphium sandwicense ssp. macrocephalum, Melicope balloui, Melicope ovalis, and Schiedea haleakalensis) found only in Waikamoi Preserve and/or Haleakala National Park. We determined that these lands did not meet the definition of critical habitat in the Act. However, during the comment periods on the December 18, 2000, proposal, we received information from the Park Superintendent that funding for the conservation and management of the listed plant species on lands within Haleakala National Park was not adequate nor assured. Therefore, we have determined that lands within Haleakala National Park are in need of special management considerations or protection and thus meet the definition of critical habitat in the Act, and we have proposed designation of critical habitat for Argyroxiphium sandwicense ssp. macrocephalum, Melicope balloui, Melicope ovalis, and Schiedea haleakalensis within Haleakala National Park.

In the December 18, 2000, proposal, we did not propose designation of critical habitat for 14 species that no longer occur on Maui and Kahoolawe but are reported from one or more other islands. We determined that critical habitat was prudent for eight of these species (Adenophorus periens, Brighamia rockii, Delissea undulata, Isodendrion pyrifolium, Phyllostegia mannii, Schiedea nuttallii, Solanum incompletum, and Tetramolopium remyi) in other proposed rules published on November 7, 2000 (Kauai), December 27, 2000 (Lanai), December 29, 2000 (Molokai), and January 28, 2002 (Kauai revised proposal). No change is made to these prudency determinations for these eight species in this proposal and they are hereby incorporated by reference (65 FR 79192; 65 FR 82086; 65 FR 83158; and 67 FR 3940). In this proposal, we propose designation of critical habitat for Brighamia rockii, Isodendrion pyrifolium, Phyllostegia mannii, and Tetramolopium remyi on the island of Maui, based on new information and information received during the comment periods on the December 18, 2000, proposal. Critical habitat is not proposed for Adenophorus periens, Delissea undulata, Schiedea nuttallii, and Solanum incompletum on the islands of Maui and Kahoolawe because we did not identify habitat essential to their conservation on these islands.

In this proposal, we determine that critical habitat is prudent for Asplenium fragile var. insulare, a species recently rediscovered on Maui and for which a prudency determination has not been made previously. Critical habitat is proposed at this time for Asplenium fragile var. insulare on Maui based on new information and information received during the comment periods on the December 18, 2000, proposal.

In this proposal, we determine that critical habitat is prudent for six other species (Clermontia peleana, Gouania vitifolia, Nototrichium humile, Phyllostegia parviflora, Schiedea hookeri, and Tetramolopium arenarium) for which prudency determinations have not been made previously, and that no longer occur on Maui but are reported from one or more other islands. These six plants were listed as endangered species under the Endangered Species Act of 1973, as amended (Act) between 1994 and 1996. At the time each plant was listed, we determined that designation of critical habitat was not prudent because designation would increase the degree of threat to the species and/or would not benefit the plant. In this proposal, we determine that designation of critical habitat is prudent for these six species because we believe that such designation would be beneficial to these species. Critical habitat is proposed at this time for Gouania vitifolia and Nototrichium humile, on Maui based on new information and information received during the comment periods on the December 18, 2000, proposal. Critical habitat is not proposed for Clermontia peleana, Phyllostegia parviflora, Schiedea hookeri, and Tetramolopium arenarium on the island of Maui because we did not identify habitat essential to their conservation on this island.

In this proposal, we propose designation of critical habitat for 61 species: Alectryon macrococcus, Argyroxiphium sandwicense ssp. macrocephalum, Asplenium fragile var. insulare, Bidens micrantha ssp. kalealaha, Bonamia menziesii, Brighamia rockii, Cenchrus agrimonioides, Centaurium sebaeoides, Clermontia lindseyana, Clermontia oblongifolia ssp. mauiensis, Clermontia samuelii, Colubrina oppositifolia, Ctenitis squamigera, Cyanea copelandii ssp. haleakalaensis, Cyanea glabra, Cyanea grimesiana ssp. grimesiana, Cyanea hamatiflora ssp. hamatiflora, Cyanea lobata, Cyanea mceldowneyi, Cyrtandra munroi, Diellia erecta, Diplazium molokaiense, Dubautia plantaginea ssp. humilis, Flueggea neowawraea, Geranium arboreum, Geranium multiflorum, Gouania vitifolia, Hedyotis coriacea, Hedyotis mannii, Hesperomannia arborescens, Hesperomannia arbuscula, Hibiscus brackenridgei, Ischaemum byrone, Isodendrion pyrifolium, Kanaloa kahoolawensis, Lipochaeta kamolensis, Lysimachia lydgatei, Mariscus pennatiformis, Melicope adscendens, Melicope balloui, Melicope knudsenii, Melicope mucronulata, Melicope ovalis, Neraudia sericea, Nototrichium humile, Peucedanum sandwicense, Phlegmariurus mannii, Phyllostegia mannii, Phyllostegia mollis, Plantago princeps, Platanthera holochila, Pteris lidgatei, Remya mauiensis, Sanicula purpurea, Schiedea haleakalensis, Sesbania tomentosa, Spermolepis hawaiiensis, Tetramolopium capillare, Tetramolopium remyi, Vigna o-wahuensis, and Zanthoxylum hawaiiense on the islands of Maui and Kahoolawe, based on new information and information received during the comment period on the December 18, 2000, proposal. Critical habitat is not proposed for 8 species: Adenophorus periens, Clermontia peleana, Delissea undulata, Phyllostegia parviflora, Schiedea hookeri, Schiedea nuttallii, Solanum incompletum, and Tetramolopium arenarium on the islands of Maui or Kahoolawe because we did not identify habitat essential to their conservation on these islands. Critical habitat is not proposed for Acaena exigua, for which we determined, on December 18, 2000, that critical habitat designation is not prudent because this species has not been seen recently in the wild, and no viable genetic material of this species is known. No change is made to that determination here.

Based on a review of new biological information and public comments received, we have revised our December 18, 2000, proposal to incorporate the following changes in addition to those described above: changes in our approach to delineate proposed critical habitat (see Criteria Used to Identify Critical Habitat); adjustment and refinement of previously identified critical habitat units to more accurately follow the natural topographic features and to avoid inessential landscape features (agricultural crops, urban or rural development) without primary constituent elements; and, inclusion of new areas within the proposed critical habitat units that are essential for the conservation of one or more of the 61 plant species, including portions of Federal land within Haleakala National Park.

Critical Habitat

Critical habitat is defined in section 3 of the Act as—(i) the specific areas within the geographic area occupied by a species, at the time it is listed in accordance with the Act, on which are found those physical or biological features (I) essential to the conservation of the species and (II) that may require special management considerations or protection; and (ii) specific areas outside the geographic area occupied by a species at the time it is listed, upon a determination that such areas are essential for the conservation of the species. “Conservation” means the use of all methods and procedures that are necessary to bring an endangered or a threatened species to the point at which listing under the Act is no longer necessary.

Critical habitat receives protection under section 7 of the Act through the prohibition against destruction or adverse modification of critical habitat with regard to actions carried out, funded, or authorized by a Federal agency. Section 7 also requires conferences on Federal actions that are likely to result in the destruction or adverse modification of proposed critical habitat. Aside from the added protection that may be provided under section 7, the Act does not provide other forms of protection to lands designated as critical habitat. Because consultation under section 7 of the Act does not apply to activities on private or other non-Federal lands that do not involve a Federal nexus, critical habitat designation would not afford any additional regulatory protections under the Act.

Critical habitat also provides non-regulatory benefits to the species by informing the public and private sectors of areas that are important for species recovery and where conservation actions would be most effective. Designation of critical habitat can help focus conservation activities for a listed species by identifying areas that contain the physical and biological features that are essential for the conservation of that species, and can alert the public as well as land-managing agencies to the importance of those areas. Critical habitat also identifies areas that may require special management considerations or protection, and may help provide protection to areas where significant threats to the species have been identified to help to avoid accidental damage to such areas.

In order to be included in a critical habitat designation, the habitat must first be “essential to the conservation of the species.” Critical habitat designations identify, to the extent known using the best scientific and commercial data available, habitat areas that provide at least one of the physical or biological features essential to the conservation of the species (primary constituent elements, as defined at 50 CFR 424.12(b)). Section 3(5)(C) of the Act states that not all areas that can be occupied by a species should be designated as critical habitat unless the Secretary determines that all such areas are essential to the conservation of the species. Our regulations (50 CFR 424.12(e)) also state that, “The Secretary shall designate as critical habitat areas outside the geographic area presently occupied by the species only when a designation limited to its present range would be inadequate to ensure the conservation of the species.”

Section 4(b)(2) of the Act requires that we take into consideration the economic impact, and any other relevant impact, of specifying any particular area as critical habitat. We may exclude areas from critical habitat designation when the benefits of exclusion outweigh the benefits of including the areas within critical habitat, provided the exclusion will not result in extinction of the species.

Our Policy on Information Standards Under the Endangered Species Act, published on July 1, 1994 (59 FR 34271), provides criteria, establishes procedures, and provides guidance to ensure that our decisions represent the best scientific and commercial data available. It requires that our biologists, to the extent consistent with the Act and with the use of the best scientific and commercial data available, use primary and original sources of information as the basis for recommendations to designate critical habitat. When determining which areas are critical habitat, a primary source of information should be the listing rule for the species. Additional information may be obtained from a recovery plan, articles in peer-reviewed journals, conservation plans developed by States and counties, scientific status surveys and studies, and biological assessments or other unpublished materials.

Section 4 requires that we designate critical habitat based on what we know at the time of designation. Habitat is often dynamic, and species may move from one area to another over time. Furthermore, we recognize that designation of critical habitat may not include all of the habitat areas that may eventually be determined to be necessary for the recovery of the species. For these reasons, critical habitat designations do not signal that habitat outside the designation is unimportant or may not be required for recovery. Areas outside the critical habitat designation will continue to be subject to conservation actions that may be implemented under section 7(a)(1) and to the regulatory protections afforded by the section 7(a)(2) jeopardy standard and the section 9 prohibitions, as determined on the basis of the best available information at the time of the action. Federally funded or assisted projects affecting listed species outside their designated critical habitat areas may still result in jeopardy findings in some cases. Similarly, critical habitat designations made on the basis of the best available information at the time of designation will not control the direction and substance of future recovery plans, HCPs, or other species conservation planning efforts if new information available to these planning efforts calls for a different outcome.

A. Prudency Redeterminations

We originally determined that designation of critical habitat was prudent for 37 plants from the islands of Maui and Kahoolawe on December 18, 2000. These species are: Argyroxiphium sandwicense ssp. macrocephalum, Bidens micrantha ssp. kalealaha, Cenchrus agriminoides, Clermontia lindseyana, Clermontia oblongifolia ssp. mauiensis, Colubrina oppositifolia, Ctenitis squamigera, Cyanea grimesiana ssp. grimesiana, Cyanea lobata, Cyanea mceldowneyi, Cyrtandra munroi, Diellia erecta, Diplazium molokaiense, Geranium arboreum, Geranium multiflorum, Hedyotis coriacea, Hedyotis mannii, Hesperomannia arborescens, Hesperomannia arbuscula, Hibiscus brackenridgei, Ischaemum byrone, Lipochaeta kamolensis, Lysmachia lydgatei, Mariscus pennatiformis, Melicope adscendens, Melicope balloui, Melicope mucronulata, Melicope ovalis, Neraudia sericea, Phlegmariurus mannii, Phyllostegia mollis, Pteris lidgatei, Remya mauiensis, Sanicula purpurea, Schiedea haleakalensis, Tetramolopium capillare, and Vigna o-wahuensis. In a previous proposal, published on November 7, 2000, we determined that designation of critical habitat was prudent for 11 plants (Alectryon macrococcus, Bonamia menziesii, Centaurium sebaeoides, Flueggea neowawrae, Melicope knudsenii, Peucedanum sandwicense, Plantago princeps, Platanthera holochila, Sesbania tomentosa, Spermolepis hawaiiensis, Zanthoxlum hawaiiense) that are reported from Maui and Kahoolawe as well as from Kauai and Niihau. In addition, at the time we listed Clermontia samuelii, Cyanea copelandii ssp. haleakalaensis, Cyanea glabra, Cyanea hamatiflora ssp. hamatiflora, Dubautia plantaginea ssp. humilis, and Kanaloa kahoolawensis, on September 3, 1999, we determined that designation of critical habitat was prudent for these six taxa from Maui and Kahoolawe. No change is made to these 54 prudency determinations in this revised proposal and they are hereby incorporated by reference (64 FR 48307; 65 FR 66808; 65 FR 79192).

No change is made here to the prudency determination for Acaena exigua, a species known only from Mt. Waialeale on Kauai and Puu Kukui on Maui, published in the December 18, 2000, proposal and hereby incorporated by reference (65 FR 79192). Acaena exigua has not been seen on Kauai for over 100 years. This species was last observed at Puu Kukui on Maui in 1999 and has not been observed in this area in subsequent surveys (H. Oppenheimer, pers. comm., 2001). In addition, this species is not known to be in storage or under propagation. Given these circumstances, we determined that designation of critical habitat for Acaena exigua was not prudent because such designation would be of no benefit to this species. If this species is rediscovered, we may revise this proposal to incorporate or address new information as new data becomes available (See 16 U.S.C. 1532 (5) (B); 50 CFR 424.13(f)).

In the December 18, 2000, proposal we did not determine prudency nor propose designation of critical habitat for 14 species that we believed no longer occurred on Maui and Kahoolawe but were reported from one or more other islands. We determined that critical habitat was prudent for eight of these species (Adenophorus periens, Brighamia rockii, Delissea undulata, Isodendrion pyrifolium, Phyllostegia mannii, Schiedea nuttallii, Solanum incompletum, and Tetramolopium remyi) in other proposed rules published on November 7, 2000 (Kauai), December 27, 2000 (Lanai), December 29, 2000 (Molokai), and January 28, 2002 (Kauai revised proposal). No change is made to these prudency determinations for these eight species in this proposal and they are hereby incorporated by reference (65 FR 66808, 65 FR 82086, 65 FR 83158, and 67 FR 3940). In this proposal, we propose designation of critical habitat for Brighamia rockii, Isodendrion pyrifolium, Phyllostegia mannii, and Tetramolopium remyi on the island of Maui, based on new information and information received during the comment periods on the December 18, 2000, proposal. Critical habitat is not proposed for Adenophorus periens, Delissea undulata, Schiedea nuttallii, and Solanum incompletum on the islands of Maui and Kahoolawe because we did not identify habitat essential to their conservation on these islands.

To determine whether critical habitat would be prudent for Asplenium fragile var. insulare, a species recently rediscovered on Maui and for which a new prudency determination has not yet been made, we analyzed the potential threats and benefits for this species in accordance with the court orders. This plant was listed as an endangered species under the Act in 1994. At the time Asplenium fragile var. insulare was listed, we determined that designation of critical habitat was not prudent because designation would increase the degree of threat to the species and/or would not benefit the plant. We examined the evidence available for this species and have not, at this time, found specific evidence of taking, vandalism, collection, or trade of this species or of similar species. Consequently, while we remain concerned that these activities could potentially threaten Asplenium fragile var. insulare in the future, consistent with applicable regulations (50 CFR 424.12(a)(1)(i)) and the court's discussion of these regulations, we do not find that this species is currently threatened by taking or other human activity, which would be exacerbated by the designation of critical habitat.

In the absence of finding that critical habitat would increase threats to a species, if there any benefits to critical habitat designation, then a prudent finding is warranted. The potential benefits include: (1) Triggering section 7 consultation in new areas where it would not otherwise occur because, for example, it is or has become unoccupied or the occupancy is in question; (2) focusing conservation activities on the most essential areas; (3) providing educational benefits to State or county governments or private entities; and (4) preventing people from causing inadvertent harm to the species.

In the case of Asplenium fragile var. insulare, there would be some benefits to critical habitat. The primary regulatory effect of critical habitat is the section 7 requirement that Federal agencies refrain from taking any action that destroys or adversely affects critical habitat. Asplenium fragile var. insulare is reported from private, State, and Federal lands on Maui and Hawaii (Federal lands include Haleakala National Park on Maui, and Hawaii Volcanoes National Park and the U.S. Army's Pohakuloa Training Area on the island of Hawaii). While a critical habitat designation for habitat currently occupied by Asplenium fragile var. insulare would not likely change the section 7 consultation outcome, since an action that destroys or adversely modifies such critical habitat would also be likely to result in jeopardy to the species, there may be instances where section 7 consultations would be triggered only if critical habitat were designated. There may also be some educational or informational benefits to the designation of critical habitat. Educational benefits include the notification of landowner(s), land managers, and the general public of the importance of protecting the habitat of this species and dissemination of information regarding its essential habitat requirements. Therefore, we propose that designation of critical habitat is prudent for Asplenium fragile var. insulare.

To determine whether critical habitat would be prudent for six other species (Clermontia peleana, Gouania vitifolia, Nototrichium humile, Phyllostegia parviflora, Schiedea hookeri, and Tetramolopium arenarium) for which prudency determinations have not been made previously, and that no longer occur on Maui but are reported from one or more other islands, we analyzed the potential threats and benefits for these species in accordance with the court's order. These six plants were listed as endangered species under the Act between 1994 and 1996. At the time each plant was listed, we determined that designation of critical habitat was not prudent because designation would increase the degree of threat to the species or would not benefit the plant. We examined the evidence now available for these six species and have not, as this time, found specific evidence of taking, vandalism, collection, or trade of these species or of similar species. Consequently, while we remain concerned that these activities could potentially threaten Clermontia peleana, Gouania vitifolia, Nototrichium humile, Phyllostegia parviflora, Schiedea hookeri, and Tetramolopium arenarium in the future, consistent with applicable regulations (50 CFR 424.12(a)(1)(i)) and the court's discussion of these regulations, we do not find that these species are currently threatened by taking or other human activity, which would be exacerbated by the designation of critical habitat.

In the absence of finding that critical habitat would increase threats to a species, if there any benefits to critical habitat designation, then a prudent finding is warranted. The potential benefits include: (1) Triggering section 7 consultation in new areas where it would not otherwise occur because, for example, it is or has become unoccupied or the occupancy is in question; (2) focusing conservation activities on the most essential areas; (3) providing educational benefits to State or county governments or private entities; and (4) preventing people from causing inadvertent harm to the species.

In the case of Clermontia peleana, Gouania vitifolia, Nototrichium humile, Phyllostegia parviflora, Schiedea hookeri, and Tetramolopium arenarium, there would be some benefits to critical habitat. The primary regulatory effect of critical habitat is the section 7 requirement that Federal agencies refrain from taking any action that destroys or adversely affects critical habitat. Three of these species, Nototrichium humile, Schiedea hookeri, and Tetramolopium arenarium, are reported from Federal lands or lands that are administered by a Federal agency on other islands (Nototrichium humile and Schiedea hookeri are reported from the U.S. Army's Makua Military Reservation and Schofield Barracks Military Reservation, and the U.S. Navy's Lualualei Naval Magazine on the island of Oahu; Tetramolopium arenarium is reported from the U.S. Army's Pohakuloa Training Area on the island of Hawaii) where actions are subject to section 7 consultation. Although Gouania vitifolia and Phyllostegia parviflora are located exclusively on non-Federal lands with limited Federal activities on the islands of Hawaii and/or Oahu, there could be Federal actions affecting these lands in the future. Clermontia peleana was observed in the wild as recently as 1998 on the island of Hawaii on Federal (Hakalau National Wildlife Refuge) and State lands. This species was not relocated in surveys conducted in 1999; however, viable genetic material is in propagation at the State's Volcano Rare Plant Facility on the island of Hawaii, and recovery objectives for this species include propagation and outplanting of propagated individuals within its historic range (Service 1996a). While a critical habitat designation for habitat currently occupied by Gouania vitifolia, Nototrichium humile, Phyllostegia parviflora, Schiedea hookeri, and Tetramolopium arenarium would not likely change the section 7 consultation outcome, since an action that destroys or adversely modifies such critical habitat would also be likely to result in jeopardy to the species, there may be instances where section 7 consultations would be triggered only if critical habitat were designated. Critical habitat may also trigger section 7 consultations for Clermontia peleana that would not otherwise occur. There may also be some educational or informational benefits to the designation of critical habitat. Educational benefits include the notification of landowner(s), land managers, and the general public of the importance of protecting the habitat of these species and dissemination of information regarding their essential habitat requirements. Therefore, we propose that designation of critical habitat is prudent for Clermontia peleana, Gouania vitifolia, Nototrichium humile, Phyllostegia parviflora, Schiedea hookeri, and Tetramolopium arenarium.

B. Methods

As required by the Act (section 4(b)(2)) and regulations at 50 CFR 424.12, we used the best scientific data available to determine areas that are essential to conserve Adenophorus periens, Alectryon macrococcus, Argyroxiphium sandwicense ssp. macrocephalum, Asplenium fragile var. insulare, Bidens micrantha ssp. kalealaha, Bonamia menziesii, Brighamia rockii, Cenchrus agrimonioides, Centaurium sebaeoides, Clermontia lindseyana, Clermontia oblongifolia ssp. mauiensis, Clermontia peleana, Clermontia samuelii, Colubrina oppositifolia, Ctenitis squamigera, Cyanea copelandii ssp. haleakalaensis, Cyanea glabra, Cyanea grimesiana ssp. grimesiana, Cyanea hamatiflora ssp. hamatiflora, Cyanea lobata, Cyanea mceldowneyi, Cyrtandra munroi, Delissea undulata, Diellia erecta, Diplazium molokaiense, Dubautia plantaginea ssp. humilis, Flueggea neowawraea, Geranium arboreum, Geranium multiflorum, Gouania vitifolia, Hedyotis coriacea, Hedyotis mannii, Hesperomannia arborescens, Hesperomannia arbuscula, Hibiscus brackenridgei, Ischaemum byrone, Isodendrion pyrifolium, Kanaloa kahoolawensis, Lipochaeta kamolensis, Lysimachia lydgatei, Mariscus pennatiformis, Melicope adscendens, Melicope balloui, Melicope knudsenii, Melicope mucronulata, Melicope ovalis, Neraudia sericea, Nototrichium humile, Peucedanum sandwicense, Phlegmariurus mannii, Phyllostegia mannii, Phyllostegia mollis, Phyllostegia parviflora, Plantago princeps, Platanthera holochila, Pteris lidgatei, Remya mauiensis, Sanicula purpurea, Schiedea haleakalensis, Schiedea hookeri, Schiedea nuttallii, Sesbania tomentosa, Solanum incompletum, Spermolepis hawaiiensis, Tetramolopium arenarium, Tetramolopium capillare, Tetramolopium remyi, Vigna o-wahuensis, and Zanthoxylum hawaiiense. This information included the known locations; site-specific species information from the HINHP database and our own rare plant database; species information from the CPC's rare plant monitoring database housed at the University of Hawaii's Lyon Arboretum; island-wide GIS coverages (e.g. vegetation, soils, annual rainfall, elevation contours, land ownership); the final listing rules for these 69 species; the December 18, 2000, proposal; information received during the public comment periods and the public hearing; recent biological surveys and reports; our recovery plans for these species; information received in response to outreach materials and requests for species and management information we sent to all landowners, land managers, and interested parties on the islands of Maui and Kahoolawe; discussions with botanical experts; and recommendations from the HPPRCC (see also the discussion below) (Service 1995a, 1995b, 1996a, 1996b, 1997, 1998a, 1998b, 1999, 2001; HPPRCC 1998; HINHP Database 2000, CPC in litt. 1999; 65 FR 79192; R. Hobdy et al., in litt. 2001; J. Lau, in litt. 2001).

In 1994, the HPPRCC initiated an effort to identify and map habitat it believed to be important for the recovery of 282 endangered and threatened Hawaiian plant species. The HPPRCC identified these areas on most of the islands in the Hawaiian chain, and in 1999, we published them in our Recovery Plan for the Multi-Island Plants (Service 1999).

The HPPRCC expects there will be subsequent efforts to further refine the locations of important habitat areas and that new survey information or research finding may also lead to additional refinements of identifying and mapping of habitat important for the recovery of these species.

The HPPRCC identified essential habitat areas for all listed, proposed, and candidate plant species and evaluated species of concern to determine if essential habitat areas would provide for their habitat needs. However, the HPPRCC's mapping of habitat is distinct from the regulatory designation of critical habitat as defined by the Act. More data has been collected since the recommendations made by the HPPRCC in 1998. Much of the area that was identified by the HPPRCC as inadequately surveyed has now been surveyed in some way. New location data for many species has been gathered. Also, the HPPRCC identified areas as essential based on species clusters (areas that included listed species as well as candidate species and species of concern) while we have only delineated areas that are essential for the conservation of the 61 listed species at issue. As a result, the proposed critical habitat designations in this proposed rule include not only some habitat that was identified as essential in the 1998 recommendations but also habitat that was not identified as essential in those recommendations.

C. Primary Constituent Elements

In accordance with section 3(5)(A)(i) of the Act and regulations at 50 CFR 424.12, in determining which areas to propose as critical habitat, we are required to base critical habitat determinations on the best scientific and commercial data available and to consider those physical and biological features (primary constituent elements) that are essential to the conservation of the species and that may require special management considerations or protection. Such requirements include, but are not limited to, space for individual and population growth, and for normal behavior; food, water, air, light, minerals, or other nutritional or physiological requirements; cover or shelter; sites for breeding, reproduction, or rearing of offspring, germination, or seed dispersal; and habitats that are protected from disturbance or are representative of the historic geographical and ecological distributions of a species.

In the December 18, 2000, proposal, we determined that the designation of critical habitat was prudent for 37 plant species known currently from the islands of Maui or Kahoolawe and in that proposal we identified the physical and biological features that are considered essential to the conservation of the 37 species on the islands of Maui or Kahoolawe (65 FR 79192). In a previous proposal, published on November 7, 2000, we determined that designation of critical habitat was prudent for 11 plants (Alectryon macrococcus, Bonamia menziesii, Centaurium sebaeoides, Flueggea neowawrae, Melicope knudsenii, Peucedanum sandwicense, Plantago princeps, Platanthera holochila, Sesbania tomentosa, Spermolepis hawaiiensis, Zanthoxlum hawaiiense) that are reported from Maui and Kahoolawe as well as from Kauai and Niihau. In the December 18, 2000, proposal, we identified the physical and biological features that are considered essential to the conservation of these 11 species on the islands of Maui or Kahoolawe (65 FR 79192). In addition, at the time we listed Clermontia samuelii, Cyanea copelandii ssp. haleakalaensis, Cyanea glabra, Cyanea hamatiflora ssp. hamatiflora, Dubautia plantaginea ssp. humilis, and Kanaloa kahoolawensis, on September 3, 1999, we determined that designation of critical habitat was prudent for these six taxa from Maui and Kahoolawe. In the December 18, 2000, proposal, we identified the physical and biological features that are considered essential to the conservation of these six species on the islands of Maui or Kahoolawe (65 FR 79192). Based on new information and information received regarding the physical and biological features that are considered essential to the conservation of these 54 species during the comment periods on the December 18, 2000, proposal, we have revised the physical and biological features that are considered essential to the conservation of these 54 plant species on the islands of Maui and Kahoolawe.

In other proposals published on December 27, 2000, December 29, 2000, or on January 28, 2002, we determined that the designation of critical habitat was prudent for eight species (Adenophorus periens, Brighamia rockii, Delissea undulata, Isodendrion pyrifolium, Phyllostegia mannii, Schiedea nuttallii, Solanum incompletum, and Tetramolopium remyi) that no longer occur on Maui and Kahoolawe but are reported from one or more other islands. Based on new information and information received during the comment periods on the December 18, 2000, proposal regarding the physical and biological features (i.e. locale information, elevation, vegetation, and associated species) that are considered essential to the conservation of four of these eight species, we have identified the physical and biological features that are considered essential to the conservation of Brighamia rockii, Isodendrion pyrifolium, Phyllostegia mannii, and Tetramolopium remyi on the island of Maui. We are unable to identify these features for Adenophorus periens, Delissea undulata, Schiedea nuttallii, and Solanum incompletum on the island of Maui because information on these features for these species on Maui is not available at this time. Therefore, we were not able to identify the specific areas outside the geographic areas occupied by these species at the time of their listing (unoccupied habitat) that are essential for the conservation of Adenophorus periens, Delissea undulata, Schiedea nuttallii, and Solanum incompletum on the island of Maui. However, proposed critical habitat designations for Adenophorus periens, Delissea undulata, and Schiedea nuttallii were included in proposals published on November 7, 2000, or December 29, 2000 (65 FR 66808; 65 FR 83158). In addition, we will consider proposing designation of critical habitat for Adenophorus periens, Delissea undulata, Schiedea nuttallii, and Solanum incompletum within the historic range for each species on other Hawaiian Islands.

In this proposal, we determine that the designation of critical habitat is prudent for Asplenium fragile var. insulare, a species recently rediscovered on Maui and for which a prudency determination has not been made previously. Based on new information received on the rediscovered population in Kalialinui regarding the physical and biological features (such as locale information, vegetation type, elevational range, and associated species) that are considered essential to the conservation of Asplenium fragile var. insulare we have identified the physical and biological features that are considered essential to the conservation of Asplenium fragile var. insulare on the island of Maui.

In this proposal, we determine that the designation of critical habitat is prudent for six species (Clermontia peleana, Gouania vitifolia, Nototrichium humile, Phyllostegia parviflora, Schiedea hookeri, and Tetramolopium arenarium) for which prudency determinations have not been made previously, and that no longer occur on Maui but are reported from one or more other islands. Based on new information and information received regarding the physical and biological features that are considered essential to the conservation of Gouania vitifolia and Nototrichium humile during the comment periods on the December 18, 2000, proposal, we have identified the physical and biological features that are considered essential to the conservation of these two species on the island of Maui. These features include locale information, elevational range, vegetation type, and associated species for both Gouania vitifolia and Nototrichium humile. Information on the locale, elevational range, vegetation type, and associated species for Clermontia peleana, Phyllostegia parviflora, Schiedea hookeri, and Tetramolopium arenarium is not available at this time and thus we are unable to identify these features for Clermontia peleana, Phyllostegia parviflora, Schiedea hookeri, and Tetramolopium arenarium on the island of Maui. Therefore, we were not able to identify the specific areas outside the geographic areas occupied by these species at the time of their listing (unoccupied habitat) that are essential for the conservation of Clermontia peleana, Phyllostegia parviflora, Schiedea hookeri, and Tetramolopium arenarium on the island of Maui. However, we will consider proposing designation of critical habitat for Clermontia peleana, Phyllostegia parviflora, Schiedea hookeri, and Tetramolopium arenarium within the historic range for each species on other Hawaiian Islands.

All areas proposed as critical habitat are within the historical range of one or more of the 61 species at issue and contain one or more of the physical or biological features (primary constituent elements) essential for the conservation of one or more of the species.

As described in the discussions for each of the 61 species for which we are proposing critical habitat, we are proposing to define the primary constituent elements on the basis of the habitat features of the areas from which the plant species are reported, as described by the type of plant community, associated native plant species, locale information (e.g., steep rocky cliffs, talus slopes, stream banks), and elevation. The habitat features provide the ecological components required by the plant. The type of plant community and associated native plant species indicates specific microclimate conditions, retention and availability of water in the soil, soil microorganism community, and nutrient cycling and availability. The locale provides information on soil type, elevation, rainfall regime, and temperature. Elevation indicates information on daily and seasonal temperature and sun intensity. Therefore, the descriptions of the physical elements of the locations of each of these species, including habitat type, plant communities associated with the species, location, and elevation, as described in the Supplementary Information: Discussion of the Plant Taxa section above, constitute the primary constituent elements for these species on the islands of Maui and Kahoolawe.

D. Criteria Used to Identify Critical Habitat

In the December 18, 2000, proposal we defined the primary constituent elements based on the general habitat features of the areas in which the plants currently occur such as the type of plant community the plants are growing in, their physical location (e.g., steep rocky cliffs, talus slopes, stream banks), and elevation. The areas we proposed to designate as critical habitat provided some or all of the habitat components essential for the conservation of the 61 plant species. Specific details regarding the delineation of the proposed critical habitat units were given in the December 18, 2000, proposal (65 FR 79192). In that proposal, we did not include potentially suitable unoccupied habitat that is important to the recovery of the 61 species due to our limited knowledge of the historical range (the geographical area outside the area presently occupied by the species) and our lack of more detailed information on the specific physical or biological features essential for the conservation of the species.

However, following publication of the December 18, 2000 (65 FR 79192), proposal we received new information regarding the physical and biological features, such as locale information, elevational range, vegetation type, and associated species that are considered essential for the conservation of many of these 61 species and information on potentially suitable habitat within the historical range for many of these species. Based on a review of this new biological information and public comments received following publication of the other three proposals to designate critical habitat for Hawaiian plants on Kauai and Niihau (65 FR 66808), Lanai (65 FR 82086), and Molokai (65 FR 83158), we have reevaluated the manner in which we delineated proposed critical habitat. In addition, we met with members of the HPPRCC and State, Federal, and private entities to discuss criteria and methods to delineate critical habitat units for these Hawaiian plants.

While the lack of detailed scientific data on the life history of these plant species makes it impossible for us to develop a robust quantitative model (e.g., population viability analysis (NRC 1995)) to identify the optimal number, size, and location of critical habitat units to achieve recovery (Beissinger and Westphal 1998; Burgman et al. 2001; Ginzburg et al. 1990; Karieva and Wennergren 1995; Menges 1990; Murphy et al. 1990; Taylor 1995), at this time, and consistent with the listing of these species and their recovery plans, the best available information leads us to conclude that the current size and distribution of the extant populations are not sufficient to expect a reasonable probability of long-term survival and recovery of these plant species. Therefore, we used available information, including expert scientific opinion, to identify potentially suitable habitat within the known historic range of each species.

We considered several factors in the selection and proposal of specific boundaries for critical habitat for these 61 species. For each of these species, the overall recovery strategy outlined in the approved recovery plans includes the following components: (1) stabilization of existing wild populations, (2) protection and management of habitat, (3) enhancement of existing small populations and reestablishment of new populations within historic range, and (4) research on species' biology and ecology (Service 1995a, 1995b, 1996a, 1996b, 1997, 1998a, 1998b, 1999, 2001). Thus, the long-term recovery of these species is dependent upon the protection of existing population sites and potentially suitable unoccupied habitat within historic range.

The overall recovery goal stated in the recovery plans for each of these species includes the establishment of 8 to 10 populations with a minimum of 100 mature individuals per population for long-lived perennial species, 300 individuals per population for short-lived perennial species, and 500 mature individuals per population for annual species. There are some specific exceptions to this general recovery goal of 8 to 10 populations for species that are believed to historically have occurred as one large, scattered population (e.g., Argyroxiphium sandwicense ssp. macrocephalum (Service 1997)), and the proposed critical habitat designations reflect this exception for this species. To be considered recovered, each population of a species endemic to the islands of Maui or Kahoolawe should occur on the island to which it is endemic, and likewise the populations of a multi-island species should be distributed among the islands of its known historic range (Service 1995a, 1995b, 1996a, 1996b, 1997, 1998a, 1998b, 1999, 2001). A population, for the purposes of this discussion and as defined in the recovery plans for these species, is a unit in which the individuals could be regularly cross-pollinated, influenced by the same small-scale events (such as landslides), and containing 100, 300, or 500 individuals, depending on whether the species is a long-lived perennial, short-lived perennial, or annual.

By adopting these specific recovery objectives enumerated here, the adverse effects of genetic inbreeding and random environmental events and catastrophes, such as landslides, hurricanes, or tsunamis, that could destroy a large percentage of the species at any one time may be reduced (Menges 1990; Podolsky 2001). These recovery objectives were initially developed by the HPPRCC and are found in all of the recovery plans for these species. While they are expected to be further refined as more information on the population biology of each species becomes available, the justification for these objectives is found in the current conservation biology literature addressing the conservation of rare and endangered plants and animals (Beissinger and Westphal 1998; Burgman et al. 2001; Falk et al. 1996; Ginzburg et al. 1990; Hendrix and Kyhl 2000; Karieva and Wennergren 1995; Luijten et al. 2000; Meffe and Carroll 1996; Podolsky 2000; Menges 1990; Murphy et al. 1900; Quintana-Ascencio and Menges 1996; Taylor 1995; Tear et al. 1995; Wolf and Harrison 2001). The overall goal of recovery in the short-term is a successful population that can carry on basic life-history processes, such as establishment, reproduction, and dispersal, at a level where the probability of extinction is low. In the long-term, the species and its populations should be at a reduced risk of extinction and be adaptable to environmental change through evolution and migration.

The long-term objectives, as reviewed by Pavlik (1996), require from 50 to 2,500 individuals per population, based largely on research and theoretical modeling on endangered animals, since much less research has been done on endangered plants. Many aspects of a species life history are typically considered to determine guidelines for species interim stability and recovery, including longevity, breeding system, growth form, fecundity, ramet (a plant that is an independent member of a clone) production, survivorship, seed duration, environmental variation, and successional stage of the habitat. Hawaiian species are poorly studied, and the only one of these characteristics that can be uniformly applied to all Hawaiian plant species is longevity (i.e., long-lived perennial, short-lived perennial, and annual). In general, long-lived woody perennial species would be expected to be viable at population levels of 50 to 250 individuals per population, while short-lived perennial species would be viable at population levels of 1,500 to 2,500 individuals or more per population. These population numbers were refined for Hawaiian plant species by the HPPRCC (1994) due to the restricted distribution of suitable habitat typical of Hawaiian plants and the likelihood of smaller genetic diversity of several species that evolved from one single introduction. For recovery of Hawaiian plants, the HPPRCC recommended a general recovery guideline of 100 mature individuals per population for long-lived perennial species, 300 individuals per population for short-lived perennial species, and 500 individuals per population for annual species.

For Argyroxiphium sandwicense ssp. macrocephalum, the recovery goal is one population of greater than 50,000 individuals. This is based on the best scientific judgment of Hawaiian botanical experts, including HPPRCC members, who developed the recovery plan for this species, that this species probably occurred historically as one single population (Service 1997). The large number of total individuals is based on the more detailed knowledge available on the life history of this species, including the fact that it is a monocarpic species (only flowering once before dying), requires 15 to 50 years to mature, and must be cross-pollinated from a genetically different plant to produce viable seeds (Loope and Medeiros 1994, Carr et al. 1986). All of these characteristics indicate the need for more individuals in order to maintain a genetically diverse, viable population (Pavlik 1996).

The HPPRCC also recommended the conservation and establishment of 8 to 10 populations to address the numerous risks to the long-term survival and conservation of Hawaiian plant species. However, as explained above, the recovery goal for Argyroxiphium sandwicense ssp. macrocephalum is one population, rather than 8 to 10 populations, of greater than 50,000 individuals. Although absent the detailed information inherent to the types of PVA models described above (Burgman et al. 2001), this approach employs two widely recognized and scientifically accepted goals for promoting viable populations of listed species—(1) creation or maintenance of multiple populations so that a single or series of catastrophic events cannot destroy the whole listed species (Luijten et al. 2000; Menges 1990; Quintana-Ascencio and Menges 1996); and (2) increasing the size of each population in the respective critical habitat units to a level where the threats of genetic, demographic, and normal environmental uncertainties are diminished (Hendrix and Kyhl 2000; Luijten et al. 2000; Meffe and Carroll 1996; Podolsky 2000; Service 1997; Tear et al. 1995; Wolf and Harrison 2001). In general, the larger the number of populations and the larger the size of each population, the lower the probability of extinction (Raup 1991; Meffe and Carroll 1996). This basic conservation principle of redundancy applies to Hawaiian plant species. By maintaining 8 to 10 viable populations in the several proposed critical habitat units, the threats represented by a fluctuating environment are alleviated and the species has a greater likelihood of achieving long-term survival and conservation. Conversely, loss of one or more of the plant populations within any critical habitat unit could result in an increase in the risk that the entire listed species may not survive and recover.

Due to the reduced size of suitable habitat areas for these Hawaiian plant species, they are now more susceptible to the variations and weather fluctuations affecting quality and quantity of available habitat, as well as direct pressure from hundreds of species of non-native plants and animals. Establishing and conserving 8 to10 viable plant populations on one or more islands within the historic range of the species will provide each species with a reasonable expectation of persistence and eventual recovery, even with the high potential that one or more of these populations will be eliminated by normal or random adverse events, such as hurricanes which occurred in 1982 and 1992 on Kauai, fires, and alien plant invasions (HPPRCC 1994; Luijten et al. 2000; Mangel and Tier 1994; Pimm et al. 1998; Stacey and Taper 1992). We conclude that designation of adequate suitable habitat for 8 to 10 populations as critical habitat is essential to give the species a reasonable likelihood of long-term survival and recovery, based on currently available information.

In summary, the long-term survival and recovery requires the designation of critical habitat units on one or more of the Hawaiian islands with suitable habitat for 8 to 10 populations of each plant species except Argyroxiphium sandwicense ssp. macrocephalum as explained above. Some of this habitat is currently not known to be occupied by these species. To recover the species, it will be necessary to conserve suitable habitat in these unoccupied units, which in turn will allow for the establishment of additional populations through natural recruitment or managed reintroductions. Establishment of these additional populations will increase the likelihood that the species will survive and recover in the face of normal and stochastic events (e.g., hurricanes, fire, and non-native species introductions) (Pimm et al. 1998; Stacey and Taper 1992; Mangel and Tier 1994).

In this proposal, we have defined the primary constituent elements based on the general habitat features of the areas from which the plants are reported, from such as the type of plant community the plants are reported from, the associated native plant species, the physical location (e.g., steep rocky cliffs, talus slopes, streambanks), and elevation. The areas we are proposing to designate as critical habitat provide some or all of the habitat components essential for the conservation of the 61 plant species.

Changes in our approach to delineate proposed critical habitat units were incorporated in the following manner:

1. We focused on designing units representative of the known current and historical geographic and elevational range of each species;

2. Proposed critical habitat units would allow for expansion of existing wild populations and reestablishment of wild populations within historic range, as recommended by the recovery plans for each species; and

3. Critical habitat boundaries were delineated in such a way that areas with overlapping occupied or suitable unoccupied habitat could be depicted clearly (multi-species units).

We began by creating rough units for each species by screen digitizing polygons (map units) using ArcView (ESRI), a computer GIS program. The polygons were created by overlaying current and historic plant location points onto digital topographic maps of each of the islands.

The resulting shape files (delineating historic range and potential, suitable habitat) were then evaluated. Elevation ranges were further refined, and land areas identified as not suitable for a particular species (i.e., not containing the primary constituent elements) were avoided. The resulting shape files for each species then were considered to define all suitable habitat on the island, including occupied and unoccupied habitat.

These shape files of suitable habitat were further evaluated. Several factors were then used to delineate the proposed critical habitat units from these land areas. We reviewed the recovery objectives as described above and in recovery plans for each of the species to determine if the number of populations and population size requirements needed for conservation would be available within the critical habitat units identified as containing the appropriate primary constituent elements for each species. For multi-island species multiple populations of each taxon were identified on islands where they now occur or occurred historically. Because of the need to propose critical habitat on an island by island basis for multi-island species we evaluated the historical distribution of each multi-island species throughout Hawaii, to the best of our ability. We expect to refine proposed areas for these multi-island species once all the proposed rules for the Hawaiian Islands are published. This refinement will be based on an evaluation on what is essential to the species on these islands throughout its historical distribution. Of the areas identified as potentially suitable habitat, only those areas within the least-disturbed suitable habitat and that were determined were proposed as critical habitat. A population for this purpose is defined as a discrete aggregation of individuals located a sufficient distance from a neighboring aggregation such that the two are not affected by the same small-scale events and are not believed to be consistently cross-pollinated. In the absence of more specific information indicating the appropriate distance to assure limited cross-pollination, we are using a distance of 1,000 m (3,281 ft) based on our review of current literature on gene flow (Barret and Kohn 1991; Fenster and Dudash 1994; Havens 1998; M.H. Schierup and F.B. Christiansen 1996).

Using the above criteria, we delineated the proposed critical habitat for each species. When species units overlapped, we combined units for ease of mapping. Such critical habitat units encompass a number of plant communities. Using satellite imagery and parcel data, we then eliminated areas that did not contain the appropriate vegetation, associated native plant species, or elevations such as cultivated agriculture fields, housing developments, or other areas that are unlikely to contribute to the conservation of one or more of the 61 plant species. Geographic features (ridge lines, valleys, streams, coastlines, etc.) or man-made features (roads or obvious land use) that created an obvious boundary for a unit were used as unit area boundaries. We also used watershed delineations to dissect very large proposed critical habitat units in order to simplify the unit mapping and their descriptions.

Within the critical habitat boundaries, section 7 consultation is necessary and adverse modification could occur if the primary constituent elements are affected. Therefore, not all activities within critical habitat would trigger an adverse modification conclusion. In defining critical habitat boundaries, we made an effort to avoid developed areas, such as towns and other similar lands, that are unlikely to contribute to the conservation of the 61 species. However, the minimum mapping unit that we used to approximate our delineation of critical habitat for these species did not allow us to exclude all such developed areas. In addition, existing features and structures within the boundaries of the mapped unit, such as buildings, roads, aqueducts, telecommunications equipment, telemetry antennas, radars, missile launch sites, arboreta and gardens, heiau (indigenous places of worship or shrines), airports, other paved areas, and other rural residential landscaped areas do not contain one or more of the primary constituent elements and would be excluded under the terms of this proposed regulation. Federal actions limited to those areas, therefore, would not trigger a section 7 consultation, unless they affect the species and/or primary constituent elements in adjacent critical habitat.

In summary, for most of these species we utilized the approved recovery plan guidance to identify appropriately sized land units containing suitable occupied and unoccupied habitat. Based on the best available information, we believe these areas constitute the habitat necessary to provide for the conservation of these 61 species.

E. Managed Lands

Currently occupied and historically known sites containing one or more of the primary constituent elements considered essential to the conservation of these 61 plant species were examined to determine if additional special management considerations or protection are required above those currently provided. We reviewed all available management information on these plants at these sites, including published reports and surveys; annual performance and progress reports; management plans; grants; memoranda of understanding and cooperative agreements; DOFAW planning documents; internal letters and memos; biological assessments and environmental impact statements; and section 7 consultations. Additionally, each public (i.e., county, State, or Federal government holdings) and private landowner on the islands of Maui and Kahoolawe with a known occurrence of one of the 61 species was contacted by mail. We reviewed all information received in response to our landowner mailing and open houses held at two locations (the Lahaina Civic Center and the Wailuku Community Center) on the island of Maui on January 11 and 12, 2000, respectively. When clarification was required on the information provided to us, we followed up with a telephone contact. Because of the large amount of land on the island of Maui under State of Hawaii jurisdiction, we met with staff from the DOFAW office in Maui to discuss their current management for the plants on their lands. We also contacted the State's DHHL regarding management for the plants on lands under their jurisdiction (any species of aquatic life, wildlife, or plant that is federally listed as endangered or threatened is State listed as well). In addition, we reviewed new biological information and public comments received during the public comment periods and at the public hearing.

Pursuant to the definition of critical habitat in section 3 of the Act, the primary constituent elements as found in any area so designated must also require “special management considerations or protections.” Adequate special management or protection is provided by a legally operative plan that addresses the maintenance and improvement of the essential elements and provides for the long-term conservation of the species. We consider a plan adequate when it: (1) Provides a conservation benefit to the species (i.e., the plan must maintain or provide for an increase in the species' population or the enhancement or restoration of its habitat within the area covered by the plan); (2) provides assurances that the management plan will be implemented (i.e., those responsible for implementing the plan are capable of accomplishing the objectives, have an implementation schedule and/or have adequate funding for the management plan); and (3) provides assurances the conservation plan will be effective (i.e., it identifies biological goals, has provisions for reporting progress, and is of a duration sufficient to implement the plan and achieves the plan's goals and objectives). If an area is covered by a plan that meets these criteria, it does not constitute critical habitat as defined by the Act because the primary constituent elements found there are not in need of special management.

In determining and weighing the relative significance of the threats that would need to be addressed in management plans or agreements, we considered the following:

(1) The factors that led to the listing of the species, as described in the final rules for listing each of the species. Effects of clearing and burning for agricultural purposes and of invasive non-native plant and animal species have contributed to the decline of nearly all endangered and threatened plants in Hawaii (Smith 1985; Howarth 1985; Stone 1985; Wagner et al. 1985; Scott et al. 1986; Cuddihy and Stone 1990; Vitousek 1992; Service 1995a, 1995b, 1996a, 1996b, 1997, 1998a, 1998b, 1999, 2001; Loope 1998).

Current threats to these species include non-native grass and shrub-carried wildfire; browsing, digging, rooting, and trampling from feral ungulates (including goats, deer, and pigs); direct and indirect effects of non-native plant invasions, including alteration of habitat structure and microclimate; and disruption of pollination and gene-flow processes by adverse effects of mosquito-borne avian disease on forest bird pollinators, direct competition between native and non-native insect pollinators for food, and predation of native insect pollinators by non-native hymenopteran insects (ants). In addition, physiological processes such as reproduction and establishment continue to be stifled by fruit- and flower-eating pests such as non-native arthropods, mollusks, and rats, and photosynthesis and water transport affected by non-native insects, pathogens, and diseases. Many of these factors interact with one another, thereby compounding effects. Such interactions include non-native plant invasions altering wildfire regimes, feral ungulates vectoring weeds and disturbing vegetation and soils, thereby facilitating dispersal and establishment of non-native plants, and numerous non-native insects feeding on native plants, thereby increasing their vulnerability and exposure to pathogens and disease (Cuddihy and Stone 1990; Mack 1992; Scott et al. 1986; Howarth 1985, Smith 1985; D'Antonio and Vitousek 1992, Tunison et al. 1992; Service 1995a, 1995b, 1996a, 1996b, 1997, 1998a, 1998b, 1999, 2001; Bruegmann et al. 2001).

(2) The recommendations from the HPPRCC in their 1998 report to us (“Habitat Essential to the Recovery of Hawaiian Plants”). As summarized in this report, recovery goals for endangered Hawaiian plant species cannot be achieved without the effective control of non-native species threats, wildfire, and land use changes.

(3) The management actions needed for assurance of survival and ultimate recovery of Hawaii's endangered plants. These actions are described in our recovery plans for these 61 species (Service 1995a, 1995b, 1996a, 1996b, 1997, 1998a, 1998b, 1999, 2001), in the 1998 HPPRCC report to the Service (HPPRCC 1998), and in various other documents and publications relating to plant conservation in Hawaii (Mueller-Dombois 1985; Smith 1985; Stone 1985; Cuddihy and Stone 1990; Stone et al. 1992). In addition to monitoring the plant populations, these actions include, but are not limited to: (1) Feral ungulate control; (2) non-native plant control; (3) rodent control; (4) invertebrate pest control; (5) fire management; (6) maintenance of genetic material of the endangered and threatened plant species; (7) propagation, reintroduction, or augmentation of existing populations into areas deemed essential for the recovery of these species; (8) ongoing management of the wild, outplanted, and augmented populations; and (9) habitat management and restoration in areas deemed essential for the recovery of these species.

In general, taking all of the above recommended management actions into account, the following management actions are ranked in order of importance (Service 1995a, 1995b, 1996a, 1996b, 1997, 1998a, 1998b, 1999, 2001). It should be noted, however, that, on a case-by-case basis, some of these actions may rise to a higher level of importance for a particular species or area, depending on the biological and physical requirements of the species and the location(s) of the individual plants; feral ungulate control; wildfire management; non-native plant control; rodent control; invertebrate pest control; maintenance of genetic material of the endangered and threatened plant species; propagation, reintroduction, or augmentation of existing populations into areas deemed essential for the recovery of the species; ongoing management of the wild, outplanted, and augmented populations; maintenance of natural pollinators and pollinating systems, when known; habitat management and restoration in areas deemed essential for the recovery of the species; monitoring of the wild, outplanted, and augmented populations; rare plant surveys; and control of human activities/access.

As shown in Table 3, the proposed critical habitat designations for 61 species of plants are found on Federal, State, and private lands on the islands of Maui and Kahoolawe. In response to our public notices; letters to landowners; open houses; meetings; the December 18, 2000, proposal; public comment periods; and the March 20, 2001, public hearing along with information in our files, we received varying amounts and various types of information on the conservation management actions occurring on these lands. Some landowners reported that they are not conducting conservation management actions on their lands while others provided information on various activities such as fencing, weeding, ungulate control, hunting, control of human access, scientific research, fire control, and propagation and planting of native plants.

Federal Lands

The Sikes Act Improvements Act of 1997 (Sikes Act) requires each military installation that includes land and water suitable for the conservation and management of natural resources to complete, by November 17, 2001, an INRMP. An INRMP integrates implementation of the military mission of the installation with stewardship of the natural resources found there. Each INRMP includes an assessment of the ecological needs on the installation, including needs to provide for the conservation of listed species; a statement of goals and priorities; a detailed description of management actions to be implemented to provide for these ecological needs; and a monitoring and adaptive management plan. We consult with the military on the development and implementation of INRMPs for installations with listed species. We believe that bases that have completed and approved INRMPs that address the needs of the species generally do not meet the definition of critical habitat discussed above, because they require no additional special management or protection. Therefore, we do not include these areas in critical habitat designations if they meet the following three criteria: (1) a current INRMP must be complete and provide a conservation benefit to the species; (2) the plan must provide assurances that the conservation management strategies will be implemented; and (3) the plan must provide assurances that the conservation management strategies will be effective, by providing for periodic monitoring and revisions as necessary. If all of these criteria are met, then the lands covered under the plan would not meet the definition of critical habitat.

One species, Sesbania tomentosa, occurs on Kanaio Training Area (Hawaii Army National Guard) lands on the island of Maui, and we believe this land is essential for the conservation of this species. In 1998, funds were provided for protective fencing and monitoring of Sesbania tomentosa on this land. Since then, however, these management activities for Sesbania tomentosa have been curtailed due to a lack of funding (Lt. Col. Richard Young, Hawaii Army National Guard, in litt. 2000). Because appropriate conservation management strategies has not been adequately funded or effectively implemented for Sesbania tomentosa on this land, we cannot at this time find that management of this land under Federal jurisdiction is adequate to preclude a proposed designation of critical habitat. However, if an INRMP or other endangered species management plan that addresses the maintenance and improvement of the essential elements for Sesbania tomentosa, and provides for its long-term conservation and assurances that the conservation management strategies will be effective and implemented, we will reassess the critical habitat boundaries in light of these management plans. Also, we may exclude these military lands under section 4(b)(2) of the Act if benefits of exclusion outweigh the benefits of including the areas within critical habitat, provided the exclusion will not result in extinction of the species. Therefore, this area has been included within the proposed critical habitat units.

Contractors for the U.S. Navy are clearing the State-owned island of Kahoolawe of military ordinance utilizing Congressional funding that expires in 2003. The Navy has consulted with the Service under section 7 of the Act to ensure protection of threatened and endangered species during the clearance activities. In June 1998, the State of Hawaii Kahoolawe Island Reserve Commission developed an environmental restoration plan for Kahoolawe (Social Science Research Institute, University of Hawaii 1998). The plan, however, does not address specific management actions to protect and conserve endangered plant species. While the island is isolated and remote, and access is restricted due to the presence of unexploded ordnance hazards, this action alone is not sufficient to indicate that additional special management is not required for the listed plant species, and areas on the island are included within the proposed critical habitat units for Kanaloa kahoolawensis, Hibiscus brackenridgei, Sesbania tomentosa, and Vigna o-wahuensis.

Protective fencing and monitoring of the endangered plant Sesbania tomentosa on the leased U.S. military lands (Hawaii Army National Guard) at Kanaio Training Area, Maui, were initially funded in 1998. Since then, however, these management activities for Sesbania tomentosa have been curtailed due to a lack of funding (Lt. Col. Richard Young, Hawaii Army National Guard, in litt. 2000). Therefore, this area has been included within the proposed critical habitat units.

Twelve species (Argyroxiphium sandwicense ssp. macrocephalum, Asplenium fragile var. insulare, Bidens micrantha ssp. kalealaha, Clermontia samuelii, Cyanea copelandii ssp. haleakalaensis, Cyanea hamatiflora ssp. hamatiflora, Geranium arboreum, Geranium multiflorum, Melicope balloui, Melicope ovalis, Plantago princeps, and Schiedea haleakalaensis) are reported from U.S. National Park lands at Haleakala National Park, Maui (GDSI 2000; HINHP 2000). In the December 18, 2000, proposal we determined that lands within the Park were adequately managed for the conservation of the listed species that occur on those lands and were not in need of special management considerations or protection. Therefore, we determined that these lands did not meet the definition of critical habitat in the Act, and we did not propose designation of these lands as critical habitat. However, during the comment periods on the December 18, 2000, proposal we received information from the Park Superintendent that funding for the conservation and management of the listed plant species on lands within Haleakala National Park may not be adequate nor sufficiently certain every year to support a determination that these lands do not meet the definition of critical habitat. Thus, lands within the Haleakala National Park are included in this proposal.

State of Hawaii Lands

Two plant species, Geranium multiflorum and Clermontia samuelii ssp. hanaensis, are reported from the upper areas of Hanawi Natural Area Reserve (HNAR) (GDSI 2000; HINHP Database 2000). The HNAR was established in 1986, and comprises 3,035 ha (7,500 ac) of diverse native ecosystems and endangered forest bird habitats. Natural Area Reserves are managed by the Department of Land and Natural Resources (DLNR), except that any use must be specifically approved by the Natural Area Reserve System Commission. Natural Area Reserves are held in trust by the State and may not be alienated except upon a finding by the DLNR of an imperative and unavoidable necessity. DLNR must provide public notice and conduct public hearings before revoking or modifying an executive order that sets aside lands for the reserve system (Haw. Rev. Stat. §§ 195-1—195-11). The primary goals of the HNAR are to: (1) Protect the upper areas of the reserve by fencing smaller manageable units to restrict pig movements; (2) prevent degradation of native forest by reducing feral ungulate damage; and (3) improve or maintain the integrity of native ecosystems in selected areas of the preserve by reducing the effects of non-native plants.

Specific management actions to address feral ungulate impacts include the construction of fences, including strategic fencing of smaller manageable units, and staff hunting. Currently, the upper 809 ha (2,000 ac) has been fenced and pigs removed. Fences are constructed along the western boundaries of the HNAR, along the 1,585 m (5,200 ft) contour to the east up to the Haleakala National Park boundary on State land. The Haleakala National Park fence serves as the upper fence boundary for HNAR. Additionally, fences have been constructed to separate three distinct management units: Puu Alaea Unit, Poouli Unit, and Kuhiwai/Waieleele Unit. Since the removal of pigs in these upper forest units of the HNAR, vegetation monitoring has been implemented to determine recovery of native plant species. Currently, a fence is being constructed along the 1,100 m (3,600 ft) contour of the HNAR which will comprise the “middle forest unit” (B. Evanson, pers. comm., 1999).

The non-native plant control program within HNAR focuses on habitat-modifying non-native plants (weeds). A weed priority list has been compiled for HNAR, and control and monitoring of the highest priority species are ongoing. Weeds are controlled manually, chemically, or through a combination of both. Monitoring transects help locate developing populations of other priority weed species and, if necessary, removal of these populations is conducted (DLNR 1989).

Because these plants and their habitats within the upper areas of Hanawi NAR (above 1,525 m (5,000 ft)) are permanently protected and managed by State law and because the continued successful management of this area is assured by State funding, this area is not in need of special management considerations or protection. Therefore, we have determined that the State land within the upper areas of Hanawi NAR does not meet the definition of critical habitat in the Act, and we are not proposing designation of this area as critical habitat. Should the status of this reserve change, for example by revocation or modification of the NAR, we will reconsider whether it then meets the definition of critical habitat. If so, we have the authority to propose to amend critical habitat to include such area at that time. 50 CFR 424.12(g).

Private Lands

Ten species (Alectryon macrococcus, Argyroxiphium sandwicense ssp. macrocephalum, Asplenium fragile var. insulare, Bonamia menziesii, Ctenitis squamigera, Cyanea lobata, Diplazium molokaiense, Geranium arboreum, Geranium multiflorum, and Platanthera holochila) are reported from The Nature Conservancy's Waikamoi and Kapunakea Preserves which are located on the northeast slopes of Haleakala and in the West Maui mountains, respectively (The Nature Conservancy of Hawaii (TNCH) 1997, 1998; GDSI 2000; HINHP Database 2000). Both preserves were established by grants of perpetual conservation easements from the private landowners to TNCH and are included in the State's Natural Area Partnership (NAP) program, which provides matching funds for the management of private lands that have been permanently dedicated to conservation (TNCH 1997, 1998).

Under the NAP program, the State of Hawaii provides matching funds on a two-for-one basis for management of private lands dedicated to conservation. In order to qualify for this program, the land must be dedicated in perpetuity through transfer of fee title or a conservation easement to the State or a cooperating entity. The land must be managed by the cooperating entity or a qualified landowner according to a detailed management plan approved by the Board of Land and Natural Resources. Once approved, the 6-year partnership agreement between the State and the managing entity is automatically renewed each year so that there are always 6 years remaining in the term, although the management plan is updated and funding amounts are re-authorized by the board at least every 6 years. By April 1 of any year, the managing partner may notify the State that it does not intend to renew the agreement; however, in such case the partnership agreement remains in effect for the balance of the existing 6-year term, and the conservation easement remains in full effect in perpetuity. The conservation easement may be revoked by the landowner only if State funding is terminated without the concurrence of the landowner and cooperating entity. Prior to terminating funding, the State must conduct one or more public hearings. The NAP program is funded through real estate conveyance taxes which are placed in a Natural Area Reserve Fund. Participants in the NAP program must provide annual reports to the Department of Land and Natural Resources (DLNR) and DLNR makes annual inspections of the work in the reserve areas. See Haw. Rev. Stat. §§ 195-1—195-11; Hawaii Administrative Rules § 13-210.

Management programs within the preserves are documented in long-range management plans and yearly operational plans. These plans detail management measures that protect, restore, and enhance the rare plants and their habitats within the preserves and in adjacent areas (TNCH 1997, 1998, 1999). These management measures address factors which led to the listing of the 12 species including control of non-native species of ungulates, rodents, and weeds. In addition, habitat restoration and monitoring are also included in these plans.

The primary management goals for both Kapunakea and Waikamoi Preserves are to (1) prevent degradation of native forest by reducing feral ungulate damage; (2) improve or maintain the integrity of native ecosystems in selected areas of the preserve by reducing the effects of non-native plants; (3) increase the understanding of threats posed by small mammals and reduce their negative impact, where possible; (4) prevent extinction of rare species in the preserve; (5) track the biological and physical resources in the preserves and to evaluate changes in these resources over time; (6) identify new threats to the preserves before they become established pests; and (7) build public understanding and support for the preservation of natural areas, and to enlist volunteer assistance for preserve management (TNCH 1997, 1998).

The goal of the ungulate program is to bring pig populations to zero as rapidly as possible. Specific management actions to address feral ungulate impacts include the construction of fences, including strategic fencing (fences placed in proximity to natural barriers such as cliffs), annual monitoring of ungulate presence transects, and trained staff and volunteer hunting. Since axis deer may also pose a threat to the preserves, TNCH is a member of the Maui Axis Deer Group (MADG) and staff meet regularly with other MADG members to seek solutions. In Waikamoi Preserve, the management actions also include working with community hunters in conjunction with the East Maui Watershed Partnership (EMWP). In Kapunakea Preserve, a system of transects extend the length of the preserve to monitor resource threats, including ungulate presence. By monitoring ungulate activity within the preserve, the staff is able to assess the success of the hunting program. If increased hunting pressure does not reduce feral ungulate activity in the preserves, the preserve staff work with the hunting group to identify and implement alternative methods (TNCH 1997, 1998).

The non-native plant control program within both preserves focuses on controlling habitat-modifying non-native plants (weeds) in intact native communities and preventing the introduction of additional alien plants. Based on the degree of threat to native ecosystems, a weed priority list has been compiled for the preserves, and control and monitoring of the highest priority species are ongoing. Weeds are controlled manually, chemically, or through a combination of both. Preventative measures (prevention protocol) are required by all (volunteers, riders, and hiking participants) who enter the preserves. This protocol includes such things as brushing footgear before entering the preserves to remove seeds of non-native plants. Weeds are monitored along transects annually, weed priority maps are maintained, staff participate as members of the Melastome Action Committee and the Maui Invasive Species Committee (MISC), and cooperate with the Division of Conservation and Resources Enforcement (DOCARE) in marijuana control, as needed.

The effects of non-native invertebrates and small mammals on native Hawaiian ecosystems is poorly understood. Initial control measures such as anti-coagulant diphacinone bait stations are being used to control rats in areas of suspected impact; however, valid conclusions from data gathered have not been drawn. Adaptive management will be applied when new information becomes available (TNCH 1997, 1998).

Natural resource monitoring and research address the need to track the biological and physical resources of the preserves and evaluate changes in these resources to guide management programs. Vegetation is monitored throughout the preserves to document long term ecological changes, and rare plant species are monitored to assess population status. Cuttings of endangered plants are taken to the University of Hawaii's tissue culture lab at Lyon Arboretum for propagation. In addition, the preserve staff provides logistical support to scientists and others who are conducting research within the preserves.

Kapunakea Preserve is adjacent to two areas that are also managed to protect natural resources: Puu Kukui Watershed Management Area (WMA) and the Honokowai section of the State West Maui NAR. The Conservancy currently acts as a consultant to Maui Land and Pineapple Co., managers of Puu Kukui WMA, and has a Master Cooperative Agreement with the State DOFAW. These agreements are used to coordinate management and sharing of staff and equipment, and expertise to maximize management efficiency.

Waikamoi Preserve is adjacent to three other large areas that are also managed to protect natural resources: Haleakala National Park, the State's Koolau Forest Reserve, and the State Hanawi NAR. An agreement between the Division of Land and Natural Resources (DLNR), East Maui Irrigation Co., Keola Hana Maui Inc., Haleakala Ranch Company, County of Maui, The Nature Conservancy, and Haleakala National Park implementing a joint management plan (East Maui Watershed Partnership Plan) for the entire East Maui Watershed. Management efforts at Waikamoi will, as much as possible, complement the objectives of the plan. The partnership agreement will be used to coordinate management and sharing of staff and equipment, and expertise to maximize management efficiency (TNCH 1998).

Because the preserves and the continuing management plans being implemented for these plants and their habitats within the preserves provided a conservation benefit to the species and are permanently protected and managed, these lands meet the three criteria for determining that an area is not in need of special management. Therefore, we have determined that the private lands within Waikamoi Preserve and Kapunakea Preserve do not meet the definition of critical habitat in the Act, and we are not proposing designation of these lands as critical habitat. Should the status of any of these reserves change, for example by non-renewal of a partnership agreement or termination of NAP funding, we will reconsider whether it then meets the definition of critical habitat. If so, we have the authority to propose to amend critical habitat to include such area at that time (50 CFR 424.12(g)).

Eight species (Ctenitis squamigera, Clermontia oblongifolia ssp. mauiensis, Cyanea lobata, Cyrtandra munroi, Hesperomannia arborescens, Phlegmariurus mannii, Platanthera holochila, and Sanicula purpurea) are reported from the Maui Pineapple Company's Puu Kukui Watershed Management Area (Puu Kukui WMA), located in the West Maui mountains (GDSI 2000; HINHP Database 2000; Maui Land and Pineapple Co., Ltd. undated). In the December 18, 2000, proposal we determined that lands within the Puu Kukui Watershed Management Area were adequately managed for the conservation of the listed species that occur on those lands and were not in need of special management considerations or protection. Therefore, we determined that these lands did not meet the definition of critical habitat in the Act, and we did not propose designation of these lands as critical habitat. However, during the comment periods on the December 18, 2000, proposal we received information from the Watershed Supervisor that funding for the conservation and management of the listed plant species on lands within Puu Kukui Watershed Management Area was not adequate nor assured. Therefore, we have determined that lands within Puu Kukui Watershed Management Area are in need of special management considerations or protection and thus meet the definition of critical habitat in the Act.

In summary, we believe that the habitat within Waikamoi and Kapunakea Preserves, and the upper area (above 1,525 m (5,000 ft)) of Hanawí Natural Area Reserve, are being adequately managed for the conservation of the listed species that occur within these areas and are not in need of special management considerations or protection. Therefore, we have determined that these lands do not meet the definition of critical habitat in the Act, and we are not proposing designation of these lands as critical habitat. However, we are specifically soliciting comments on the appropriateness of this approach.

As described above, we are aware that other private landowners and the State of Hawaii are considering the development of land management plans or agreements that may promote the conservation and recovery of endangered and threatened plant species on the islands of Maui and Kahoolawe. We support these efforts and provide technical assistance whenever possible. We are soliciting comments on whether future development and approval of conservation measures (e.g., Conservation Agreements, Safe Harbor Agreements) should trigger revision of designated critical habitat to exclude such lands, and if so, by what mechanism.

The proposed critical habitat areas described below constitute our best assessment of the physical and biological features needed for the conservation of the 61 plant species, and the special management needs of these species, and are based on the best scientific and commercial information available and described above. We put forward this proposal acknowledging that we have incomplete information regarding many of the primary biological and physical requirements for these species. However, both the Act and the relevant court orders require us to proceed with designation at this time based on the best information available. As new information accrues, we may reevaluate which areas warrant critical habitat designation. We anticipate that comments received through the public review process and from the public hearing will provide us with additional information to use in our decision making process and in assessing the potential impacts of designating critical habitat for one or more of these species.

The approximate areas of proposed critical habitat by landownership or jurisdiction are shown in Table 5.

Proposed critical habitat includes habitat for 61 species under private, State, and Federal jurisdiction (owned and leased lands), with Federal lands including lands managed by the National Park Service and the Department of Defense. Lands proposed as critical habitat have been divided into 13 units (Maui A through Maui M) on the island of Maui, and two units on the island of Kahoolawe (Kahoolawe A through B). A brief description of each unit is presented below.

Table 5.—Approximate proposed critical habitat area by unit and land ownership or jurisdiction, Maui County, Hawaii.¹
Unit name | State/local | Private | Federal | Total
Maui A | 1,298 ha (3,208 ac) | 2,586 ha (6,390 ac) |  | 3,884 ha (9,598 ac)
Maui B1 | 1,177 ha (2,909 ac) | 3,197 ha (7,899 ac) |  | 4,374 ha (10,808 ac) ¹
Maui B2 | 4 ha (9 ac) | 358 ha (884 ac) |  | 362 ha (893 ac)
Maui C1 |  | 23 ha (56 ac) |  | 23 ha (56 ac)
Maui C2 |  | 10 ha (24 ac) |  | 10 ha (24 ac)
Maui C3 | 78 ha (192 ac) | 85 ha (209 ac) |  | 162 ha ¹ (400 ac) ¹
Maui C4 | 88 ha (216 ac) | 74 ha (184 ac) |  | 162 ha (400 ac)
Maui D1 | 3,191 ha (7,885 ac) | 3,759 ha (9,289 ac) |  | 6,950 ha (17,175 ac) ¹
Maui D2 |  | 212 ha (523 ac) |  | 212 ha (523 ac)
Maui E | 830 ha (2,051 ac) | 559 ha (1,380 ac) |  | 1,389 ha (3,432 ac) ¹
Maui F | 144 ha (357 ac) |  |  | 144 ha (357 ac)
Maui G1 | <1 ha (<1 ac) | 4 ha (10 ac) |  | 4 ha 1 (10 ac) ¹
Maui G2 | 1 ha (2 ac) |  |  | 1 ha (2 ac)
Maui G3 | 7 ha (16 ac) |  |  | 7 ha (16 ac)
Maui G4 | 5 ha (13 ac) | 16 ha (37 ac) |  | 22 ha ¹ (53 ac) ¹
Maui G5 | 16 ha (41 ac) | 15 ha (37 ac) |  | 31 ha (77 ac) ¹
Maui G6 | 11 ha (27 ac) |  |  | 11 ha (27 ac) ¹
Maui H | 10,254 ha (25,340 ac) | 3,586 ha (8,862 ac) | 259 ha (641 ac) | 14,101 ha ¹ (34,843 ac)
Maui I1 | 678 ha (1,678 ac) | 621 ha (1,534 ac) | 563 ha (1,391 ac) | 1,862 ha (4,601 ac)
Maui I2 | 177 ha (437 ac) | 503 ha (1,243 ac) |  | 680 ha (1,680 ac)
Maui I3 | 282 ha (697 ac) | 170 ha (420 ac) |  | 452 ha (1,117 ac)
Maui I4 | 98 ha (239 ac) | 399 ha (986 ac) |  | 497 ha (1,227 ac) ¹
Maui J |  | 8 ha (21 ac) | 5,782 ha (14,287 ac) | 5,790 ha (14,308 ac)
Maui K | 3,375 ha (8,339 ac) |  | 2,089 ha (5,163 ac) | 5,464 ha (13,502 ac)
Maui L | 1,562 ha (3,860 ac) | 2,927 ha (7,234 ac) | 122 ha (302 ac) | 4,612 ha ¹ (11,396 ac)
Maui M | 2 ha (6 ac) |  |  | 2 ha (6 ac)
Maui Total | 23,278 ha (57,522 ac) | 19,112 ha (47,225 ac) | 8,815 ha (21,784 ac) | 51,208 ha ¹ (126,531 ac) ¹
Kahoolawe A | 713 ha (1,762 ac) |  |  | 713 ha (1,762 ac)
Kahoolawe B | <1 ha (1 ac) |  |  | <1 ha (1 ac)
Grand Total | 23,991 ha (59,285 ac) | 19,112 ha (47,225 ac) | 8,815 ha (21,784 ac) | 51,921 ha ¹ (128,294 ac)
¹ Area differences due to digital mapping discrepancies between TMK data (GDSI 2000) and USGS coastline, or difference due to rounding.

Descriptions of Critical Habitat Units

Maui A

The proposed unit Maui A provides occupied habitat for 7 species: Clermontia oblongifolia ssp. mauiensis, Colubrina oppositifolia, Ctenitis squamigera, Cyanea lobata, Cyrtandra munroi, Remya mauiensis, and Sanicula purpurea. It is proposed for designation because it contains the physical and biological features that are considered essential for their conservation on Maui, and provides habitat to support one or more of the 8 to 10 populations and 100 mature individuals per population for Colubrina oppositifolia, or 300 mature individuals per population for Clermontia oblongifolia ssp. mauiensis, Ctenitis squamigera, Cyanea lobata, Cyrtandra munroi, Remya mauiensis, and Sanicula purpurea throughout their known historical range considered by the recovery plans to be necessary for the conservation of each species. This unit also provides unoccupied habitat for 9 species: Alectryon macrococcus, Cyanea glabra, Gouania vitifolia, Hedyotis mannii, Hesperomannia arbuscula, Phlegmariurus mannii, Platanthera holochila, Plantago princeps, and Pteris lidgatei. Designation of this unit is essential to the conservation of these species because it contains the physical and biological features that are considered essential for their conservation on Maui and provides habitat to support one or more additional populations necessary to meet the recovery objectives of 8 to 10 populations for each species and 100 mature individuals per population for Alectryon macrococcus and Hesperomannia arbuscula, or 300 mature individuals per population for Cyanea glabra, Hedyotis mannii, Phlegmariurus mannii, Platanthera holochila, Plantago princeps, and Pteris lydgatei throughout their known historical range (see the discussion of conservation requirements in Section D, and in the table for Maui A).

The unit contains a total of 3,884 ha (9,598 ac) on State and privately owned lands. It is bounded on the north by Honolua watershed and on the south by Kahoma watershed and includes portions of Honokahua, Honokohau, Honokowai, Iao, Kahana, Kauaula, Wahikuli watersheds. It contains all of the Honokowai Section West Maui Natural Area Reserve and portions of the West Maui Forest Reserve, Puu Kukui Watershed Management and Panaewa Section West Maui Natural Area Reserve and surrounds the Kapunakea Preserve. The natural features of this unit include Amalu Stream, Kapaloa Stream, Kaulalewelewe (summit), Kekaalaau (summit), Puu Kaeo, Puu Makina, and Violet Lake.

Key for tables Maui A-M and Kahoolawe A-B.

1. This unit is needed to meet the recovery plan objectives of 8 to 10 viable populations (self perpetuating and sustaining for at least 5 years) with 100 to 500 mature, reproducing individuals per species throughout its historical range as specified in the recovery plans.

2. Island endemic.

3. Multi-island species with current locations on other islands.

4. Multi-island species with no current locations on other islands.

5. Current locations do not necessarily represent viable populations with the required number of mature individuals.

6. Several current locations may be affected by one naturally occurring, catastrophic event.

7. Species with variable habitat requirements, usually over wide areas. Wide ranging species require more space per individual over more land area to provide needed primary constituent elements to maintain healthy population size.

8. Not all currently occupied habitat was determined to be essential to the recovery of the species.

9. Life history, long-lived perennial—100 mature, reproducing individuals per population.

10. Life history, short-lived perennial—300 mature, reproducing individuals per population.

11. Life history, annual—500 mature, reproducing individuals per population.

12. Narrow endemic, the species probably never naturally occurred in more than a single or a few populations.

13. Species has extremely restricted, specific habitat requirements.

14. Hybridization is possible so distinct populations of related species should not overlap, requiring more land area.

‡Species that are wide ranging require more land than species with more discrete ranges. Not all suitable habitat is designated, only those areas essential for the conservation of the species.

BILLING CODE 4310-55-P

Maui B

The proposed unit Maui B (units B1 and B2) provides occupied habitat for 7 species: Cyanea lobata, Hesperomannia arborescens, Phlegmariurus mannii, Platanthera holochila, Plantago princeps, Pteris lydgatei, and Sanicula purpurea. It is proposed for designation because it contains the physical and biological features that are considered essential for their conservation on Maui, and provides habitat to support one or more of the 8 to 10 populations and 100 mature individuals per population for Hesperomannia arborescens, or 300 mature individuals per population Cyanea lobata, Hesperomannia arborescens, Phlegmariurus mannii, Platanthera holochila, Plantago princeps, Pteris lydgatei, and Sanicula purpurea throughout their known historical range considered by the recovery plans to be necessary for the conservation of each species. This unit also provides unoccupied habitat for 4 species: Clermontia oblongifolia ssp. mauiensis, Ctenitis squamigera, Cyrtandra munroi, and Diplazium molokaiense. Designation of this unit is essential to the conservation of these species because it contains the physical and biological features that are considered essential for their conservation on Maui and provides habitat to support one or more additional populations necessary to meet the recovery objectives of 8 to 10 populations and 300 mature individuals per population for Clermontia oblongifolia ssp. mauiensis, Ctenitis squamigera, Cyrtandra munroi, and Diplazium molokaiense throughout their known historical range (see the discussion of conservation requirements in Section D, and in the table for Maui B).

This unit cluster contains a total of 4,736 ha (11,701 ac) on State and privately owned lands. It is bounded on the west by Honokohau watershed and on the east by Waiehu watershed and contains portions of the Anakaluahine, Honanana, Honokowai, Kahakuloa, Kahana, Makamakaole, Poelua, Waihee, and Waipili watersheds. It contains portions of the Puu Kukui Watershed Management reserve, West Maui Forest Reserve, and Kahakuloa Section West Maui Natural Area Reserve. The natural features include: unit B1, Mauna Alani, Eke Crater, Keahialoa (summit), Keahikauo (summit), Lanilili (summit), Mananole Stream, and Kane, Puu o Kaupo; and unit B2, Anakaluahine Gulch and a small portion of Honkohau Stream.

Maui C

The proposed unit Maui C (units C1 through C4) provides occupied habitat for two species: Centaurium sebaeoides and Sesbania tomentosa. It is proposed for designation because it contains the physical and biological features that are considered essential for their conservation on Maui, and provides habitat to support one or more of the 8 to 10 populations and 300 mature individuals per population for Sesbania tomentosa, or 500 mature individuals per population for Centaurium sebaeoides throughout their known historical range considered by the recovery plans to be necessary for the conservation of each species. This unit also provides unoccupied habitat for one species. Brighamia rockii. Designation of this unit is essential to the conservation of this species because it contains the physical and biological features that are considered essential for its conservation on Maui and provides habitat to support one or more additional populations necessary to meet the recovery objectives for this species of 8 to 10 populations and 100 mature individuals per population, throughout its known historical range (see the discussion of conservation requirements in Section D, and in the table for Maui C).

This unit cluster contains a total of 357 ha (880 ac) on State, county, and privately owned lands. It is bounded by the coast line and in the west by Honolua watershed and in the east by Waihee watershed and contains portions of Anakaluahine, Honanana, Honokohau, Kahakuloa, Makamakaole, Poelua, Waiolai, and Waipili watersheds. The geographic features include: unit C1, Keonehelelee (beach) and Pohakupule Gulch; unit C2, Punaha Gulch; unit C3, Anakaluahine Gulch, Honanana Gulch, Kanounou Point, Keawalua (beach), Mokolea Point, Nakalele Point, Owaluhi Gulch, Papanahoa Gulch, Poelua Gulch, and Waikeakua Gulch; and unit C4, Hakuhee Point, Kaemi (cape), Kahakuloa Head, Kupaa Gulch, Makalina Ravine, Puu Kahulianapa, Puu Koae, Puu Makawana, Wailena Gulch, Waiokila Gulch, Waiolai Gulch, and Waipili Gulch.

Maui D

The proposed unit Maui D (units D1 and D2) provides occupied habitat for 18 species: Ctenitis squamigera, Cyanea glabra, Cyanea grimesiana ssp. grimesiana, Cyanea lobata, Diellia erecta, Dubautia plantaginea ssp. humilis, Hedyotis coriacea, Hedyotis mannii, Hesperomannia arbuscula, Hibiscus brackenridgei, Lysimachia lydgatei, Neraudia sericea, Phlegmariurus mannii, Platanthera holochila, Pteris lydgatei, Remya mauiensis, Spermolepis hawaiiensis, and Tetramolopium capillare. It is proposed for designation because it contains the physical and biological features that are considered essential for their conservation on Maui, and provides habitat to support one or more of the 8 to 10 populations and 100 mature individuals per population for Hesperomannia arbuscula, or 300 mature individuals per population for Ctenitis squamigera, Cyanea glabra, Cyanea grimesiana ssp. grimesiana, Cyanea lobata, Diellia erecta, Dubautia plantaginea ssp. humilis, Hedyotis coriacea, Hedyotis mannii, Hibiscus brackenridgei, Lysimachia lydgatei, Neraudia sericea, Phlegmariurus mannii, Platanthera holochila, Pteris lydgatei, Remya mauiensis, and Tetramolopium capillare, or 500 mature individuals per population for Spermolepis hawaiiensis throughout their known historical range considered by the recovery plans to be necessary for the conservation of each species. This unit also provides unoccupied habitat for 10 species: Cenchrus agrimonioides, Clermontia oblongifolia ssp. mauiensis, Cyrtandra munroi, Diplazium molokaiense, Gouania vitifolia, Isodendrion pyrifolium, Peucedanum sandwicense, Plantago princeps, Sanicula purpurea, and Tetramolopium remyi. Designation of this unit is essential to the conservation of these species because it contains the physical and biological features that are considered essential for their conservation on Maui, and provides habitat to support one or more additional populations necessary to meet the recovery objectives of 8 to 10 populations for each species and 100 mature individuals per population for Colubrina oppositifolia, or 300 mature individuals for Clermontia oblongifolia ssp. mauiensis, Cyrtandra munroi, Plantago princeps, and Sanicula purpurea throughout their known historical range (see the discussion of conservation requirements in Section D, and in the table for Maui D).

The unit cluster contains a total of 7,162 ha (17,698 ac) on State and privately owned lands. It contains portions of the Iao, Kahoma, Kauaula, Launiupoko, Olowalu, Papalaua, Pohakea, Ukumehame, Waiehu, Waihee, and Waikapu watersheds. This unit also contains the Lihau Section West Maui NAR and the Manawainui Plant Sanctuary and portions of the Panaewa Section West Maui Natural Area Reserve and the West Maui Forest Reserve. The natural features of this unit include: unit D1, Halepohaku (summit), Helu (summit), Hokuula (summit), Kahoolewa Ridge, Kapilau Ridge, Koai (summit), Lihau (summit), Luakoi (summit), Luakoi Ridge, Nakalaloa Stream, The Needle (summit), Paupau (summit), Poohahoahoa Stream, Puu Hipa, Puu Kukui, Puu Lio, and Ulaula (summit); and unit D2, Kaonohua Gulch, Kaunoahua Ridge, and Paleaahu Gulch.

Maui E

The proposed unit Maui E provides occupied habitat for two species: Bonamia menziesii and Hibiscus brackenridgei. It is proposed for designation because it contains the physical and biological features that are considered essential for their conservation on Maui, and provides habitat to support one or more of the 8 to 10 populations and 300 mature individuals per population for Bonamia menziesii and Hibiscus brackenridgei throughout their known historical range considered by the recovery plans to be necessary for the conservation of each species (see the discussion of conservation requirements in Section D, and in the table for Maui E).

The unit contains a total of 1,398 ha (3,432 ac) on State and privately owned lands. It is contained in the north in the Hapapa watershed and in the south by the Wailea watershed. The natural features include Kekuawahaulaula (summit) and Nawawaeoalika (summit).

Maui F

The proposed unit Maui F provides occupied habitat for one species, Vigna o-wahuensis. It is proposed for designation because it contains the physical and biological features that are considered essential for its conservation on Maui, and provides habitat to support one or more of the 8 to 10 populations and 100 mature individuals per population for Vigna o-wahuensis throughout its known historical range considered by the recovery plan to be necessary for the conservation of this species (see the discussion of conservation requirements in Section D, and in the table for Maui F).

The unit contains a total of 144 ha (357 ac) on State owned land. It is in the Kanaio watershed and has no named natural features but it is on the shore between Kamanamana Cape in the west and Pohakueaea Point in the east.

Maui G

The proposed unit Maui G (units G1 through G6) provides occupied habitat for one species: Ischaemum byrone. It is proposed for designation because it contains the physical and biological features that are considered essential for its conservation on Maui, and provides habitat to support one or more of the 8 to 10 populations and 300 mature individuals per population, throughout its known historical range considered by the recovery plan to be necessary for the conservation of the species. This unit also provides unoccupied habitat for three species: Brighamia rockii, Mariscus pennatiformis, and Peucedanum sandwicense. Designation of this unit is essential to the conservation of these species because it contains the physical and biological features that are considered essential for their conservation on Maui, and provides habitat to support one or more additional populations necessary to meet the recovery objectives of 8 to 10 populations for each species and 100 mature individuals per population for Brighamia rockii, Mariscus pennatiformis, and Peucedanum sandwicense, throughout their known historical range (see the discussion of conservation requirements in Section D, and in the table for Maui G).

This unit cluster contains a total of 76 ha (185 ac) on State and privately owned lands. It is bounded on the west by Wahinepee watershed and on the east by Honomaele watershed and contains portions of the East Wailuaiki, Haipuaena, Hanawi, Kapaula, Kopiliula, Ohia, Paakea, Punalau, Puohokamoa, Waiaaka, Waiohue, and Waiokamilo watersheds. Unit G6 contains a portion of the Waianapanapa State Park. The natural features of this unit cluster include: unit G1, Wahinepee Stream; unit G2, is all of Keopuka Rock, an offshore islet; unit G3, Haipuaena Stream and Moiki Point; unit G4, Manahoa Rock, Paepaemoana Point, Pauwalu Point, Waiokamilo Stream, and Waiokilo; unit G5, Hanawi Stream, Kapaula Gulch, Paakea Gulch, and Papiha Point; unit G6, Keawaiki Cape and Pukaulua Point.

BILLING CODE 4310-55-C

Maui H

The proposed unit Maui H provides occupied habitat for 15 species: Alectryon macrococcus, Bidens micrantha ssp. kalealaha, Bonamia menziesii, Cenchrus agrimonioides, Flueggea neowawraea, Geranium arboreum, Lipochaeta kamolensis, Melicope adscendens, Melicope knudsenii, Melicope mucronulata, Neraudia sericea, Phlegmariurus mannii, Sesbania tomentosa, Spermolepis hawaiiensis, and Zanthoxylum hawaiiense. It is proposed for designation because it contains the physical and biological features that are considered essential for their conservation on Maui, and provides habitat to support one or more of the 8 to 10 populations and 100 mature individuals per population for Alectryon macrococcus, Flueggea neowawraea, Geranium arboreum, Melicope adscendens, Melicope knudsenii, Melicope mucronulata, and Zanthoxylum hawaiiense, or 300 individuals per population for Bidens micrantha ssp. kalealaha, Bonamia menziesii, Cenchrus agrimonioides, Lipochaeta kamolensis, Neraudia sericea, Phlegmariurus mannii, and Sesbania tomentosa, or 500 individuals per population for Spermolepis hawaiiensis throughout their known historical range considered by the recovery plans to be necessary for the conservation of each species. This unit also provides unoccupied habitat for 10 species: Argyroxiphium sandwicense ssp. macrocephalum, Clermontia lindseyana, Colubrina oppositifolia, Diellia erecta, Diplazium molokaiense, Geranium multiflorum, Nototrichium humile, Phyllostegia mollis, Plantago princeps and Schiedea haleakalensis. Designation of this unit is essential to the conservation of these species because it contains the physical and biological features that are considered essential for their conservation on Maui, and provides habitat to support one or more additional populations necessary to meet the recovery objectives of 8 to 10 populations for Clermontia lindseyana, Colubrina oppositifolia, Diellia erecta, Diplazium molokaiense, Geranium multiflorum, Nototrichium humile, Phyllostegia mollis, Plantago princeps and Schiedea haleakalensis and 100 mature individuals per population for Colubrina oppositifolia and Geranium multiflorum, or 300 mature individuals for Clermontia lindseyana, Diellia erecta, Diplazium molokaiense, Nototrichium humile, Phyllostegia mollis, Plantago princeps and Schiedea haleakalensis, or greater than 50,000 individuals of Argyroxiphium sandwicense ssp. macrocephalum, throughout their known historical range considered by the recovery plans to be necessary for the conservation of each species (see the discussion of conservation requirements in Section D, and in the table for Maui H).

The unit contains a total of 14,101 ha (34,843 ac) on Federal, State, and privately owned lands. It is bounded on the west by Kanaio watershed and on the east by Nuu watershed and contains portions of the Hapapa, Kaupo, Kipapa, Manawainui Gulch, Pahihi, Piinaau, Poopoo, Waiakoa, Wailea, Waiopai watersheds. This unit contains all of the Kanaio Natural Area Reserve and portions of the Haleakala National Park, Kahikinui Forest Reserve, and Kula Forest Reserve. The natural features include Hokukano (summit), Kahua (summit), Kamole Gulch, Keonehunehune (summit), Kolekole (summit), Lualailua Hills, Magnetic Peak, Manukani (summit), Nawini (summit), Pimoe (summit), Pohakea (summit), Polipoli (summit), Pukai Gulch, Puu Kao, Puu Ouli, Puu Pane, Red Hill, Uma (summit), and Wailaulau Gulch.

BILLING CODE 4310-55-P

Maui I

The proposed unit Maui I (I1 through I4) provides occupied habitat for three species: Diellia erecta, Diplazium molokaiense, and Geranium arboreum. It is proposed for designation because it contains the physical and biological features that are considered essential for their conservation on Maui, and provides habitat to support one or more of the 8 to 10 populations and 100 mature individuals per population for Geranium arboreum, or 300 mature individuals per population for Diellia erecta, and Diplazium molokaiense throughout their known historical range considered by the recovery plans to be necessary for the conservation of each species. This unit also provides unoccupied habitat for eight species: Asplenium fragile var. insulare, Bidens micrantha ssp. kalealaha, Phlegmariurus mannii, Phyllostegia mollis, Plantago princeps. Designation of this unit is essential to the conservation of these species because it contains the physical and biological features that are considered essential for their conservation on Maui, and provides habitat to support one or more additional populations necessary to meet the recovery objectives of 8 to 10 populations for Asplenium fragile var. insulare, Bidens micrantha ssp. kalealaha, Clermontia lindseyana, Geranium multiflorum, Phlegmariurus mannii, Phyllostegia mollis, and Plantago princeps and 100 mature individuals per population for Geranium multiflorum, or 300 mature individuals per population for Asplenium fragile var. insulare, Bidens micrantha ssp. kalealaha, Clermontia lindseyana, Phlegmariurus mannii, Phyllostegia mollis, and Plantago princeps, or greater than 50,000 individuals of Argyroxiphium sandwicense ssp. macrocephalum, throughout their known historical range (see the discussion of conservation requirements in Section D, and in the table for Maui I).

The unit cluster contains a total of 1,629 ha (4,024 ac) on Federal, State and privately owned lands. It is in portions of the Hapapa, Honomanu, Kalialinui, Kanaio, Kipapa, Manawainui Gulch, Piinaau, Wahinepee, Waiakoa, and Wailea watersheds. This unit contains portions of Haleakala National Park, Haleakala Ranch, Kahikinui Forest Reserve, Kula Forest Reserve, and Waikamoi Preserve. The natural features include Kalepeamoa (summit), Kanahau (summit), Puu Makua, and Waihou Spring.

Maui J

The Proposed unit Maui J provides occupied habitat for five species: Argyroxiphium sandwicense ssp. macrocephalum, Bidens micrantha ssp. kalealaha, Geranium multiflorum, Plantago princeps, and Schiedea haleakalensis. It is proposed for designation because it contains the physical and biological features that are considered essential for their conservation on Maui, and provides habitat to support one or more of the 8 to 10 populations for Bidens micrantha ssp. kalealaha, Geranium multiflorum, Plantago princeps, and Schiedea haleakalensis and 100 mature individuals per population for Geranium multiflorum, or 300 mature individuals per population for Bidens micrantha ssp. kalealaha, Plantago princeps, and Schiedea haleakalensis, or greater than 50,000 individuals of Argyroxiphium sandwicense ssp. macrocephalum throughout their known historical range considered by the recovery plans to be necessary for the conservation of each species. This unit also provides unoccupied habitat for three species: Asplenium fragile var. insulare, Clermontia samuelii, and Platanthera holochila. Designation of this unit is essential to the conservation of these species because it contains the physical and biological features that are considered essential for their conservation on Maui, and provides habitat to support one or more additional populations necessary to meet the recovery objectives of 8 to 10 populations for each species and 300 mature individuals per population, throughout their known historical range (see the discussion of conservation requirements in Section D, and in the table for Maui J).

The unit contains a total of 5,790 ha (14,308 ac) on Federal and privately owned lands. It is in the East Wailuaiki, Hanawi, Heleleikeoha, Honomanu, Kaupo, Kopiliula, Koukouai, Kuhiwa, Manawainui, Manawainui Gulch, Nuu, Oheo, Pahihi, Piinaau, West Wailuaiki, Wailuanui, and Waiopai watersheds. This unit contains a portion of Haleakala National Park. The natural features in this unit include Wai Anapanapa (lake), Halalii (summit), Haleakala (summit), Haleakala Crater, Hanakauhi (summit), Haupaakea Peak, Mauna Hina, Honokahua (summit), Ka Moa o Pele (summit), Kalahaku Pali, Kalapawili Ridge, Kalua Awa (summit), Kaluaiki (crater), Kaluanui (crater), Kaluu o ka Oo (crater), Kamaolii (summit), Keoneheehee (ridge), Kilohana (summit), Koolau Gap, Kuiki (summit), Kumuiilahi (summit), Laie Cave, Laie Puu, Lauulu (summit), Leleiwi Pali, Namana o ke Akua (summit), Oili Puu, Pakaoao (White Hill), Pohaku Palaha (summit), Puu Kauaua, Puu Kumu, Puu Maile, Puu Mamane, Puu Naue, Puu Nole, Puu o Maui, and Puu o Pele.

BILLING CODE 4310-55-C

Maui K

The proposed unit Maui K provides occupied habitat for seven species: Clermontia samuelii, Cyanea copelandii ssp. haleakalaensis, Cyanea hamatiflora ssp. hamatiflora, Melicope balloui, Melicope ovalis, Phlegmariurus mannii, and Plantago princeps. It is proposed for designation because it contains the physical and biological features that are considered essential for their conservation on Maui, and provides habitat to support one or more of the 8 to 10 populations for each species and 100 mature individuals per population for Melicope balloui, and Melicope ovalis, or 300 mature individuals per population for Clermontia samuelii, Cyanea copelandii ssp. haleakalaensis, Cyanea hamatiflora ssp. hamatiflora, Phlegmariurus mannii, and Plantago princeps throughout their known historical range considered by the recovery plans to be necessary for the conservation of each species. This unit also provides unoccupied habitat for four species: Alectryon macrococcus, Cyanea glabra, Geranium multiflorum, and Platanthera holochila. Designation of this unit is essential to the conservation of these species because it contains the physical and biological features that are considered essential for their conservation on Maui, and provides habitat to support one or more additional populations necessary to meet the recovery objectives of 8 to 10 populations for each species and 100 mature individuals per population for Alectryon macrococcus and Geranium multiflorum, or 300 mature individuals per population for Cyanea glabra and Platanthera holochila, throughout their known historical range (see the discussion of conservation requirements in Section D, and in the table for Maui K).

The unit contains a total of 5,464 ha (13,502 ac) on Federal, State, and privately owned lands. It is bounded on the Alelele, Hahalawe, Heleleikeoha, Honolewa, Honomaele, Kaapahu, Kahawaihapapa, Kakiweka, Kalena, Kalepa, Kapia, Kawaipapa, Kawakoe, Keaaiki, Koukouai, Lelekea, Manawainui, Nuanuaaloa, Oheo, Opelu, Waieli, Waihole, Wailua, Waiohonu, and Waioni watersheds. It contains portions of Haleakala National Park, Hana Forest Reserve, Hanawi Natural Area Reserve, Kipahulu Forest Reserve, and Koolau Forest Reserve. The natural features include Kaumakani (summit), Kipahulu Valley, Puu Ahulili, and Puu Kue.

BILLING CODE 4310-55-P

BILLING CODE 4310-55-C

Maui L

The proposed unit Maui L provides occupied habitat for seven species: Cyanea copelandii ssp. haleakalaensis, Cyanea hamatiflora ssp. hamatiflora, Cyanea mceldowneyi, Geranium multiflorum, Melicope balloui, Phlegmariurus mannii, and Zanthoxylum hawaiiense. It is proposed for designation because it contains the physical and biological features that are considered essential for their conservation on Maui, and provides habitat to support one or more of the 8 to 10 populations for each species and 100 mature individuals per population for Geranium multiflorum, Melicope balloui, and Zanthoxylum hawaiiense, or 300 mature individuals per population for Cyanea copelandii ssp. haleakalaensis, Cyanea hamatiflora ssp. hamatiflora, Cyanea mceldowneyi, Phlegmariurus mannii, and Platanthera holochila, throughout their known historical range considered by the recovery plans to be necessary for the conservation of each species. This unit also provides unoccupied habitat for nine species: Alectryon macrococcus, Argyroxiphium sandwicense ssp. macrocephalum, Asplenium fragile var. insulare, Clermontia samuelii, Cyanea glabra, Diplazium molokaiense, Phyllostegia mannii, Phyllostegia mollis, and Platanthera holochila. Designation of this unit is essential to the conservation of these species because it contains the physical and biological features that are considered essential for their conservation on Maui, and provides habitat to support one or more additional populations necessary to meet the recovery objectives of 8 to 10 populations for Alectryon macrococcus, Asplenium fragile var. insulare, Clermontia samuelii, Cyanea glabra, Diplazium molokaiense, Phyllostegia mannii, Phyllostegia mollis, and Platanthera holochila and 100 mature individuals per population for Alectryon macrococcus, or 300 mature individuals per population for Asplenium fragile var. insulare, Clermontia samuelii, Cyanea glabra, Diplazium molokaiense, Phyllostegia mannii, Phyllostegia mollis, and Platanthera holochila, or greater than 50,000 individuals of Argyroxiphium sandwicense ssp. macrocephalum, throughout their known historical range (see the discussion of conservation requirements in Section D, and in the table for Maui L).

The unit contains a total of 4,612 ha (11,396 ac) on Federal, State, and privately owned lands. It is in portions of the East Wailuaiki, Haipuaena, Hanawi, Heleleikeoha, Honomanu, Hoolawa, Kaaiea, Kailua, Kakipi, Kaupo, Kopiliula, Kuhiwa, Maliko, Nailiilihaele, Oheo, Piinaau, Puohokamoa, West Wailuaiki, Wahinepee, Wailuanui, and Waiokamilo watersheds. This unit contains portions of Haleakala National Park, Koolau Forest Reserve, and Makawao Forest Reserve. The natural features include East Wiluaiki Stream, Honomanu Stream, Kano Stream, Opana Gulch, Puu Alaea, Waikamoi Stream, Waiohiwi Gulch, and West Wailuanui Stream.

BILLING CODE 4310-55-C

Maui M

The proposed unit Maui M provides occupied habitat for Spermolepis hawaiiense. It is proposed for designation because it contains the physical and biological features that are considered essential for its conservation on Maui, and provides habitat to support one or more of the 8 to 10 populations and 500 mature individuals per population for Spermolepis hawaiiense throughout its known historical range considered by the recovery plans to be necessary for the conservation of this species (see the discussion of conservation requirements in Section D, and in the table for Maui M).

The unit contains a total of 2 ha (6 ac) on State owned land. It is in the Kauaula watershed and has no named natural features but lies east of Lahaina luna High School and north-east of Piilani Ditch.

BILLING CODE 4310-55-P

Kahoolawe A

The proposed unit Kahoolawe A provides occupied habitat for Vigna o-wahuensis. It is proposed for designation because it contains the physical and biological features that are considered essential for its conservation on Maui, and provides habitat to support one or more of the 8 to 10 populations and 500 mature individuals per population for Vigna o-wahuensis throughout its known historical range considered by the recovery plans to be necessary for the conservation of this species. This unit provides unoccupied habitat for three species: Hibiscus brackenridgei, Kanaloa kahoolawensis, and Sesbania tomentosa. Designation of this unit is essential to the conservation of these species because it contains the physical and biological features that are considered essential for their conservation on Maui, and provides habitat to support one or more additional populations necessary to meet the recovery objectives for these species of 8 to 10 populations and 100 mature individuals per population for Hibiscus brackenridgei and Kanaloa kahoolawensis, or 300 mature individuals per population for Sesbania tomentosa throughout their known historical range considered by the recovery plans to be necessary for the conservation of these species (see the discussion of conservation requirements in Section D, and in the table for Kahoolawe A).

The unit contains a total of 713 ha (1,762 ac) on State owned land. It is in portions of the Ahupuiki Gulch, Aleale, Heiau, Lae O Kaka, Kalama, Kanaloa Gulch, Kaukamoku Gulch, Kaulana, Lae o Kealaikahiki, Kealialuna, Lua, Kohe O Hala, Lae o Kuakaiwa, Lae o Kuikui, Makaalae, Papakanui Gulch, and Tank Ahupu Gulch.

Kahoolawe B

The proposed unit Kahoolawe B provides occupied habitat for two species, Kanaloa kahoolawensis and Sesbania tomentosa. It is proposed for designation because it contains the physical and biological features that are considered essential for their conservation on Maui, and provides habitat to support one or more of the 8 to 10 populations and 100 mature individuals per population for Kanaloa kahoolawensis, or 300 mature individuals per population for Sesbania tomentosa throughout their known historical range considered by the recovery plans to be necessary for the conservation of each species (see the discussion of conservation requirements in Section D, and in the table for Kahoolawe B).

The unit contains a total of .5 ha (1 ac) on State owned land on Puu Koae Island.

BILLING CODE 4310-55-C

Effects of Critical Habitat Designation

Section 7 Consultation

Section 7(a) of the Act requires Federal agencies, including the Service, to ensure that actions they fund, authorize, or carry out do not destroy or adversely modify critical habitat. Destruction or adverse modification occurs when a Federal action directly or indirectly alters critical habitat to the extent it appreciably diminishes the value of critical habitat for the conservation of the species. Individuals, organizations, States, local governments, and other non-Federal entities are affected by the designation of critical habitat only if their actions occur on Federal lands, require a Federal permit, license, or other authorization, or involve Federal funding.

Section 7(a) of the Act requires Federal agencies to evaluate their actions with respect to any species that is proposed or listed as endangered or threatened and with respect to its critical habitat, if any is designated or proposed. Regulations implementing this interagency cooperation provision of the Act are codified at 50 CFR part 402. Section 7(a)(4) of the Act requires Federal agencies to confer with us on any action that is likely to jeopardize the continued existence of a species proposed for listing or result in destruction or adverse modification of proposed critical habitat. Conference reports provide conservation recommendations to assist the agency in eliminating conflicts that may be caused by the proposed action. The conservation recommendations in a conference report are advisory.

We may issue a formal conference report, if requested by the Federal action agency. Formal conference reports include an opinion that is prepared according to 50 CFR 402.14, as if the species was listed or critical habitat was designated. We may adopt the formal conference report as the biological opinion when the species is listed or critical habitat is designated, if no substantial new information or changes in the action alter the content of the opinion (see 50 CFR 402.10(d)).

If a species is listed or critical habitat is designated, section 7(a)(2) of the Act requires Federal agencies to ensure that actions they authorize, fund, or carry out are not likely to jeopardize the continued existence of such a species or destroy or adversely modify its critical habitat. If a Federal action may affect a listed species or its critical habitat, the responsible Federal agency (action agency) must enter into consultation with us. Through this consultation, the Federal action agency would ensure that the permitted actions do not destroy or adversely modify critical habitat.

If we issue a biological opinion concluding that a project is likely to result in the destruction or adverse modification of critical habitat, we would also provide reasonable and prudent alternatives to the project, if any are identifiable. Reasonable and prudent alternatives are defined at 50 CFR 402.02 as alternative actions identified during consultation that can be implemented in a manner consistent with the intended purpose of the action, that are consistent with the scope of the Federal agency's legal authority and jurisdiction, that are economically and technologically feasible, and that the Director believes would avoid destruction or adverse modification of critical habitat. Reasonable and prudent alternatives can vary from slight project modifications to extensive redesign or relocation of the project. Costs associated with implementing a reasonable and prudent alternative are similarly variable.

Regulations at 50 CFR 402.16 require Federal agencies to reinitiate consultation on previously reviewed actions under certain circumstances, including instances where critical habitat is subsequently designated and the Federal agency has retained discretionary involvement, or control has been retained or is authorized by law. Consequently, some Federal agencies may request reinitiation of consultation or conferencing with us on actions for which formal consultation has been completed if those actions may affect designated critical habitat or adversely modify or destroy proposed critical habitat.

Activities on Federal lands that may affect critical habitat of one or more of the 61 plant species will require section 7 consultation. Activities on private or State lands requiring a permit from a Federal agency, such as a permit from the Corps under section 404 of the Clean Water Act (33 U.S.C. 1344 et seq.), or a section 10(a)(1)(B) permit from us, or some other Federal action, including funding (e.g., from the Federal Highway Administration, Federal Aviation Administration (FAA), Federal Emergency Management Agency (FEMA)), permits from the Department of Housing and Urban Development, activities funded by the EPA, Department of Energy, or any other Federal agency; regulation of airport improvement activities by the FAA; and construction of communication sites licensed by the Federal Communication Commission will also continue to be subject to the section 7 consultation process. Federal actions not affecting critical habitat and actions on non-Federal lands that are not federally funded, authorized, or permitted do not require section 7 consultation.

Section 4(b)(8) of the Act requires us to briefly describe and evaluate in any proposed or final regulation that designates critical habitat those activities involving a Federal action that may adversely modify such habitat or that may be affected by such designation. We note that such activities may also jeopardize the continued existence of the species.

Activities that, when carried out, funded, or authorized by a Federal agency, may directly or indirectly destroy or adversely modify critical habitat include, but are not limited to:

(1) Activities that appreciably degrade or destroy the primary constituent elements including, but not limited to: overgrazing; maintenance of feral ungulates; clearing or cutting of native live trees and shrubs, whether by burning or mechanical, chemical, or other means (e.g., woodcutting, bulldozing, construction, road building, mining, herbicide application); introducing or enabling the spread of non-native species; and taking actions that pose a risk of fire;

(2) Activities that alter watershed characteristics in ways that would appreciably reduce groundwater recharge or alter natural, dynamic wetland or other vegetative communities. Such activities may include water diversion or impoundment, excess groundwater pumping, manipulation of vegetation such as timber harvesting, residential and commercial development, and grazing of livestock or horses that degrades watershed values;

(3) Rural residential construction that include concrete pads for foundations and the installation of septic systems where a permit under section 404 of the Clean Water Act would be required by the Corps;

(4) Recreational activities that appreciably degrade vegetation;

(5) Mining of sand or other minerals;

(6) Introducing or encouraging the spread of non-native plant species into critical habitat units; and

(7) Importation of non-native species for research, agriculture, and aquaculture, and the release of biological control agents that would have unanticipated effects on the listed species and the primary constituent elements of their habitat.

If you have questions regarding whether specific activities will likely constitute adverse modification of critical habitat, contact the Field Supervisor, Pacific Islands Ecological Services Field Office (see ADDRESSES section). Requests for copies of the regulations on listed plants and animals, and inquiries about prohibitions and permits may be addressed to the U.S. Fish and Wildlife Service, Branch of Endangered Species/Permits, 911 N.E. 11th Ave., Portland, Oregon 97232-4181 (telephone 503/231-2063; facsimile 503/231-6243).

Relationship to Habitat Conservation Plans

Currently, there are no HCPs that include any of the plant species discussed in this proposal as covered species. In the event that future HCPs covering any of the discussed plant species are developed within the boundaries of designated critical habitat, we will work with applicants to encourage them to provide for protection and management of habitat areas essential to the conservation of the species. This could be accomplished by either directing development and habitat modification to nonessential areas, or appropriately modifying activities within essential habitat areas so that such activities will not adversely modify the primary constituent elements. The HCP development process would provide an opportunity for more intensive data collection and analysis regarding the use of particular areas by these plant species.

Economic and Other Relevant Impacts

Section 4(b)(2) of the Act requires us to designate critical habitat on the basis of the best scientific and commercial information available and to consider the economic and other relevant impacts of designating a particular area as critical habitat. We may exclude areas from critical habitat upon a determination that the benefits of such exclusions outweigh the benefits of specifying such areas as critical habitat. We cannot exclude such areas from critical habitat when such exclusion will result in the extinction of the species concerned. We will conduct an analysis of the economic impacts of designating these areas as critical habitat in light of this new proposal and in accordance with recent decisions in the N.M. Cattlegrowers Ass'n v. U.S. Fish and Wildlife Serv., 248 F.3d 1277 (10th Cir. 2001) prior to a final determination. The economic analysis will include detailed information on the baseline costs and benefits attributable to listing these 61 plant species, where such estimates are available. This information on the baseline will allow a fuller appreciation of the economic impacts associated with listing and with critical habitat designation. When completed, we will announce the availability of the revised draft economic analysis with a notice in the Federal Register, and we will open a public comment period on the revised draft economic analysis and reopen the comment period on the proposed rule at that time.

We will utilize the final economic analysis, and take into consideration all comments and information regarding economic or other impacts submitted during the public comment period and the public hearing, to make final critical habitat designations. We may exclude areas from critical habitat upon a determination that the benefits of such exclusions outweigh the benefits of specifying such areas as part of critical habitat; however, we cannot exclude areas from critical habitat when such exclusion will result in the extinction of the species.

Public Comments Solicited

It is our intent that any final action resulting from this proposal be as accurate and as effective as possible. Therefore, we solicit comments or suggestions from the public, other concerned governmental agencies, the scientific community, industry or any other interested party concerning this proposed rule.

We invite comments from the public that provide information on whether lands within proposed critical habitat are currently being managed to address conservation needs of these listed plants. As stated earlier in this revised proposed rule, if we receive information that any of the areas proposed as critical habitat are adequately managed, we may delete such areas from the final rule, because they would not meet the definition in section 3(5)(A)(i) of the Act. In determining adequacy of management, we must find that the management effort is sufficiently certain to be implemented and effective so as to contribute to the elimination or adequate reduction of relevant threats to the species.

We are soliciting comment in this revised proposed rule on whether current land management plans or practices applied within areas proposed as critical habitat adequately address the threat to these listed species.

We are aware that the State of Hawaii and some private landowners are considering the development and implementation of land management plans or agreements that may promote the conservation and recovery of endangered and threatened plant species on the islands of Maui and Kahoolawe. We are soliciting comments in this proposed rule on whether current land management plans or practices applied within the areas proposed as critical habitat provide for the conservation of the species by adequately addressing the threats. We are also soliciting comments on whether future development and approval of conservation measures (e.g., HCPs, Conservation Agreements, Safe Harbor Agreements) should be excluded from critical habitat and if so, by what mechanism.

In addition, we are seeking comments on the following:

(1) The reasons why critical habitat for any of these species is prudent or not prudent as provided by section 4 of the Act and 50 CFR 424.12(a)(1), including those species for which prudency determinations have been published in previous proposed rules and which have been incorporated by reference;

(2) The reasons why any particular area should or should not be designated as critical habitat for any of these species, as critical habitat is defined by section 3 of the Act (16 U.S.C. 1532(5));

(3) Specific information on the amount, distribution, and quality of habitat for the 61 species, and what habitat is essential to the conservation of the species and why;

(4) Land use practices and current or planned activities in the subject areas and their possible impacts on proposed critical habitat;

(5) Any economic or other impacts resulting from the proposed designations of critical habitat, including any impacts on small entities or families;

(6) Economic and other potential values associated with designating critical habitat for the above plant species such as those derived from non-consumptive uses (e.g., hiking, camping, birding, enhanced watershed protection, increased soil retention, “existence values,” and reductions in administrative costs);

(7) The methodology we might use, under section 4(b)(2) of the Act, in determining if the benefits of excluding an area from critical habitat outweigh the benefits of specifying the area as critical habitat; and

(8) The effects of critical habitat designation on military lands, and how it would affect military activities, particularly military activities at the Kanaio Training Area on the island of Maui; whether there will be a significant impact on military readiness or national security if we designate critical habitat on this facility, and whether this facility should be excluded from the designation under section 4(b)(2) of the Act.

Our practice is to make comments, including names and home addresses of respondents, available for public review during regular business hours. Individual respondents may request that we withhold their home address, which we will honor to the extent allowable by law. There also may be circumstances in which we would withhold a respondent's identity, as allowable by law. If you wish us to withhold your name and/or address, you must state this request prominently at the beginning of your comment. However, we will not consider anonymous comments. To the extent consistent with applicable law, we will make all submissions from organizations or businesses, and from individuals identifying themselves as representatives or officials of organizations or businesses, available for public inspection in their entirety. Comments and materials received will be available for public inspection, by appointment, during normal business hours at the above address (see ADDRESSES section).

The comment period closes on June 3, 2002. Written comments should be submitted to the Service Office listed in the ADDRESSES section. We are seeking comments or suggestions from the public, other concerned governmental agencies, the scientific community, industry, or any other interested parties concerning the proposed rule. For additional information on public hearings see the ADDRESSES section.

Peer Review

In accordance with our policy published on July 1, 1994 (59 FR 34270), we will seek the expert opinions of at least three appropriate and independent specialists regarding this proposed rule. The purpose of such review is to ensure listing and critical habitat decisions are based on scientifically sound data, assumptions, and analyses. We will send copies of this proposed rule to these peer reviewers immediately following publication in the Federal Register. We will invite the peer reviewers to comment, during the public comment period, on the specific assumptions and conclusions regarding the proposed designations of critical habitat.

We will consider all comments and data received during the 60-day comment period on this revised proposed rule during preparation of a final rulemaking. Accordingly, the final decision may differ from this proposal.

Clarity of the Rule

Executive Order 12866 requires each agency to write regulations and notices that are easy to understand. We invite your comments on how to make this proposed rule easier to understand including answers to questions such as the following: (1) Are the requirements in the proposed rule clearly stated? (2) Does the proposed rule contain technical language or jargon that interferes with the clarity? (3) Does the format of the proposed rule (grouping and order of sections, use of headings, paragraphing, etc.) aid or reduce its clarity? (4) Is the description of the proposed rule in the SUPPLEMENTARY INFORMATION section of the preamble helpful in understanding the document? (5) What else could we do to make the proposed rule easier to understand?

Please send any comments that concern how we could make this notice easier to understand to: Office of Regulatory Affairs, Department of the Interior, Room 7229, 1849 C Street NW., Washington, DC 20240.

Taxonomic Changes

At the time we listed Clermontia peleana, Cyanea grimesiana ssp. grimesiana, Cyanea lobata, Delissea undulata, Mariscus pennatiformis, Phyllostegia parviflora, and Phyllostegia mollis, we followed the taxonomic treatments in Wagner et al. (1990), the widely used and accepted Manual of the Flowering Plants of Hawaii. For Phlegmariurus mannii we used the “Revised Checklist of Hawaiian Pteridophytes” (Wagner and Wagner 1994). Subsequent to the final listing, we became aware of new taxonomic treatments of these species. Due to the court-ordered deadlines, we are required to publish this proposal to designate critical habitat on Maui and Kahoolawe before we can prepare and publish a notice of taxonomic changes for these eight species. We propose to publish a taxonomic change notice to these eight species after we have published the final critical habitat designations on Maui and Kahoolawe. At that time we will evaluate the critical habitat designations on Maui and Kahoolawe for these eight species in light of any changes that may result from taxonomic changes in each species' current and historical range and primary constituent elements.

Required Determinations

Regulatory Planning and Review

In accordance with Executive Order 12866, this document is a significant rule and was reviewed by the Office of Management and Budget (OMB) in accordance with the four criteria discussed below. We are preparing an economic analysis of this proposed action, which will be available for public comment, to determine the economic consequences of designating the specific areas identified as critical habitat. The availability of the draft economic analysis will be announced in the Federal Register so that it is available for public review and comment.

(a) While we will prepare an economic analysis to assist us in considering whether areas should be excluded pursuant to section 4 of the Act, we do not believe this rule will have an annual economic effect of $100 million or more or adversely affect in a material way the economy, a sector of the economy, productivity, competition, jobs, the environment, public health or safety, or State or local governments or communities. Therefore, at this time, we do not believe a cost benefit and economic analysis pursuant to Executive Order 12866 is required. We will revisit this if the economic analysis indicates greater impacts than currently anticipated.

The dates for which the 61 plant species were listed as threatened or endangered can be found in Table 4(b). Consequently, and as needed, we will conduct formal and informal section 7 consultations with other Federal agencies to ensure that their actions will not jeopardize the continued existence of these species. Under the Act, critical habitat may not be adversely modified by a Federal agency action. Critical habitat does not impose any restrictions on non-Federal persons unless they are conducting activities funded or otherwise sponsored, authorized, or permitted by a Federal agency (see Table 6).

Table 6.—Impacts of Critical Habitat Designation for 61 Plants From the Islands of Maui and Kahoolawe
Categories of activities | Activities potentially affected by species listing only | Additional activities potentially affected by critical habitat designation ¹
Federal Activities Potentially Affected ² | Activities the Federal Government (e.g., Army Corps of Engineers, Department of Transportation, Department of Defense, Department of Agriculture, Environmental Protection Agency, Federal Emergency Management Agency, Federal Aviation Administration, Federal Communications Commission, Department of the Interior) carries out or that require a Federal action (permit, authorization, or funding) and may remove or destroy habitat for these plants by mechanical, chemical, or other means (e.g., overgrazing, clearing, cutting native live trees and shrubs, water diversion, impoundment, groundwater pumping, road building, mining, herbicide application, recreational use etc.) or appreciably decrease habitat value or quality through indirect effects (e.g., edge effects, invasion of exotic plants or animals, fragmentation of habitat) | These same activities carried out by Federal Agencies in designated areas where section 7 consultations would not have occurred but for the critical habitat designation.
Private or other non-Federal Activities Potentially Affected ³ | Activities that require a Federal action (permit, authorization, or funding) and may remove or destroy in habitat for these plants by mechanical, chemical, or other means (e.g., overgrazing, clearing, cutting native live trees and shrubs, water diversion, impoundment, groundwater pumping, road building, mining, herbicide application, recreational use etc.) or appreciably decrease habitat value or quality through indirect effects (e.g., edge effects, invasion of exotic plants or animals, fragmentation of habitat) | These same activities carried out designated areas where section 7 consultations would not have occurred but for the critical habitat designation.
¹ This column represents activities potentially affected by the critical habitat designation in addition to those activities potentially affected by listing the species.
² Activities initiated by a Federal agency.
³ Activities initiated by a private or other non-Federal entity that may need Federal authorization or funding.

Section 7 of the Act requires Federal agencies to ensure that they do not jeopardize the continued existence of these species. Based on our experience with these species and their needs, we conclude that most Federal or federally-authorized actions that could potentially cause an adverse modification of the proposed critical habitat would currently be considered as “jeopardy” under the Act in areas occupied by the species because consultation would already be required due to the presence of the listed species, and the duty to avoid adverse modification of critical habitat would not trigger additional regulatory impacts beyond the duty to avoid jeopardizing the species. Accordingly, we do not expect the designation of currently occupied areas as critical habitat to have any additional incremental impacts on what actions may or may not be conducted by Federal agencies or non-Federal persons that receive Federal authorization or funding.

The designation of areas as critical habitat where section 7 consultations would not have occurred but for the critical habitat designation (that is, in areas currently unoccupied by the these listed species) may have impacts that are not attributable to the species listing on what actions may or may not be conducted by Federal agencies or non-Federal persons who receive Federal authorization or funding. We will evaluate any impact through our economic analysis (under section 4 of the Act; see Economic Analysis section of this rule). Non-Federal persons who do not have a Federal nexus with their actions are not restricted by the designation of critical habitat.

(b) We do not expect this rule to create inconsistencies with other agencies' actions. As discussed above, Federal agencies have been required to ensure that their actions not jeopardize the continued existence of the 61 plant species since their listing between 1991 and 1999. For the reasons discussed above, the prohibition against adverse modification of critical habitat would be expected to impose few, if any, additional restrictions to those that currently exist in the proposed critical habitat on currently occupied lands. However, we will evaluate any impact of designating areas where section 7 consultations would not have occurred but for the critical habitat designation through our economic analysis. Because of the potential for impacts on other Federal agencies' activities, we will continue to review this proposed action for any inconsistencies with other Federal agencies' actions.

(c) We do not expect this proposed rule, if made final, to significantly affect entitlements, grants, user fees, loan programs, or the rights and obligations of their recipients. Federal agencies are currently required to ensure that their activities do not jeopardize the continued existence of a listed species, and, as discussed above, we do not anticipate that the adverse modification prohibition, resulting from critical habitat designation will have any incremental effects in areas of occupied habitat on any Federal entitlement, grant, or loan program. We will evaluate any impact of designating areas where section 7 consultation would not have occurred but for the critical habitat designation through our economic analysis.

(d) OMB has determined that this rule may raise novel legal or policy issues and, as a result, this rule has undergone OMB review.

Regulatory Flexibility Act (5 U.S.C. 601 et seq.)

Under the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effects of the rule on a substantial number of small entities (i.e., small businesses, small organizations, and small government jurisdictions). However, no regulatory flexibility analysis is required if the head of the agency certifies the rule will not have a significant economic impact on a substantial number of small entities. SBREFA amended the Regulatory Flexibility Act (RFA) to require Federal agencies to provide a statement of the factual basis for certifying that the rule will not have a significant economic impact on a substantial number of small entities. SBREFA also amended the RFA to require a certification statement. In today's rule, we are certifying that the rule will not have a significant economic impact on a substantial number of small entities. However, should our economic analysis provide a contrary indication, we will revisit this determination at that time. The following discussion explains our rationale.

According to the Small Business Association, small entities include small organizations, such as independent non-profit organizations, and small governmental jurisdictions, including school boards and city and town governments that serve fewer than 50,000 residents, as well as small businesses. Small businesses include manufacturing and mining concerns with fewer than 500 employees, wholesale trade entities with fewer than 100 employees, retail and service businesses with less than $5 million in annual sales, general and heavy construction businesses with less than $27.5 million in annual business, special trade contractors doing less than $11.5 million in annual business, and agricultural businesses with annual sales less than $750,000. To determine if potential economic impacts to these small entities are significant, we consider the types of activities that might trigger regulatory impacts under this rule as well as the types of project modifications that may result. In general, the term significant economic impact is meant to apply to a typical small business firm's business operations.

To determine if the rule would affect a substantial number of small entities, we consider the number of small entities affected within particular types of economic activities (e.g., housing development, grazing, oil and gas production, timber harvesting, etc.). We apply the “substantial number” test individually to each industry to determine if certification is appropriate. In some circumstances, especially with proposed critical habitat designations of very limited extent, we may aggregate across all industries and consider whether the total number of small entities affected is substantial. In estimating the numbers of small entities potentially affected, we also consider whether their activities have any Federal involvement; some kinds of activities are unlikely to have any Federal involvement and so will not be affected by critical habitat designation.

Designation of critical habitat only affects activities conducted, funded, or permitted by Federal agencies; non-Federal activities are not affected by the designation. In areas where the species is present, Federal agencies are already required to consult with us under section 7 of the Act on activities that they fund, permit, or implement that may affect Alectryon macrococcus, Argyroxiphium sandwicense ssp. macrocephalum, Asplenium fragile var. insulare, Bidens micrantha ssp. kalealaha, Bonamia menziesii, Brighamia rockii, Cenchrus agrimonioides, Centaurium sebaeoides, Clermontia lindseyana, Clermontia oblongifolia ssp. mauiensis, Clermontia samuelii, Colubrina oppositifolia, Ctenitis squamigera, Cyanea copelandii ssp. haleakalaensis, Cyanea glabra, Cyanea grimesiana ssp. grimesiana, Cyanea hamatiflora ssp. hamatiflora, Cyanea lobata, Cyanea mceldowneyi, Cyrtandra munroi, Diellia erecta, Diplazium molokaiense, Dubautia plantaginea ssp. humilis, Flueggea neowawraea, Geranium arboreum, Geranium multiflorum, Gouania vitifolia, Hedyotis coriacea, Hedyotis mannii, Hesperomannia arborescens, Hesperomannia arbuscula, Hibiscus brackenridgei, Ischaemum byrone, Isodendrion pyrifolium, Kanaloa kahoolawensis, Lipochaeta kamolensis, Lysimachia lydgatei, Mariscus pennatiformis, Melicope adscendens, Melicope balloui, Melicope knudsenii, Melicope mucronulata, Melicope ovalis, Neraudia sericea, Nototrichium humile, Peucedanum sandwicense, Phlegmariurus mannii, Phyllostegia mannii, Phyllostegia mollis, Plantago princeps, Platanthera holochila, Pteris lidgatei, Remya mauiensis, Sanicula purpurea, Schiedea haleakalensis, Sesbania tomentosa, Spermolepis hawaiiensis, Tetramolopium capillare, Tetramolopium remyi, Vigna o-wahuensis, and Zanthoxylum hawaiiense. If these critical habitat designations are finalized, Federal agencies must also consult with us if their activities may affect designated critical habitat. However, in areas where the species is present, we do not believe this will result in any additional regulatory burden on Federal agencies or their applicants because consultation would already be required due to the presence of the listed species (all of the proposed critical habitat areas are occupied by at least one species), and the duty to avoid adverse modification of critical habitat likely would not trigger additional regulatory impacts beyond the duty to avoid jeopardizing the species. However, there will be little additional impact on State and local governments and their activities because all of the proposed critical habitat areas are occupied by at least one species.

Even if the duty to avoid adverse modification does not trigger additional regulatory impacts in areas where the species is present, designation of critical habitat could result in an additional economic burden on small entities due to the requirement to reinitiate consultation for ongoing Federal activities. However, since these 61 plant species were listed (between 1991 and 1999), on the island of Maui we have conducted only one formal consultation, and 14 informal consultations, in addition to consultations on Federal grants to State wildlife programs, which do not affect small entity. Three informal consultations were conducted with the U.S. Air Force, for the Maui Space Surveillance Site, who requested we review their final draft “Environmental Assessment,” “Integrated Natural Resources Management Plan for the Maui Space Surveillance Complex,” and the effects of the construction of the surveillance site on listed and proposed endangered and threatened species. One of the 61 species, Argyroxiphium sandwicense ssp. macrocephalum, was reported from the project area. Three informal consultations were conducted with Haleakala National Park, regarding a collecting permit for two of the 61 species, Geranium arboreum and Geranium multiflorum; review of the “Environmental Assessment for Replacement of the Summit Comfort Station and Utilities Systems;” and review of a park highway resurfacing project. One of the 61 species, Argyroxiphium sandwicense ssp. macrocephalum, was reported from the comfort station project area and in close proximity to the highway resurfacing project area. One informal consultation was conducted with the Service's Ecological Services Program, for the effects of fencing and replanting on listed endangered and threatened species within the Auwahi Partnership Project area. Four of the 61 species, Bidens micrantha ssp. kalealaha, Geranium arboreum, Clermontia lindseyana, and Zanthoxylum hawaiiense, were reported from the project area. One informal consultation was conducted with the Service's Ecological Services Program, for the effects of fencing and hunting on listed endangered and threatened species within the Kahikinui Partnership Project area. Four of the 61 species, Bidens micrantha ssp. kalealaha, Clermontia lindseyana, Diellia erecta, and Diplazium molokaiense, were reported from the project area. One informal consultation was conducted with the Service's Ecological Services Program, for the effects of fencing and outplanting on listed endangered and threatened species within the Puu Makua Partnership Project area. Two of the 61 species, Bidens micrantha ssp. kalealaha and Geranium arboreum were reported from the project area. One informal consultation was conducted with the Service, for the effects of ungulate exclusion on listed endangered and threatened species within the Puu Kukui Partnership Project area. Two of the 61 species, Cyanea mucronulata, and Ctenitis squamigera, were reported from the project area. One informal consultation was conducted with the Department of Defense, for review of the effects of the Kanaio National Guard Training Area on listed endangered and threatened species and review of “Natural Resources Management Plan: Kanaio Guard Training Area.” One of the 61 species, Sesbania tomentosa, was reported from the training area. Two informal consultations were conducted with the Department of Transportation, for review of the effects of the proposed Kihei-Upcountry Highway on listed endangered and threatened species. Two of the 61 species, Hibiscus brackenridgei and Bonamia menziesii, were reported from the vicinity of the project area. One informal consultations was conducted with the U.S. Department of Agriculture, for review of the effect of feral pig removal on listed endangered and threatened species within Waikamoi and Kapunakea Preserves. Twelve of the 61 species, Alectryon macrococcus, Argyroxiphium sandwicense ssp. macrocephalum, Bonamia menziesii, Colubrina oppositifolia, Ctenitis squamigera, Diplazium molokaiense, Geranium arboreum, Geranium multiflorum, Melicope balloui, Plantago princeps, Platanthera holochila, and Sanicula purpurea, are known to occur within the preserves. One formal consultation was conducted with the Federal Aviation Administration (FAA), for the review of the “Final Environmental Impact Statement, Kahului Airport Improvements”. While only one of the 61 species, Nothocestrum breviflorum, was reported in the vicinity of the project area, the effects of the Airport Improvement Project were evaluated for all listed species and the designated critical habitat for Gouania hillebrandii on the island of Maui.

None of these consultations affected or concerned small entities. In all 14 informal consultations, we concurred with each agency's determination that the project, as proposed, was not likely to adversely affect listed species. For the formal consultation, we determined that the airport improvement project, which included a mandatory state-of-the-art alien species interdiction facility, was not likely to jeopardize listed species nor adversely affect designated critical habitat for Gouania hillebrandii on the island of Maui. In addition, only the FAA's proposed airport improvement project is ongoing. The FAA is not a small entity. Therefore, the requirement to reinitiate consultation for ongoing projects will not affect a substantial number of small entities on Maui.

There has been one informal consultation on the island of Kahoolawe. The consultation was conducted on behalf of the Department of the Navy, for the effects of ordinance cleanup on listed endangered and threatened species. Three of the 61 species, Kanaloa kahoolawensis, Sesbania tomentosa, and Vigna o-wahuensis, were reported from the project area. The Department of the Navy is not a small entity, therefore this consultation did not affect or concern small entities. In this case, we concurred with the agency's determination that the project as proposed was not likely to adversely affect listed species. Although this project is ongoing, it does not affect nor concern small entities, so the requirement to reinitiate consultation for ongoing projects will not affect a substantial number of small entities on Kahoolawe.

In areas where the species is clearly not present, designation of critical habitat could trigger additional review of Federal activities under section 7 of the Act, that would otherwise not be required. We are aware of relatively few activities in the proposed critical habitat areas for these 61 plants that have Federal involvement would require consultation or reinitiation of already-completed consultations for ongoing projects. As mentioned above, we have only conducted 15 informal consultations and 1 formal consultation under section 7 involving any of the species. As a result, we cannot, at this time, easily identify future consultations that may be due to the listing of the species or the increment of additional consultations that may be required by this critical habitat designation. Therefore, for the purposes of this review and certification under the Regulatory Flexibility Act, we are assuming that any future consultations in the area proposed as critical habitat will be due to the critical habitat designations.

On Maui, approximately 17 percent of the proposed designations are on Federal lands, 45 percent are on State lands, and 37 percent are on private lands. Nearly all of the land within the critical habitat units is unsuitable for development, land uses, and activities. This is due to their remote locations, lack of access, and rugged terrain. The majority of this land (77 percent) and all of the land on Kahoolawe is within the State Conservation District where State land-use controls severely limit development and most activities. Approximately 23 percent of this land is within the State Agricultural District where only activities such as crops, livestock, grazing, and accessory structures and farmhouses are allowed. On non-Federal lands, activities that lack Federal involvement would not be affected by the critical habitat designations. Activities of an economic nature that are likely to occur on non-Federal lands in the area encompassed by these proposed designations consist of improvements in State parks and communications and tracking facilities; ranching; road improvements; recreational use such as hiking, camping, picnicking, game hunting, and fishing; botanical gardens; and, crop farming. With the exception of communications and tracking facilities improvements by the Federal Aviation Administration or the Federal Communications Commission, these activities are unlikely to have Federal involvement. On lands that are in agricultural production, the types of activities that might trigger a consultation include irrigation ditch system projects that may require section 404 authorizations from the Corps, and watershed management and restoration projects sponsored by NRCS. However the NRCS restoration projects typically are voluntary, and the irrigation ditch system projects within lands that are in agricultural production are rare, and would likely affect only a small percentage of the small entities within these proposed critical habitat designations. We are not aware of any commercial activities on the Federal lands included in these proposed critical habitat designations. Therefore, we conclude that this proposed designation of critical habitat on the island of Maui would not affect a substantial number of small entities.

The entire island of Kahoolawe is under State ownership and within the State Conservation District. The current and projected land uses on Kahoolawe are land restoration and ordinance removal (DAHI 2001). For these reasons we conclude that the proposed rule would not affect a substantial number of small entities on the island of Kahoolawe.

Based on our experience with section 7 consultations for all listed species, virtually all projects—including those that, in their initial proposed form, would result in jeopardy or adverse modification determinations in section 7 consultations—can be implemented successfully with, at most, the adoption of reasonable and prudent alternatives. These measures must be economically feasible and within the scope of authority of the Federal agency involved in the consultation. As we have a limited consultation history for these 61 species from Maui and Kahoolawe, we can only describe the general kinds of actions that may be identified in future reasonable and prudent alternatives. These are based on our understanding of the needs of these species and the threats they face, especially as described in the final listing rules and in this proposed critical habitat designation, as well as our experience with similar listed plants in Hawaii. In addition, all of these species are protected under the State of Hawaii's Endangered Species Act (Hawaii Revised Statutes, Chap. 195D-4). Therefore, we have also considered the kinds of actions required under the State licensing process for these species. The kinds of actions that may be included in future reasonable and prudent alternatives include conservation set-asides, management of competing non-native species, restoration of degraded habitat, propagation, outplanting and augmentation of existing populations, construction of protective fencing, and periodic monitoring. These measures are not likely to result in a significant economic impact to a substantial number of small entities because any measures included as a reasonable and prudent alternative would have to be economically feasible to the individual landowner, and because as discussed above, we do not believe there will be a substantial number of small entities affected.

As required under section 4(b)(2) of the Act, we will conduct an analysis of the potential economic impacts of this proposed critical habitat designation, and will make that analysis available for public review and comment before finalizing these designations.

In summary, we have considered whether this proposed rule would result in a significant economic effect on a substantial number of small entities. It would not affect a substantial number of small entities. Approximately 45 percent of the lands proposed as critical habitat are on State of Hawaii lands. The State of Hawaii is not a small entity. Approximately 37 percent of the lands proposed as critical habitat are on private lands. Many of these parcels are located in areas where likely future land uses are not expected to result in Federal involvement or section 7 consultations. As discussed earlier, most of the private and State parcels within the proposed designation are currently being used for recreational and agricultural purposes and, therefore, are not likely to require any Federal authorization. In the remaining areas, section 7 application, the only trigger for regulatory impact under this rule, would be limited to a subset of the area proposed. The most likely future section 7 consultations resulting from this rule would be for informal consultations on federally funded land and water conservation projects, species-specific surveys and research projects, and watershed management and restoration projects sponsored by NRCS. These consultations would likely occur on only a subset of the total number of parcels and therefore not likely to affect a substantial number of small entities. This rule would result in project modifications only when proposed Federal activities would destroy or adversely modify critical habitat. While this may occur, it is not expected frequently enough to affect a substantial number of small entities. Even when it does occur, we do not expect it to result in a significant economic impact, as the measures included in reasonable and prudent alternatives must be economically feasible and consistent with the proposed action. Therefore, we are certifying that the proposed designation of critical habitat for the following species: Alectryon macrococcus, Argyroxiphium sandwicense ssp. macrocephalum, Asplenium fragile var. insulare, Bidens micrantha ssp. kalealaha, Bonamia menziesii, Brighamia rockii, Cenchrus agrimonioides, Centaurium sebaeoides, Clermontia lindseyana, Clermontia oblongifolia ssp. mauiensis, Clermontia samuelii, Colubrina oppositifolia, Ctenitis squamigera, Cyanea copelandii ssp. haleakalaensis, Cyanea glabra, Cyanea grimesiana ssp. grimesiana, Cyanea hamatiflora ssp. hamatiflora, Cyanea lobata, Cyanea mceldowneyi, Cyrtandra munroi, Diellia erecta, Diplazium molokaiense, Dubautia plantaginea ssp. humilis, Flueggea neowawraea, Geranium arboreum, Geranium multiflorum, Gouania vitifolia, Hedyotis coriacea, Hedyotis mannii, Hesperomannia arborescens, Hesperomannia arbuscula, Hibiscus brackenridgei, Ischaemum byrone, Isodendrion pyrifolium, Kanaloa kahoolawensis, Lipochaeta kamolensis, Lysimachia lydgatei, Mariscus pennatiformis, Melicope adscendens, Melicope balloui, Melicope knudsenii, Melicope mucronulata, Melicope ovalis, Neraudia sericea, Nototrichium humile, Peucedanum sandwicense, Phlegmariurus mannii, Phyllostegia mannii, Phyllostegia mollis, Plantago princeps, Platanthera holochila, Pteris lidgatei, Remya mauiensis, Sanicula purpurea, Schiedea haleakalensis, Sesbania tomentosa, Spermolepis hawaiiensis, Tetramolopium capillare, Tetramolopium remyi, Vigna o-wahuensis, and Zanthoxylum hawaiiense will not have a significant economic impact on a substantial number of small entities, and an initial regulatory flexibility analysis is not required. However, should the economic analysis of this rule indicate otherwise, we will revisit this determination.

Executive Order 13211

On May 18, 2001, the President issued Executive Order 13211, on regulations that significantly affect energy supply, distribution, and use. Executive Order 13211 requires agencies to prepare Statements of Energy Effects when undertaking certain actions. Although this rule is a significant regulatory action under Executive Order 12866, it is not expected to significantly affect energy supplies, distribution, or use. Therefore, this action is not a significant energy action and no Statement of Energy Effects is required.

Unfunded Mandates Reform Act (2 U.S.C. 1501 et seq.)

In accordance with the Unfunded Mandates Reform Act (2 U.S.C. 1501 et seq.):

a. We believe this rule, as proposed, will not “significantly or uniquely” affect small governments. A Small Government Agency Plan is not required. Small governments will not be affected unless they propose an action requiring Federal funds, permits or other authorizations. Any such activities will require that the Federal agency ensure that the action will not adversely modify or destroy designated critical habitat. However, as discussed above, these actions are currently subject to equivalent restrictions through the listing protections of the species, and no further restrictions are anticipated to result from critical habitat designation of occupied areas. In our economic analysis, we will evaluate any impact of designating areas where section 7 consultations would not have occurred but for the critical habitat designation.

b. This rule, as proposed, will not produce a Federal mandate on State or local governments or the private sector of $100 million or greater in any year, that is, it is not a “significant regulatory action” under the Unfunded Mandates Reform Act. The designation of critical habitat imposes no direct obligations on State or local governments.

Takings

In accordance with Executive Order 12630 (“Government Actions and Interference with Constitutionally Protected Private Property Rights”), we have analyzed the potential takings implications of designating critical habitat for the 61 species from Maui and Kahoolawe in a preliminary takings implication assessment. The takings implications assessment concludes that this proposed rule does not pose significant takings implications. Once the economic analysis is completed for this proposed rule, we will review and revise this preliminary assessment as warranted.

Federalism

In accordance with Executive Order 13132, the proposed rule does not have significant Federalism effects. A Federalism assessment is not required. In keeping with Department of the Interior policy, we requested information from appropriate State agencies in Hawaii. The designation of critical habitat in areas currently occupied by one or more of the 61 plant species imposes no additional restrictions to those currently in place, and, therefore, has little incremental impact on State and local governments and their activities. The designation of critical habitat in unoccupied areas may require section 7 consultation on non-Federal lands (where a Federal nexus occurs) that might otherwise not have occurred. However, there will be little additional impact on State and local governments and their activities because all of the proposed critical habitat areas are occupied by at least one species. The designations may have some benefit to these governments in that the areas essential to the conservation of these species are more clearly defined, and the primary constituent elements of the habitat necessary to the survival of the species are specifically identified. While this definition and identification does not alter where and what federally sponsored activities may occur, it may assist these local governments in long-range planning, rather than waiting for case-by-case section 7 consultation to occur.

Civil Justice Reform

In accordance with Executive Order 12988, the Office of the Solicitor has determined that the rule does not unduly burden the judicial system and does meet the requirements of sections 3(a) and 3(b)(2) of the Order. We are proposing to designate critical habitat in accordance with the provisions of the Endangered Species Act. The rule uses standard property descriptions and identifies the primary constituent elements within the designated areas to assist the public in understanding the habitat needs of the 61 plant species.

Paperwork Reduction Act of 1995 (44 U.S.C. 3501 et seq.)

This rule does not contain any new collections of information that require approval by OMB under the Paperwork Reduction Act. This rule will not impose recordkeeping or reporting requirements on State or local governments, individuals, businesses, or organizations. An agency may not conduct or sponsor and a person is not required to respond to a collection of information unless it displays a currently valid OMB control number.

National Environmental Policy Act

We have determined we do not need to prepare an Environmental Assessment and/or an Environmental Impact Statement as defined by the National Environmental Policy Act of 1969 in connection with regulations adopted pursuant to section 4(a) of the Endangered Species Act, as amended. We published a notice outlining our reason for this determination in the Federal Register on October 25, 1983 (48 FR 49244). This proposed determination does not constitute a major Federal action significantly affecting the quality of the human environment.

Government-to-Government Relationship with Tribes

In accordance with the President's memorandum of April 29, 1994, “Government-to-Government Relations with Native American Tribal Governments” (59 FR 22951) E.O. 13175 and 512 DM 2, we readily acknowledge our responsibility to communicate meaningfully with recognized Federal Tribes on a government-to-government basis. We have determined that there are no tribal lands essential for the conservation of these 61 plant species. Therefore, designation of critical habitat for these 61 species has not been proposed on Tribal lands.

References Cited

A complete list of all references cited in this proposed rule is available upon request from the Pacific Islands Office (see ADDRESSES section).

Authors

The primary authors of this notice are Christa Russell, Marigold Zoll, Michelle Stephens, and Gregory Koob (see ADDRESSES section).

List of Subjects in 50 CFR Part 17

Endangered and threatened species, Exports, Imports, Reporting and record-keeping requirements, and Transportation.

Proposed Regulation Promulgation

Accordingly, we propose to amend part 17, subchapter B of chapter I, title 50 of the Code of Federal Regulations as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. In § 17.12(h) revise the entries for Alectryon macrococcus, Argyroxiphium sandwicense ssp. macrocephalum, Bidens micrantha ssp. kalealaha, Bonamia menziesii, Brighamia rockii, Cenchrus agrimonioides, Centaurium sebaeoides, Clermontia lindseyana, Clermontia oblongifolia ssp. mauiensis, Clermontia samuelii, Colubrina oppositifolia, Cyanea copelandii ssp. haleakalaensis, Cyanea glabra, Cyanea grimesiana ssp. grimesiana, Cyanea hamatiflora ssp. hamatiflora, Cyanea lobata, Cyanea mceldowneyi, Cyrtandra munroi, Dubautia plantaginea ssp. humilis, Flueggea neowawraea, Geranium arboreum, Geranium multiflorum, Gouania vitifolia, Hedyotis coriacea, Hedyotis mannii, Hesperomannia arborescens, Hesperomannia arbuscula, Hibiscus brackenridgei, Ischaemum byrone, Isodendrion pyrifolium, Kanaloa kahoolawensis, Lipochaeta kamolensis, Lysimachia lydgatei, Mariscus pennatiformis, Melicope adscendens, Melicope balloui, Melicope knudsenii, Melicope mucronulata, Melicope ovalis, Neraudia sericea, Nototrichium humile, Peucedanum sandwicense, Phyllostegia mannii, Phyllostegia mollis, Plantago princeps, Platanthera holochila, Remya mauiensis, Sanicula purpurea, Schiedea haleakalensis, Sesbania tomentosa, Spermolepis hawaiiensis, Tetramolopium capillare, Tetramolopium remyi, Vigna o-wahuensis, and Zanthoxylum hawaiiense under “FLOWERING PLANTS” and Asplenium fragile var. insulare, Ctenitis squamigera, Diellia erecta, Diplazium molokaiense, Phlegmariurus (=Lycopodium,=Huperzia) mannii, and Pteris lidgatei, under “FERNS AND ALLIES” to read as follows:

§ 17.12 Endangered and threatened plants.

* * * * *

(h) * * *

SPECIES: Scientific name | SPECIES: Common name | Historic range | Family | Status | When listed | Critical habitat | Special rules
Flowering Plants
* * * * * * *
Alectryon macrococcus | Mahoe | U.S.A. (HI) | Sapindaceae | E | 467 | 17.96(a) | NA
* * * * * * *
Argyroxiphium sandwicense ssp. macrocephalum | Ahinahina | U.S.A. (HI) | Asteraceae | E | 467 | 17.96(a) | NA
* * * * * * *
Bidens micrantha ssp. kalealaha | Kookoolau | U.S.A. (HI) | Asteraceae | E | 467 | 17.96(a) | NA
* * * * * * *
Bonamia menziesii | None | U.S.A. (HI) | Convolvulaceae | E | 559 | 17.96(a) | NA
* * * * * * *
Brighamia rockii | Pua ala | U.S.A. (HI) | Campanulaceae | E | 480 | 17.96(a) | NA
* * * * * * *
Cenchrus agrimonioides | Kamanomano (=Sandbur, agrimony) | U.S.A. (HI) | Poaceae | E | 592 | 17.96(a) | NA
* * * * * * *
Centaurium sebaeoides | Awiwi | U.S.A. (HI) | Gentianaceae | E | 448 | 17.96(a) | NA
* * * * * * *
Clermontia lindseyana | Oha wai | U.S.A. (HI) | Campanulaceae | E | 532 | 17.96(a) | NA
* * * * * * *
Clermontia oblongifolia ssp. mauiensis | Oha wai | U.S.A. (HI) | Campanulaceae | E | 467 | 17.96(a) | NA
* * * * * * *
Clermontia samuelii | Oha wai | U.S.A. (HI) | Campanulaceae | E | 666 | 17.96(a) | NA
* * * * * * *
Colubrina oppositifolia | Kauila | U.S.A. (HI) | Rhamnaceae | E | 532 | 17.96(a) | NA
* * * * * * *
Cyanea copelandii ssp. haleakalaensis | Haha | U.S.A. (HI) | Campanulaceae | E | 666 | 17.96(a) | NA
* * * * * * *
Cyanea glabra | Haha | U.S.A. (HI) | Campanulaceae | E | 666 | 17.96(a) | NA
* * * * * * *
Cyanea grimesiana ssp. grimesiana | Haha | U.S.A.(HI) | Campanulaceae | E | 592 | 17.96(a) | NA
* * * * * * *
Cyanea hamatiflora ssp. hamatiflora | Haha | U.S.A. (HI) | Campanulaceae | E | 666 | 17.96(a) | NA
* * * * * * *
Cyanea lobata | Haha | U.S.A. (HI) | Campanulaceae | E | 467 | 17.96(a) | NA
* * * * * * *
Cyanea mceldowneyi | Haha | U.S.A. (HI) | Campanulaceae | E | 467 | 17.96(a) | NA
* * * * * * *
Cyrtandra munroi | Haiwale | U.S.A. (HI) | Gesneriaceae | E | 467 | 17.96(a) | NA
* * * * * * *
Dubautia plantaginea ssp. humilis | Naenae | U.S.A. (HI) | Asteraceae | E | 666 | 17.96(a) | NA
* * * * * * *
Flueggea neowawraea | Mehamehame | U.S.A. (HI) | Euphorbiaceae | E | 559 | 17.96(a) | NA
* * * * * * *
Geranium arboreum | Hawaiian red-flowered geranium | U.S.A. (HI) | Geraniaceae | E | 465 | 17.96(a) | NA
* * * * * * *
Geranium multiflorum | Nohoanu | U.S.A. (HI) | Geraniaceae | E | 467 | 17.96(a) | NA
* * * * * * *
Gouania vitifolia | None | U.S.A. (HI) | Rhamnaceae | E | 541 | 17.96(a) | NA
* * * * * * *
Hedyotis coriacea | Kioele | U.S.A. (HI) | Rubiaceae | E | 467 | 17.96(a) | NA
* * * * * * *
Hedyotis mannii | Pilo | U.S.A. (HI) | Rubiaceae | E | 480 | 17.96(a) | NA
* * * * * * *
Hesperomannia arborescens | None | U.S.A. (HI) | Asteraceae | E | 536 | 17.96(a) | NA
* * * * * * *
Hesperomannia arbuscula | None | U.S.A. (HI) | Asteraceae | E | 448 | 17.96(a) | NA
* * * * * * *
Hibiscus brackenridgei | Mao hau hele | U.S.A. (HI) | Malvaceae | E | 559 | 17.96(a) | NA
* * * * * * *
Ischaemum byrone | Hilo ischaemum | U.S.A. (HI) | Poaceae | E | 532 | 17.96(a) | NA
* * * * * * *
Isodendrion pyrifolium | Wahine noho kula | U.S.A. (HI) | Violaceae | E | 532 | 17.96(a) | NA
* * * * * * *
Kanaloa kahoolawensis | Kohe malama malama o Kanaloa | U.S.A. (HI) | Fabaceae | E | 666 | 17.96(a) | NA
* * * * * * *
Lipochaeta kamolensis | Nehe | U.S.A. (HI) | Asteraceae | E | 467 | 17.96(a) | NA
* * * * * * *
Lysimachia lydgatei | None | U.S.A. (HI) | Primulaceae | E | 467 | 17.96(a) | NA
* * * * * * *
Mariscus pennatiformis | None | U.S.A. (HI) | Cyperaceae | E | 559 | 17.96(a) | NA
* * * * * * *
Melicope adscendens | Alani | U.S.A. (HI) | Rutaceae | E | 565 | 17.96(a) | NA
* * * * * * *
Melicope balloui | Alani | U.S.A. (HI) | Rutaceae | E | 565 | 17.96(a) | NA
* * * * * * *
Melicope knudsenii | Alani | U.S.A. (HI) | Rutaceae | E | 530 | 17.96(a) | NA
* * * * * * *
Melicope (= Pelea) mucronulata | Alani | U.S.A. (HI) | Rutaceae | E | 467 | 17.96(a) | NA
* * * * * * *
Melicope ovalis | Alani | U.S.A. (HI) | Rutaceae | E | 565 | 17.96(a) | NA
* * * * * * *
Neraudia sericea | None | U.S.A. (HI) | Urticaceae | E | 559 | 17.96(a) | NA
* * * * * * *
Nototrichium humile | Kului | U.S.A. (HI) | Amaranthaceae | E | 448 | 17.96(a) | NA
* * * * * * *
Peucedanum sandwicense | Makou | U.S.A. (HI) | Apiaceae | E | 530 | 17.96(a) | NA
* * * * * * *
Phyllostegia mannii | None | U.S.A. (HI) | Lamiaceae | E | 480 | 17.96(a) | NA
* * * * * * *
Phyllostegia mollis | None | U.S.A. (HI) | Lamiaceae | E | 448 | 17.96(a) | NA
* * * * * * *
Plantago princeps | Laukahi kuahiwi | U.S.A. (HI) | Plantaginaceae | E | 559 | 17.96(a) | NA
* * * * * * *
Platanthera holochila | None | U.S.A. (HI) | Orchidaceae | E | 592 | 17.96(a) | NA
* * * * * * *
Remya mauiensis | Maui remya | U.S.A. (HI) | Asteraceae | E | 413 | 17.96(a) | NA
* * * * * * *
Sanicula purpurea | None | U.S.A. (HI) | Apiaceae | E | 592 | 17.96(a) | NA
* * * * * * *
Schiedea haleakalensis | None | U.S.A. (HI) | Caryophyllaceae | E | 467 | 17.96(a) | NA
* * * * * * *
Sesbania tomentosa | Ohai | U.S.A. (HI) | Fabaceae | E | 559 | 17.96(a) | NA
* * * * * * *
Spermolepis hawaiiensis | None | U.S.A. (HI) | Apiaceae | E | 559 | 17.96(a) | NA
* * * * * * *
Tetramolopium capillare | Pamakani | U.S.A. (HI) | Asteraceae | E | 555 | 17.96(a) | NA
* * * * * * *
Tetramolopium remyi | None | U.S.A. (HI) | Asteraceae | E | 435 | 17.96(a) | NA
* * * * * * *
Vigna o-wahuensis | None | U.S.A. (HI) | Fabaceae | E | 559 | 17.96(a) | NA
* * * * * * *
Zanthoxylum hawaiiense | Ae | U.S.A. (HI) | Rutaceae | E | 532 | 17.96(a) | NA
* * * * * * *
Ferns and Allies
* * * * * * *
Asplenium fragile var. insulare | None | U.S.A. (HI) | Aspleniaceae | E | 553 | 17.96(a) | NA
* * * * * * *
Ctenitis squamigera | Pauoa | U.S.A. (HI) | Aspleniaceae | E | 553 | 17.96(a) | NA
* * * * * * *
Diellia erecta | Asplenium-leaved diellia | U.S.A. (HI) | Aspleniaceae | E | 559 | 17.96(a) | NA
* * * * * * *
Diplazium molokaiense | None | U.S.A. (HI) | Aspleniaceae | E | 553 | 17.96(a) | NA
* * * * * * *
Phlegmariurus (=Lycopodium, =Huperzia) mannii | Wawaeiole | U.S.A. (HI) | Lycopodiaceae | E | 467 | 17.96(a) | NA
* * * * * * *
Pteris lidgatei | None | U.S.A. (HI) | Adiantaceae | E | 553 | 17.96(a) | NA
* * * * * * *

3. In Section 17.96, as proposed to be amended at 65 FR 66865 (November 7, 2000), 65 FR 79192 (December 18, 2000), 65 FR 82086 (December 27, 2000), 65 FR 83193 (December 29, 2000), 67 FR 4072 (January 28, 2002) and 67 FR 9806 (March 4, 2002), is proposed to be further amended as follows:

a. Revise introductory text of paragraph (a)(1)(i);

b. Add paragraphs (a)(1)(i)(C); and (a)(1)(i)(D): and

c. Revise paragraph (a)(1)(ii).

The revised text reads as follows:

§ 17.96 Critical habitat—plants.

(a) * * *

(1) * * *

(i) Maps and critical habitat unit descriptions. The following sections contain the legal descriptions of the critical habitat units designated for each of the Hawaiian Islands. Existing manmade features and structures within the boundaries of the mapped unit, such as buildings, roads, aqueducts, railroads, telecommunications equipment, telemetry antennas, radars, missile launch sites, arboreta and gardens, heiau (indigenous places of worship or shrines), airports, other paved areas, lawns, and other rural residential landscaped areas do not contain one or more of the primary constituent elements described for each species in paragraphs (a)(1)(ii)(A) and (a)(1)(ii)(B) of this section and are not included in the critical habitat designation.

* * * * *

(C) Maui. Critical habitat units are described below. Coordinates are in UTM Zone 4 with units in meters using North American Datum of 1983 (NAD83). The following map shows the general locations of the 13 critical habitats units designated on the island of Maui.

(1) Note: Map 1—Index map follows:

BILLING CODE 4310-55-P

(2) Maui A (3,884 ha; 9,598 ac).

(i) Unit consists of the following 187 boundary points: 745646, 2316064; 746803, 2315452; 745637, 2315818; 745665, 2314941; 746096, 2314837; 746206, 2314955; 747360, 2314536; 747736, 2314302; 748610, 2314192; 748747, 2314163; 748895, 2314089; 749112, 2314006; 749212, 2313881; 749432, 2313730; 749677, 2313678; 749902, 2313524; 749954, 2313416; 750110, 2313242; 750118, 2313199; 750119, 2313198; 750307, 2313068; 750359, 2313038; 750360, 2313038; 750569, 2312799; 750662, 2312593; 750805, 2312435; 750878, 2312325; 750885, 2312412; 750817, 2312575; 750798, 2312594; 750748, 2312588; 750710, 2312845; 750652, 2312855; 750635, 2313002; 750564, 2313116; 750450, 2313241; 750253, 2313328; 749863, 2313784; 749654, 2313910; 749594, 2313898; 749400, 2314013; 749762, 2314025; 749764, 2314245; 749767, 2314498; 748195, 2314901; 747995, 2314988; 747953, 2315158; 747952, 2315160; 747941, 2315192; 747901, 2315370; 747687, 2315584; 747662, 2315928; 747336, 2316180; 747266, 2316401; 747236, 2316433; 747031, 2316482; 746735, 2316514; 746560, 2316570; 746447, 2316671; 746334, 2316643; 746188, 2316678; 745896, 2316785; 745484, 2317026; 745643, 2317128; 745694, 2317441; 745981, 2317323; 746078, 2317462; 745728, 2317647; 745798, 2318077; 746162, 2318852; 746391, 2319637; 746984, 2321175; 747501, 2322278; 748133, 2322670; 748262, 2322541; 748568, 2321950; 748627, 2321290; 748509, 2320188; 748746, 2320208; 749101, 2319292; 749101, 2318793; 749178, 2318693; 749408, 2318624; 749723, 2317818; 749700, 2317464; 750392, 2316121; 750302, 2315611; 750386, 2314410; 750482, 2313931; 750575, 2313421; 750722, 2313061; 750842, 2312911; 750962, 2312611; 751022, 2312131; 751082, 2311951; 750911, 2311782; 750812, 2311771; 750542, 2311501; 750482, 2311201; 750440, 2311216; 750386, 2311230; 750328, 2311242; 750279, 2311249; 750263, 2311247; 750252, 2311240; 750122, 2311261; 750063, 2311077; 749987, 2311042; 749908, 2311040; 749769, 2311083; 749324, 2311150; 748999, 2311226; 748784, 2311284; 748564, 2311384; 748472, 2311441; 748322, 2311471; 748142, 2311441; 747812, 2311501; 747662, 2311441; 747422, 2311441; 746372, 2311591; 746132, 2311561; 745532, 2311531; 745232, 2311591; 745112, 2311681; 744848, 2311671; 744757, 2311853; 744803, 2311913; 744873, 2311930; 745003, 2311908; 745103, 2311941; 745246, 2312013; 745237, 2312047; 745184, 2312054; 745082, 2312024; 744998, 2311962; 744940, 2311972; 744855, 2311959; 744843, 2311979; 744786, 2311969; 744644, 2311877; 744574, 2311856; 744542, 2311859; 744531, 2311866; 744526, 2311860; 744465, 2311866; 744468, 2311918; 744523, 2311989; 744820, 2312059; 744992, 2312075; 744984, 2312177; 744929, 2312317; 744736, 2312339; 744734, 2312365; 744653, 2312345; 744609, 2312328; 744558, 2312437; 744633, 2312480; 744722, 2312477; 744785, 2312485; 744871, 2312454; 744945, 2312517; 745143, 2312557; 745200, 2312689; 745157, 2312692; 745009, 2312661; 744946, 2312990; 745348, 2312974; 745916, 2313043; 745773, 2313571; 745745, 2313671; 745113, 2313721; 744946, 2313827; 744964, 2315341; 745081, 2315642; 745066, 2315830; 745211, 2315767; 745220, 2316095; 745062, 2316193; 745156, 2316554; 745095, 2316969; 745815, 2316715; 745688, 2316626; 745682, 2316625; 745668, 2316564; 745660, 2316498; 745662, 2316487.

(ii) Note: Map 2 follows:

BILLING CODE 4310-55-C

(3) Maui B1 (4,374 ha; 10,808 ac).

(i) Unit consists of the following 84 boundary points: 756585, 2312074; 756481, 2312051; 756356, 2312094; 756039, 2312114; 755355, 2312353; 755012, 2312431; 754622, 2312281; 754412, 2312371; 754172, 2312491; 753872, 2312521; 753812, 2312461; 753632, 2312461; 753542, 2312551; 753182, 2312581; 752556, 2312292; 752222, 2312191; 751892, 2312011; 751082, 2311951; 751022, 2312131; 750962, 2312611; 750842, 2312911; 750722, 2313061; 750575, 2313421; 750482, 2313931; 750386, 2314410; 750302, 2315611; 750392, 2316121; 749700, 2317464; 749723, 2317818; 749408, 2318624; 749178, 2318693; 749101, 2318793; 749101, 2319292; 748746, 2320208; 749105, 2320225; 749490, 2320492; 749492, 2320495; 749509, 2320507; 750442, 2320667; 750595, 2320522; 750652, 2320703; 750913, 2320748; 751322, 2320818; 751504, 2320850; 751662, 2320812; 752336, 2320652; 752694, 2320488; 753547, 2320078; 753884, 2319664; 753684, 2319160; 753794, 2319238; 753831, 2319264; 754230, 2319264; 754437, 2319134; 754628, 2319014; 754566, 2318549; 754986, 2318675; 755406, 2318356; 755428, 2318339; 755028, 2317961; 754461, 2317666; 754650, 2317540; 754692, 2317372; 754543, 2317112; 755365, 2316415; 755848, 2316599; 755848, 2316598; 755848, 2315712; 756262, 2315298; 755831, 2315154; 755624, 2314782; 755582, 2314690; 756114, 2314411; 755852, 2314267; 755926, 2313985; 756109, 2313151; 756469, 2313228; 756146, 2313006; 756382, 2312300; 756646, 2312281; 756765, 2312104; 756687, 2312072; 756684, 2312072; 756585, 2312074.

(ii) Note: See Map 3:

(4) Maui B2 (362 ha; 893 ac).

(i) Unit consists of the following 26 boundary points: 748262, 2322541; 748133, 2322670; 749321, 2323406; 749364, 2323069; 749536, 2322742; 749536, 2322742; 749537, 2322740; 749637, 2322549; 749783, 2322650; 749455, 2323474; 750016, 2323841; 750018, 2323839; 750033, 2323848; 751197, 2322401; 750188, 2321953; 750152, 2322162; 749940, 2322307; 749812, 2322559; 749759, 2322545; 749742, 2322463; 749858, 2322275; 749993, 2321907; 748635, 2321367; 748627, 2321290; 748568, 2321950; 748262, 2322541.

(ii) Note: Map 3 follows:

BILLING CODE 4310-55-P

BILLING CODE 4310-55-C

(5) Maui C1 (23 ha; 56 ac).

(i) Unit consists of the following 20 boundary points: coastline; 747250, 2326499; 747257, 2326478; 747007, 2326430; 746884, 2326397; 746799, 2326342; 746739, 2326262; 746652, 2326280; 746642, 2326406; 746544, 2326446; 746341, 2326386; 746294, 2326499; 746180, 2326580; 745984, 2326637; 745796, 2326602; 745709, 2326596; 745622, 2326620; 745300, 2326566; 745260, 2326492; 745179, 2326343; 745158, 2326345; coastline.

(ii) Note: See Map 4:

(6) Maui C2 (10 ha; 24 ac).

(i) Unit consists of the following 14 boundary points: coastline; 747287, 2326549; 748409, 2326346; 748368, 2326302; 748229, 2326384; 748109, 2326548; 747979, 2326564; 747917, 2326610; 747839, 2326650; 747684, 2326547; 747619, 2326463; 747536, 2326537; 747403, 2326505; 747381, 2326532; 747287, 2326549; coastline.

(ii) Note: See Map 4:

(7) Maui C3 (162 ha; 400 ac).

(i) Unit consists of the following 96 boundary: coastline; 754099, 2324756; 754053, 2324754; 753955, 2324768; 753953, 2324779; 753930, 2324862; 753759, 2325028; 753669, 2325092; 753524, 2325277; 753446, 2325286; 753388, 2325342; 753325, 2325353; 753252, 2325321; 753085, 2325303; 753034, 2325242; 752911, 2325108; 752865, 2325227; 752886, 2325361; 752879, 2325424; 752841, 2325439; 752828, 2325443; 752732, 2325363; 752722, 2325261; 752662, 2325341; 752615, 2325470; 752535, 2325474; 752438, 2325416; 752516, 2325578; 752501, 2325617; 752373, 2325646; 752189, 2325668; 752167, 2325700; 752138, 2325733; 751990, 2325840; 751898, 2325842; 751835, 2325769; 751804, 2325709; 751734, 2325826; 751714, 2325826; 751630, 2325733; 751547, 2325578; 751562, 2325516; 751525, 2325510; 751492, 2325530; 751475, 2325549; 751455, 2325734; 751461, 2325837; 751273, 2325927; 751251, 2325921; 751203, 2325906; 751187, 2325954; 751123, 2325981; 751071, 2325948; 751040, 2325902; 751010, 2325866; 750988, 2325906; 750957, 2325952; 750990, 2326027; 750973, 2326051; 750852, 2326051; 750801, 2326107; 750821, 2326193; 750779, 2326281; 750598, 2326312; 750549, 2326248; 750486, 2326298; 750482, 2326366; 750526, 2326443; 750607, 2326484; 750622, 2326624; 750617, 2326668; 750334, 2326780; 750225, 2326707; 750174, 2326716; 750157, 2326750; 750156, 2326762; 750143, 2326932; 750116, 2326995; 749976, 2327272; 749806, 2327368; 749392, 2327324; 749324, 2327133; 749250, 2327018; 749018, 2327093; 748987, 2327015; 748913, 2327003; 748859, 2326865; 748906, 2326824; 748978, 2326817; 748990, 2326759; 748786, 2326666; 748648, 2326684; 748567, 2326639; 748572, 2326561; 748637, 2326459; 748673, 2326373; 748516, 2326423; coastline.

(ii) Note: Map 4:

(8) Maui C4 (162 ha; 400 ac).

(i) Unit consists of the following 64 boundary points: coastline; 758803, 2318519; 758442, 2318485; 758421, 2318506; 758366, 2318516; 758267, 2318469; 758209, 2318463; 758200, 2318729; 758196, 2318869; 757790, 2319126; 758013, 2319396; 757861, 2319563; 757862, 2319690; 757794, 2319720; 757771, 2319757; 757734, 2319748; 757626, 2319942; 757267, 2320057; 757061, 2320021; 756963, 2320372; 756833, 2320832; 757033, 2321273; 757038, 2321301; 757031, 2321316; 757019, 2321449; 757019, 2321491; 757069, 2321583; 757108, 2321658; 757128, 2321761; 757132, 2321784; 757130, 2321785; 756805, 2321814; 756813, 2322040; 756862, 2322355; 756815, 2322353; 756814, 2322353; 756730, 2322336; 756575, 2322315; 756442, 2322315; 756382, 2322329; 756036, 2322156; 755962, 2322490; 755784, 2322847; 755781, 2322847; 755680, 2322859; 755664, 2322913; 755630, 2322976; 755592, 2323043; 755592, 2323144; 755551, 2323181; 755467, 2323256; 755454, 2323349; 755417, 2323374; 755396, 2323441; 755393, 2323463; 755322, 2323443; 755306, 2323674; 755295, 2323702; 755254, 2323811; 755229, 2323833; 755153, 2323833; 755144, 2323974; 755056, 2324045; 754981, 2324021; 754880, 2324041; coastline.

(ii) Note: Map 4 follows:

BILLING CODE 4310-55-P

BILLING CODE 4310-55-C

(9) Maui D1 (6,950 ha; 17,175 ac).

(i) Unit consists of the following 180 boundary points: 754826, 2304297; 754770, 2304254; 754643, 2304333; 754542, 2304415; 754486, 2304579; 754439, 2304653; 754437, 2304765; 754349, 2304956; 754319, 2305108; 754214, 2305093; 754258, 2304902; 754278, 2304785; 754351, 2304474; 754255, 2304192; 754171, 2304150; 754065, 2304164; 753825, 2304139; 753832, 2304195; 753675, 2304217; 753611, 2303762; 753431, 2303730; 753285, 2303705; 753152, 2303682; 753304, 2304113; 753310, 2304130; 753367, 2304292; 753234, 2304365; 753213, 2304104; 753136, 2303909; 753136, 2303653; 753042, 2303454; 752244, 2304494; 749843, 2303965; 748359, 2304949; 747572, 2305437; 747183, 2306649; 746219, 2306757; 746690, 2307032; 746584, 2307222; 746574, 2307254; 746905, 2307584; 746773, 2307831; 746428, 2308069; 745859, 2309952; 745861, 2309954; 745855, 2309967; 745848, 2309987; 746252, 2310016; 748094, 2310374; 748180, 2310466; 747274, 2310703; 745970, 2310264; 745771, 2310115; 745591, 2310776; 745359, 2311057; 744982, 2311291; 744842, 2311439; 744842, 2311603; 744848, 2311671; 745112, 2311681; 745232, 2311591; 745532, 2311531; 746132, 2311561; 746372, 2311591; 747422, 2311441; 747662, 2311441; 747812, 2311501; 748142, 2311441; 748322, 2311471; 748472, 2311441; 748564, 2311384; 748784, 2311284; 748999, 2311226; 749324, 2311150; 749769, 2311083; 749908, 2311040; 749987, 2311042; 750063, 2311077; 750122, 2311261; 750252, 2311240; 750263, 2311247; 750279, 2311249; 750328, 2311242; 750386, 2311230; 750440, 2311216; 750482, 2311201; 750542, 2311501; 750812, 2311771; 750911, 2311782; 751082, 2311951; 751892, 2312011; 752222, 2312191; 752556, 2312292; 753182, 2312581; 753542, 2312551; 753632, 2312461; 753812, 2312461; 753872, 2312521; 754172, 2312491; 754412, 2312371; 754622, 2312281; 755012, 2312431; 755355, 2312353; 756039, 2312114; 756356, 2312094; 756481, 2312051; 756585, 2312074; 756684, 2312072; 756262, 2311897; 756172, 2311897; 756000, 2311819; 756067, 2311803; 756198, 2311730; 756382, 2311473; 756421, 2311340; 756092, 2311244; 755806, 2311216; 755636, 2311122; 755635, 2311122; 755459, 2311035; 755355, 2310968; 755230, 2311019; 754988, 2311042; 754820, 2310941; 754711, 2310770; 755295, 2310580; 755366, 2310585; 755661, 2310703; 755887, 2310863; 756085, 2310888; 756316, 2310888; 756497, 2310849; 756724, 2310720; 756918, 2310584; 756967, 2310340; 757238, 2310389; 757267, 2309857; 756883, 2309679; 757090, 2309531; 756824, 2309443; 756958, 2309254; 757267, 2308822; 756558, 2308999; 756439, 2308822; 756252, 2308927; 755765, 2308074; 756072, 2308080; 756194, 2308023; 756279, 2307861; 756270, 2307644; 756186, 2307440; 755931, 2307335; 755732, 2307367; 755806, 2307294; 755803, 2307043; 755624, 2306756; 755515, 2306552; 755377, 2306367; 755319, 2306243; 755163, 2306105; 755078, 2306075; 754857, 2305996; 754614, 2305982; 754412, 2306019; 754341, 2306032; 754346, 2305896; 754412, 2305877; 755139, 2305668; 755828, 2305033; 755089, 2305043; 755087, 2305045; 754979, 2305016; 754831, 2305142; 754540, 2305162; 754515, 2305057; 754621, 2304863; 754699, 2304812; 754760, 2304616; 754782, 2304447; 754796, 2304431.

(ii)Unit excludes three areas:

(A) Bounded by the following five points (6 ha, 15 ac): 748930 2305439, 749226 2305793, 749363 2305641, 749057 2305433, 748930 2305439.

(B) Bounded by the following 20 points (62 ha, 153 ac): 754495, 2306605; 754472, 2306625; 754334, 2306901; 754090, 2307018; 754065, 2307098; 754087, 2307266; 754141, 2307512; 754162, 2307496; 754243, 2307436; 754381, 2307316; 755039, 2307210; 755145, 2307181; 755188, 2307116; 755155, 2306981; 755028, 2306781; 754890, 2306567; 754808, 2306523; 754788, 2306512; 754588, 2306523; 754495, 2306605.

(C) Bounded by the following nine points (5 ha, 13 ac): 754959, 2307449; 75525, 2307432; 755657, 2307376; 755428, 2307345; 754834, 2307383; 754579, 2307430; 754778, 2307426; 754839, 2307410; 754959, 2307449.

(iii) Note: See Map 5.

(10) Unit D2 ( 212 ha; 523 ac).

(i) unit consists of the following 22 boundary points: 756769, 2303771; 756914, 2303864; 757007, 2303958; 757058, 2304068; 757053, 2304123; 757104, 2304208; 757198, 2304267; 757206, 2304365; 757138, 2304395; 757037, 2304471; 756959, 2304605; 757541, 2304994; 758421, 2304900; 758402, 2304566; 758427, 2304491; 758605, 2304369; 758716, 2304323; 758665, 2303805; 758615, 2303558; 758067, 2303509; 756894, 2303623; 756774, 2303746.

(ii) Note: Map 5 follows:

BILLING CODE 4310-55-P

(11) Maui E (1,389 ha; 3,432 ac).

(i) Unit consists of eight boundary points: 768269, 2295601; 773018, 2295761; 772962, 2295591; 772608, 2295140; 772130, 2294513; 772758, 2293858; 772784, 2292323; 768006, 2292863.

(ii) Note: Map 6 follows:

(12) Maui F (144 ha; 357 ac).

(i) Unit consists of the following 19 boundary points: coastline. 771282, 2278049; 771207, 2278581; 773349, 2278461; 773296, 2277638; 773294, 2277610; coastline. Coastline; 771941, 2277804; 772001, 2278009; 771861, 2277996; 771858, 2277785; coastline. Coastline; 772291, 2277823; 772291, 2277823; 772464, 2277817; 772464, 2277818; 772464, 2277873; 772302, 2277904; coastline. Coastline; 772830, 2277758; 772839, 2278087; 772691, 2278009; 772697, 2277944; coastline.

(ii) Note: Map 7 follows:

(13) Maui G1 (4 ha; 10 ac).

(i) Unit consists of the following 21 boundary points: coastline; 793988, 2310722; 793988, 2310722; 793988, 2310722; 793937, 2310735; 793898, 2310767; 793920, 2310825; 793940, 2310881; 793932, 2310893; 793907, 2310933; 793885, 2310962; 793833, 2311001; 793781, 2311037; 793768, 2311053; 793690, 2311134; 793635, 2311144; 793527, 2311157; 793498, 2311183; 793411, 2311267; 793362, 2311345; 793988, 2310722; 793988, 2310722; coastline.

(ii) Note: See Map 8:

(14) Maui G2 (.8 ha; 2 ac).

(i) Unit consists of the following 21 boundary points: coastline; 794253, 2311026; 794246, 2311002; 794240, 2310987; 794220, 2310955; 794200, 2310914; 794190, 2310902; 794182, 2310899; 794171, 2310899; 794168, 2310900; 794162, 2310906; 794162, 2310935; 794166, 2310959; 794169, 2310967; 794202, 2311009; 794211, 2311034; 794222, 2311052; 794246, 2311078; 794258, 2311082; 794263, 2311080; 794265, 2311076; 794265, 2311065; coastline.

(ii) Note: See Map 8:

(15) Maui G3 (7 ha; 16 ac).

(i) Unit consists of the following 22 boundary points: coastline; 794814, 2310166; 794778, 2310176; 794756, 2310192; 794756, 2310217; 794742, 2310240; 794733, 2310282; 794728, 2310324; 794711, 2310345; 794706, 2310368; 794665, 2310393; 794632, 2310428; 794625, 2310446; 794622, 2310523; 794573, 2310595; 794491, 2310645; 794326, 2310728; 794258, 2310741; 794222, 2310764; 794118, 2310718; 794053, 2310679; 794040, 2310715; 794043, 2310738; coastline.

(ii) Note: See Map 8:

(16) Maui G4 (22 ha; 53 ac).

(i) Unit consists of the following 14 boundary points: coastline; 798949, 2307406; 798949, 2307406; 798884, 2307470; 798940, 2307502; 798924, 2307613; 798829, 2307836; 798733, 2308042; 798749, 2308233; 798718, 2308487; 798631, 2308684; 798419, 2308844; 798296, 2309004; 797985, 2309037; 798021, 2309124; coastline.

(ii) Note: See Map 8:

(17) Maui G5 (31 ha; 77 ac).

(i) Unit consists of the following 27 boundary points: coastline; 801972, 2305512; 801990, 2305372; 801833, 2305382; 801626, 2305463; 801466, 2305444; 801320, 2305260; 801117, 2305232; 801018, 2305293; 800891, 2305373; 800731, 2305387; 800581, 2305284; 800472, 2305307; 800265, 2305505; 800166, 2305599; 800152, 2305712; 800147, 2305849; 800190, 2305990; 800138, 2306094; 800001, 2306188; 799879, 2306263; 799874, 2306386; 799789, 2306428; 799723, 2306527; 799657, 2306626; 799606, 2306800; 799516, 2306902; 799516, 2306902; coastline.

(ii) Note: See Map 8:

(18) Maui G6 (11 ha; 27 ac).

(i) Unit consists of the following 14 boundary points: coastline; 811982, 2301617; 811982, 2301617; 811936, 2301585; 811916, 2301671; 811945, 2301774; 812026, 2301885; 812133, 2301927; 812193, 2301995; 812092, 2302061; 811938, 2302135; 811849, 2302164; 811717, 2302172; 811546, 2302307; 811596, 2302341; coastline.

(ii) Note: Map 8 follows:

BILLING CODE 4310-55-P

BILLING CODE 4310-55-C

(19) Maui H (14,101 ha; 34,843 ac).

(i) Unit consists of the following 133 boundary points: 792545, 2288808; 792970, 2287110; 788115, 2284625; 788254, 2284423; 786255, 2283830; 785721, 2283591; 785909, 2283329; 784364, 2282634; 784741, 2282683; 785687, 2282923; 787384, 2283423; 788910, 2284092; 791757, 2285370; 792012, 2284972; 792107, 2284459; 792107, 2284163; 789675, 2283199; 786085, 2281630; 781021, 2279811; 774426, 2279632; 774487, 2280204; 773607, 2281357; 774563, 2281463; 775099, 2281680; 775397, 2282390; 775684, 2285109; 774276, 2285496; 774305, 2285732; 774421, 2285732; 774601, 2285942; 774871, 2286062; 774961, 2286242; 775201, 2286392; 775501, 2286512; 775711, 2286572; 775801, 2286842; 775981, 2286962; 776221, 2286932; 776431, 2287082; 776611, 2287292; 776731, 2287292; 776791, 2287382; 776881, 2287322; 777091, 2287322; 777241, 2287472; 777211, 2287742; 777481, 2287862; 777661, 2288072; 778111, 2288132; 778136, 2288218; 778221, 2288151; 778986, 2288684; 779070, 2288768; 779131, 2288792; 779251, 2288792; 779401, 2288972; 779851, 2289092; 780061, 2289062; 780151, 2289182; 780576, 2289283; 780841, 2289542; 781388, 2289777; 781591, 2290022; 781861, 2290202; 782491, 2290652; 782851, 2290952; 783541, 2291072; 783871, 2291402; 784171, 2291462; 784323, 2291635; 784473, 2291725; 784623, 2291725; 784683, 2291725; 784826, 2291868; 784854, 2291851; 784917, 2291907; 784912, 2291915; 785313, 2291995; 785613, 2292265; 785823, 2292175; 785940, 2292307; 785941, 2292306; 785946, 2292314; 786063, 2292445; 786151, 2292452; 786211, 2292452; 786511, 2292242; 786631, 2292122; 787201, 2292092; 787561, 2291702; 787951, 2291582; 788131, 2291492; 788341, 2291522; 788641, 2291432; 789031, 2291522; 789720, 2291522; 790086, 2291458; 790230, 2291432; 790950, 2291672; 791730, 2291582; 792480, 2291702; 792750, 2291702; 793014, 2291770; 793450, 2291683; 793671, 2291645; 794207, 2291635; 794432, 2291674; 794523, 2291573; 794614, 2291434; 795213, 2291075; 795299, 2291051; 795400, 2290907; 795821, 2290462; 795807, 2290385; 795864, 2290318; 796008, 2290304; 796061, 2290232; 796133, 2290112; 796195, 2290069; 796310, 2290016; 796427, 2289780; 796453, 2289731; 796458, 2289724; 796453, 2289665; 794488, 2289840; 791401, 2289270; 789965, 2288718; 789343, 2291348; 787469, 2291492; 786580, 2289125; 787793, 2286254; 790244, 2287538; 790161, 2287892.

(ii) Unit excludes two areas:

(A) Bounded by the following seven points (162 ha, 400ac): 776764, 2286552; 778589, 2286255; 778519, 2285877; 776631, 2285401; 776280, 2285436; 776669, 2286345; 776764, 2286552.

(B) Bounded by the following 11 points (58 ha, 143 ac): 782337, 2285709; 782398, 2285481; 781035, 2285187; 781028, 2286132; 781029, 2286198; 781305, 2286239; 781412, 2285729; 781455, 2285500; 781459, 2285501; 781459, 2285501; 782337, 2285709.

(iii) Note: Map 9 follows:

BILLING CODE 4310-55-P

BILLING CODE 4310-55-P

(20) Maui I1 (1,862 ha; 4,601 ac).

(i) Unit consists of the following 61 boundary points: 788755, 2298314; 788934, 2298211; 788932, 2298142; 789003, 2297908; 789137, 2297528; 789205, 2297438; 789207, 2297318; 789096, 2297113; 789049, 2296968; 788869, 2296843; 788619, 2296647; 788580, 2296262; 788460, 2296022; 788165, 2295603; 787886, 2295369; 787844, 2295067; 787660, 2294754; 787231, 2294372; 786737, 2293972; 786661, 2293742; 786430, 2293387; 786421, 2292812; 786299, 2292576; 786151, 2292452; 786063, 2292445; 785946, 2292314; 785941, 2292306; 785940, 2292307; 785823, 2292175; 785613, 2292265; 785313, 2291995; 784912, 2291915; 784917, 2291907; 784854, 2291851; 784826, 2291868; 784683, 2291725; 784623, 2291725; 784473, 2291725; 784323, 2291635; 784171, 2291462; 783871, 2291402; 783541, 2291072; 782851, 2290952; 782491, 2290652; 781861, 2290202; 781591, 2290022; 781388, 2289777; 780841, 2289542; 780576, 2289283; 780151, 2289182; 780061, 2289062; 779851, 2289092; 779401, 2288972; 779251, 2288792; 779131, 2288792; 779070, 2288768; 780400, 2290082; 780380, 2290097; 788189, 2297787; 788162, 2297781.

(ii) Note: See Map 10.

(21) Maui I2 (680 ha; 1,680 ac).

(i) Unit consists of the following 11 boundary points: 784570, 2295895; 784440, 2295690; 782956, 2294207; 782421, 2293422; 782263, 2293191; 782187, 2293615; 781338, 2294254; 780818, 2294804; 781473, 2295735; 782282, 2296409; 782585, 2297193.

(ii) Note: See Map 10.

(22) Maui I3 (452 ha; 1,117 ac).

(i) Unit consists of the following six boundary points: 781340, 2292025; 780754, 2291599;780373, 2290270;780279, 2290173;778396, 2291591;779749, 2293351.

(ii) Note: See Map 10.

(23) Maui I4 (497 ha; 1,227 ac).

(i) Unit consists of the following 31 boundary points: 778136, 2288218; 778111, 2288132; 777661, 2288072; 777481, 2287862; 777211, 2287742; 777241, 2287472; 777091, 2287322; 776881, 2287322; 776791, 2287382; 776731, 2287292; 776611, 2287292; 776431, 2287082; 776221, 2286932; 775981, 2286962; 775801, 2286842; 775711, 2286572; 775501, 2286512; 775201, 2286392; 774961, 2286242; 774871, 2286062; 774601, 2285942; 774421, 2285732; 774305, 2285732; 774368, 2286253; 775008, 2287236; 774920, 2287996; 775155, 2288309; 775846, 2288444; 776207, 2289144; 777437, 2288634; 777822, 2288467.

(ii) Note: Map 10 follows:

BILLING CODE 4310-55-C

(24) Maui J (5,790 ha; 14,308 ac).

(i) Unit J consists of the following 93 boundary points: 786211, 2292452; 786151, 2292452; 786299, 2292576; 786421, 2292812; 786430, 2293387; 786661, 2293742; 786737, 2293972; 787231, 2294372; 787660, 2294754; 787844, 2295067; 787886, 2295369; 788165, 2295603; 788460, 2296022; 788580, 2296262; 788619, 2296647; 788869, 2296843; 789049, 2296968; 789096, 2297113; 789207, 2297318; 789205, 2297438; 789137, 2297528; 789003, 2297908; 788932, 2298142; 788934, 2298206; 788942, 2298202; 790992, 2297103; 791410, 2296897; 791825, 2296690; 792099, 2296555; 792241, 2296484; 792656, 2296277; 793071, 2296070; 793542, 2295836; 793699, 2295758; 793717, 2295735; 793949, 2295528; 794430, 2295549; 794610, 2295512; 795570, 2295362; 796387, 2295350; 799935, 2295528; 800349, 2295462; 800349, 2295342; 800469, 2295252; 800469, 2295162; 800636, 2295040; 800632, 2295034; 800620, 2295038; 799311, 2293503; 798490, 2292539; 798357, 2292680; 798374, 2292403; 798056, 2292031; 798165, 2291162; 796545, 2290807; 796458, 2289724; 796453, 2289731; 796427, 2289780; 796310, 2290016; 796195, 2290069; 796133, 2290112; 796061, 2290232; 796008, 2290304; 795864, 2290318; 795807, 2290385; 795821, 2290462; 795400, 2290907; 795299, 2291051; 795213, 2291075; 794614, 2291434; 794523, 2291573; 794432, 2291674; 794207, 2291635; 793671, 2291645; 793450, 2291683; 793014, 2291770; 792750, 2291702; 792480, 2291702; 791730, 2291582; 790950, 2291672; 790230, 2291432; 790086, 2291458; 789720, 2291522; 789031, 2291522; 788641, 2291432; 788341, 2291522; 788131, 2291492; 787951, 2291582; 787561, 2291702; 787201, 2292092; 786631, 2292122; 786511, 2292242; 786211, 2292452.

(ii) Note: Map 11 follows:

BILLING CODE 4310-55-P

(25) Maui K (5,464 ha; 13,502 ac).

(i) Unit consists of the following 39 boundary points: 798586, 2290348; 801847, 2291015; 801917, 2291085; 801389, 2291758; 801145, 2291990; 801037, 2292402; 800743, 2293514; 800900, 2294126; 801147, 2294134; 801376, 2294265; 801594, 2294228; 801760, 2294574; 800906, 2294922; 800636, 2295040; 800469, 2295162; 800469, 2295252; 800349, 2295342; 800349, 2295462; 800379, 2295672; 801296, 2295690; 802992, 2299556; 804200, 2299306; 806459, 2298838; 808913, 2296912; 805053, 2293181; 808301, 2291412; 806062, 2289747; 804741, 2291728; 804598, 2289317; 803684, 2289877; 803574, 2289704; 803114, 2290141; 801935, 2289265; 800788, 2289185; 800342, 2289966; 799912, 2289966; 799418, 2289552; 799083, 2289679; 798541, 2290221.

(ii) Note: Map 12 follows:

(26) Maui L (4,612 ha; 11,396 ac).

(i) Unit consists of the following 66 boundary points: 784691, 2306143; 785374, 2306329; 785968, 2306418; 786589, 2306409; 786953, 2306374; 789090, 2305904; 789515, 2306162; 790281, 2306097; 790360, 2305448; 791696, 2304712; 791781, 2304297; 791627, 2303742; 791264, 2303330; 791158, 2302616; 791550, 2301582; 790503, 2302354; 790198, 2302345; 789906, 2301556; 791083, 2300859; 791175, 2300611; 794821, 2299526; 795483, 2299193; 795907, 2298874; 796226, 2298998; 797155, 2298832; 797292, 2298791; 797592, 2295644; 797739, 2295646; 797990, 2295649; 799102, 2295662; 800430, 2295679; 800379, 2295672; 800349, 2295462; 799935, 2295528; 796387, 2295350; 795570, 2295362; 794610, 2295512; 794430, 2295549; 793949, 2295528; 793717, 2295735; 793699, 2295758; 794014, 2295603; 796710, 2295634; 788433, 2301564; 788429, 2301566; 787081, 2302528; 787078, 2302530; 787025, 2302567; 785551, 2302746; 785950, 2302240; 785443, 2302303; 785422, 2302623; 785067, 2302898; 784947, 2303017; 784875, 2303047; 784803, 2303101; 784660, 2303678; 783583, 2303838; 783559, 2304310; 783487, 2304404; 783488, 2304406; 783486, 2304406; 783228, 2304747; 783196, 2305076; 783422, 2305338; 784075, 2305511.

(ii) Note: Map 13 follows:

(27) Maui M (2 ha; 6 ac).

(i) Unit consists of the following six boundary points: 744481, 2311471; 744357, 2311489; 744330, 2311543; 744340, 2311642; 744511, 2311612; 744481, 2311471.

(ii) Note: Map 14 follows:

BILLING CODE 4310-55-C

Table (a)(1)(i)(C). Protected Species Within Each Critical Habitat Unit for Maui
Unit name | Species occupied | Species unoccupied
Maui A | Clermontia oblongifolia ssp. mauiensis, Colubrina oppositifolia, Ctenitis squamigera, Cyanea lobata, Cyrtandra munroi, Remya mauiensis, Sanicula purpurea | Alectryon macrococcus, Cyanea glabra, Gouania vitifolia, Hedyotis mannii, Hesperomannia arbuscula, Phlegmariurus mannii, Platanthera holochila, Plantago princeps, Pteris lydgatei.
Maui B | Cyanea lobata, Hesperomannia arborescens, Phlegmariurus mannii, Platanthera holochila, Plantago princeps, Pteris lydgatei, Sanicula purpurea | Clermontia oblongifolia ssp. mauiensis, Ctenitis squamigera, Cyrtandra munroi, Diplazium molokaiense.
Maui C | Centaurium sebaeoides, Sesbania tomentosa | Brighamia rockii.
Maui D | Ctenitis squamigera, Cyanea glabra, Cyanea grimesiana ssp. grimesiana, Cyanea lobata, Diellia erecta, Dubautia plantaginea ssp.humilis, Hedyotis coriacea, Hedyotis mannii, Hesperomannia arbuscula, Hibiscus brackenridgei, Lysimachia lydgatei, Neraudia sericea, Phlegmariurus mannii, Platanthera holochila, Pteris lydgatei, Remya mauiensis, Spermolepis hawaiiensis, Tetramolopium capillare | Cenchrus agrimonioides, Clermontia oblongifolia ssp.mauiensis, Cyrtandra munroi, Diplazium molokaiense, Gouania vitifolia, Isodendrion pyrifolium, Peucedanum sandwicense, Plantago princeps, Sanicula purpurea, Tetramolopium remyi
Maui E | Bonamia menziesii, Hibiscus brackenridgei
Maui F | Vigna o-wahuensis
Maui G | Ischaemum byrone | Brighamia rockii, Mariscus pennatiformis, Peucedanum sandwicense
Maui H | Alectryon macrococcus, Bidens micrantha ssp. kalealaha, Bonamia menziesii, Cenchrus agrimonioides, Flueggea neowawraea, Geranium arboreum, Lipochaeta kamolensis, Melicope adscendens, Melicope knudsenii, Melicope mucronulata, Neraudia sericea, Phlegmariurus mannii, Sesbania tomentosa, Spermolepis hawaiiensis, Zanthoxylum hawaiiense | Argyroxiphium sandwicense ssp. macrocephalum, Clermontia lindseyana, Colubrina oppositifolia, Diellia erecta, Diplazium molokaiense, Geranium multiflorum, Nototrichium humile, Phyllostegia mollis, Plantago princeps, Schiedea haleakalensis
Maui I | Diellia erecta, Diplazium molokaiense, Geranium arboreum | Argyroxiphium sandwicense ssp. macrocephalum, Asplenium fragile var. insulare, Bidens micrantha ssp. kalealaha, Clermontia lindseyana, Geranium multiflorum, Phlegmariurus mannii, Phyllostegia mollis, Plantago princeps
Maui J | Argyroxiphium sandwicense ssp. macrocephalum, Bidens micrantha ssp. kalealaha, Geranium multiflorum, Plantago princeps, Schiedea haleakalensis | Asplenium fragile var. insulare, Clermontia samuelii, Platanthera holochila
Maui K | Clermontia samuelii, Cyanea copelandii ssp. haleakalaensis, Cyanea hamatiflora ssp. hamatiflora, Melicope balloui, Melicope ovalis, Phlegmariurus mannii, Plantago princeps | Alectryon macrococcus, Cyanea glabra, Geranium multiflorum, Platanthera holochila
Maui L | Cyanea copelandii ssp. haleakalaensis, Cyanea hamatiflora ssp. hamatiflora, Cyanea mceldowneyi, Geranium multiflorum, Melicope balloui, Phlegmariurus mannii, Zanthoxylum hawaiiense | Alectryon macrococcus, Argyroxiphium sandwicense ssp. macrocephalum, Asplenium fragile var. insulare, Clermontia samuelii, Cyanea glabra, Diplazium molokaiense, Phyllostegia mannii, Phyllostegia mollis, Platanthera holochila
Maui M | Spermolepis hawaiiense

(D) Kahoolawe. Critical habitat units are described below. Coordinates are in UTM Zone 4 with units in meters using North American Datum of 1983 (NAD83). The following map shows the general locations of the two critical habitat units designated on the island of Kahoolawe.

(1) Kahoolawe A (713 ha, 1,762 ac).

(i) Unit consists of the whole island excluding one area that consists of the following 35 boundary points: 754797, 2277077; 755045, 2276297; 754918, 2276004; 754909, 2276004; 754904, 2275863; 754946, 2275320; 754303, 2273696; 754396, 2273017; 754242, 2272155; 754042, 2271056; 753210, 2271022; 751707, 2271460; 751597, 2271496; 751596, 2271487; 750683, 2271836; 750542, 2272275; 750349, 2272348; 749983, 2272296; 749116, 2271616; 747586, 2271444; 747413, 2271428; 747414, 2271426; 745642, 2271630; 744685, 2271955; 744751, 2272554; 745517, 2273620; 746524, 2273925; 748215, 2274039; 749280, 2273853; 749780, 2274053; 749746, 2274386; 748914, 2275218; 749580, 2276150; 753110, 2277682; 754797, 2277077.

(ii) Note: See Map 15.

(2) Kahoolawe B (0.5 ha, 1 ac).

(i) Unit consists of the following 80 boundary points: 749281, 2269833; 749285, 2269821; 749303, 2269801; 749305, 2269787; 749302, 2269778; 749294, 2269774; 749276, 2269779; 749256, 2269768; 749248, 2269757; 749240, 2269754; 749221, 2269774; 749212, 2269790; 749204, 2269793; 749194, 2269793; 749182, 2269780; 749172, 2269771; 749160, 2269766; 749155, 2269743; 749149, 2269730; 749142, 2269724; 749124, 2269721; 749120, 2269713; 749115, 2269705; 749111, 2269704; 749108, 2269707; 749099, 2269706; 749086, 2269701; 749078, 2269704; 749075, 2269707; 749076, 2269721; 749091, 2269738; 749098, 2269756; 749099, 2269769; 749104, 2269777; 749111, 2269827; 749127, 2269843; 749138, 2269874; 749150, 2269880; 749164, 2269883; 749178, 2269912; 749196, 2269952; 749209, 2269970; 749230, 2269988; 749237, 2269999; 749238, 2270015; 749251, 2270040; 749266, 2270057; 749280, 2270068; 749338, 2270081; 749352, 2270078; 749388, 2270073; 749401, 2270060; 749409, 2270057; 749418, 2270046; 749424, 2270033; 749422, 2270025; 749416, 2270012; 749415, 2270003; 749407, 2270000; 749394, 2269996; 749394, 2269987; 749395, 2269978; 749388, 2269973; 749380, 2269976; 749371, 2269980; 749363, 2269977; 749353, 2269968; 749344, 2269968; 749322, 2269972; 749308, 2269961; 749306, 2269951; 749319, 2269921; 749319, 2269916; 749312, 2269909; 749304, 2269905; 749301, 2269891; 749286, 2269880; 749283, 2269867; 749282, 2269842; 749281, 2269833.

(ii) Note: Map 15 follows:

BILLING CODE 4310-55-P

BILLING CODE 4310-55-C

Table (a)(1)(i)(D).—Protected Species Within Each Critical Habitat Unit for Kahoolawe
Unit name | Species occupied | Species unoccupied
Kahoolawe A | Vigna o-wahuensis | Hibiscus brackenridgei, Kanaloa kahoolawensis, Sesbania tomentosa.
Kahoolawe B | Kanaloa kahoolawensis, Sesbania tomentosa

* * * * *

(ii) Hawaiian plants—Constituent elements

(A) Flowering plants.

Family Amaranthaceae: Nototrichium humile (kului)

Maui H, identified in the legal descriptions in paragraph (a)(1)(i)(C) of this section, constitutes critical habitat for Nototrichium humile on Maui. Within this unit, the currently known primary constituent elements of critical habitat are the habitat components provided by:

(1) Old cinder cones in dry shrubland and containing one or more of the following associated native species: Dodonaea viscosa, Erythrina sandwicensis, Heteropogon contortus, or Nototrichium sandwicense; and

(2) Elevations between 338 and 734 m (1,110 and 2,407 ft).

Family Apiaceae: Peucedanum sandwicense (makou)

Maui D and G, identified in the legal descriptions in paragraph (a)(1)(i)(C) of this section, constitute critical habitat for Peucedanum sandwicense on Maui. Within these units, the currently known primary constituent elements of critical habitat are the habitat components provided by:

(1) Sparsely vegetated steep to vertical cliff habitats with little soil in mesic or coastal communities containing one or more of the following associated native species: Artemisia australis, Eragrostis spp., Metrosideros polymorpha, Carex spp., Bidens spp., Diospyros sandwicensis, Chamaesyce spp., Peperomia spp., Hedyotis littoralis, Lysimachia mauritiana, Pandanus tectorius, Scaevola sericea, or Schiedea globosa; and

(2) Elevations between 237 and 1,131 m (778 and 3,711 ft).

Family Apiaceae: Sanicula purpurea (NCN)

Maui B and D, identified in the legal descriptions in paragraph (a)(1)(i)(C) of this section, constitute critical habitat for Sanicula purpurea on Maui. Within these units the currently known primary constituent elements of critical habitat are the habitat components provided by:

(1) Open Metrosideros polymorpha mixed montane bogs containing one or more of the following associated plant taxa: Styphelia tameiameiae, Gahnia beecheyi, Geranium hillebrandii, Myrsine vaccinioides, Viola maviensis, Argyroxiphium caliginis, Plantago pachyphylla, Lycopodium sp., Argyroxiphium grayanum, Lagenifera maviensis, Machaerina sp., or Oreobolus furcatus; and

(2) Elevations between 1,195 and 1,764 m (3,921 and 5,787 ft).

Family Apiaceae: Spermolepis hawaiiensis (NCN)

Maui D, H and M, identified in the legal descriptions in paragraph (a)(1)(i)(C) of this section, constitute critical habitat for Spermolepis hawaiiensis on Maui. Within these units, the currently known primary constituent elements of critical habitat are the habitat components provided by:

(1) Shady spots in Dodonaea viscosa lowland dry shrubland and containing one or more of the following associated native species: Eragrostis variabilis, Wikstroemia sp., Erythrina sandwicensis, Diospyros sp., Pleomele sp., Lipochaeta lavarum, Sida fallax, Myoporum sandwicense, Santalum ellipticum, Gouania hillebrandii, or Heteropogon contortus; and

(2) Elevations between 221 and 742 m (725 and 2,434 ft).

Family Asteraceae: Argyroxiphium sandwicense ssp. macrocephalum (ahinahina)

Maui H, I, J, and L, identified in the legal descriptions in paragraph (a)(1)(i)(C) of this section, constitute critical habitat for Argyroxiphium sandwicense ssp. macrocephalum on Maui. Within these units, the currently known primary constituent elements of critical habitat are the habitat components provided by:

(1) Lava flows and otherwise barren, unstable slopes of recent (less than several thousand years old) volcanic cinder cones and Deschampsia grasslands, a mean annual precipitation of approximately 75 to 250 cm (29.6 to 98.4 in), substrate with almost no soil development and subject to frequent formation of ice at night and extreme heating during cloudless days, alpine dry shrubland and containing one or more of the following associated native plant species: Agrostis sandwicensis, Deschampsia nubigena, Dubautia menziesii, Silene struthioloides, Styphelia tameiameiae, Tetramolopium humile, or Trisetum glomeratum; and

(2) Elevations between 1,511 and 3,053 m (4,957 and 10,016 ft).

Family Asteraceae: Bidens micrantha ssp. kalealaha (kookoolau)

Maui H, I and J, identified in the legal descriptions in paragraph (a)(1)(i)(C) of this section, constitute critical habitat for Bidens micrantha ssp. kalealaha on Maui. Within these units, the currently known primary constituent elements of critical habitat are the habitat components provided by:

(1) Blocky lava flows with little or no soil development, deep pit craters, or sheer rock walls in open canopy Metrosideros polymorpha-Acacia koa forest, montane shrubland, Sophora chrysophylla forests or cliff faces; and containing one or more of the following associated native plant species: Styphelia tameiameiae, Coprosma montana, Dodonaea viscosa, Vaccinium reticulatu, Santalum haleakalae, Dubautia menziesii, or Dubautia platyphylla; and

(2) Elevations between 1,317 and 2,565 m (4,321 and 8,414 ft).

Family Asteraceae: Dubautia plantaginea ssp. humilis (naenae)

Maui D, identified in the legal description in paragraph (a)(1)(i)(C) of this section, constitutes critical habitat for Dubautia plantaginea ssp. humilis on Maui. Within this unit, the currently known primary constituent elements of critical habitat are the habitat components provided by:

(1) Wet, barren, steep, rocky, wind-blown cliffs containing one or more of the following associated native plant species: Metrosideros polymorpha, Pipturus albidus, Eragrostis variabilis, Carex sp., Hedyotis formosa, Lysimachia remyi, Bidens sp., Pritchardia sp., or Plantago princeps; and

(2) Elevations between 266 and 1,593 m (873 and 5,226 ft).

Family Asteraceae: Hesperomannia arborescens (NCN)

Maui B, identified in the legal description in paragraph (a)(1)(i)(C) of this section, constitutes critical habitat for Hesperomannia arborescens on Maui. Within this unit, the currently known primary constituent elements of critical habitat are the habitat components provided by:

(1) Slopes or ridges in lowland mesic or wet forest and containing one or more of the following associated native plant species: Metrosideros polymorpha, Myrsine sandwicensis, Isachne distichophylla, Pipturus sp., Antidesma sp., Psychotria sp., Clermontia sp., Cibotium sp., Dicranopteris linearis, Bobea sp., Coprosma sp., Sadleria sp., Melicope sp., Machaerina sp., Cheirodendron sp., or Freycinetia arborea; and

(2) Elevations between 346 and 1,335 m (1,135 and 4,380 ft).

Family Asteraceae: Hesperomannia arbuscula (NCN)

Maui A and D, identified in the legal descriptions in paragraph (a)(1)(i)(C) of this section, constitute critical habitat for Hesperomannia arbuscula on Maui. Within these units, the currently known primary constituent elements of critical habitat are the habitat components provided by:

(1) Steep forested slopes and ridges in mesic forest dominated by Metrosideros polymorpha or Diospyros sandwicensis and containing one or more of the following associated native plant species: Bidens sp., Tetraplasandra sp., Alyxia oliviformis, Clermontia sp., Cyanea sp., Cheirodendron sp., or Psychotria sp.; and

(2) Elevations between 354 and 1,453 m (1,161 and 4,767 ft).

Family Asteraceae: Lipochaeta kamolensis (nehe)

Maui H, identified in the legal description in paragraph (a)(1)(i)(C) of this section, constitutes critical habitat for Lipochaeta kamolensis on Maui. Within this unit, the currently known primary constituent elements of critical habitat are the habitat components provided by:

(1) Gulches or gentle slopes outside gulches in dry shrubland and containing one or more of the following associated native plant species: Dodonaea viscosa, Plumbago zeylanica, or Ipomoea indica; and

(2) Elevations between 40 and 602 m (132 and 1,974 ft).

Family Asteraceae: Remya mauiensis (NCN)

Maui D, identified in the legal descriptions in paragraph (a)(1)(i)(C) of this section, constitute critical habitat for Remya mauiensis on Maui. Within these units, the currently known primary constituent elements of critical habitat are the habitat components provided by:

(1) Steep, north or northeast-facing slopes in mixed mesophytic forests or Metrosideros polymorpha montane wet forests and containing one or more of the following associated native species: Diospyros sandwicensis, Xylosma hawaiiense, Nestegis sandwicensis, Myrsine lessertiana, Wikstroemia sp., Dodonaea viscosa, Diplazium sandwichianum, Lysimachia remyi, Microlepia strigosa, Melicope sp., Alyxia oliviformis, Pleomele auwahiensis, Psychotria mariniana, or Styphelia tameiameiae; and

(2) Elevations between 400 and 1,228 m (1,312 and 4,029 ft).

Family Asteraceae: Tetramolopium capillare (pamakani)

Maui D, identified in the legal description in paragraph (a)(1)(i)(C) of this section, constitutes critical habitat for Tetramolopium capillare on Maui. Within this unit, the currently known primary constituent elements of critical habitat are the habitat components provided by:

(1) Rocky substrates in Heteropogon contortus lowland dry forest and containing one or more of the following associated native plant species: Dodonaea viscosa, or Myoporum sandwicense; or in Metrosideros polymorpha-Styphelia tameiameiae montane mesic or wet shrubland and wet cliff faces and containing one or more of the following associated plant species: Metrosideros polymorpha, Styphelia tameiameiae, or Dodonaea viscosa; and

(2) Elevations between 131 and 1,432 m (430 and 4,698 ft).

Family Asteraceae: Tetramolopium remyi (NCN)

Maui D, identified in the legal description in paragraph (a)(1)(i)(C) of this section, constitutes critical habitat for Tetramolopium remyi on Maui. Within this unit, the currently known primary constituent elements of critical habitat are the habitat components provided by:

(1) Dry, exposed ridges or flats in lowland dry shrubland and containing one or more of the following associated native plant species: Dodonaea viscosa, Heteropogon contortus, Bidens mauiensis, Bidens menziesii, Eragrostis atropioides, Lipochaeta heterophylla, or Waltheria indica; and

(2) Elevations between 52 and 550 m (171 and 1,804 ft).

Family Campanulaceae: Brighamia rockii (pua ala)

Maui C and G, identified in the legal descriptions in paragraph (a)(1)(i)(C) of this section, constitute critical habitat for Brighamia rockii on Maui. Within these units, the currently known primary constituent elements of critical habitat are the habitat components provided by:

(1) Steep sea cliffs, often within the spray zone, in coastal dry to mesic forests and shrublands and containing one or more of the following associated plant species: Psydrax odorata, Diospyros sandwicensis, Osteomeles anthyllidifolia, or Scaevola sericea; and

(2) Elevations between 0 and 195 m (0 and 640 ft).

Family Campanulaceae: Clermontia lindseyana (haha)

Maui H and I, identified in the legal descriptions in paragraph (a)(1)(i)(C) of this section, constitute critical habitat for Clermontia lindseyana on Maui. Within these units, the currently known primary constituent elements of critical habitat are the habitat components provided by:

(1) Acacia koa mesic forest containing one or more of the following associated native plant species: Cyrtandra spp., native fern species, Ilex anomala, Coprosma sp., or Myrsine sp.; and

(2) Elevations between 1,142 and 1,870 m (3,747 and 6,134 ft).

Family Campanulaceae: Clermontia oblongifolia ssp. mauiensis (oha wai)

Maui A, B, and D, identified in the legal descriptions in paragraph (a)(1)(i)(C) of this section, constitute critical habitat for Clermontia oblongifolia ssp. mauiensis on Maui. Within these units, the currently known primary constituent elements of critical habitat are the habitat components provided by:

(1) The sides of ridges and tops of ridges in Metrosideros polymorpha-dominated montane wet forest and containing one or more of the following associated native plant species: Dicranopteris linearis, Ilex anomala, Myrsine sp., Cheirodendron sp., Coprosma sp., Clermontia sp., Hedyotis sp., or Melicope; and

(2) Elevations between 414 and 1,764 m (1,358 and 5,787 ft).

Family Campanulaceae: Clermontia samuelii (oha wai)

Maui J, K, and L, identified in the legal descriptions in paragraph (a)(1)(i)(C) of this section, constitute critical habitat for Clermontia samuelii on Maui. Within these units, the currently known primary constituent elements of critical habitat are the habitat components provided by:

(1) Wet Metrosideros polymorpha and Metrosideros polymorpha-Dicranopteris linearis forest or wet Metrosideros polymorpha and Metrosideros polymorpha-Cheirodendron trigynum forest containing one or more of the following associated native plant species: Tetraplasandra oahuensis, Hedyotis terminalis, Hedyotis hillebrandii, Broussaisia arguta, Cibotium sp., Dubautia sp., Psychotria mariniana, Melicope clusiifolia, Diplazium sandwichianum, Peperomia obovatilimba, Adenophorus tamariscinus, Vaccinium spp., Carex alligata, Melicope spp., or Cheirodendron trigynum, Hedyotis hillebrandii, Cibotium spp., Broussaisia arguta, Diplazium sandwichianum, Rubus hawaiiensis, Clermontia arborescens ssp. waihiae, Dubautia sp., Clermontia sp., Hedyotis sp., Vaccinium spp., Carex alligata, or Melicope spp.; and

(2) Elevations between 723 and 2,244 m (2,372 and 7,362 ft).

Family Campanulaceae: Cyanea copelandii ssp. haleakalaensis (haha)

Maui K and L, identified in the legal descriptions in paragraph (a)(1)(i)(C) of this section, constitute critical habitat for Cyanea copelandii ssp. haleakalaensis on Maui. Within these units, the currently known primary constituent elements of critical habitat are the habitat components provided by:

(1) Stream banks or wet scree slopes or forest understory in montane wet or mesic forest dominated by Acacia koa and/or Metrosideros polymorpha and containing one or more of the following associated native plant species: Cibotium sp., Perrottetia sandwicensis, Psychotria hawaiiensis, Broussaisia arguta, or Hedyotis acuminata; and

(2) Elevations between 616 and 1,411 m (2,021 and 4,630 ft).

Family Campanulaceae: Cyanea glabra (haha)

Maui A, K, and L, identified in the legal descriptions in paragraph (a)(1)(i)(C) of this section, constitute critical habitat for Cyanea glabra on Maui. Within these units, the currently known primary constituent elements of critical habitat are the habitat components provided by:

(1) Soil and rock stream banks in wet lowland forest dominated by Acacia koa and/or Metrosideros polymorpha and containing one or more of the following associated native plant species: Xylosma hawaiiense, Dodonea viscosa, Psychotria sp., Pipturis albidus, Touchardia latifolia, Boehmeria grandis, Clermontia kakeana, Cyanea elliptica, Perrottetia sandwicensis, Coprosma sp., Cibotium sp., Dubautia plantaginea, Cheirodendron trigynum, Thelypteris cyatheoides, Diplazium sp., or Sadleria sp.; and

(2) Elevations between 413 and 1,572 m (1,355 and 5,156 ft).

Family Campanulaceae: Cyanea grimesiana ssp. grimesiana (haha)

Maui D, identified in the legal description in paragraph (a)(1)(i)(C) of this section, constitutes critical habitat for Cyanea grimesiana ssp. grimesiana on Maui. Within this unit, the currently known primary constituent elements of critical habitat are the habitat components provided by:

(1) Rocky or steep slopes of stream banks in wet forest gulch bottoms often dominated by Metrosideros polymorpha and containing one or more of the following associated native plant species: Antidesma sp., Bobea sp., Myrsine sp., Nestegis sandwicensis, Psychotria sp., or Xylosma sp.; and

(2) Elevations between 312 and 1,617 m (1,024 and 5,305 ft).

Family Campanulaceae: Cyanea hamatiflora ssp. hamatiflora (haha)

Maui K and L, identified in the legal descriptions in paragraph (a)(1)(i)(C) of this section, constitute critical habitat for Cyanea hamatiflora ssp. hamatiflora on Maui. Within these units, the currently known primary constituent elements of critical habitat are the habitat components provided by:

(1) Montane wet forest dominated by Metrosideros polymorpha, with a Cibotium sp. and/or native shrub understory or closed Acacia koa-Metrosideros polymorpha wet forest containing one or more of the following associated native plant species: Dicranopteris linearis, Cheirodendron trigynum, Broussaisia arguta, Cyanea aculeatiflora, Cyanea kunthiana, Vaccinium sp., Melicope sp., Athyrium microphyllum, Diplazium sandwichianum or Myrsine sp.; and

(2) Elevations between 767 and 1,553 m (2,515 and 5,095 ft).

Family Campanulaceae: Cyanea lobata (haha)

Maui A, B, and D, identified in the legal descriptions in paragraph (a)(1)(i)(C) of this section, constitute critical habitat for Cyanea lobata on Maui. Within these units, the currently known primary constituent elements of critical habitat are the habitat components provided by:

(1) Steep stream banks in deep shade in wet forest and containing one or more of the following associated native plant species: Touchardia latifolia, Morinda trimera, Metrosideros polymorpha, Clermontia kakeana, Cyrtandra spp., Xylosma sp., Psychotria sp., Antidesma sp., Pipturus albidus, Peperomia sp., Touchardia latifolia, Freycinetia arborea, Pleomele sp., Athyrium sp.; and

(2) Elevations between 204 and 1,531 m (669 and 5,020 ft).

Family Campanulaceae: Cyanea mceldowneyi (haha)

Maui L, identified in the legal description in paragraph (a)(1)(i)(C) of this section, constitutes critical habitat for Cyanea mceldowneyi on Maui. Within this unit, the currently known primary constituent elements of critical habitat are the habitat components provided by:

(1) Montane wet and mesic forest with mixed Metrosideros polymorpha-Acacia koa and containing one or more of the following associated native plant species: Melicope clusiifolia, Hedyotis sp., Clermontia arborescens, Diplazium sandwichianum, Broussaisia arguta, Cibotium sp., Cyrtandra sp., Dicranopteris linearis, or Cheirodendron trigynum; and

(2) Elevations between 779 and 1,357 m (2,555 and 4,453 ft).

Family Caryophyllaceae: Schiedea haleakalensis (NCN)

Maui H and J, identified in the legal descriptions in paragraph (a)(1)(i)(C) of this section, constitute critical habitat for Schiedea haleakalensis on Maui. Within these units, the currently known primary constituent elements of critical habitat are the habitat components provided by:

(1) Rock cracks on sheer cliffs adjacent to barren lava and subalpine shrublands and grasslands with cinder, weathered volcanic ash, or bare lava substrate with little or no soil development and periodic freezing temperatures and containing one or more of the following associated native plant species: Artemisia mauiensis, Bidens micrantha, Dubautia menziesii, Styphelia tameiameiae, Vaccinium reticulatum, or Viola chamissoniana; and

(2) Elevations between 1,678 and 2,434 m (5,505 and 7,986 ft).

Family Convolvulaceae: Bonamia menziesii (NCN)

Maui E and H, identified in the legal descriptions in paragraph (a)(1)(i)(C) of this section, constitute critical habitat for Bonamia menziesii on Maui. Within these units, the currently known primary constituent elements of critical habitat are the habitat components provided by:

(1) Aa lava in mixed open dry forest or Erythrina sandwicensis lowland dry forest, or in mesic mixed Metrosideros polymorpha forest and containing one or more of the following associated native plant species: Nestegis sandwicensis, Pleomele auwahiensis, Dodonaea viscosa, Alyxia oliviformis, Diospyros sandwicensis, Osteomeles anthyllidifolia, Alphitonia ponderosa, Santalum ellipticum, Xylosma hawaiiensis, Nothocestrum latifolium, Pouteria sandwicensis, Achyranthes splendens, Acacia koaia, Sida fallax, Reynoldsia sandwicensis, Sicyos sp., Lipochaeta rockii, Nototrichium sp., or Myoporum sandwicense; and

(2) Elevations between 184 and 906 m (604 and 2,971 ft).

Family Cyperaceae: Mariscus pennatiformis (NCN)

Maui G, identified in the legal description in paragraph (a)(1)(i)(C) of this section, constitutes critical habitat for Mariscus pennatiformis on Maui. Within this unit, the currently known primary constituent elements of critical habitat are the habitat components provided by:

(1) Cliffs with brown soil and talus within reach of ocean spray in Pandanus tectorius coastal wet forests and containing one or more of the following associated native plant species: Sadleria pallida, Lysimachia mauritiana, Cyperus laevigatus, Eragrostis spp., or Ipomoea sp.; and

(2) Elevations between 0 and 188 m (0 and 615 ft).

Family Euphorbiaceae: Flueggea neowawraea (mehamehame)

Maui H, identified in the legal description in paragraph (a)(1)(i)(C) of this section, constitutes critical habitat for Flueggea neowawraea on Maui. Within this unit, the currently known primary constituent elements of critical habitat are the habitat components provided by:

(1) Dry or mesic forest containing one or more of the following associated native plant species: Alectryon macrococcus, Bobea timonioides, Charpentiera sp., Myrsine lanaiensis, Tetraplasandra sp., Diplazium sandwichianum, Nesoluma polynesicum, Diospyros sp., Antidesma pulvinatum, Psydrax odorata, Nestegis sandwicensis, Rauvolfia sandwicensis, Pleomele sp., Pouteria sandwicensis, or Pleomele auwahiensis; and

(2) Elevations between 633 and 971 m (2,078 and 3,186 ft).

Family Fabaceae: Kanaloa kahoolawensis (kohe malama malama o Kanaloa)

Kahoolawe A and B, identified in the legal description in (a)(1)(I)(D), constitute critical habitat for Kanaloa kahoolawensis on Kahoolawe. Within these units, the currently known primary constituent elements of critical habitat are the habitat components provided by:

(1) Steep, rocky talus slopes in mixed coastal shrubland and containing one or more of the following associated native plants: Sida fallax, Senna gaudichaudii, Bidens mauiensis, Lipochaeta lavarum, Portulaca molokiniensis, or Capparis sandwichiana; and

(2) Elevations between 45 to 60 m (150 to 200 ft).

Family Fabaceae: Sesbania tomentosa (ohai)

(1) Maui C and H, identified in the legal descriptions in paragraph (a)(1)(i)(C) of this section, and Kahoolawe A and B, identified in the legal description in paragraph (a)(1)(I)(D) of this section, constitute critical habitat for Sesbania tomentosa on Maui and Kahoolawe, respectively. Within these units, the currently known primary constituent elements of critical habitat are the habitat components provided by:

(i) Windswept slopes, sea cliffs, and cinder cones in Scaevola sericea coastal dry shrublands and containing one or more of the following associated native plant species: Lipochaeta integrifolia, Jacquemontia ovalifolia ssp. sandwicensis, Sida fallax, Diospyros sandwicensis, Bidens sp. and stunted Dodonaea viscosa; and

(ii) Elevations between 0 and 608 m (0 and 1,993 ft).

(2) Kahoolawe A and B, identified in the legal description in paragraph (a)(1)(I)(D) of this section, constitute critical habitat for Sesbania tomentosa on Kahoolawe. Within these units, the currently known primary constituent elements of critical habitat are the habitat components provided by:

(i) Windswept slopes, sea cliffs, and cinder cones in Scaevola sericea coastal dry shrublands and containing one or more of the following associated native plant species: Lipochaeta integrifolia, Jacquemontia ovalifolia ssp. sandwicensis, Sida fallax, Diospyros sandwicensis, Bidens sp. and stunted Dodonaea viscosa; and

(ii) Elevations between 0 and 118 m (0 and 387 ft).

Family Fabaceae: Vigna o-wahuensis (NCN)

(1) Maui F, identified in the legal description in paragraph (a)(1)(i)(C) of this section, constitutes critical habitat for Vigna o-wahuensis on Maui. Within this unit, the currently known primary constituent elements of critical habitat are the habitat components provided by:

(i) Dry or mesic grassland or shrubland containing one or more of the following associated plant species: Sida fallax, Dodonaea viscosa, or Chamaesyce sp.; and

(ii) Elevations between 0 and 50 m (0 and 164 ft).

(2) Kahoolawe A, identified in the legal description in paragraph (a)(1)(i)(D) of this section, constitutes critical habitat for Vigna o-wahuensis on Kahoolawe. Within this unit, the currently known primary constituent elements of critical habitat are the habitat components provided by:

(i) Dry or mesic grassland or shrubland containing one or more of the following associated plant species: Sida fallax, Dodonaea viscosa, or Chamaesyce sp.; and

(ii) Elevations between 0 and 50 m (0 and 164 ft).

Family Gentianaceae: Centaurium sebaeoides (awiwi)

Maui C, identified in the legal description in paragraph (a)(1)(i)(C) of this section, constitutes critical habitat for Centaurium sebaeoides on Maui. Within this unit, the currently known primary constituent elements of critical habitat are the habitat components provided by:

(1) Volcanic or clay soils or cliffs in windward coastal areas and containing one or more of the following associated native plant species: Panicum torridum, Lysimachia mauritiana, Schiedea globosa, Lipochaeta integrifolia, Bidens mauiensis, Scaevola sericea, or Lycium sandwicense; and

(2) Elevations between 0 and 194 m (0 and 636 ft).

Family Geraniaceae: Geranium arboreum (nohoanu)

Maui H and I, identified in the legal descriptions in paragraph (a)(1)(i)(C) of this section, constitute critical habitat for Geranium arboreum on Maui. Within these units, the currently known primary constituent elements of critical habitat are the habitat components provided by:

(1) Steep, damp and shaded narrow canyons and gulches, steep banks, and intermittent streams in Sophora chrysophylla subalpine dry shrubland or Metrosideros polymorpha montane forest and containing one or more of the following associated native plant species: Vaccinium reticulatum, Dodonaea viscosa, Styphelia tameiameiae, Rubus hawaiiensis, or Dryopteris wallichiana; and

(2) Elevations between 1,451 and 2,184 m (4,760 and 7,164 ft).

Family Geraniaceae: Geranium multiflorum (nohoanu)

Maui units H, I, J, K, and L, identified in the legal descriptions in paragraph (a)(1)(i)(C) of this section, constitute critical habitat for Geranium multiflorum on Maui. Within these units, the currently known primary constituent elements of critical habitat are the habitat components provided by:

(1) Wet or mesic Metrosideros polymorpha montane forest or alpine mesic forest, Styphelia tameiameiae shrubland, Sophora chrysophylla subalpine dry forest, open sedge swamps, fog-swept lava flows, or montane grasslands containing one or more of the following associated native plant species: Coprosma montana, Dryopteris glabra, Dryopteris wallichiana, Rubus hawaiiensis, Vaccinium sp., Metrosideros polymorpha, Hedyotis sp., Styphelia tameiameiae or Sadleria cyatheoides; and

(2) Elevations between 1,499 and 2,710 m (4,918 and 8,890 ft).

Family Gesneriaceae: Cyrtandra munroi (haiwale)

Maui A, B, and D, identified in the legal descriptions in paragraph (a)(1)(i)(C) of this section, constitute critical habitat for Cyrtandra munroi on Maui. Within these units, the currently known primary constituent elements of critical habitat are the habitat components provided by:

(1) Rich, moist to wet, moderately steep talus slopes in lowland wet Metrosideros polymorpha forest and containing one or more of the following associated native plant species: Diospyros sp., Strongylodon ruber, Hedyotis acuminata, Clermontia sp., Alyxia oliviformis, Bobea sp., Coprosma sp., Freycinetia arborea, Melicope sp., Myrsine sp., Perrottetia sandwicensis, Pipturus sp., Pittosporum sp., Pouteria sandwicensis, Psychotria sp., Sadleria sp., Scaevola sp., Xylosma sp., Sicyos sp., Zanthoxylum kauense, or other Cyrtandra spp.; and

(2) Elevations between 390 and 1,108 m (1,280 and 3,635 ft).

Family Lamiaceae: Phyllostegia mannii (NCN)

Maui L, identified in the legal descriptions in paragraph (a)(1)(i)(C) of this section, constitutes critical habitat for Phyllostegia mannii on Maui. Within this unit, the currently known primary constituent elements of critical habitat are the habitat components provided by:

(1) Gentle slopes and the steep sides of gulches in mesic to wet forest dominated by Acacia koa and/or Metrosideros polymorpha and containing one or more of the following associated native plant species: Cheirodendron trigynum, Melicope spp., Alyxia oliviformis, Diplazium sandwichianum, Myrsine lessertiana, or Dicranopteris linearis; and

(2) Elevations between 1,069 and 1,615 m (3,506 and 5,297 ft).

Family Lamiaceae: Phyllostegia mollis (NCN)

Maui H, I, and L, identified in the legal descriptions in paragraph (a)(1)(i)(C) of this section, constitute critical habitat for Phyllostegia mollis on Maui. Within these units, the currently known primary constituent elements of critical habitat are the habitat components provided by:

(1) Steep slopes and gulches in mesic forest dominated by Metrosideros polymorpha and/or Acacia koa and containing one or more of the following associated native plant species: Cheirodendron trigynum, Melicope spp., Diplazium sandwichianum, Myrsine lessertiana, or Alyxia oliviformis; and

(2) Elevations between 1,144 and 1,970 m (3,754 and 6,463 ft).

Family Malvaceae: Hibiscus brackenridgei (mao hau hele)

(1) Maui D and E, identified in the legal descriptions in paragraph (a)(1)(i)(C) of this section, constitute critical habitat for Hibiscus brackenridgei on Maui. Within these units, the currently known primary constituent elements of critical habitat are the habitat components provided by:

(i) Lowland dry forest sometimes with Erythrina sandwicensis as the dominant tree containing one or more of the following associated native plant species: Myoporum sandwicense, Chenopodium sp., Achyranthes sp., Nototrichium sp., Diospyros sp., Chamaesyce celastroides var. lorifolia, Dodonaea viscosa, Psydrax odorata, Schiedea salicaria, Lipochaeta lavarum, annual Panicum spp., or Sida fallax; and

(ii) Elevations between 43 and 610 m (141 and 2,001 ft).

(2) Kahoolawe A, identified in the legal description in paragraph (a)(1)(I)(D) of this section, constitutes critical habitat for Hibiscus brackenridgei on Kahoolawe. Within this unit, the currently known primary constituent elements of critical habitat for Hibiscus brackenridgei on Kahaoolawe are the habitat components provided by:

(i) Lowland dry forest sometimes with Erythrina sandwicensis as the dominant tree containing one or more of the following associated native plant species: Myoporum sandwicense, Chenopodium sp., Achyranthes sp., Nototrichium sp., Diospyros sp., Chamaesyce celastroides var. lorifolia, Dodonaea viscosa, Psydrax odorata, Schiedea salicaria, Lipochaeta lavarum, annual Panicum spp., or Sida fallax; and

(ii) Elevations between 43 and 337 m (141 and 1,105 ft).

Family Orchidaceae: Platanthera holochila (NCN)

Maui A, B, D, J, K, and L, identified in the legal descriptions in paragraph (a)(1)(i)(C) of this section, constitute critical habitat for Platanthera holochila on Maui. Within these units, the currently known primary constituent elements of critical habitat are the habitat components provided by:

(1) Metrosideros polymorpha-Dicranopteris linearis montane wet forest or Metrosideros polymorpha mixed montane bog or mesic scrubby Metrosideros polymorpha forest containing one or more of the following associated native plant species: Cibotium sp., Coprosma ernodeoides, Oreobolus furcatus, Styphelia tameiameiae, Wikstroemia sp., Scaevola chamissoniana, Sadleria sp., Deschampsia nubigena, Metrosideros polymorpha, Luzula hawaiiensis, Sisyrinchium acre, Broussaisia arguta, Clermontia sp., Lycopodium cernuum, Dubautia scabra, Polypodium pellucidum, Morelotia gahniiformis, or Vaccinium reticulatum; and

(2) Elevations between 536 and 2,314 m (1,759 and 7,592 ft).

Family Plantaginaceae: Plantago princeps (laukahi kuahiwi)

Maui A, B, D, H, I, J, and K, identified in the legal descriptions in paragraph (a)(1)(i)(C) of this section, constitute critical habitat for Plantago princeps on Maui. Within these units, the currently known primary constituent elements of critical habitat are the habitat components provided by:

(1) Basalt cliffs that are windblown with little vegetation in Metrosideros polymorpha lowland wet forest, or Acacia koa-Metrosideros polymorpha montane wet forest, or Metrosideros polymorpha montane wet shrubland and containing one or more of the following associated native plant species: Eragrostis variabilis, Hedyotis formosa, Dubautia plantaginea ssp. humilis, Pipturus albidus, Perrottetia sandwicensis, Touchardia latifolia, Dryopteris sp., various other ferns, Cyanea spp, and Melicope ovalis, Bidens micrantha ssp. kalealaha, Chamaesyce celastroides, Styphelia tameiameiae, or Dubautia menziesii and

(2) Elevations between 281 and 2,539 m (922 and 8,329 ft).

Family Poaceae: Cenchrus agrimonioides (kamanomano (=sandbur, agrimony))

Maui H and D, identified in the legal descriptions in paragraph (a)(1)(i)(C) of this section, constitutes critical habitat for Cenchrus agrimonioides on Maui. Within these units, the currently known primary constituent elements of critical habitat are the habitat components provided by:

(1) Dry forest or Pleomele-Diospyros forest and containing one or more of the following associated native plant species: Dodonaea viscosa, Osteomeles anthyllidifolia, Alyxia oliviformis, Santalum ellipticum; and

(2) Elevations between 471 and 1,091 m (1,544 and 3,579 ft).

Family Poaceae: Ischaemum byrone (Hilo ischaemum)

Maui G, identified in the legal description in paragraph paragraph (a)(1)(i)(C) of this section, constitutes critical habitat for Ischaemum byrone on Maui. Within this unit, the currently known primary constituent elements of critical habitat are the habitat components provided by:

(1) Close proximity to the ocean, among rocks or on basalt cliffs in windward coastal dry shrubland and containing one or more of the following associated native plant species: Bidens sp., Fimbristylis cymosa, or Scaevola sericea; and

(2) Elevations between 0 and 190 m (0 and 623 ft).

Family Primulaceae: Lysimachia lydgatei (NCN)

Maui D, identified in the legal description in paragraph paragraph (a)(1)(i)(C) of this section, constitutes critical habitat for Lysimachia lydgatei on Maui. Within this unit, the currently known primary constituent elements of critical habitat are the habitat components provided by:

(1) Sides of steep ridges in Metrosideros polymorpha-Dicranopteris linearis dominated wet to mesic shrubland or Metrosideros polymorpha-Cheirodendron sp. montane forest and containing one or more of the following associated native plant species: Lycopodium sp., Ilex anomala, Dodonaea viscosa, Vaccinium sp., Eurya sp., Styphelia tameiameiae, Coprosma sp., Ochna sp., Astelia sp., Broussaisia arguta or mat ferns; and

(2) Elevations between 829 and 1,432 m (2,720 and 4,698 ft).

Family Rhamnaceae: Colubrina oppositifolia (kauila)

Maui A and H, identified in the legal descriptions in paragraph (a)(1)(i)(C) of this section, constitute critical habitat for Colubrina oppositifolia on Maui. Within these units, the currently known primary constituent elements of critical habitat are the habitat components provided by:

(1) Lowland dry and mesic forests dominated by Diospyros sandwicensis containing one or more of the following associated native plant species: Dodonaea viscosa, Canavalia sp., Wikstroemia sp., Psydrax odorata, Pleomele auwahiensis, Freycinetia arborea, Metrosideros polymorpha, Microlepia strigosa, Bidens micrantha spp. micrantha, or Reynoldsia sandwicensis; and

(2) Elevations between 192 and 929 m (630 and 3,047 ft).

Family Rhamnaceae: Gouania vitifolia (NCN)

Maui A and D, identified in the legal descriptions in paragraph (a)(1)(i)(C) of this section, constitute critical habitat for Gouania vitifolia on Maui. Within these units, the currently known primary constituent elements of critical habitat are the habitat components provided by:

(1) The sides of ridges and gulches in dry to mesic forests and containing one or more of the following associated native plant species: Erythrina sandwicensis, Dodonea viscosa, Hibiscus arnottianus, Pipturus albidus, Urera glabra, Chamaesyce sp., Psychotria sp., Hedyotis sp., Melicope sp., Nestegis sandwicensis, Bidens sp., Carex meyenii, or Diospyros sandwicensis; and

(2) Elevations between 155 and 1,326 m (509 and 4,350 ft).

Family Rubiaceae: Hedyotis coriacea (kioele)

Maui D, identified in the legal description in paragraph paragraph (a)(1)(i)(C) of this section, constitutes critical habitat for Hedyotis coriacea on Maui. Within this unit, the currently known primary constituent elements of critical habitat are the habitat components provided by:

(1) Steep, rocky, slopes in dry lowland Dodonaea viscosa dominated shrublands and containing one or more of the following associated native plant species: Sida fallax, Gouania hillebrandii, Bidens menziesii, Lipochaeta lavarum, Myoporum sandwicense, or Schiedea menziesii; and

(2) Elevations between 110 and 937 m (361 and 3,074 ft).

Family Rubiaceae: Hedyotis mannii (pilo)

Maui A and D, identified in the legal descriptions in paragraph (a)(1)(i)(C) of this section, constitute critical habitat for Hedyotis mannii on Maui. Within these units, the currently known primary constituent elements of critical habitat are the habitat components provided by:

(1) Basalt cliffs along stream banks in Metrosideros polymorpha-Dicranopteris linearis montane wet forest and containing one or more of the following associated native plant species: Machaerina sp., Carex meyenii, Phyllostegia sp., Hedyotis acuminata, Cyrtandra platyphylla, Cyanea sp., Psychotria sp., Pipturus albidus, Boehmeria grandis, Urera glabra, Touchardia latifolia, Cyrtandra grayi, Cyrtandra hawaiensis, or Isachne distichophylla; and

(2) Elevation between 340 and 1,593 m (1,115 and 5,226 ft).

Family Rutaceae: Melicope adscendens (alani)

Maui H, identified in the legal description in paragraph paragraph (a)(1)(i)(C) of this section, constitutes critical habitat for Melicope adscendens on Maui. Within this unit, the currently known primary constituent elements of critical habitat are the habitat components provided by:

(1) Aa lava with pockets of soil in Nestegis sandwicensis-Pleomele auwahiensis-Dodonaea viscosa lowland mesic forest or open dry forest and containing one or more of the following associated native plant species: Osteomeles anthyllidifolia, Alphitonia ponderosa, Chamaesyce celastroides var. lorifolia, Santalum ellipticum, Pouteria sandwicensis, Styphelia tameiameiae or Xylosma hawaiiensis; and

(2) Elevations between 761 and 1,209 m (2,497 and 3,967 ft).

Family Rutaceae: Melicope balloui (alani)

Maui K and L, identified in the legal descriptions in paragraph (a)(1)(i)(C) of this section, constitute critical habitat for Melicope balloui on Maui. Within these units, the currently known primary constituent elements of critical habitat are the habitat components provided by:

(1) Mesic to wet forest and containing one or more of the following associated native plant species: Acacia koa, Cibotium chamissoi, Cibotium glaucum, Diplazium sandwichianum, Melicope clusiifolia, Metrosideros polymorpha, or Sadleria pallida; and

(2) Elevations between 781 and 1,596 m (2,561 and 5,235 ft).

Family Rutaceae: Melicope knudsenii (alani)

Maui H, identified in the legal description in paragraph paragraph (a)(1)(i)(C) of this section, constitutes critical habitat for Melicope knudsenii on Maui. Within this unit, the currently known primary constituent elements of critical habitat are the habitat components provided by:

(1) Forested flats or talus slopes in Nestegis-Pleomele mixed open dry forests and containing one or more of the following associated native plant species: Dodonaea viscosa, Osteomeles anthyllidifolia, Alphitonia ponderosa, Santalum ellipticum, or Xylosma hawaiiensis; and

(2) Elevations between 648 and 1,331 m (2,125 and 4,367 ft).

Family Rutaceae: Melicope mucronulata (alani)

Maui H, identified in the legal description in paragraph paragraph (a)(1)(i)(C) of this section, constitutes critical habitat for Melicope mucronulata on Maui. Within this unit, the currently known primary constituent elements of critical habitat are the habitat components provided by:

(1) Gentle south-facing slopes in lowland dry to mesic forest and containing one or more of the following associated species: Pleomele auwahiensis, Dodonea viscosa, Nestegis sandwicensis, Pouteria sandwicensis, Antidesma pulvinatum, Streblus pendulinus, or Melicope hawaiensis; and

(2) Elevations between 625 and 1,331 m (2,050 and 4,367 ft).

Family Rutaceae: Melicope ovalis (alani)

Maui K, identified in the legal description in paragraph paragraph (a)(1)(i)(C) of this section, constitutes critical habitat for Melicope ovalis on Maui. Within this unit, the currently known primary constituent elements of critical habitat are the habitat components provided by:

(1) Acacia koa and Metrosideros polymorpha-dominated montane wet forests along streams and containing one or more of the following associated species: Dicranopteris linearis, Machaerina angustifolia, Labordia hedyosmifolia, Wikstroemia oahuensis, Dubautia plantaginea, Hedyotis hillebrandii, Broussaisia arguta, Cheirodendron trigynum, or Perrottetia sandwicensis; and

(2) Elevations between 753 and 1,537 m (2,469 and 5,042 ft).

Family Rutaceae: Zanthoxylum hawaiiense (ae)

Maui H and L, identified in the legal descriptions in paragraph (a)(1)(i)(C) of this section, constitute critical habitat for Zanthoxylum hawaiiense on Maui. Within these units, the currently known primary constituent elements of critical habitat are the habitat components provided by:

(1) Open lowland dry or mesic Nestegis sandwicensis-Pleomele auwahiensis forests or Acacia koa-Pleomele auwahiensis forest, or montane dry forest containing one or more of the following associated native species: Metrosideros polymorpha, Diospyros sandwicensis, Pisonia sp., Xylosma hawaiiensis, Santalum ellipticum, Alphitonia ponderosa, Osteomeles anthyllidifolia, Alectryon macrococcus, Charpentiera sp., Melicope sp., Dodonaea viscosa, Streblus pendulinus, Myrsine lanaiensis, or Sophora chrysophylla; and

(2) Elevations between 882 and 1,540 m (2,894 and 5,051 ft).

Family Sapindaceae: Alectryon macrococcus (mahoe)

Maui A, H, K, and L, identified in the legal descriptions in paragraph (a)(1)(i)(C) of this section, constitute critical habitat for Alectryon macrococcus on Maui. Within these units, the currently known primary constituent elements of critical habitat are the habitat components provided by:

(1) Mesic to wetter mesic and upper dryland forest containing one or more of the following associated native plant species: Alphitonia ponderosa, Antidesma platyphylla, Antidesma pulvinatum, Bobea sandwicensis, Diospyros sandwicensis, Dodonaea viscosa, Nestegis sandwicensis, Osteomeles anthyllidifolia, Pittosporum confertiflorum, Pittosporum glabrum, Pouteria sandwicensis, Santalum ellipticum, Streblus pendulinus, Xylosma spp., and Xylosma hawaiiensis; and

(2) Elevations between 333 and 3,562 m (1,092 and 3,337 ft).

Family Urticaceae: Neraudia sericea (NCN)

Maui D and H, identified in the legal descriptions in paragraph (a)(1)(i)(C) of this section, constitute critical habitat for Neraudia sericea on Maui. Within these units, the currently known primary constituent elements of critical habitat are the habitat components provided by:

(1) Dry to mesic Metrosideros polymorpha-Dodonaea viscosa-Styphelia tameiameiae shrubland or forest or Acacia koa forest containing one or more of the following associated native plant species: Urera glabra, Cyrtandra oxybapha, Cyrtandra spp., Sida fallax, Diospyros sp., Bobea sp., Coprosma sp., or Hedyotis sp.; and

(2) Elevations between 198 and 1,658 m (650 and 5,439 ft).

Family Violaceae: Isodendrion pyrifolium (aupaka)

Maui D, identified in the legal description in paragraph (a)(1)(i)(C) of this section, constitutes critical habitat for Isodendrion pyrifolium on Maui. Within this unit, the currently known primary constituent elements of critical habitat are the habitat components provided by:

(1) Dry shrubland containing one or more of the following associated native plant taxa: Psydrax odorata, Capparis sandwichiana, Dodonaea viscosa, or Myoporum sandwicene; and

(2) Elevations between 54 and 557 m (177 and 1,827 ft).

(B) Ferns and Allies.

Family Adiantaceae: Pteris lidgatei (NCN)

Maui A, B, and D, identified in the legal descriptions in paragraph (a)(1)(i)(C) of this section, constitute critical habitat for Pteris lidgatei on Maui. Within these units, the currently known primary constituent elements of critical habitat are the habitat components provided by:

(1) Steep stream banks in wet Metrosideros polymorpha-Dicranopteris linearis montane forest and containing one or more of the following native plant species: Cibotium chamissoi, Dicranopteris linearis, Elaphoglossum crassifolium, Sadleria squarrosa, Thelypteris cyatheoides, or Sphenomeris chusana; and

(2) Elevations between 201 and 1,717 m (659 and 5,633 ft).

Family Aspleniaceae: Asplenium fragile var. insulare (NCN)

Maui H, I, J, and L, identified in the legal descriptions in paragraph (a)(1)(i)(C) of this section, constitute critical habitat for Asplenium fragile var. insulare on Maui. Within these units, the primary constituent elements of critical habitat are the habitat components provided by:

(1) Streamside hollows and grottos in gulches that occur in mesic to dry subalpine shrubland dominated by Styphelia tameiameiae and Sadleria cyatheoides, with scattered Metrosideros polymorpha and containing one or more of the following native plant species: Pteris cretica, Grammitis hookeri, or Dryopteris wallichiana; and

(2) Elevations between 1,682 and 2,407 m (5,518 and 7,896 ft).

Family Aspleniaceae: Ctenitis squamigera (pauoa)

Maui A, B, and D, identified in the legal descriptions in paragraph (a)(1)(i)(C) of this section, constitute critical habitat for Ctenitis squamigera on Maui. Within these units, the primary constituent elements of critical habitat are the habitat components provided by:

(1) Forest understory in Metrosideros polymorpha montane wet forest, mesic forest, or diverse mesic forest and containing one or more of the following native plant species: Alyxia oliviformis, Freycinetia arborea, Coprosma sp., Pleomele sp., Sadleria sp., Doodia sp., Pittosporum sp., Dryopteris sp., Bobea sp., Antidesma sp., Peperomia sp., Dicranopteris linearis, Schiedea pubescens var. pubescens, Hibiscus kokio ssp. kokio, Hedyotis terminalis, Pritchardia sp., Remya mauiensis, Canavalia sp. Myrsine sp., Psychotria sp., or Xylosma sp.; and

(2) Elevations between 74 and 1,593 m (243 and 5,226 ft).

Family Aspleniaceae: Diellia erecta (NCN)

Maui D, H, and I, identified in the legal descriptions in paragraph (a)(1)(i)(C) of this section, constitute critical habitat for Diellia erecta on Maui. Within these units, the currently known primary constituent elements of critical habitat are the habitat components provided by:

(1) Steep slopes or gulch sides in deep shade in Acacia koa-Metrosideros polymorpha low- to mid-elevation mesic forest and containing one or more of the following associated native plant species: Styphelia tameiameiae, Melicope sp., Coprosma sp., Dodonaea viscosa, Dryopteris unidentata, Myrsine sp., Psychotria sp. or Osteomeles anthyllidifolia; and

(2) Elevations between 338 and 1,744 m (1,109 and 5,722 ft).

Family Aspleniaceae: Diplazium molokaiense (NCN)

Maui B, D, H, I, and L, identified in the legal descriptions in paragraph (a)(1)(i)(C) of this section, constitute critical habitat for Diplazium molokaiense on Maui. Within these units, the currently known primary constituent elements of critical habitat are the habitat components provided by:

(1) Water courses often in proximity to waterfalls in lowland or montane mesic Metrosideros polymorpha-Acacia koa forest; and

(2) Elevations between 273 and 1,917 m (896 and 6,289 ft).

Family Lycopodiaceae: Phlegmariurus mannii (wawaeiole)

Maui A, B, D, H, I, K, and L, identified in the legal descriptions in paragraph (a)(1)(i)(C) of this section, constitute critical habitat for Phlegmariurus mannii on Maui. Within these units, the currently known primary constituent elements of critical habitat are the habitat components provided by:

(1) An epiphyte on Metrosideros polymorpha, Dodonaea viscosa, and Acacia koa trees in moist protected gulches or mossy tussocks in mesic to wet montane Metrosideros polymorpha-Acacia koa forests or wet montane Metrosideros polymorpha-Acacia koa forests and containing one or more of the following associated native plant species: Thelypteris sp., Athyrium sp., Styphelia tameiameiae, Cyanea sp., Machaerina sp., Cyrtandra sp., Sadleria sp., Vaccinium sp., Astelia menziesii, Coprosma sp., Cheirodendron trigynum, Ilex anomala, or Myrsine sp.; and

(2) Elevations from 446 and 1,688 m (1,464 and 5,539 ft).

Dated: March 15, 2002.
Craig Manson,
Assistant Secretary for Fish and Wildlife and Parks.

[FR Doc. 02-6915 Filed 4-2-02; 8:45 am]

BILLING CODE 4310-55-P